DEPARTMENT OF HEALTH AND HUMAN SERVICES

Centers for Medicare & Medicaid Services

42 CFR Part 484

[CMS-1301-F]

RIN 0938-AN44

Medicare Program; Home Health Prospective Payment System Rate Update for Calendar Year 2006

AGENCY: Centers for Medicare & Medicaid Services (CMS), HHS.

ACTION: Final rule.

SUMMARY: This final rule sets forth an update to the 60-day national episode rates and the national per-visit amounts under the Medicare prospective payment system for home health agencies. This final rule is the first update of the home health prospective payment system (HH PPS) rates that uses the revised area labor market Metropolitan Statistical Area designations for calendar year 2006. In implementing the new area labor market designations, we are allowing for a one-year transition period. This transition consists of a blend of 50 percent of the new area labor market designations' wage index and 50 percent of the previous area labor market designations' wage index. In addition, we are revising the fixed dollar loss ratio, which is used in the calculation of outlier payments.

EFFECTIVE DATE: These regulations are effective on January 1, 2006.

FOR FURTHER INFORMATION CONTACT: Randy Throndset, (410) 786-0131. Sharon Ventura, (410) 786-1985.

SUPPLEMENTARY INFORMATION:

I. Background

A. Statutory Background

The Balanced Budget Act of 1997 (BBA) (Pub. L. 105-33), enacted on August 5, 1997, significantly changed the way Medicare pays for Medicare home health services. Until the implementation of a home health prospective payment system (HH PPS) on October 1, 2000, home health agencies (HHAs) received payment under a cost-based reimbursement system. Section 4603 of the BBA governed the development of the HH PPS.

Section 4603(a) of the BBA provides the authority for the development of a PPS for all Medicare-covered home health services provided under a plan of care that were paid on a reasonable cost basis by adding section 1895, entitled “Prospective Payment For Home Health Services,” to the Social Security Act (the Act).

Section 1895(b)(1) of the Act requires the Secretary to establish a PPS for all costs of home health services paid under Medicare.

Section 1895(b)(3)(A) of the Act requires that (1) the computation of a standard prospective payment amount include all costs of home health services covered and paid for on a reasonable cost basis and be initially based on the most recent audited cost report data available to the Secretary, and (2) the prospective payment amounts be standardized to eliminate the effects of case-mix and wage levels among HHAs.

Section 1895(b)(3)(B) of the Act addresses the annual update to the standard prospective payment amounts by the home health applicable increase percentage as specified in the statute.

Section 1895(b)(4) of the Act governs the payment computation. Sections 1895(b)(4)(A)(i) and (b)(4)(A)(ii) of the Act require the standard prospective payment amount to be adjusted for case-mix and geographic differences in wage levels. Section 1895(b)(4)(B) of the Act requires the establishment of an appropriate case-mix adjustment factor that explains a significant amount of the variation in cost among different units of services. Similarly, section 1895(b)(4)(C) of the Act requires the establishment of wage adjustment factors that reflect the relative level of wages and wage-related costs applicable to the furnishing of home health services in a geographic area compared to the national average applicable level. These wage-adjustment factors may be the factors used by the Secretary for the different area wage levels for purposes of section 1886(d)(3)(E) of the Act.

Section 1895(b)(5) of the Act gives the Secretary the option to grant additions or adjustments to the payment amount otherwise made in the case of outliers because of unusual variations in the type or amount of medically necessary care. Estimated total outlier payments in a given year cannot exceed 5 percent of total payments projected or estimated.

On December 8, 2003, the Congress enacted the Medicare Prescription Drug, Improvement, and Modernization Act (MMA) of 2003 (Pub. L. 108-173). This legislation affected how we make updates to HH payment rates.

Section 701 of the MMA changed the yearly update cycle of the HH PPS rates from that of a fiscal year to a calendar year update cycle for 2004 and any subsequent year. Generally, section 701(a) of the MMA changed the references in the statute to refer to the calendar year for 2004 and any subsequent year. The changes resulted in updates to the HH PPS rates described as “fiscal year” updates for 2002 and 2003 and as “calendar year” updates for 2004 and any subsequent year (section 1895(b)(3)(B)(i) of the Act. Beginning on January 1, 2005, the HH PPS will be updated on a calendar year update cycle.

In addition to changing the update cycle for HH PPS rates, section 701 of the MMA made adjustments to the home health applicable increase percentage for 2004, 2005, and 2006. Specifically, section 701(a)(2)(D) of the MMA left unchanged the home health market basket update for the last calendar year quarter of 2003 and the first calendar year quarter of 2004 (section 1895(b)(3)(B)(ii)(II) of the Act).

Furthermore, section 701(b)(4) of the MMA set the home health applicable percentage increase for the last 3 quarters of 2004 as the home health market basket (3.1 percent) minus 0.8 percentage point (section 1895(b)(3)(B)(ii)(III) of the Act). We implemented this provision through Pub. 100-20, One Time Notification, Transmittal 59, issued February 20, 2004. Section 701(b)(4) of the MMA also provided that updates for CY 2005 and CY 2006 will equal the applicable home health market basket percentage increase minus 0.8 percentage point. Lastly, section 701(b)(3) of the MMA revised the statute to provide that HH PPS rates for CY 2007 and any subsequent year will be updated by that year's home health market basket percentage increase (section 1895(b)(3)(B)(ii)(IV) of the Act).

B. Updates

1. 2000 Final Rule

On July 3, 2000, we published a final rule (65 FR 41128) in the Federal Register to implement the HH PPS legislation. That final rule established requirements for the new PPS for HHAs as required by section 4603 of the BBA, and as subsequently amended by section 5101 of the Omnibus Consolidated and Emergency Supplemental Appropriations Act (OCESAA) for Fiscal Year 1999 (Pub. L. 105-277), enacted on October 21, 1998; and by sections 302, 305, and 306 of the Medicare, Medicaid, and SCHIP Balanced Budget Refinement Act (BBRA) of 1999 (Pub. L. 106-113), enacted on November 29, 1999. The requirements include the implementation of a PPS for HHAs, consolidated billing requirements, and a number of other related changes. The PPS described in that rule replaced the retrospective reasonable-cost-based system that was used by Medicare for the payment of home health services under Part A and Part B.

2. 2004 Final Rule

On October 22, 2004, we published a final rule (69 FR 62124), which set forth an update to the 60-day national episode rates and the national per-visit amounts under the Medicare prospective payment system for home health agencies. As part of that final rule, we rebased and revised the home health market basket to ensure it continues to adequately reflect the price changes of efficiently providing home health services. In addition, we revised the fixed dollar loss (FDL) ratio, which is used in the calculation of outlier payments. That final rule was also the first update of the HH PPS rates on a calendar year update cycle. HH PPS was moved to a calendar year update cycle as a result the MMA.

C. System for Payment of Home Health Services

Generally, Medicare makes payment under the HH PPS on the basis of a national standardized 60-day episode payment, adjusted for case mix and wage index. For episodes with four or fewer visits, Medicare pays on the basis of a national per-visit amount by discipline, referred to as a low utilization payment adjustment (LUPA). Medicare also adjusts the 60-day episode payment for certain intervening events that give rise to a partial episode payment adjustment (PEP adjustment) or a significant change in condition adjustment (SCIC). For certain cases that exceed a specific cost threshold, an outlier adjustment may also be available. For a complete and full description of the HH PPS as required by the BBA and as amended by OCESAA and BBRA, see the July 3, 2000 HH PPS final rule (65 FR 41128).

D. Requirements for Issuance of Regulations

Section 902 of the Medicare Prescription Drug, Improvement, and Modernization Act of 2003 (MMA) amended section 1871(a) of the Act and requires the Secretary, in consultation with the Director of the Office of Management and Budget, to establish and publish timelines for the publication of Medicare final regulations based on the previous publication of a Medicare proposed or interim final regulation. Section 902 of the MMA also states that the timelines for these regulations may vary but shall not exceed 3 years after publication of the preceding proposed or interim final regulation except under exceptional circumstances.

This final rule finalizes provisions set forth in the July 14, 2005 proposed rule (70 FR 40788). In addition, this final rule has been published within the 3-year time limit imposed by section 902 of the MMA. Therefore, we believe that the final rule is in accordance with the Congress' intent to ensure timely publication of final regulations.

II. Provisions of the Proposed Regulations

We published a proposed rule in the Federal Register on July 14, 2005 (70 FR 40788) that set forth a proposed update to the 60-day national episode rates and the national per-visit amounts under the Medicare prospective payment system for home health agencies. We also proposed to implement the revised area labor market Metropolitan Statistical Area designations for calendar year 2006.

A. National Standardized 60-Day Episode Rate

Medicare HH PPS has been effective since October 1, 2000. As set forth in the final rule published July 3, 2000 in the Federal Register (65 FR 41128), the unit of payment under Medicare HH PPS is a national standardized 60-day episode rate. As set forth in 42 CFR 484.220, we adjust the national standardized 60-day episode rate by a case mix grouping and a wage index value based on the site of service for the beneficiary. The proposed CY 2006 HH PPS rates used the same case-mix methodology and application of the wage index adjustment to the labor portion of the HH PPS rates as set forth in the July 3, 2000 final rule. In the October 22, 2004 final rule, we rebased and revised the home health market basket, resulting in a labor related share of 76.775 percent and a non-labor portion of 23.225 percent (69 FR 62126). We multiply the national 60-day by the patient's applicable case-mix weight. We divide the case-mix adjusted amount into a labor and non-labor portion. We multiply the labor portion by the applicable wage index based on the site of service of the beneficiary. As the home health market basket was rebased and revised last year, we did not propose to rebase it for CY 2006.

As required by section 1895(b)(3)(B) of the Act, we have updated the HH PPS rates annually in a separate Federal Register document. Section 484.225 sets forth the specific percentage update for fiscal years 2001 through 2008. As amended by section 701 of the MMA, § 484.225(f) sets the CY 2006 unadjusted national prospective 60-day episode payment rate equal to the rate from the previous calendar year (CY 2005), increased by the applicable home health market basket minus 0.8 percentage point.

For CY 2006, we proposed to use again the design and case-mix methodology described in section III.G of the HH PPS July 3, 2000 final rule (65 FR 41192 through 41203). For CY 2006, we will base the wage index adjustment to the labor portion of the PPS rates on the most recent pre-floor and pre-reclassified hospital wage index as discussed in section II.D of this final rule (not including any reclassifications under section 1886(d)(8)(B)) of the Act.

As discussed in the July 3, 2000 HH PPS final rule, for episodes with four or fewer visits, Medicare pays the national per-visit amount by discipline, referred to as a LUPA. We update the national per-visit amounts by discipline annually by the applicable home health market basket percentage. We adjust the national per-visit amount by the appropriate wage index based on the site of service for the beneficiary as set forth in § 484.230. We will adjust the labor portion of the updated national per-visit amounts by discipline used to calculate the LUPA by the most recent pre-floor and pre-reclassified hospital wage index, as discussed in section II.D of the July 14, 2005 proposed rule.

Medicare pays the 60-day case-mix and wage-adjusted episode payment on a split percentage payment approach. The split percentage payment approach includes an initial percentage payment and a final percentage payment as set forth in § 484.205(b)(1) and (b)(2). We may base the initial percentage payment on the submission of a request for anticipated payment and the final percentage payment on the submission of the claim for the episode, as discussed in § 409.43. The claim for the episode that the HHA submits for the final percentage payment determines the total payment amount for the episode and whether we make an applicable adjustment to the 60-day case-mix and wage-adjusted episode payment. The end date of the 60-day episode as reported on the claim determines the rate level at which Medicare will pay the claim for the fiscal period.

We may also adjust the 60-day case-mix and wage-adjusted episode payment based on the information submitted on the claim to reflect the following:

• A low utilization payment provided on a per-visit basis as set forth in § 484.205(c) and § 484.230.

• A partial episode payment adjustment as set forth in § 484.205(d) and § 484.235.

• A significant change in condition adjustment as set forth in § 484.205(e) and § 484.237.

• An outlier payment as set forth in § 484.205(f) and § 484.240.

The July 14, 2005 proposed rule reflected the proposed updated CY 2006 rates, effective January 1, 2006.

B. CY 2006 Update to the Home Health Market Basket Index

Section 1895(b)(3)(B) of the Act, as amended by section 701 of the MMA, requires for CY 2006 that the standard prospective payment amounts be increased by a factor equal to the applicable home health market basket update minus 0.8 percentage point.

CY 2006 Adjustments

In calculating the annual update for the CY 2006 60-day episode rates, we first look at the CY 2005 rates as a starting point. The CY 2005 national 60-day episode rate, as published in the Federal Register (69 FR 62124) is $2,264.28.

In order to calculate the CY 2006 national 60-day episode rate, we multiply the CY 2005 national 60-day episode rate ($2,264.28) by the estimated home health market basket update of 3.6 percent for CY 2006 minus 0.8 percentage point.

We increase the CY 2005 60-day episode payment rate by the estimated home health market basket update (3.6 percent) minus 0.8 percentage point ($2,264.28 × 2.8 percent) to yield the updated CY 2006 national 60-day episode rate ($2,327.68) (see Table 1).

Table 1.—National 60-Day Episode Amounts Updated by the Estimated Home Health Market Basket Update for CY 2006, Minus 0.8 Percentage Point, Before Case-Mix Adjustment, Wage Index Adjustment Based on the Site of Service for the Beneficiary or Applicable Payment Adjustment
Total prospective payment amount per 60-day episode for CY 2005 | Multiply by the estimated home health market basked update (3.6 percent) minus 0.8 percentage point ¹ | CY 2006 updated national 60-day episode rate
$2,264.28 | × 1.028 | $2,327.68
¹ The estimated home health market basket update of 3.6 percent for CY 2006 is based on Global Insight, Inc., 3rd Qtr, 2005 forecast with historical data through 2nd Qtr, 2005.

National Per-visit Amounts Used to Pay LUPAs and Compute Imputed Costs Used in Outlier Calculations

As discussed previously in the July 14, 2005 proposed rule, the policies governing the LUPAs and outlier calculations set forth in the July 3, 2000 HH PPS final rule will continue during CY 2006. In calculating the annual update for the CY 2006 national per-visit amounts we use to pay LUPAs and to compute the imputed costs in outlier calculations, we look again at the CY 2005 rates as a starting point. We then multiply those amounts by the estimated home health market basket update minus 0.8 percentage point for CY 2006 to yield the updated per-visit amounts for each home health discipline for CY 2006 (see Table 2).

Table 2.—National Per-Visit Amounts for LUPAs and Outlier Calculations Updated by the Estimated Home Health Market Basket Update for CY 2006, Minus 0.8 Percentage Point, Before Wage Index Adjustment Based on the Site of Service for the Beneficiary
Home health discipline type | Final per-visit amounts per 60-day episode for CY 2005 for LUPAs | Multiply by the estimated home health market basket (3.6 percent) minus 0.8 percentage point¹ | Per-visit payment amount per discipline for CY 2006 for LUPAs
Home Health Aide | $44.76 | × 1.028 | $46.01
Medical Social Services | 158.45 | × 1.028 | 162.89
Occupational Therapy | 108.81 | × 1.028 | 111.86
Physical Therapy | 108.08 | × 1.028 | 111.11
Skilled Nursing | 98.85 | × 1.028 | 101.62
Speech-Language Pathology | 117.44 | × 1.028 | 120.73
¹ The estimated home health market basket update of 3.6 percent for CY 2006 is based on Global Insight, Inc., 3rd Qtr, 2005 forecast with historical data through 2nd Qtr, 2005.

C. Outliers & the Fixed Dollar Loss Ratio

Outlier payments are payments made in addition to regular 60-day case-mix and wage-adjusted episode payments for episodes that incur unusually large costs due to patient home health care needs. Outlier payments are made for episodes for which the estimated cost exceeds a threshold amount. The episode's estimated cost is the sum of the national wage-adjusted per-visit payment amounts for all visits delivered during the episode. The outlier threshold for each case-mix group, PEP adjustment, or total SCIC adjustment is defined as the 60-day episode payment amount, PEP adjustment, or total SCIC adjustment for that group plus an FDL amount. Both components of the outlier threshold are wage-adjusted.

The wage-adjusted FDL amount represents the amount of loss that an agency must bear before an episode becomes eligible for outlier payments. The FDL is computed by multiplying the wage-adjusted 60-day episode payment amount by the FDL ratio, which is a proportion expressed in terms of the national standardized episode payment amount. The outlier payment is defined to be a proportion of the wage-adjusted estimated costs beyond the wage-adjusted threshold. The proportion of additional costs paid as outlier payments is referred to as the loss-sharing ratio.

Section 1895(b)(5) of the Act requires that estimated total outlier payments are no more than 5 percent of total estimated HH PPS payments. In response to the concerns about potential financial losses that might result from unusually expensive cases expressed in comments to the October 28, 1999 proposed rule (64 FR 58133), the July 3, 2000 final rule set the target for estimated outlier payments at the 5 percent level. The FDL ratio and the loss-sharing ratio were then selected so that estimated total outlier payments would meet the 5 percent target.

For a given level of outlier payments, there is a trade-off between the values selected for the FDL ratio and the loss-sharing ratio. A high FDL ratio reduces the number of episodes that can receive outlier payments, but makes it possible to select a higher loss-sharing ratio and, therefore, increase outlier payments for outlier episodes. Alternatively, a lower FDL ratio means that more episodes can qualify for outlier payments, but outlier payments per episode must be lower. As a result of public comments on the October 28, 1999 proposed rule, in our July 3, 2000 final rule, we made the decision to set the FDL at a level estimated to cover a relatively high proportion of the costs of outlier cases for the most expensive episodes that would qualify for outlier payments within the 5 percent constraint.

In the July 3, 2000 final rule, we chose a value of 0.80 for the loss-sharing ratio, which preserves incentives for agencies to attempt to provide care efficiently for outlier cases. A loss-sharing ratio of 0.80 was also consistent with the loss-sharing ratios used in other Medicare PPS outlier policies. We still believe that a loss-sharing ratio of 0.80 is appropriate. Furthermore, we estimated the value of the FDL ratio that would yield estimated total outlier payments that were 5 percent of total home health PPS payments. The resulting value for the FDL ratio, for the July 3, 2000 final rule, was 1.13.

In the CY 2005 update to the HH PPS rates (69 FR 62124), we revised the FDL ratio from the original 1.13 to 0.70 to allow more home health episodes to qualify for outlier payments and to better meet the estimated 5 percent target of outlier payments to total HH PPS payments. We stated in that CY 2005 update that we planned to continue to monitor the outlier expenditures on a yearly basis and to make adjustments as necessary (69 FR 62129). To do so, we planned on using the best Medicare data available at the time of publication. For the CY 2005 update, we used CY 2003 home health claims data. At the time of publication of the CY 2006 proposed rule, we did not have more recent data, but noted that we may update the FDL ratio for CY 2006 depending on the availability of more recent data. We further noted that if we updated the FDL ratio for the CY 2006 update, we would use the same methodology performed in updating the current FDL ratio described in the October 22, 2004 final rule. Subsequent to publication of the CY 2006 proposed rule, we have now obtained more recent data, that is, CY 2004 home health claims data.

Accordingly for this final rule, we have used the same methodology and performed an analysis on the CY 2004 HH PPS analytic data to update the FDL ratio for CY 2006. The results of this analysis indicate that an FDL ratio of 0.65 is consistent with the existing loss-sharing ratio of 0.80 and a projected target percentage of estimated outlier payments of 5 percent. Therefore, we are updating the FDL ratio from the current 0.70 to 0.65 for CY 2006. As explained below, we believe reducing the FDL ratio will allow more episodes to qualify for outlier payments.

Expressed in terms of a fixed dollar loss amount, an FDL ratio of 0.65 indicates that providers would absorb approximately $1,513 of their costs (before wage adjustment), in addition to their loss-sharing portion of the estimated cost in excess of the outlier threshold. This fixed dollar loss amount of approximately $1,513 is computed by multiplying the standard 60-day episode payment amount ($2,327.68) by the FDL ratio (0.65). In contrast, using the current FDL ratio (0.70), the fixed dollar loss amount would be approximately $1,629 ($2,327.68 × 0.70).

Thus, we believe that an FDL ratio of 0.65 continues to preserve a reasonable degree of cost sharing, and continues to meet the statutory requirements while still allowing a greater number of episodes to qualify for outlier payments.

D. Hospital Wage Index

1. Revised OMB Definition for Geographical Statistical Areas

Sections 1895(b)(4)(A)(ii) and (b)(4)(C) of the Act require the Secretary to establish area wage adjustment factors that reflect the relative level of wages and wage-related costs applicable to the furnishing of home health services and to provide appropriate adjustments to the episode payment amounts under HH PPS to account for area wage differences. We apply the appropriate wage index value to the labor portion (76.775 percent; see 60 FR 62126) of the HH PPS rates based on the geographic area in which the beneficiary received home health services as discussed in section II.A of the July 14, 2005 proposed rule. Generally, we determine each HHA's labor market area based on definitions of Metropolitan Statistical Areas (MSAs) issued by the Office of Management and Budget (OMB).

We acknowledged in our October 22, 2004 final rule that, on June 6, 2003, the OMB issued an OMB Bulletin (No. 03-04) announcing revised definitions for MSAs, new definitions for Micropolitan Statistical Areas and Combined Statistical Areas, and guidance on using the statistical definitions. A copy of the Bulletin may be obtained at the following Internet address: http://www.whitehouse.gov/omb/bulletins/b03-04.html. At that time, we did not propose to apply these new definitions known as Core-Based Statistical Areas (CBSAs). In the July 14, 2005 proposed rule, we proposed to use the OMB-revised definitions to adjust the CY 2006 HH PPS payment rates and revise the regulations at 42 CFR 484.202 to reflect this proposed change. The Hospital Inpatient PPS (IPPS) applied these revised definitions as discussed in the August 11, 2004 IPPS final rule (68 FR 49207).

a. Background

As discussed previously and set forth in the July 3, 2000 final rule, the statute provides that the wage adjustment factors may be the factors used by the Secretary for purposes of section 1886(d)(3)(E) of the Act for hospital wage adjustment factors. Again, as discussed in the July 3, 2000 final rule, we will use the pre-floor and pre-reclassified hospital wage index data to adjust the labor portion of the HH PPS rates based on the geographic area in which the beneficiary receives the home health services. We believe the use of the pre-floor and pre-reclassified hospital wage index data results in the appropriate adjustment to the labor portion of the costs as required by statute. For the CY 2006 update to the home health payment rates, we will continue to use the most recent pre-floor and pre-reclassified hospital wage index available at the time of publication. See Addenda A and B of this final rule, respectively, for the rural and urban hospital wage indices using the new MSA designations. For HH PPS rates addressed in the July 14, 2005 proposed rule, we used preliminary 2006 pre-floor and pre-reclassified hospital wage index data. We incorporated updated hospital wage index data for the 2006 pre-floor and pre-reclassified hospital wage index to be used in the final rule for the CY 2006 HH PPS update (not including any reclassifications under section 1886(d)(8)(B) of the Act).

As implemented under the HH PPS in the July 3, 2000 HH PPS final rule, each HHA's labor market is determined based on definitions of MSAs issued by OMB. In general, an urban area is defined as an MSA or New England County Metropolitan Area (NECMA) as defined by OMB. Under § 412.62(f)(1)(iii), a rural area is defined as any area outside of the urban area. The urban and rural area geographic classifications are defined in § 412.62(f)(1)(ii) and (f)(1)(iii), respectively, and have been used under HH PPS since it was implemented.

Under the HH PPS, the wage index value used is based upon the location of the beneficiary's home. As has been our longstanding practice, any area not included in an MSA (urban area) is considered to be nonurban (§ 412.64(b)(1)(ii)(C)) and receives the statewide rural wage index value (see, for example, 65 FR 41173).

In the August 11, 2004 IPPS final rule (69 FR 49206 through 49034), revised labor market area definitions were adopted under § 412.64(b), which were effective October 1, 2004 for acute care hospitals. The new standards, CBSAs, were announced by OMB in late 2000 and were also discussed in greater detail in the July 14, 2005 HH PPS proposed rule. Recently other prospective payment systems such as the inpatient rehabilitation facility PPS (IRF PPS) and the skilled nursing facility PPS (SNF PPS) and Medicare payment for hospice care have been updated to utilize the new revised labor market area definitions. For the purposes of this rule, the term “MSA-based” refers to wage index values and designations based on the previous MSA designations. Conversely, the term “CBSA-based” refers to wage index values and designations based on the new OMB revised MSA designations which now include CBSAs.

III. Analysis of and Responses to Public Comments

We received approximately 35 comments on the HH PPS proposed rule published on July 14, 2005. A summary of the major issues and our responses follow:

Market Basket

Comment: A commenter indicated that CMS institute a modification to the market basket index formula to allow for consideration of cost increases, specifically transportation costs related to rising gasoline prices. The commenter noted that the rising spike in gas prices highlights the unique costs and challenges in delivering home health services that are not faced by hospitals or other health care providers. The commenter further noted that HHAs are one of the few Medicare providers so reliant upon fuel to provide healthcare services and this is especially relevant in rural areas where distance between patients can exceed 50 miles.

Response: As an input price index, the 2000-based HH market basket and CY 2006 HH update is intended to reflect the price increases associated with transportation, not cost increases. The transportation base year cost weight, derived from the 2000 HHA Medicare cost reports, represents 2.744 percent of the HH market basket. In determining the HH market basket percentage increase, these costs are proxied using the Consumer Price Index (CPI) for private transportation; therefore, we believe forecasts of this price proxy reflect the price changes of fuel.

Comment: A commenter noted that CMS has chosen not to rebase and revise the home health market basket for 2006. The commenter stated that CMS should develop a timely process to rebase and revise the home health market basket. The commenter also stated that CMS should consider rebasing more frequently than previous years as more current data become available.

Response: We note that we recently rebased the 2000-based HH market basket for the CY 2004 HH PPS update. As we noted in the October 22, 2004 final rule, we typically rebase the market baskets on a 5-year cycle. We will continue to monitor the home health market basket to ensure that it continues to accurately reflect the cost structures of HHAs.

Comment: A commenter recommended that CMS should establish a technical advisory group that includes economists who can review the costs going into the home health market basket. Technology costs, transportation costs, workers compensation insurance, and the cost of providing home health preparedness in emergency situations significantly impact the ability to provide adequate home health services. Another commenter urged CMS to review and consider more appropriate ways to reflect the true economic realities as they relate to home health services. More accurate reflection of the economic environment will also alleviate the large variations in changes to the wage index from year to year for home health providers.

Response: The majority of the 2000 base year cost weights (accounting for more than 90 percent of the home health market basket cost structure) were derived using the 2000 Medicare cost reports for freestanding HHAs. The price increases associated with the individual cost weights are forecasted by Global Insight, Inc. (GII). GII is a nationally recognized economic and financial forecasting firm that forecasts the components of the market baskets. While we believe the HH forecast is a reliable measure of the costs of providing HH services, specific comments and suggestions by other technical experts on the market basket, cost structure, and price increases are appreciated.

Comment: Although required by law, a commenter opposed implementation of the 0.8 percent reduction to the market basket.

Response: We acknowledge the comment but believe we must fulfill the statutory mandate that requires that our update to the HH payment rate be the applicable HH market basket percentage increase minus 0.8 percentage points.

Outlier Payment

Comment: A commenter noted that, in the proposed rule, CMS proposes no change to the outlier payment formula and notes that if CMS is considering modifying the outlier formula for the final rule, CMS should issue a proposed rule on any such change to allow for full public review and comment. The commenter stated that making policy changes on the HH PPS final rule is improper, and doing so would not follow appropriate procedure for CMS inspection and assessment in developing policies. Moreover, the commenter believes that the outlier threshold should be reduced each year until expenditures equal the 5 percent threshold specified in legislation and that when CMS determines that expenditures have reached the threshold, the evidence for making no further reductions in the threshold should be presented in the proposed rule and finalized after public comment.

Response: We do not disagree with the commenter but, as we stated in the July 14, 2005 proposed rule, we did not propose any change to the outlier methodology. We are updating the FDL ratio using the same methodology described in the October 22, 2004 final rule using the most recent available data. Using the most available data, our analysis showed that the FDL ratio applied to the computation of outlier payments should be decreased. As such, the lower FDL ratio will benefit HHAs by allowing more episodes to qualify for outlier payments. The updated FDL ratio is 0.65, which we believe results in the estimated total outlier payments meeting the 5 percent target.

We will continue to analyze current and future data in order to ensure that the FDL ratio is effective at maintaining estimated total outlier payments at the 5 percent level.

Rural Add-On

Comment: Several commenters urged CMS to either restore or advocate for the re-establishment of the rural add-on for home health services furnished to beneficiaries living in rural areas.

Response: The rural add-on was a temporary add-on established by the MMA. Specifically, section 421 of the MMA required, for home health services furnished in a rural area with respect to episodes and visits ending on or after April 1, 2004 and before April 1, 2005, that we increase by 5 percent the payment amount that otherwise would be made for the services. The statute does not provide for a continuation of the add-on.

Wage Index Tables

Comment: A commenter would like to see wage index tables that compare the proposed wage index with the current wage index and show the year to year change in each locality. The commenter suggested that tables be presented both in CBSA alphabetical order, as well as by county within the State, as was done in the July 14, 2005 proposed rule. Also, the commenter suggested that a table highlight those areas experiencing the largest increases and decreases in the wage index. If more complete tables cannot be published in the Federal Register itself, the commenter suggested contemporaneous publication on the CMS Web site.

Response: The final rule presents the wage index values in several different table formats. The wage index values are presented in CBSA order in Addendum B and Addendum C. The wage index values are presented by State and county in Addendum A.

Home Health Wage Index

Comment: A commenter questioned how CMS’ pre-floor, pre-reclassified hospital wage index published in the July 14, 2005 Federal Register for the HH PPS proposed rule could be substantially different from the pre-floor, pre-reclassified hospital wage index published in the August 4, 2005 Federal Register for the SNF PPS final rule (70 FR 45026).

Response: The difference between “Table 8.—FY2006 Wage Index for Urban Areas Based on CBSA Labor Market Areas” contained in the August 4, 2005 SNF PPS final rule and “Addendum B.—Proposed CY 2006 Wage Index for Urban Areas by CBSA; Applicable Pre-Floor and Pre-Reclassified Hospital Wage Index” in the July 14, 2005 home health proposed rule is attributable to the fact that the SNF update and the HH proposed update are published at different times. In the July 14, 2005 HH PPS proposed rule, the 2006 pre-floor, pre-reclassified hospital wage index was a preliminary version of the wage index. Between the time of publication of the July 14, 2005 home health PPS proposed rule and the time of publication of the SNF PPS final rule, a final version of the 2006 pre-floor, pre-reclassified hospital wage index became available and was subsequently published in the SNF PPS final rule.

Comment: A number of commenters stated that the wage index formula is seriously flawed, claiming it does not reflect the cost of providing home health services. The commenters noted that providing home health services is unique from providing hospital services in that HHAs incur transportation costs (high gasoline costs) and auto insurance. Moreover, they stated that in the era of this nursing shortage, it is difficult to compete with hospitals to recruit and retain nursing staff. The commenters suggested that CMS should review its factors used in the wage index and communicate to providers how it applies the formulas to take into account the unique costs to HH that impact Medicare beneficiaries.

Response: We disagree with the commenters' statement that the wage index formula is flawed. We believe the home health payment policy that utilizes hospital data as the input for calculating geographic area wage adjustments is the best available proxy for determining the related cost of home health wage and wage level costs. In addition, the home health payment rates incorporate a home health market basket update factor which reflects the unique costs of providing home health services as opposed to hospital or any other type of healthcare services.

Comment: A commenter stated that future changes to the wage index should be accompanied by a comprehensive impact analysis and at least one year's notice in advance of the proposed change. Adaptations to large swings in reimbursement cannot be accommodated on short notice and threaten stability in providing services.

Response: We believe that using the best available data, at the time of publication, for purposes of updating the HH payment rates is a valid reflection of the wage and wage level costs used in providing HH services.

Comment: A commenter stated that the wage index listed in the proposed rule is based on preliminary 2006 pre-floor, pre-reclassified hospital wage data. In the proposed rule, CMS stated it will use the most recent pre-floor, pre-reclassified hospital wage index data available at the time of publication. The commenter suggested that CMS should update the wage index based on the final 2006 pre-floor and pre-reclassified hospital wage data, not preliminary data. The preliminary data contained errors that were corrected when final hospital wage indexes were issued.

Response: We are updating the HH payment rates using the most recent 2006 pre-floor, pre-reclassified hospital wage index data. As we noted in the July 14, 2005 proposed rule, because of the timing of the proposed rule, the most recent available data at that time were the preliminary 2006 pre-floor, pre-reclassified hospital wage index, and that more recent data would be used in the final rule.

Comment: Several commenters supported the move to CBSAs. One commenter believes that CBSAs provide significantly better measures of individual labor markets and fully supports their adoption.

Response: We appreciate the commenter's support. As we note later, we are adopting wage index values using CBSA designations.

Comment: A commenter suggested that CMS should validate the accuracy and completeness of wage data submitted by hospitals to ensure that all hospitals in an area have reported.

Response: We believe CMS employs current processes that accomplish this validation. All IPPS hospitals must complete the wage index survey (Worksheet S-3, Parts II and III) as part of their Medicare cost reports. Cost reports will be rejected if Worksheet S-3 is not completed. Additionally, intermediaries perform desk reviews on all hospitals' Worksheet S-3 wage data, and CMS runs edits on the wage data to further ensure the accuracy and validity of the wage data.

Comment: A commenter suggested that CMS should provide a mechanism for HHAs to challenge the accuracy of wage index values for their areas, especially in cases where there are indications of an irregularity.

Response: As we currently use hospital wage index data as the basis for the HH geographic wage adjustment, HHAs have the opportunity to submit comments on the hospital wage index data during the annual IPPS rulemaking period.

Transition

Comment: We received a number of comments against using the new CBSA designations. We received a number of comments stating that at a minimum, CMS should institute a transition policy similar to that being implemented by SNFs, hospices, and inpatient rehabilitation facilities. Most commenters suggested a one-year transition period. Some of the commenters recommended a two-year or three-year transition period.

Most commenters recommended a 50/50 blend of the previous and new labor market definitions. One commenter suggested a multi-year phase-in using a blend of previous and new with increasing reliance on the new wage index in each successive year (for example, 25 percent, 50 percent, 75 percent, then 100 percent of the CBSA). Several commenters stated that the transition policy should be applied to wage areas that would experience a decrease in their wage index. Some commenters stated that wage index values for wage areas that would be subject to a decrease remain static. Other commenters suggested the use of a wage index floor to avoid large fluctuations in the wage index. Most commenters wanted a transition period for all wage areas.

Response: We have considered all the comments, and we are adopting a wage index transition policy for HH PPS for CY 2006. The wage index transition policy for CY 2006 is a 50/50 blend of the CBSA-based wage index values and the MSA-based wage index values and will be applied to all wage areas. For CY 2007, the HH PPS will be solely based on a CBSA-based wage index. We believe that the one-year transition policy using a 50/50 blend is responsive to the majority of comments that recommended a one-year transition and the majority that recommended a 50/50 blend while still maintaining an appropriate adjustment to account for geographic wage differences. Addendum A displays the wage index in State and County order showing the MSA-based wage index values, the CBSA-based wage index values, and the blended wage index values. Addendum B and Addendum C display the wage index in CBSA order.

Comment: A commenter suggested that CMS needs to revisit the assumption underlying the wage indices in micropolitan areas. The commenter stated that in any situation where a county of a micropolitan area is contiguous with the principal county of a metropolitan area, CMS must independently determine whether a unified labor market exists and allow for use of an urban rate calculation.

Response: We refer readers to the explanation in the FY 2005 IPPS final rule published August 11, 2004 for our adoption of the new Census designations as well as the treatment of micropolitan areas as rural (69 FR 49026).

Comment: A commenter recommended that the hospital wage index should not exclude CAHs when used for the specific purpose of determining rates for other providers that operate in the same areas served by the CAHs.

Response: This comment is outside the scope of the HH PPS update final rule. Any comments regarding the specifics of the hospital wage index policy should be presented during the IPPS rulemaking period.

Comment: A commenter requested that CMS review and reconsider the wage index calculation for Massachusetts' rural areas.

Response: As the only hospitals left in rural Massachusetts are two critical access hospitals (CAHs), and data from CAHs are no longer included in the IPPS, there are no updated data from which to calculate a wage index for rural Massachusetts for use in the HH PPS update for CY 2006. In providing for an appropriate standard to account for area wage differences, for the purposes of the HH PPS update, we believe a reasonable proxy for the wage index for rural Massachusetts for CY 2006 is the 2005 pre-floor, pre-reclassified hospital wage index data.

Comment: Several commenters expressed concern about decreasing wage index values for specific counties.

Response: We appreciate the detailed concerns sent by the commenters regarding the impact of the wage index update for their specific counties. We note that there will always be some areas that experience an increase in wage index values while others experience a decrease in wage index values. Variability in wage index values occurs each year as wage index values fluctuate from year to year based on the changes to the hospital wage data. As a result, wage index values within the system increase or decrease. We are aware of the changes to wage index values due in part to the adoption of the revised OMB designations and note we have provided a transition period for CY 2006.

Wage Index Reform

Comment: A commenter recommended that in order to provide parity between hospitals and HHAs in areas where hospitals have reclassified to a higher wage index area, CMS should either authorize a similar wage index adjustment for HHAs or seek such authority from the Congress, as well as authority to put a floor on wage index reductions from one year to the next.

The commenter also suggested that CMS should begin a wholesale revision and reform of the home health wage index. This reform should consider the impact on care access and financial stability of HHAs measured at the local level.

Response: The statute does not provide authority to allow HHAs to apply for geographic reclassification. We also note that the HH PPS wage index adjustment is based on the geographic area where the beneficiary received home health services, not where the HHA is located. As to the revision and reform of the home health wage index, we further note that CMS has, along with the industry, explored the feasibility of developing a home health specific wage index. Because of the volatility of the home health wage data and the significant amount of resources that would be required to improve the quality of that data, we do not expect to propose a home health specific wage index until we can demonstrate that a home health specific wage index would be more reflective of the wages and salaries paid in a specific area, that it would significantly improve our ability to determine payment for home health agencies, and that we can justify the resources required to collect the data, as well as the increased burden on providers.

Comment: A commenter recommended that there needs to be an ongoing dialogue between State and national home care associations and CMS in order to determine a more appropriate payment methodology for home care. A commenter stated that CMS should establish a home health technical advisory group to regularly review and update the multitude of parts of the HH PPS reimbursement methodology.

Response: We appreciate the comment; however, we do not believe such a group is necessary as such a dialogue envisioned by the commenter currently exists. We have always received input from the industry on various aspects of our Medicare payment systems, and we anticipate this practice will continue into the future. Moreover, the “open-door” forums, that we initiated, provide the public with an opportunity to provide input and comment on home health in general, including the payment policies used in the HH PPS.

LUPA

Comment: We received a comment that LUPA reimbursement is inadequate for New York. The commenter stated that there should be a review and increase to the LUPA per visit rates to ensure that they cover the costs of providing care.

Response: We believe the LUPA per-visit rates adequately account for the costs of providing care in such a situation. The per-visit rates used for the LUPA are adjusted by the appropriate wage index and updated annually by the home health market basket update minus 0.8 percent as required by the statute.

Case Mix Weight

Comment: Commenters stated that the HHRG case mix classification does not recognize the added costs of the dually eligible beneficiaries, noting that this population has more comorbidities and often lacks the informal supports non-dual eligible beneficiaries have. As these complexities add to the cost of providing care, the commenters suggested that an add-on for these patients should be implemented until refinements to the case mix system can be made.

Response: We are currently analyzing possible refinements to the case mix system. Concerns such as those expressed by the commenters are included in our review and analysis. We note that our analysis includes not only review of statistical data but also review of operational feasibility and policy implications.

Comment: We received a comment stating that the case-mix system does not adequately recognize the costs of wound care given the intensity of some of these patients and the newest supplies that can facilitate rapid healing.

Response: We appreciate the comment and note that wound care's impact on case-mix is being addressed in our refinement review and analysis through a study of supplies' costs as a component of case mix and through other types of case-mix model refinements.

Comment: A commenter recommended that CMS should institute ongoing analysis of the case-mix weights along with a mechanism to refine the case-mix adjustments. CMS has 3 years of data that should assist in this process.

Response: We agree and our refinement review and analysis, which is currently under development, addresses a revision of the case-mix weights resulting from a refinement of the underlying case mix model and of the resulting set of groups.

IV. Provisions of the Final Regulations

Generally, this final rule incorporates the provisions of the July 14, 2005 proposed rule. Those provisions of this final rule that differ from the proposed rule are as follows:

There will be a one-year transition period in implementing the new area labor market designations for purposes of adjusting for area wage differences. In calculating the wage index applicable to HH PPS for CY 2006, the wage index will be a blend of 50 percent of wage index values based on CBSA designations and 50 percent of the wage index values based on MSA designations.

In addition, we are revising the fixed-dollar loss ratio used in the calculation of outlier payments.

V. Collection of Information Requirements

This document does not impose information collection and recordkeeping requirements. Consequently, it need not be reviewed by the Office of Management and Budget under the authority of the Paperwork Reduction Act of 1995 (44 U.S.C. 35).

VI. Regulatory Impact Analysis

A. Overall Impact

We have examined the impacts of this rule as required by Executive Order 12866 (September 1993, Regulatory Planning and Review), the Regulatory Flexibility Act (RFA) (September 19, 1980, Pub. L. 96-354), section 1102(b) of the Social Security Act, the Unfunded Mandates Reform Act of 1995 (Pub. L. 104-4), and Executive Order 13132.

Executive Order 12866 (as amended by Executive Order 13258, which merely reassigns responsibility of duties) directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year). The update set forth in July 14, 2005 proposed rule applies to Medicare payments under HH PPS in CY 2006. Accordingly, the following analysis describes the impact in CY 2006 only. We estimate that there will be an additional $370 million in CY 2006 expenditures attributable to the CY 2006 proposed estimated home health market basket update (3.6 percent) minus 0.8 percentage points, for a CY 2006 update of 2.8 percent.

The RFA requires agencies to analyze options for regulatory relief of small businesses. For purposes of the RFA, small entities include small businesses, nonprofit organizations, and government jurisdictions. Most hospitals and most other providers and suppliers are small entities, either by nonprofit status or by having revenues of $6 million to $29 million in any 1 year. For purposes of the RFA, approximately 75 percent of HHAs are considered small businesses according to the Small Business Administration's size standards with total revenues of $11.5 million or less in any 1 year. Individuals and States are not included in the definition of a small entity. This final rule will have a significant positive effect upon small entities.

In addition, section 1102(b) of the Act requires us to prepare a regulatory impact analysis if a rule may have a significant impact on the operations of a substantial number of small rural hospitals. This analysis must conform to the provisions of section 604 of the RFA. For purposes of section 1102(b) of the Act, we define a small rural hospital as a hospital that is located outside of a Metropolitan Statistical Area and has fewer than 100 beds or a hospital located in a CBSA. We have determined that this final rule will not have a significant economic impact on the operations of a substantial number of small rural hospitals.

Section 202 of the Unfunded Mandates Reform Act of 1995 also requires that agencies assess anticipated costs and benefits before issuing any rule whose mandates require spending in any 1 year of $100 million in 1995 dollars, updated annually for inflation. That threshold level is currently approximately $120 million. We believe this final rule will not mandate expenditures in that amount.

Executive Order 13132 establishes certain requirements that an agency must meet when it promulgates a final rule that imposes substantial direct requirement costs on State and local governments, preempts State law, or otherwise has Federalism implications. We have reviewed this rule under the threshold criteria of Executive Order 13132, Federalism. We have determined that this final rule will not have substantial direct effects on the rights, roles, and responsibilities of States.

B. Anticipated Effects

This rule updates the HH PPS rates contained in the CY 2005 final rule (69 FR 62124, October 22, 2004). The impact analysis of this rule presents the projected effects of the change from MSA designations to a 50/50 blend of MSA and CBSA designations in determining the wage index used to calculate the HH PPS rates for CY 2006. We estimate the effects by estimating payments while holding all other payment variables constant. We use the best data available, but we do not attempt to predict behavioral responses to these changes, and we do not make adjustments for future changes in such variables as days or case-mix.

This analysis incorporates the latest estimates of growth in service use and payments under the Medicare home health benefit, based on the latest available Medicare claims from 2004. We note that certain events may combine to limit the scope or accuracy of our impact analysis, because such an analysis is future-oriented and, thus, susceptible to forecasting errors due to other changes in the forecasted impact time period. Some examples of such possible events are newly-legislated general Medicare program funding changes by the Congress, or changes specifically related to HHAs. In addition, changes to the Medicare program may continue to be made as a result of the BBA, the BBRA, the BIPA, the MMA, or new statutory provisions. Although these changes may not be specific to the HH PPS, the nature of the Medicare program is such that the changes may interact, and the complexity of the interaction of these changes could make it difficult to predict accurately the full scope of the impact upon HHAs.

Our discussions for this final rule will focus on the impact of changes in the wage index, most notably the adoption of the CBSA designations. The impacts are shown in Table 3 below. The breakdown of the various impacts displayed in the table follows.

The rows display the estimated effect of the proposed changes on different categories. The first row of figures represents the estimated effects on all facilities. The next 2 rows show the effect on urban and rural facilities. This is followed, in the next 4 rows, by impacts on urban and rural facilities based on whether they are a hospital-based or freestanding facility. The next 20 rows show the effect on urban and rural facilities based on the census region in which they are located.

The first column shows the breakdown of all HHAs by urban or rural status, hospital-based or freestanding status, and census region.

The second column in the table shows the number of facilities in the impact database. A facility is considered urban if it is located in an MSA and, conversely, rural if it is not located in an MSA.

The third column of the table shows the effect of the updating the MSA-based wage index (without moving to CBSAs). This column represents the difference between the 2005 MSA-based wage index and the 2006 MSA-based wage index.

The fourth column of the table reflects the impact of using the new OMB geographic designations based on CBSAs, compared to using the MSA designations without a transition policy. As we are implementing a transition policy, this column is shown for reference purposes only.

The fifth column of the table shows the effect of all of the changes on the CY 2006 payments without implementing a transition policy. The update of 2.8 percentage points (market basket increase of 3.6 percent minus 0.8 percentage points, as mandated by the MMA) is constant for all providers and, though not shown individually, is included in this column. In essence, this column represents the sum of columns three and four, adding in the 2.8 percent increase with slight differences due to rounding. Again, as we are implementing a transition policy, this column is shown for reference purposes only.

The sixth column of the table reflects the impact of using the new OMB geographic designations based on CBSAs, compared to using the MSA designations with a transition policy consisting of a 50/50 blend of the previous (MSA-based) and the new (CBSA-based) wage area designations. Specifically, the effect of using the blended wage index values in determining payment for facilities in urban areas is, on average, a decrease of 0.1 percent. On the other hand, facilities in a rural area show an average increase of 0.4 percent. Rural HHAs, by region, generally show an increase using the CBSA-determined wage index (ranging from an increase of 0.1 percent to 1.1 percent), except for facilities in the Middle Atlantic and the Mountain regions where payments are estimated to decrease by 0.3 percent and 0.2 percent respectively. The impact on urban HHAs, by region, is generally moderate using the 50/50 transition blend of MSA-based and CBSA-based wage index values (ranging from a 0.1 percent increase to a 0.3 percent decrease). By type of facility, the impact on rural facilities using the blended wage index is positive, with payments to freestanding facilities and hospital-based facilities estimated to increase by 0.4 percent. Conversely, hospital-based urban facilities are estimated to experience no impact while freestanding urban facilities are estimated to see a decrease in payments by 0.1 percent.

The seventh column of the table shows the total wage index change with the transition policy. This column represents the sum of the change due to the updated wage data (column 3) and the change due to the move to CBSAs using the transition policy (column 6) with slight differences due to rounding.

The eighth column of the table shows the effect of all of the changes on the CY 2006 payments with a transition policy. The update of 2.8 percentage points (market basket increase of 3.6 percent minus 0.8 percentage points, as mandated by the MMA) is constant for all providers and, though not shown individually, is included in this column. It is projected that total aggregate payments would increase by 2.7 percent; assuming facilities do not change their care delivery and billing practices in response.

As can be seen from this table, the combined effects of all of the changes would vary by specific types of providers and by location. For example, HHAs in rural New England show the largest estimated increase in payment at 5.9 percent, while HHAs in the urban West North Central and East North Central regions show the smallest increases in payments at 1.5 percent and 1.7 percent respectively. Rural HHAs in the West North Central regions and East North Central regions differ from urban HHAs in those regions, seeing an estimated increase in payments of 2.7 percent and 3.5 percent, respectively. Amongst the different type of facility categories, freestanding rural HHAs have the largest estimate of increase, with an estimated increase in payments of 3.4 percent. Hospital-based rural HHAs are next with an estimated increase in payments of 3.3 percent with hospital-based urban and freestanding urban HHAs with estimated increases of 2.5 percent and 2.6 percent, respectively.

BILLING CODE 4120-01-P

BILLING CODE 4120-01-C

C. Accounting Statement

As required by OMB Circular A-4 (available at http://www.whitehouse.gov/omb/circulars/a004/a-4.pdf), in Table 4 below, we have prepared an accounting statement showing the classification of the expenditures associated with the provisions of this final rule. This table provides our best estimate of the increase in Medicare payments under the HH PPS as a result of the changes presented in this final rule based on the data for 7,370 HHAs in our database. All expenditures are classified as transfers to Medicare providers (that is, HHAs).

Table 4.—Accounting Statement: Classification of Estimated Expenditures, From CY 2005 to CY 2006
[in Millions]
Category | TRANSFERS
Annualized Monetized Transfers | $370
From Whom To Whom? | Federal Government To HHAs

D. Conclusion

In accordance with the provisions of Executive Order 12866, this regulation was reviewed by the Office of Management and Budget.

List of Subjects in 42 CFR Part 484

Health facilities, Health professions, Medicare, Reporting and recordkeeping requirements.

For the reasons set forth in the preamble, the Centers for Medicare & Medicaid Services amends 42 CFR chapter IV as set forth below:

PART 484—HOME HEALTH SERVICES

1. The authority citation for part 484 continues to read as follows:

Authority: Secs. 1102 and 1871 of the Social Security Act (42 U.S.C. 1302 and 1395(hh)).

Subpart E—Prospective Payment System for Home Health Agencies

2. In § 484.202, the definitions for “Rural area” and “Urban area” are added in alphabetical order to read as follows:

§ 484.202 Definitions.

* * * * *

Rural area means, with respect to home health episodes ending on or after January 1, 2006, an area defined in § 412.64(b)(1)(ii)(C) of this chapter.

Urban area means, with respect to home health episodes ending on or after January 1, 2006, an area defined in § 412.64(b)(1)(ii)(A) and (B) of this chapter.

(Catalog of Federal Domestic Assistance Program No. 93.773, Medicare—Hospital Insurance; and Program No. 93.774, Medicare—Supplementary Medical Insurance Program)

Dated: October 13, 2005.
Mark B. McClellan,
Administrator, Centers for Medicare & Medicaid Services.
Approved: October 26, 2005.
Michael O. Leavitt,
Secretary.

Note: The following tables and addenda will not appear in the Code of Federal Regulations.

Table 1.—National 60-Day Episode Amounts Updated by the Estimated Home Health Market Basket Update for CY 2006, Minus 0.8 Percentage Point, Before Case-Mix Adjustment, Wage Index Adjustment Based on the Site of Service for the Beneficiary or Applicable Payment Adjustment
Total prospective payment amount per 60-day episode for CY 2005 | Multiply by the estimated Home Health Market Basket Update (3.6 Percent) minus 0.8 percentage point | CY 2006 updated National 60-day episode rate
$2,264.28 | × 1.028 | $2,327.68

Table 2.—National Per-Visit Amounts for LUPAs and Outlier Calculations Updated by the Estimated Home Health Market Basket Update for CY 2006, Minus 0.8 Percentage Point, Before Wage Index Adjustment Based on the Site of Service for the Beneficiary
Home Health discipline type | Final per-visit amounts per 60-day episode for CY 2005 for LUPAs | Multiply by the estimated Home Health Market Basket (3.6 percent) minus 0.8 percentage point | Per-visit payment amount per discipline for CY 2006 for LUPAs
Home Health Aide | $44.76 | × 1.028 | $46.01
Medical Social Services | 158.45 | × 1.028 | 162.89
Occupational Therapy | 108.81 | × 1.028 | 111.86
Physical Therapy | 108.08 | × 1.028 | 111.11
Skilled Nursing | 98.85 | × 1.028 | 101.62
Speech-Language Pathology | 117.44 | × 1.028 | 120.73

Table 3.—Estimated Impact of CY 2006 Update to the HH PPS
[Final column includes update of 2.8 percent urban/rural defined as MSA/non-MSA]
| Number of facilities (percent) | Updated wage data (percent) | MSA to CBSA without transition (percent) | Total CY 2006 change without transition (percent) | MSA to CBSA with transition (percent) | Total wage index change with transition (percent) | Total CY 2006 Change with transition (percent)
Total | 7,370 | −0.1 | 0.0 | 2.7 | 0.0 | −0.1 | 2.7
Urban | 5,080 | −0.2 | −0.2 | 2.4 | −0.1 | −0.3 | 2.5
Rural | 2,290 | 0.1 | 0.8 | 3.8 | 0.4 | 0.6 | 3.4
Hospital based urban | 1,869 | −0.3 | 0.0 | 2.5 | 0.0 | −0.3 | 2.5
Freestanding urban | 3,211 | −0.1 | −0.2 | 2.4 | −0.1 | −0.2 | 2.6
Hospital based rural | 1,320 | 0.2 | 0.7 | 3.7 | 0.4 | 0.5 | 3.3
Freestanding rural | 970 | 0.1 | 0.9 | 3.8 | 0.4 | 0.6 | 3.4
Urban by region:
New England | 251 | −0.5 | −0.4 | 2.0 | −0.2 | −0.6 | 2.2
Middle Atlantic | 423 | 0.2 | 0.2 | 3.2 | 0.1 | 0.3 | 3.1
South Atlantic | 863 | −0.6 | −0.1 | 2.2 | 0.0 | −0.6 | 2.2
East North Central | 870 | −0.8 | −0.5 | 1.5 | −0.2 | −1.1 | 1.7
East South Central | 205 | 0.1 | −0.2 | 2.7 | −0.1 | 0.0 | 2.8
West North Central | 269 | −1.3 | −0.1 | 1.4 | 0.0 | −1.3 | 1.5
West South Central | 1,270 | −0.1 | −0.4 | 2.3 | −0.2 | −0.3 | 2.5
Mountain | 258 | −0.6 | 0.0 | 2.2 | 0.0 | −0.6 | 2.2
Pacific | 634 | 1.1 | 0.0 | 3.9 | 0.0 | 1.1 | 3.9
Outlying | 37 | −0.8 | −0.6 | 1.5 | −0.3 | −1.1 | 1.7
Rural by region:
New England | 46 | 3.0 | 0.0 | 5.9 | 0.0 | 3.1 | 5.9
Middle Atlantic | 82 | −0.2 | −0.6 | 2.0 | −0.3 | −0.5 | 2.3
South Atlantic | 289 | −0.7 | 0.5 | 2.6 | 0.3 | −0.4 | 2.4
East North Central | 300 | 0.6 | 0.3 | 3.7 | 0.2 | 0.7 | 3.5
East South Central | 232 | 0.0 | 0.7 | 3.6 | 0.4 | 0.4 | 3.2
West North Central | 523 | −0.3 | 0.3 | 2.8 | 0.2 | −0.1 | 2.7
West South Central | 505 | 0.0 | 2.3 | 5.1 | 1.1 | 1.2 | 4.0
Mountain | 196 | 0.6 | −0.5 | 2.9 | −0.2 | 0.3 | 3.1
Pacific | 103 | 2.4 | 0.2 | 5.3 | 0.1 | 2.4 | 5.2
Outlying | 14 | −8.5 | 9.3 | 3.6 | 4.6 | −3.8 | −1.0

Addendum A.—CY 2006 HH PPS Transition Wage Index Table By State and County Code
SSA State/ county code | County name | MSA No. | 2006 MSA- based WI | 2006 CBSA- based WI | CBSA No. | Number that goes on the claim in the CBSA field | Transition wage index
01000 | Autauga County, Alabama | 5240 | 0.8618 | 0.8618 | 33860 | 50284 | 0.8618
01010 | Baldwin County, Alabama | 5160 | 0.7861 | 0.7446 | 99901 | 50281 | 0.7654
01020 | Barbour County, Alabama | 01 | 0.7432 | 0.7446 | 99901 | 50001 | 0.7439
01030 | Bibb County, Alabama | 01 | 0.7432 | 0.8959 | 13820 | 50002 | 0.8196
01040 | Blount County, Alabama | 1000 | 0.9000 | 0.8959 | 13820 | 50182 | 0.8980
01050 | Bullock County, Alabama | 01 | 0.7432 | 0.7446 | 99901 | 50001 | 0.7439
01060 | Butler County, Alabama | 01 | 0.7432 | 0.7446 | 99901 | 50001 | 0.7439
01070 | Calhoun County, Alabama | 0450 | 0.7682 | 0.7682 | 11500 | 11500 | 0.7682
01080 | Chambers County, Alabama | 01 | 0.7432 | 0.7446 | 99901 | 50001 | 0.7439
01090 | Cherokee County, Alabama | 01 | 0.7432 | 0.7446 | 99901 | 50001 | 0.7439
01100 | Chilton County, Alabama | 01 | 0.7432 | 0.8959 | 13820 | 50002 | 0.8196
01110 | Choctaw County, Alabama | 01 | 0.7432 | 0.7446 | 99901 | 50001 | 0.7439
01120 | Clarke County, Alabama | 01 | 0.7432 | 0.7446 | 99901 | 50001 | 0.7439
01130 | Clay County, Alabama | 01 | 0.7432 | 0.7446 | 99901 | 50001 | 0.7439
01140 | Cleburne County, Alabama | 01 | 0.7432 | 0.7446 | 99901 | 50001 | 0.7439
01150 | Coffee County, Alabama | 01 | 0.7432 | 0.7446 | 99901 | 50001 | 0.7439
01160 | Colbert County, Alabama | 2650 | 0.8272 | 0.8272 | 22520 | 22520 | 0.8272
01170 | Conecuh County, Alabama | 01 | 0.7432 | 0.7446 | 99901 | 50001 | 0.7439
01180 | Coosa County, Alabama | 01 | 0.7432 | 0.7446 | 99901 | 50001 | 0.7439
01190 | Covington County, Alabama | 01 | 0.7432 | 0.7446 | 99901 | 50001 | 0.7439
01200 | Crenshaw County, Alabama | 01 | 0.7432 | 0.7446 | 99901 | 50001 | 0.7439
01210 | Cullman County, Alabama | 01 | 0.7432 | 0.7446 | 99901 | 50001 | 0.7439
01220 | Dale County, Alabama | 2180 | 0.7701 | 0.7446 | 99901 | 50214 | 0.7574
01230 | Dallas County, Alabama | 01 | 0.7432 | 0.7446 | 99901 | 50001 | 0.7439
01240 | De Kalb County, Alabama | 01 | 0.7432 | 0.7446 | 99901 | 50001 | 0.7439
01250 | Elmore County, Alabama | 5240 | 0.8618 | 0.8618 | 33860 | 50284 | 0.8618
01260 | Escambia County, Alabama | 01 | 0.7432 | 0.7446 | 99901 | 50001 | 0.7439
01270 | Etowah County, Alabama | 2880 | 0.7938 | 0.7938 | 23460 | 23460 | 0.7938
01280 | Fayette County, Alabama | 01 | 0.7432 | 0.7446 | 99901 | 50001 | 0.7439
01290 | Franklin County, Alabama | 01 | 0.7432 | 0.7446 | 99901 | 50001 | 0.7439
01300 | Geneva County, Alabama | 01 | 0.7432 | 0.7721 | 20020 | 50003 | 0.7577
01310 | Greene County, Alabama | 01 | 0.7432 | 0.8645 | 46220 | 50005 | 0.8039
01320 | Hale County, Alabama | 01 | 0.7432 | 0.8645 | 46220 | 50005 | 0.8039
01330 | Henry County, Alabama | 01 | 0.7432 | 0.7721 | 20020 | 50003 | 0.7577
01340 | Houston County, Alabama | 2180 | 0.7701 | 0.7721 | 20020 | 50215 | 0.7711
01350 | Jackson County, Alabama | 01 | 0.7432 | 0.7446 | 99901 | 50001 | 0.7439
01360 | Jefferson County, Alabama | 1000 | 0.9000 | 0.8959 | 13820 | 50182 | 0.8980
01370 | Lamar County, Alabama | 01 | 0.7432 | 0.7446 | 99901 | 50001 | 0.7439
01380 | Lauderdale County, Alabama | 2650 | 0.8272 | 0.8272 | 22520 | 22520 | 0.8272
01390 | Lawrence County, Alabama | 2030 | 0.8469 | 0.8469 | 19460 | 19460 | 0.8469
01400 | Lee County, Alabama | 0580 | 0.8100 | 0.8100 | 12220 | 12220 | 0.8100
01410 | Limestone County, Alabama | 3440 | 0.9146 | 0.9146 | 26620 | 26620 | 0.9146
01420 | Lowndes County, Alabama | 01 | 0.7432 | 0.8618 | 33860 | 50004 | 0.8025
01430 | Macon County, Alabama | 01 | 0.7432 | 0.7446 | 99901 | 50001 | 0.7439
01440 | Madison County, Alabama | 3440 | 0.9146 | 0.9146 | 26620 | 26620 | 0.9146
01450 | Marengo County, Alabama | 01 | 0.7432 | 0.7446 | 99901 | 50001 | 0.7439
01460 | Marion County, Alabama | 01 | 0.7432 | 0.7446 | 99901 | 50001 | 0.7439
01470 | Marshall County, Alabama | 01 | 0.7432 | 0.7446 | 99901 | 50001 | 0.7439
01480 | Mobile County, Alabama | 5160 | 0.7861 | 0.7891 | 33660 | 33660 | 0.7876
01490 | Monroe County, Alabama | 01 | 0.7432 | 0.7446 | 99901 | 50001 | 0.7439
01500 | Montgomery County, Alabama | 5240 | 0.8618 | 0.8618 | 33860 | 50284 | 0.8618
01510 | Morgan County, Alabama | 2030 | 0.8469 | 0.8469 | 19460 | 19460 | 0.8469
01520 | Perry County, Alabama | 01 | 0.7432 | 0.7446 | 99901 | 50001 | 0.7439
01530 | Pickens County, Alabama | 01 | 0.7432 | 0.7446 | 99901 | 50001 | 0.7439
01540 | Pike County, Alabama | 01 | 0.7432 | 0.7446 | 99901 | 50001 | 0.7439
01550 | Randolph County, Alabama | 01 | 0.7432 | 0.7446 | 99901 | 50001 | 0.7439
01560 | Russell County, Alabama | 1800 | 0.8560 | 0.8560 | 17980 | 50203 | 0.8560
01570 | St Clair County, Alabama | 1000 | 0.9000 | 0.8959 | 13820 | 50182 | 0.8980
01580 | Shelby County, Alabama | 1000 | 0.9000 | 0.8959 | 13820 | 50182 | 0.8980
01590 | Sumter County, Alabama | 01 | 0.7432 | 0.7446 | 99901 | 50001 | 0.7439
01600 | Talladega County, Alabama | 01 | 0.7432 | 0.7446 | 99901 | 50001 | 0.7439
01610 | Tallapoosa County, Alabama | 01 | 0.7432 | 0.7446 | 99901 | 50001 | 0.7439
01620 | Tuscaloosa County, Alabama | 8600 | 0.8764 | 0.8645 | 46220 | 50342 | 0.8705
01630 | Walker County, Alabama | 01 | 0.7432 | 0.8959 | 13820 | 50002 | 0.8196
01640 | Washington County, Alabama | 01 | 0.7432 | 0.7446 | 99901 | 50001 | 0.7439
01650 | Wilcox County, Alabama | 01 | 0.7432 | 0.7446 | 99901 | 50001 | 0.7439
01660 | Winston County, Alabama | 01 | 0.7432 | 0.7446 | 99901 | 50001 | 0.7439
02013 | Aleutians County East, Alaska | 02 | 1.1888 | 1.1977 | 99902 | 99902 | 1.1933
02016 | Aleutians County West, Alaska | 02 | 1.1888 | 1.1977 | 99902 | 99902 | 1.1933
02020 | Anchorage County, Alaska | 0380 | 1.1784 | 1.1895 | 11260 | 50169 | 1.1840
02030 | Angoon County, Alaska | 02 | 1.1888 | 1.1977 | 99902 | 99902 | 1.1933
02040 | Barrow-North Slope County, Alaska | 02 | 1.1888 | 1.1977 | 99902 | 99902 | 1.1933
02050 | Bethel County, Alaska | 02 | 1.1888 | 1.1977 | 99902 | 99902 | 1.1933
02060 | Bristol Bay Borough County, Alaska | 02 | 1.1888 | 1.1977 | 99902 | 99902 | 1.1933
02068 | Denali County, Alaska | 02 | 1.1888 | 1.1977 | 99902 | 99902 | 1.1933
02070 | Bristol Bay County, Alaska | 02 | 1.1888 | 1.1977 | 99902 | 99902 | 1.1933
02080 | Cordova-Mc Carthy County, Alaska | 02 | 1.1888 | 1.1977 | 99902 | 99902 | 1.1933
02090 | Fairbanks County, Alaska | 02 | 1.1888 | 1.1408 | 21820 | 21820 | 1.1648
02100 | Haines County, Alaska | 02 | 1.1888 | 1.1977 | 99902 | 99902 | 1.1933
02110 | Juneau County, Alaska | 02 | 1.1888 | 1.1977 | 99902 | 99902 | 1.1933
02120 | Kenai-Cook Inlet County, Alaska | 02 | 1.1888 | 1.1977 | 99902 | 99902 | 1.1933
02122 | Kenai Peninsula Borough, Alaska | 02 | 1.1888 | 1.1977 | 99902 | 99902 | 1.1933
02130 | Ketchikan County, Alaska | 02 | 1.1888 | 1.1977 | 99902 | 99902 | 1.1933
02140 | Kobuk County, Alaska | 02 | 1.1888 | 1.1977 | 99902 | 99902 | 1.1933
02150 | Kodiak County, Alaska | 02 | 1.1888 | 1.1977 | 99902 | 99902 | 1.1933
02160 | Kuskokwin County, Alaska | 02 | 1.1888 | 1.1977 | 99902 | 99902 | 1.1933
02164 | Lake and Peninsula Borough, Alaska | 02 | 1.1888 | 1.1977 | 99902 | 99902 | 1.1933
02170 | Matanuska County, Alaska | 02 | 1.1888 | 1.1895 | 11260 | 50006 | 1.1892
02180 | Nome County, Alaska | 02 | 1.1888 | 1.1977 | 99902 | 99902 | 1.1933
02185 | North Slope Borough, Alaska | 02 | 1.1888 | 1.1977 | 99902 | 99902 | 1.1933
02188 | Northwest Arctic Borough, Alaska | 02 | 1.1888 | 1.1977 | 99902 | 99902 | 1.1933
02190 | Outer Ketchikan County, Alaska | 02 | 1.1888 | 1.1977 | 99902 | 99902 | 1.1933
02200 | Prince Of Wales County, Alaska | 02 | 1.1888 | 1.1977 | 99902 | 99902 | 1.1933
02201 | Prince of Wales-Outer Ketchikan Census Area, Alaska | 02 | 1.1888 | 1.1977 | 99902 | 99902 | 1.1933
02210 | Seward County, Alaska | 02 | 1.1888 | 1.1977 | 99902 | 99902 | 1.1933
02220 | Sitka County, Alaska | 02 | 1.1888 | 1.1977 | 99902 | 99902 | 1.1933
02230 | Skagway-Yakutat County, Alaska | 02 | 1.1888 | 1.1977 | 99902 | 99902 | 1.1933
02231 | Skagway-Yakutat-Angoon Census Area, Alaska | 02 | 1.1888 | 1.1977 | 99902 | 99902 | 1.1933
02232 | Skagway-Hoonah-Angoon Census Area, Alaska | 02 | 1.1888 | 1.1977 | 99902 | 99902 | 1.1933
02240 | Southeast Fairbanks County, Alaska | 02 | 1.1888 | 1.1977 | 99902 | 99902 | 1.1933
02250 | Upper Yukon County, Alaska | 02 | 1.1888 | 1.1977 | 99902 | 99902 | 1.1933
02260 | Valdz-Chitna-Whitier County, Alaska | 02 | 1.1888 | 1.1977 | 99902 | 99902 | 1.1933
02261 | Valdex-Cordove Census Area, Alaska | 02 | 1.1888 | 1.1977 | 99902 | 99902 | 1.1933
02270 | Wade Hampton County, Alaska | 02 | 1.1888 | 1.1977 | 99902 | 99902 | 1.1933
02280 | Wrangell-Petersburg County, Alaska | 02 | 1.1888 | 1.1977 | 99902 | 99902 | 1.1933
02282 | Yakutat Borough, Alaska | 02 | 1.1888 | 1.1977 | 99902 | 99902 | 1.1933
02290 | Yukon-Koyukuk County, Alaska | 02 | 1.1888 | 1.1977 | 99902 | 99902 | 1.1933
03000 | Apache County, Arizona | 03 | 0.9045 | 0.8768 | 99903 | 50007 | 0.8907
03010 | Cochise County, Arizona | 03 | 0.9045 | 0.8768 | 99903 | 50007 | 0.8907
03020 | Coconino County, Arizona | 2620 | 1.1845 | 1.2092 | 22380 | 22380 | 1.1969
03030 | Gila County, Arizona | 03 | 0.9045 | 0.8768 | 99903 | 50007 | 0.8907
03040 | Graham County, Arizona | 03 | 0.9045 | 0.8768 | 99903 | 50007 | 0.8907
03050 | Greenlee County, Arizona | 03 | 0.9045 | 0.8768 | 99903 | 50007 | 0.8907
03055 | La Paz County, Arizona | 03 | 0.9045 | 0.8768 | 99903 | 50007 | 0.8907
03060 | Maricopa County, Arizona | 6200 | 1.0127 | 1.0127 | 38060 | 38060 | 1.0127
03070 | Mohave County, Arizona | 4120 | 1.1155 | 0.8768 | 99903 | 50260 | 0.9962
03080 | Navajo County, Arizona | 03 | 0.9045 | 0.8768 | 99903 | 50007 | 0.8907
03090 | Pima County, Arizona | 8520 | 0.9007 | 0.9007 | 46060 | 46060 | 0.9007
03100 | Pinal County, Arizona | 6200 | 1.0127 | 1.0127 | 38060 | 38060 | 1.0127
03110 | Santa Cruz County, Arizona | 03 | 0.9045 | 0.8768 | 99903 | 50007 | 0.8907
03120 | Yavapai County, Arizona | 03 | 0.9045 | 0.9869 | 39140 | 39140 | 0.9457
03130 | Yuma County, Arizona | 9360 | 0.9126 | 0.9126 | 49740 | 49740 | 0.9126
04000 | Arkansas County, Arkansas | 04 | 0.7744 | 0.7466 | 99904 | 99904 | 0.7605
04010 | Ashley County, Arkansas | 04 | 0.7744 | 0.7466 | 99904 | 99904 | 0.7605
04020 | Baxter County, Arkansas | 04 | 0.7744 | 0.7466 | 99904 | 99904 | 0.7605
04030 | Benton County, Arkansas | 2580 | 0.8661 | 0.8661 | 22220 | 50221 | 0.8661
04040 | Boone County, Arkansas | 04 | 0.7744 | 0.7466 | 99904 | 99904 | 0.7605
04050 | Bradley County, Arkansas | 04 | 0.7744 | 0.7466 | 99904 | 99904 | 0.7605
04060 | Calhoun County, Arkansas | 04 | 0.7744 | 0.7466 | 99904 | 99904 | 0.7605
04070 | Carroll County, Arkansas | 04 | 0.7744 | 0.7466 | 99904 | 99904 | 0.7605
04080 | Chicot County, Arkansas | 04 | 0.7744 | 0.7466 | 99904 | 99904 | 0.7605
04090 | Clark County, Arkansas | 04 | 0.7744 | 0.7466 | 99904 | 99904 | 0.7605
04100 | Clay County, Arkansas | 04 | 0.7744 | 0.7466 | 99904 | 99904 | 0.7605
04110 | Cleburne County, Arkansas | 04 | 0.7744 | 0.7466 | 99904 | 99904 | 0.7605
04120 | Cleveland County, Arkansas | 04 | 0.7744 | 0.8680 | 38220 | 50012 | 0.8212
04130 | Columbia County, Arkansas | 04 | 0.7744 | 0.7466 | 99904 | 99904 | 0.7605
04140 | Conway County, Arkansas | 04 | 0.7744 | 0.7466 | 99904 | 99904 | 0.7605
04150 | Craighead County, Arkansas | 3700 | 0.7911 | 0.7911 | 27860 | 50251 | 0.7911
04160 | Crawford County, Arkansas | 2720 | 0.8246 | 0.8230 | 22900 | 50224 | 0.8238
04170 | Crittenden County, Arkansas | 4920 | 0.9416 | 0.9397 | 32820 | 50278 | 0.9407
04180 | Cross County, Arkansas | 04 | 0.7744 | 0.7466 | 99904 | 99904 | 0.7605
04190 | Dallas County, Arkansas | 04 | 0.7744 | 0.7466 | 99904 | 99904 | 0.7605
04200 | Desha County, Arkansas | 04 | 0.7744 | 0.7466 | 99904 | 99904 | 0.7605
04210 | Drew County, Arkansas | 04 | 0.7744 | 0.7466 | 99904 | 99904 | 0.7605
04220 | Faulkner County, Arkansas | 4400 | 0.8747 | 0.8747 | 30780 | 50265 | 0.8747
04230 | Franklin County, Arkansas | 04 | 0.7744 | 0.8230 | 22900 | 50009 | 0.7987
04240 | Fulton County, Arkansas | 04 | 0.7744 | 0.7466 | 99904 | 99904 | 0.7605
04250 | Garland County, Arkansas | 04 | 0.7744 | 0.9005 | 26300 | 26300 | 0.8375
04260 | Grant County, Arkansas | 04 | 0.7744 | 0.8747 | 30780 | 50011 | 0.8246
04270 | Greene County, Arkansas | 04 | 0.7744 | 0.7466 | 99904 | 99904 | 0.7605
04280 | Hempstead County, Arkansas | 04 | 0.7744 | 0.7466 | 99904 | 99904 | 0.7605
04290 | Hot Spring County, Arkansas | 04 | 0.7744 | 0.7466 | 99904 | 99904 | 0.7605
04300 | Howard County, Arkansas | 04 | 0.7744 | 0.7466 | 99904 | 99904 | 0.7605
04310 | Independence County, Arkansas | 04 | 0.7744 | 0.7466 | 99904 | 99904 | 0.7605
04320 | Izard County, Arkansas | 04 | 0.7744 | 0.7466 | 99904 | 99904 | 0.7605
04330 | Jackson County, Arkansas | 04 | 0.7744 | 0.7466 | 99904 | 99904 | 0.7605
04340 | Jefferson County, Arkansas | 6240 | 0.8680 | 0.8680 | 38220 | 50300 | 0.8680
04350 | Johnson County, Arkansas | 04 | 0.7744 | 0.7466 | 99904 | 99904 | 0.7605
04360 | Lafayette County, Arkansas | 04 | 0.7744 | 0.7466 | 99904 | 99904 | 0.7605
04370 | Lawrence County, Arkansas | 04 | 0.7744 | 0.7466 | 99904 | 99904 | 0.7605
04380 | Lee County, Arkansas | 04 | 0.7744 | 0.7466 | 99904 | 99904 | 0.7605
04390 | Lincoln County, Arkansas | 04 | 0.7744 | 0.8680 | 38220 | 50012 | 0.8212
04400 | Little River County, Arkansas | 04 | 0.7744 | 0.7466 | 99904 | 99904 | 0.7605
04410 | Logan County, Arkansas | 04 | 0.7744 | 0.7466 | 99904 | 99904 | 0.7605
04420 | Lonoke County, Arkansas | 4400 | 0.8747 | 0.8747 | 30780 | 50265 | 0.8747
04430 | Madison County, Arkansas | 04 | 0.7744 | 0.8661 | 22220 | 50008 | 0.8203
04440 | Marion County, Arkansas | 04 | 0.7744 | 0.7466 | 99904 | 99904 | 0.7605
04450 | Miller County, Arkansas | 8360 | 0.8283 | 0.8283 | 45500 | 45500 | 0.8283
04460 | Mississippi County, Arkansas | 04 | 0.7744 | 0.7466 | 99904 | 99904 | 0.7605
04470 | Monroe County, Arkansas | 04 | 0.7744 | 0.7466 | 99904 | 99904 | 0.7605
04480 | Montgomery County, Arkansas | 04 | 0.7744 | 0.7466 | 99904 | 99904 | 0.7605
04490 | Nevada County, Arkansas | 04 | 0.7744 | 0.7466 | 99904 | 99904 | 0.7605
04500 | Newton County, Arkansas | 04 | 0.7744 | 0.7466 | 99904 | 99904 | 0.7605
04510 | Ouachita County, Arkansas | 04 | 0.7744 | 0.7466 | 99904 | 99904 | 0.7605
04520 | Perry County, Arkansas | 04 | 0.7744 | 0.8747 | 30780 | 50011 | 0.8246
04530 | Phillips County, Arkansas | 04 | 0.7744 | 0.7466 | 99904 | 99904 | 0.7605
04540 | Pike County, Arkansas | 04 | 0.7744 | 0.7466 | 99904 | 99904 | 0.7605
04550 | Poinsett County, Arkansas | 04 | 0.7744 | 0.7911 | 27860 | 50010 | 0.7828
04560 | Polk County, Arkansas | 04 | 0.7744 | 0.7466 | 99904 | 99904 | 0.7605
04570 | Pope County, Arkansas | 04 | 0.7744 | 0.7466 | 99904 | 99904 | 0.7605
04580 | Prairie County, Arkansas | 04 | 0.7744 | 0.7466 | 99904 | 99904 | 0.7605
04590 | Pulaski County, Arkansas | 4400 | 0.8747 | 0.8747 | 30780 | 50265 | 0.8747
04600 | Randolph County, Arkansas | 04 | 0.7744 | 0.7466 | 99904 | 99904 | 0.7605
04610 | St Francis County, Arkansas | 04 | 0.7744 | 0.7466 | 99904 | 99904 | 0.7605
04620 | Saline County, Arkansas | 4400 | 0.8747 | 0.8747 | 30780 | 50265 | 0.8747
04630 | Scott County, Arkansas | 04 | 0.7744 | 0.7466 | 99904 | 99904 | 0.7605
04640 | Searcy County, Arkansas | 04 | 0.7744 | 0.7466 | 99904 | 99904 | 0.7605
04650 | Sebastian County, Arkansas | 2720 | 0.8246 | 0.8230 | 22900 | 50224 | 0.8238
04660 | Sevier County, Arkansas | 04 | 0.7744 | 0.7466 | 99904 | 99904 | 0.7605
04670 | Sharp County, Arkansas | 04 | 0.7744 | 0.7466 | 99904 | 99904 | 0.7605
04680 | Stone County, Arkansas | 04 | 0.7744 | 0.7466 | 99904 | 99904 | 0.7605
04690 | Union County, Arkansas | 04 | 0.7744 | 0.7466 | 99904 | 99904 | 0.7605
04700 | Van Buren County, Arkansas | 04 | 0.7744 | 0.7466 | 99904 | 99904 | 0.7605
04710 | Washington County, Arkansas | 2580 | 0.8661 | 0.8661 | 22220 | 50221 | 0.8661
04720 | White County, Arkansas | 04 | 0.7744 | 0.7466 | 99904 | 99904 | 0.7605
04730 | Woodruff County, Arkansas | 04 | 0.7744 | 0.7466 | 99904 | 99904 | 0.7605
04740 | Yell County, Arkansas | 04 | 0.7744 | 0.7466 | 99904 | 99904 | 0.7605
05000 | Alameda County, California | 5775 | 1.5346 | 1.5346 | 36084 | 36084 | 1.5346
05010 | Alpine County, California | 05 | 1.0775 | 1.1054 | 99905 | 99905 | 1.0915
05020 | Amador County, California | 05 | 1.0775 | 1.1054 | 99905 | 99905 | 1.0915
05030 | Butte County, California | 1620 | 1.0511 | 1.0511 | 17020 | 17020 | 1.0511
05040 | Calaveras County, California | 05 | 1.0775 | 1.1054 | 99905 | 99905 | 1.0915
05050 | Colusa County, California | 05 | 1.0775 | 1.1054 | 99905 | 99905 | 1.0915
05060 | Contra Costa County, California | 5775 | 1.5346 | 1.5346 | 36084 | 36084 | 1.5346
05070 | Del Norte County, California | 05 | 1.0775 | 1.1054 | 99905 | 99905 | 1.0915
05080 | Eldorado County, California | 6920 | 1.3143 | 1.2969 | 40900 | 50315 | 1.3056
05090 | Fresno County, California | 2840 | 1.0428 | 1.0538 | 23420 | 23420 | 1.0483
05100 | Glenn County, California | 05 | 1.0775 | 1.1054 | 99905 | 99905 | 1.0915
05110 | Humboldt County, California | 05 | 1.0775 | 1.1054 | 99905 | 99905 | 1.0915
05120 | Imperial County, California | 05 | 1.0775 | 0.8906 | 20940 | 20940 | 0.9841
05130 | Inyo County, California | 05 | 1.0775 | 1.1054 | 99905 | 99905 | 1.0915
05140 | Kern County, California | 0680 | 1.0470 | 1.0470 | 12540 | 12540 | 1.0470
05150 | Kings County, California | 05 | 1.0775 | 1.0036 | 25260 | 25260 | 1.0406
05160 | Lake County, California | 05 | 1.0775 | 1.1054 | 99905 | 99905 | 1.0915
05170 | Lassen County, California | 05 | 1.0775 | 1.1054 | 99905 | 99905 | 1.0915
05200 | Los Angeles County, California | 4480 | 1.1783 | 1.1783 | 31084 | 31084 | 1.1783
05210 | Los Angeles County, California | 4480 | 1.1783 | 1.1783 | 31084 | 31084 | 1.1783
05300 | Madera County, California | 2840 | 1.0428 | 0.8713 | 31460 | 31460 | 0.9571
05310 | Marin County, California | 7360 | 1.4994 | 1.4994 | 41884 | 41884 | 1.4994
05320 | Mariposa County, California | 05 | 1.0775 | 1.1054 | 99905 | 99905 | 1.0915
05330 | Mendocino County, California | 05 | 1.0775 | 1.1054 | 99905 | 99905 | 1.0915
05340 | Merced County, California | 4940 | 1.1109 | 1.1109 | 32900 | 32900 | 1.1109
05350 | Modoc County, California | 05 | 1.0775 | 1.1054 | 99905 | 99905 | 1.0915
05360 | Mono County, California | 05 | 1.0775 | 1.1054 | 99905 | 99905 | 1.0915
05370 | Monterey County, California | 7120 | 1.4128 | 1.4128 | 41500 | 41500 | 1.4128
05380 | Napa County, California | 8720 | 1.3983 | 1.2643 | 34900 | 34900 | 1.3313
05390 | Nevada County, California | 05 | 1.0775 | 1.1054 | 99905 | 99905 | 1.0915
05400 | Orange County, California | 5945 | 1.1559 | 1.1559 | 42044 | 42044 | 1.1559
05410 | Placer County, California | 6920 | 1.3143 | 1.2969 | 40900 | 50315 | 1.3056
05420 | Plumas County, California | 05 | 1.0775 | 1.1054 | 99905 | 99905 | 1.0915
05430 | Riverside County, California | 6780 | 1.1027 | 1.1027 | 40140 | 40140 | 1.1027
05440 | Sacramento County, California | 6920 | 1.3143 | 1.2969 | 40900 | 50315 | 1.3056
05450 | San Benito County, California | 05 | 1.0775 | 1.5099 | 41940 | 50013 | 1.2937
05460 | San Bernardino County, California | 6780 | 1.1027 | 1.1027 | 40140 | 40140 | 1.1027
05470 | San Diego County, California | 7320 | 1.1413 | 1.1413 | 41740 | 41740 | 1.1413
05480 | San Francisco County, California | 7360 | 1.4994 | 1.4994 | 41884 | 41884 | 1.4994
05490 | San Joaquin County, California | 8120 | 1.1307 | 1.1307 | 44700 | 44700 | 1.1307
05500 | San Luis Obispo County, California | 7460 | 1.1349 | 1.1349 | 42020 | 42020 | 1.1349
05510 | San Mateo County, California | 7360 | 1.4994 | 1.4994 | 41884 | 41884 | 1.4994
05520 | Santa Barbara County, California | 7480 | 1.1694 | 1.1694 | 42060 | 42060 | 1.1694
05530 | Santa Clara County, California | 7400 | 1.5118 | 1.5099 | 41940 | 50323 | 1.5109
05540 | Santa Cruz County, California | 7485 | 1.5166 | 1.5166 | 42100 | 42100 | 1.5166
05550 | Shasta County, California | 6690 | 1.2203 | 1.2203 | 39820 | 39820 | 1.2203
05560 | Sierra County, California | 05 | 1.0775 | 1.1054 | 99905 | 99905 | 1.0915
05570 | Siskiyou County, California | 05 | 1.0775 | 1.1054 | 99905 | 99905 | 1.0915
05580 | Solano County, California | 8720 | 1.3983 | 1.4936 | 46700 | 46700 | 1.4460
05590 | Sonoma County, California | 7500 | 1.3493 | 1.3493 | 42220 | 42220 | 1.3493
05600 | Stanislaus County, California | 5170 | 1.1885 | 1.1885 | 33700 | 33700 | 1.1885
05610 | Sutter County, California | 9340 | 1.0921 | 1.0921 | 49700 | 49700 | 1.0921
05620 | Tehama County, California | 05 | 1.0775 | 1.1054 | 99905 | 99905 | 1.0915
05630 | Trinity County, California | 05 | 1.0775 | 1.1054 | 99905 | 99905 | 1.0915
05640 | Tulare County, California | 8780 | 1.0123 | 1.0123 | 47300 | 47300 | 1.0123
05650 | Tuolumne County, California | 05 | 1.0775 | 1.1054 | 99905 | 99905 | 1.0915
05660 | Ventura County, California | 8735 | 1.1622 | 1.1622 | 37100 | 37100 | 1.1622
05670 | Yolo County, California | 9270 | 0.9950 | 1.2969 | 40900 | 50351 | 1.1460
05680 | Yuba County, California | 9340 | 1.0921 | 1.0921 | 49700 | 49700 | 1.0921
06000 | Adams County, Colorado | 2080 | 1.0723 | 1.0723 | 19740 | 50211 | 1.0723
06010 | Alamosa County, Colorado | 06 | 0.9380 | 0.9380 | 99906 | 99906 | 0.9380
06020 | Arapahoe County, Colorado | 2080 | 1.0723 | 1.0723 | 19740 | 50211 | 1.0723
06030 | Archuleta County, Colorado | 06 | 0.9380 | 0.9380 | 99906 | 99906 | 0.9380
06040 | Baca County, Colorado | 06 | 0.9380 | 0.9380 | 99906 | 99906 | 0.9380
06050 | Bent County, Colorado | 06 | 0.9380 | 0.9380 | 99906 | 99906 | 0.9380
06060 | Boulder County, Colorado | 1125 | 0.9734 | 0.9734 | 14500 | 14500 | 0.9734
06070 | Chaffee County, Colorado | 06 | 0.9380 | 0.9380 | 99906 | 99906 | 0.9380
06080 | Cheyenne County, Colorado | 06 | 0.9380 | 0.9380 | 99906 | 99906 | 0.9380
06090 | Clear Creek County, Colorado | 06 | 0.9380 | 1.0723 | 19740 | 50015 | 1.0052
06100 | Conejos County, Colorado | 06 | 0.9380 | 0.9380 | 99906 | 99906 | 0.9380
06110 | Costilla County, Colorado | 06 | 0.9380 | 0.9380 | 99906 | 99906 | 0.9380
06120 | Crowley County, Colorado | 06 | 0.9380 | 0.9380 | 99906 | 99906 | 0.9380
06130 | Custer County, Colorado | 06 | 0.9380 | 0.9380 | 99906 | 99906 | 0.9380
06140 | Delta County, Colorado | 06 | 0.9380 | 0.9380 | 99906 | 99906 | 0.9380
06150 | Denver County, Colorado | 2080 | 1.0723 | 1.0723 | 19740 | 50211 | 1.0723
06160 | Dolores County, Colorado | 06 | 0.9380 | 0.9380 | 99906 | 99906 | 0.9380
06170 | Douglas County, Colorado | 2080 | 1.0723 | 1.0723 | 19740 | 50211 | 1.0723
06180 | Eagle County, Colorado | 06 | 0.9380 | 0.9380 | 99906 | 99906 | 0.9380
06190 | Elbert County, Colorado | 06 | 0.9380 | 1.0723 | 19740 | 50015 | 1.0052
06200 | El Paso County, Colorado | 1720 | 0.9468 | 0.9468 | 17820 | 50200 | 0.9468
06210 | Fremont County, Colorado | 06 | 0.9380 | 0.9380 | 99906 | 99906 | 0.9380
06220 | Garfield County, Colorado | 06 | 0.9380 | 0.9380 | 99906 | 99906 | 0.9380
06230 | Gilpin County, Colorado | 06 | 0.9380 | 1.0723 | 19740 | 50015 | 1.0052
06240 | Grand County, Colorado | 06 | 0.9380 | 0.9380 | 99906 | 99906 | 0.9380
06250 | Gunnison County, Colorado | 06 | 0.9380 | 0.9380 | 99906 | 99906 | 0.9380
06260 | Hinsdale County, Colorado | 06 | 0.9380 | 0.9380 | 99906 | 99906 | 0.9380
06270 | Huerfano County, Colorado | 06 | 0.9380 | 0.9380 | 99906 | 99906 | 0.9380
06280 | Jackson County, Colorado | 06 | 0.9380 | 0.9380 | 99906 | 99906 | 0.9380
06290 | Jefferson County, Colorado | 2080 | 1.0723 | 1.0723 | 19740 | 50211 | 1.0723
06300 | Kiowa County, Colorado | 06 | 0.9380 | 0.9380 | 99906 | 99906 | 0.9380
06310 | Kit Carson County, Colorado | 06 | 0.9380 | 0.9380 | 99906 | 99906 | 0.9380
06320 | Lake County, Colorado | 06 | 0.9380 | 0.9380 | 99906 | 99906 | 0.9380
06330 | La Plata County, Colorado | 06 | 0.9380 | 0.9380 | 99906 | 99906 | 0.9380
06340 | Larimer County, Colorado | 2670 | 1.0122 | 1.0122 | 22660 | 22660 | 1.0122
06350 | Las Animas County, Colorado | 06 | 0.9380 | 0.9380 | 99906 | 99906 | 0.9380
06360 | Lincoln County, Colorado | 06 | 0.9380 | 0.9380 | 99906 | 99906 | 0.9380
06370 | Logan County, Colorado | 06 | 0.9380 | 0.9380 | 99906 | 99906 | 0.9380
06380 | Mesa County, Colorado | 2995 | 0.9550 | 0.9550 | 24300 | 24300 | 0.9550
06390 | Mineral County, Colorado | 06 | 0.9380 | 0.9380 | 99906 | 99906 | 0.9380
06400 | Moffat County, Colorado | 06 | 0.9380 | 0.9380 | 99906 | 99906 | 0.9380
06410 | Montezuma County, Colorado | 06 | 0.9380 | 0.9380 | 99906 | 99906 | 0.9380
06420 | Montrose County, Colorado | 06 | 0.9380 | 0.9380 | 99906 | 99906 | 0.9380
06430 | Morgan County, Colorado | 06 | 0.9380 | 0.9380 | 99906 | 99906 | 0.9380
06440 | Otero County, Colorado | 06 | 0.9380 | 0.9380 | 99906 | 99906 | 0.9380
06450 | Ouray County, Colorado | 06 | 0.9380 | 0.9380 | 99906 | 99906 | 0.9380
06460 | Park County, Colorado | 06 | 0.9380 | 1.0723 | 19740 | 50015 | 1.0052
06470 | Phillips County, Colorado | 06 | 0.9380 | 0.9380 | 99906 | 99906 | 0.9380
06480 | Pitkin County, Colorado | 06 | 0.9380 | 0.9380 | 99906 | 99906 | 0.9380
06490 | Prowers County, Colorado | 06 | 0.9380 | 0.9380 | 99906 | 99906 | 0.9380
06500 | Pueblo County, Colorado | 6560 | 0.8623 | 0.8623 | 39380 | 39380 | 0.8623
06510 | Rio Blanco County, Colorado | 06 | 0.9380 | 0.9380 | 99906 | 99906 | 0.9380
06520 | Rio Grande County, Colorado | 06 | 0.9380 | 0.9380 | 99906 | 99906 | 0.9380
06530 | Routt County, Colorado | 06 | 0.9380 | 0.9380 | 99906 | 99906 | 0.9380
06540 | Saguache County, Colorado | 06 | 0.9380 | 0.9380 | 99906 | 99906 | 0.9380
06550 | San Juan County, Colorado | 06 | 0.9380 | 0.9380 | 99906 | 99906 | 0.9380
06560 | San Miguel County, Colorado | 06 | 0.9380 | 0.9380 | 99906 | 99906 | 0.9380
06570 | Sedgwick County, Colorado | 06 | 0.9380 | 0.9380 | 99906 | 99906 | 0.9380
06580 | Summit County, Colorado | 06 | 0.9380 | 0.9380 | 99906 | 99906 | 0.9380
06590 | Teller County, Colorado | 06 | 0.9380 | 0.9468 | 17820 | 50014 | 0.9424
06600 | Washington County, Colorado | 06 | 0.9380 | 0.9380 | 99906 | 99906 | 0.9380
06610 | Weld County, Colorado | 3060 | 0.9570 | 0.9570 | 24540 | 24540 | 0.9570
06620 | Yuma County, Colorado | 06 | 0.9380 | 0.9380 | 99906 | 99906 | 0.9380
06630 | Broomfield County, Colorado | 2080 | 1.0723 | 1.0723 | 19740 | 50211 | 1.0723
07000 | Fairfield County, Connecticut | 5483 | 1.2196 | 1.2592 | 14860 | 14860 | 1.2394
07010 | Hartford County, Connecticut | 3283 | 1.1073 | 1.1073 | 25540 | 25540 | 1.1073
07020 | Litchfield County, Connecticut | 3283 | 1.1073 | 1.1073 | 25540 | 25540 | 1.1073
07030 | Middlesex County, Connecticut | 3283 | 1.1073 | 1.1073 | 25540 | 25540 | 1.1073
07040 | New Haven County, Connecticut | 5483 | 1.2196 | 1.1887 | 35300 | 35300 | 1.2042
07050 | New London County, Connecticut | 5523 | 1.1345 | 1.1345 | 35980 | 35980 | 1.1345
07060 | Tolland County, Connecticut | 3283 | 1.1073 | 1.1073 | 25540 | 25540 | 1.1073
07070 | Windham County, Connecticut | 07 | 1.1730 | 1.1730 | 99907 | 99907 | 1.1730
08000 | Kent County, Delaware | 2190 | 0.9776 | 0.9776 | 20100 | 20100 | 0.9776
08010 | New Castle County, Delaware | 9160 | 1.0527 | 1.0471 | 48864 | 50349 | 1.0499
08020 | Sussex County, Delaware | 08 | 0.9579 | 0.9579 | 99908 | 99908 | 0.9579
09000 | Washington Dc County, Dist Of Col | 8840 | 1.0976 | 1.0926 | 47894 | 47894 | 1.0951
10000 | Alachua County, Florida | 2900 | 0.9388 | 0.9388 | 23540 | 50228 | 0.9388
10010 | Baker County, Florida | 10 | 0.8677 | 0.9290 | 27260 | 50018 | 0.8984
10020 | Bay County, Florida | 6015 | 0.8005 | 0.8005 | 37460 | 37460 | 0.8005
10030 | Bradford County, Florida | 10 | 0.8677 | 0.8568 | 99910 | 50016 | 0.8623
10040 | Brevard County, Florida | 4900 | 0.9839 | 0.9839 | 37340 | 37340 | 0.9839
10050 | Broward County, Florida | 2680 | 1.0432 | 1.0432 | 22744 | 22744 | 1.0432
10060 | Calhoun County, Florida | 10 | 0.8677 | 0.8568 | 99910 | 50016 | 0.8623
10070 | Charlotte County, Florida | 6580 | 0.9255 | 0.9255 | 39460 | 39460 | 0.9255
10080 | Citrus County, Florida | 10 | 0.8677 | 0.8568 | 99910 | 50016 | 0.8623
10090 | Clay County, Florida | 3600 | 0.9299 | 0.9290 | 27260 | 50247 | 0.9295
10100 | Collier County, Florida | 5345 | 1.0139 | 1.0139 | 34940 | 34940 | 1.0139
10110 | Columbia County, Florida | 10 | 0.8677 | 0.8568 | 99910 | 50016 | 0.8623
10120 | Dade County, Florida | 5000 | 0.9750 | 0.9750 | 33124 | 33124 | 0.9750
10130 | De Soto County, Florida | 10 | 0.8677 | 0.8568 | 99910 | 50016 | 0.8623
10140 | Dixie County, Florida | 10 | 0.8677 | 0.8568 | 99910 | 50016 | 0.8623
10150 | Duval County, Florida | 3600 | 0.9299 | 0.9290 | 27260 | 50247 | 0.9295
10160 | Escambia County, Florida | 6080 | 0.8096 | 0.8096 | 37860 | 37860 | 0.8096
10170 | Flagler County, Florida | 2020 | 0.9325 | 0.8568 | 99910 | 50210 | 0.8947
10180 | Franklin County, Florida | 10 | 0.8677 | 0.8568 | 99910 | 50016 | 0.8623
10190 | Gadsden County, Florida | 8240 | 0.8688 | 0.8688 | 45220 | 50337 | 0.8688
10200 | Gilchrist County, Florida | 10 | 0.8677 | 0.9388 | 23540 | 50017 | 0.9033
10210 | Glades County, Florida | 10 | 0.8677 | 0.8568 | 99910 | 50016 | 0.8623
10220 | Gulf County, Florida | 10 | 0.8677 | 0.8568 | 99910 | 50016 | 0.8623
10230 | Hamilton County, Florida | 10 | 0.8677 | 0.8568 | 99910 | 50016 | 0.8623
10240 | Hardee County, Florida | 10 | 0.8677 | 0.8568 | 99910 | 50016 | 0.8623
10250 | Hendry County, Florida | 10 | 0.8677 | 0.8568 | 99910 | 50016 | 0.8623
10260 | Hernando County, Florida | 8280 | 0.9233 | 0.9233 | 45300 | 45300 | 0.9233
10270 | Highlands County, Florida | 10 | 0.8677 | 0.8568 | 99910 | 50016 | 0.8623
10280 | Hillsborough County, Florida | 8280 | 0.9233 | 0.9233 | 45300 | 45300 | 0.9233
10290 | Holmes County, Florida | 10 | 0.8677 | 0.8568 | 99910 | 50016 | 0.8623
10300 | Indian River County, Florida | 10 | 0.8677 | 0.9434 | 46940 | 46940 | 0.9056
10310 | Jackson County, Florida | 10 | 0.8677 | 0.8568 | 99910 | 50016 | 0.8623
10320 | Jefferson County, Florida | 10 | 0.8677 | 0.8688 | 45220 | 50019 | 0.8683
10330 | Lafayette County, Florida | 10 | 0.8677 | 0.8568 | 99910 | 50016 | 0.8623
10340 | Lake County, Florida | 5960 | 0.9464 | 0.9464 | 36740 | 36740 | 0.9464
10350 | Lee County, Florida | 2700 | 0.9356 | 0.9356 | 15980 | 15980 | 0.9356
10360 | Leon County, Florida | 8240 | 0.8688 | 0.8688 | 45220 | 50337 | 0.8688
10370 | Levy County, Florida | 10 | 0.8677 | 0.8568 | 99910 | 50016 | 0.8623
10380 | Liberty County, Florida | 10 | 0.8677 | 0.8568 | 99910 | 50016 | 0.8623
10390 | Madison County, Florida | 10 | 0.8677 | 0.8568 | 99910 | 50016 | 0.8623
10400 | Manatee County, Florida | 7510 | 0.9639 | 0.9639 | 42260 | 42260 | 0.9639
10410 | Marion County, Florida | 5790 | 0.8925 | 0.8925 | 36100 | 36100 | 0.8925
10420 | Martin County, Florida | 2710 | 1.0123 | 1.0123 | 38940 | 38940 | 1.0123
10430 | Monroe County, Florida | 10 | 0.8677 | 0.8568 | 99910 | 50016 | 0.8623
10440 | Nassau County, Florida | 3600 | 0.9299 | 0.9290 | 27260 | 50247 | 0.9295
10450 | Okaloosa County, Florida | 2750 | 0.8872 | 0.8872 | 23020 | 23020 | 0.8872
10460 | Okeechobee County, Florida | 10 | 0.8677 | 0.8568 | 99910 | 50016 | 0.8623
10470 | Orange County, Florida | 5960 | 0.9464 | 0.9464 | 36740 | 36740 | 0.9464
10480 | Osceola County, Florida | 5960 | 0.9464 | 0.9464 | 36740 | 36740 | 0.9464
10490 | Palm Beach County, Florida | 8960 | 1.0067 | 1.0067 | 48424 | 48424 | 1.0067
10500 | Pasco County, Florida | 8280 | 0.9233 | 0.9233 | 45300 | 45300 | 0.9233
10510 | Pinellas County, Florida | 8280 | 0.9233 | 0.9233 | 45300 | 45300 | 0.9233
10520 | Polk County, Florida | 3980 | 0.8912 | 0.8912 | 29460 | 29460 | 0.8912
10530 | Putnam County, Florida | 10 | 0.8677 | 0.8568 | 99910 | 50016 | 0.8623
10540 | Johns County, Florida | 3600 | 0.9299 | 0.9290 | 27260 | 50247 | 0.9295
10550 | St Lucie County, Florida | 2710 | 1.0123 | 1.0123 | 38940 | 38940 | 1.0123
10560 | Santa Rosa County, Florida | 6080 | 0.8096 | 0.8096 | 37860 | 37860 | 0.8096
10570 | Sarasota County, Florida | 7510 | 0.9639 | 0.9639 | 42260 | 42260 | 0.9639
10580 | Seminole County, Florida | 5960 | 0.9464 | 0.9464 | 36740 | 36740 | 0.9464
10590 | Sumter County, Florida | 10 | 0.8677 | 0.8568 | 99910 | 50016 | 0.8623
10600 | Suwannee County, Florida | 10 | 0.8677 | 0.8568 | 99910 | 50016 | 0.8623
10610 | Taylor County, Florida | 10 | 0.8677 | 0.8568 | 99910 | 50016 | 0.8623
10620 | Union County, Florida | 10 | 0.8677 | 0.8568 | 99910 | 50016 | 0.8623
10630 | Volusia County, Florida | 2020 | 0.9325 | 0.9299 | 19660 | 19660 | 0.9312
10640 | Wakulla County, Florida | 10 | 0.8677 | 0.8688 | 45220 | 50019 | 0.8683
10650 | Walton County, Florida | 10 | 0.8677 | 0.8568 | 99910 | 50016 | 0.8623
10660 | Washington County, Florida | 10 | 0.8677 | 0.8568 | 99910 | 50016 | 0.8623
11000 | Appling County, Georgia | 11 | 0.8166 | 0.7662 | 99911 | 50020 | 0.7914
11010 | Atkinson County, Georgia | 11 | 0.8166 | 0.7662 | 99911 | 50020 | 0.7914
11011 | Bacon County, Georgia | 11 | 0.8166 | 0.7662 | 99911 | 50020 | 0.7914
11020 | Baker County, Georgia | 11 | 0.8166 | 0.8628 | 10500 | 50021 | 0.8397
11030 | Baldwin County, Georgia | 11 | 0.8166 | 0.7662 | 99911 | 50020 | 0.7914
11040 | Banks County, Georgia | 11 | 0.8166 | 0.7662 | 99911 | 50020 | 0.7914
11050 | Barrow County, Georgia | 0520 | 0.9793 | 0.9793 | 12060 | 50175 | 0.9793
11060 | Bartow County, Georgia | 0520 | 0.9793 | 0.9793 | 12060 | 50175 | 0.9793
11070 | Ben Hill County, Georgia | 11 | 0.8166 | 0.7662 | 99911 | 50020 | 0.7914
11080 | Berrien County, Georgia | 11 | 0.8166 | 0.7662 | 99911 | 50020 | 0.7914
11090 | Bibb County, Georgia | 4680 | 0.9277 | 0.9443 | 31420 | 50273 | 0.9360
11100 | Bleckley County, Georgia | 11 | 0.8166 | 0.7662 | 99911 | 50020 | 0.7914
11110 | Brantley County, Georgia | 11 | 0.8166 | 0.9311 | 15260 | 15260 | 0.8739
11120 | Brooks County, Georgia | 11 | 0.8166 | 0.8866 | 46660 | 46660 | 0.8516
11130 | Bryan County, Georgia | 7520 | 0.9461 | 0.9461 | 42340 | 42340 | 0.9461
11140 | Bulloch County, Georgia | 11 | 0.8166 | 0.7662 | 99911 | 50020 | 0.7914
11150 | Burke County, Georgia | 11 | 0.8166 | 0.9748 | 12260 | 50024 | 0.8957
11160 | Butts County, Georgia | 11 | 0.8166 | 0.9793 | 12060 | 50023 | 0.8980
11161 | Calhoun County, Georgia | 11 | 0.8166 | 0.7662 | 99911 | 50020 | 0.7914
11170 | Camden County, Georgia | 11 | 0.8166 | 0.7662 | 99911 | 50020 | 0.7914
11180 | Candler County, Georgia | 11 | 0.8166 | 0.7662 | 99911 | 50020 | 0.7914
11190 | Carroll County, Georgia | 0520 | 0.9793 | 0.9793 | 12060 | 50175 | 0.9793
11200 | Catoosa County, Georgia | 1560 | 0.9088 | 0.9088 | 16860 | 50195 | 0.9088
11210 | Charlton County, Georgia | 11 | 0.8166 | 0.7662 | 99911 | 50020 | 0.7914
11220 | Chatham County, Georgia | 7520 | 0.9461 | 0.9461 | 42340 | 42340 | 0.9461
11230 | Chattahoochee County, Georgia | 1800 | 0.8560 | 0.8560 | 17980 | 50203 | 0.8560
11240 | Chattooga County, Georgia | 11 | 0.8166 | 0.7662 | 99911 | 50020 | 0.7914
11250 | Cherokee County, Georgia | 0520 | 0.9793 | 0.9793 | 12060 | 50175 | 0.9793
11260 | Clarke County, Georgia | 0500 | 0.9855 | 0.9855 | 12020 | 50174 | 0.9855
11270 | Clay County, Georgia | 11 | 0.8166 | 0.7662 | 99911 | 50020 | 0.7914
11280 | Clayton County, Georgia | 0520 | 0.9793 | 0.9793 | 12060 | 50175 | 0.9793
11281 | Clinch County, Georgia | 11 | 0.8166 | 0.7662 | 99911 | 50020 | 0.7914
11290 | Cobb County, Georgia | 0520 | 0.9793 | 0.9793 | 12060 | 50175 | 0.9793
11291 | Coffee County, Georgia | 11 | 0.8166 | 0.7662 | 99911 | 50020 | 0.7914
11300 | Colquitt County, Georgia | 11 | 0.8166 | 0.7662 | 99911 | 50020 | 0.7914
11310 | Columbia County, Georgia | 0600 | 0.9808 | 0.9748 | 12260 | 50176 | 0.9778
11311 | Cook County, Georgia | 11 | 0.8166 | 0.7662 | 99911 | 50020 | 0.7914
11320 | Coweta County, Georgia | 0520 | 0.9793 | 0.9793 | 12060 | 50175 | 0.9793
11330 | Crawford County, Georgia | 11 | 0.8166 | 0.9443 | 31420 | 50026 | 0.8805
11340 | Crisp County, Georgia | 11 | 0.8166 | 0.7662 | 99911 | 50020 | 0.7914
11341 | Dade County, Georgia | 1560 | 0.9088 | 0.9088 | 16860 | 50195 | 0.9088
11350 | Dawson County, Georgia | 11 | 0.8166 | 0.9793 | 12060 | 50023 | 0.8980
11360 | Decatur County, Georgia | 11 | 0.8166 | 0.7662 | 99911 | 50020 | 0.7914
11370 | De Kalb County, Georgia | 0520 | 0.9793 | 0.9793 | 12060 | 50175 | 0.9793
11380 | Dodge County, Georgia | 11 | 0.8166 | 0.7662 | 99911 | 50020 | 0.7914
11381 | Dooly County, Georgia | 11 | 0.8166 | 0.7662 | 99911 | 50020 | 0.7914
11390 | Dougherty County, Georgia | 0120 | 0.8628 | 0.8628 | 10500 | 50163 | 0.8628
11400 | Douglas County, Georgia | 0520 | 0.9793 | 0.9793 | 12060 | 50175 | 0.9793
11410 | Early County, Georgia | 11 | 0.8166 | 0.7662 | 99911 | 50020 | 0.7914
11420 | Echols County, Georgia | 11 | 0.8166 | 0.8866 | 46660 | 46660 | 0.8516
11421 | Effingham County, Georgia | 7520 | 0.9461 | 0.9461 | 42340 | 42340 | 0.9461
11430 | Elbert County, Georgia | 11 | 0.8166 | 0.7662 | 99911 | 50020 | 0.7914
11440 | Emanuel County, Georgia | 11 | 0.8166 | 0.7662 | 99911 | 50020 | 0.7914
11441 | Evans County, Georgia | 11 | 0.8166 | 0.7662 | 99911 | 50020 | 0.7914
11450 | Fannin County, Georgia | 11 | 0.8166 | 0.7662 | 99911 | 50020 | 0.7914
11451 | Fayette County, Georgia | 0520 | 0.9793 | 0.9793 | 12060 | 50175 | 0.9793
11460 | Floyd County, Georgia | 11 | 0.8166 | 0.9414 | 40660 | 40660 | 0.8790
11461 | Forsyth County, Georgia | 0520 | 0.9793 | 0.9793 | 12060 | 50175 | 0.9793
11462 | Franklin County, Georgia | 11 | 0.8166 | 0.7662 | 99911 | 50020 | 0.7914
11470 | Fulton County, Georgia | 0520 | 0.9793 | 0.9793 | 12060 | 50175 | 0.9793
11471 | Gilmer County, Georgia | 11 | 0.8166 | 0.7662 | 99911 | 50020 | 0.7914
11480 | Glascock County, Georgia | 11 | 0.8166 | 0.7662 | 99911 | 50020 | 0.7914
11490 | Glynn County, Georgia | 11 | 0.8166 | 0.9311 | 15260 | 15260 | 0.8739
11500 | Gordon County, Georgia | 11 | 0.8166 | 0.7662 | 99911 | 50020 | 0.7914
11510 | Grady County, Georgia | 11 | 0.8166 | 0.7662 | 99911 | 50020 | 0.7914
11520 | Greene County, Georgia | 11 | 0.8166 | 0.7662 | 99911 | 50020 | 0.7914
11530 | Gwinnett County, Georgia | 0520 | 0.9793 | 0.9793 | 12060 | 50175 | 0.9793
11540 | Habersham County, Georgia | 11 | 0.8166 | 0.7662 | 99911 | 50020 | 0.7914
11550 | Hall County, Georgia | 11 | 0.8166 | 0.8874 | 23580 | 23580 | 0.8520
11560 | Hancock County, Georgia | 11 | 0.8166 | 0.7662 | 99911 | 50020 | 0.7914
11570 | Haralson County, Georgia | 11 | 0.8166 | 0.9793 | 12060 | 50023 | 0.8980
11580 | Harris County, Georgia | 1800 | 0.8560 | 0.8560 | 17980 | 50203 | 0.8560
11581 | Hart County, Georgia | 11 | 0.8166 | 0.7662 | 99911 | 50020 | 0.7914
11590 | Heard County, Georgia | 11 | 0.8166 | 0.9793 | 12060 | 50023 | 0.8980
11591 | Henry County, Georgia | 0520 | 0.9793 | 0.9793 | 12060 | 50175 | 0.9793
11600 | Houston County, Georgia | 4680 | 0.9277 | 0.8645 | 47580 | 47580 | 0.8961
11601 | Irwin County, Georgia | 11 | 0.8166 | 0.7662 | 99911 | 50020 | 0.7914
11610 | Jackson County, Georgia | 11 | 0.8166 | 0.7662 | 99911 | 50020 | 0.7914
11611 | Jasper County, Georgia | 11 | 0.8166 | 0.9793 | 12060 | 50023 | 0.8980
11612 | Jeff Davis County, Georgia | 11 | 0.8166 | 0.7662 | 99911 | 50020 | 0.7914
11620 | Jefferson County, Georgia | 11 | 0.8166 | 0.7662 | 99911 | 50020 | 0.7914
11630 | Jenkins County, Georgia | 11 | 0.8166 | 0.7662 | 99911 | 50020 | 0.7914
11640 | Johnson County, Georgia | 11 | 0.8166 | 0.7662 | 99911 | 50020 | 0.7914
11650 | Jones County, Georgia | 4680 | 0.9277 | 0.9443 | 31420 | 50273 | 0.9360
11651 | Lamar County, Georgia | 11 | 0.8166 | 0.9793 | 12060 | 50023 | 0.8980
11652 | Lanier County, Georgia | 11 | 0.8166 | 0.8866 | 46660 | 46660 | 0.8516
11660 | Laurens County, Georgia | 11 | 0.8166 | 0.7662 | 99911 | 50020 | 0.7914
11670 | Lee County, Georgia | 0120 | 0.8628 | 0.8628 | 10500 | 50163 | 0.8628
11680 | Liberty County, Georgia | 11 | 0.8166 |  | 25980 | 25980 | 0.8973
11690 | Lincoln County, Georgia | 11 | 0.8166 | 0.7662 | 99911 | 50020 | 0.7914
11691 | Long County, Georgia | 11 | 0.8166 |  | 25980 | 25980 | 0.8973
11700 | Lowndes County, Georgia | 11 | 0.8166 | 0.8866 | 46660 | 46660 | 0.8516
11701 | Lumpkin County, Georgia | 11 | 0.8166 | 0.7662 | 99911 | 50020 | 0.7914
11702 | Mc Duffie County, Georgia | 0600 | 0.9808 | 0.9748 | 12260 | 50176 | 0.9778
11703 | Mc Intosh County, Georgia | 11 | 0.8166 | 0.9311 | 15260 | 15260 | 0.8739
11710 | Macon County, Georgia | 11 | 0.8166 | 0.7662 | 99911 | 50020 | 0.7914
11720 | Madison County, Georgia | 0500 | 0.9855 | 0.9855 | 12020 | 50174 | 0.9855
11730 | Marion County, Georgia | 11 | 0.8166 | 0.8560 | 17980 | 50025 | 0.8363
11740 | Meriwether County, Georgia | 11 | 0.8166 | 0.9793 | 12060 | 50023 | 0.8980
11741 | Miller County, Georgia | 11 | 0.8166 | 0.7662 | 99911 | 50020 | 0.7914
11750 | Mitchell County, Georgia | 11 | 0.8166 | 0.7662 | 99911 | 50020 | 0.7914
11760 | Monroe County, Georgia | 11 | 0.8166 | 0.9443 | 31420 | 50026 | 0.8805
11770 | Montgomery County, Georgia | 11 | 0.8166 | 0.7662 | 99911 | 50020 | 0.7914
11771 | Morgan County, Georgia | 11 | 0.8166 | 0.7662 | 99911 | 50020 | 0.7914
11772 | Murray County, Georgia | 11 | 0.8166 | 0.9079 | 19140 | 19140 | 0.8623
11780 | Muscogee County, Georgia | 1800 | 0.8560 | 0.8560 | 17980 | 50203 | 0.8560
11790 | Newton County, Georgia | 0520 | 0.9793 | 0.9793 | 12060 | 50175 | 0.9793
11800 | Oconee County, Georgia | 0500 | 0.9855 | 0.9855 | 12020 | 50174 | 0.9855
11801 | Oglethorpe County, Georgia | 11 | 0.8166 | 0.9855 | 12020 | 50022 | 0.9011
11810 | Paulding County, Georgia | 0520 | 0.9793 | 0.9793 | 12060 | 50175 | 0.9793
11811 | Peach County, Georgia | 4680 | 0.9277 | 0.7662 | 99911 | 50272 | 0.8470
11812 | Pickens County, Georgia | 0520 | 0.9793 | 0.9793 | 12060 | 50175 | 0.9793
11820 | Pierce County, Georgia | 11 | 0.8166 | 0.7662 | 99911 | 50020 | 0.7914
11821 | Pike County, Georgia | 11 | 0.8166 | 0.9793 | 12060 | 50023 | 0.8980
11830 | Polk County, Georgia | 11 | 0.8166 | 0.7662 | 99911 | 50020 | 0.7914
11831 | Pulaski County, Georgia | 11 | 0.8166 | 0.7662 | 99911 | 50020 | 0.7914
11832 | Putnam County, Georgia | 11 | 0.8166 | 0.7662 | 99911 | 50020 | 0.7914
11833 | Quitman County, Georgia | 11 | 0.8166 | 0.7662 | 99911 | 50020 | 0.7914
11834 | Rabun County, Georgia | 11 | 0.8166 | 0.7662 | 99911 | 50020 | 0.7914
11835 | Randolph County, Georgia | 11 | 0.8166 | 0.7662 | 99911 | 50020 | 0.7914
11840 | Richmond County, Georgia | 0600 | 0.9808 | 0.9748 | 12260 | 50176 | 0.9778
11841 | Rockdale County, Georgia | 0520 | 0.9793 | 0.9793 | 12060 | 50175 | 0.9793
11842 | Schley County, Georgia | 11 | 0.8166 | 0.7662 | 99911 | 50020 | 0.7914
11850 | Screven County, Georgia | 11 | 0.8166 | 0.7662 | 99911 | 50020 | 0.7914
11851 | Seminole County, Georgia | 11 | 0.8166 | 0.7662 | 99911 | 50020 | 0.7914
11860 | Spalding County, Georgia | 0520 | 0.9793 | 0.9793 | 12060 | 50175 | 0.9793
11861 | Stephens County, Georgia | 11 | 0.8166 | 0.7662 | 99911 | 50020 | 0.7914
11862 | Stewart County, Georgia | 11 | 0.8166 | 0.7662 | 99911 | 50020 | 0.7914
11870 | Sumter County, Georgia | 11 | 0.8166 | 0.7662 | 99911 | 50020 | 0.7914
11880 | Talbot County, Georgia | 11 | 0.8166 | 0.7662 | 99911 | 50020 | 0.7914
11881 | Taliaferro County, Georgia | 11 | 0.8166 | 0.7662 | 99911 | 50020 | 0.7914
11882 | Tattnall County, Georgia | 11 | 0.8166 | 0.7662 | 99911 | 50020 | 0.7914
11883 | Taylor County, Georgia | 11 | 0.8166 | 0.7662 | 99911 | 50020 | 0.7914
11884 | Telfair County, Georgia | 11 | 0.8166 | 0.7662 | 99911 | 50020 | 0.7914
11885 | Terrell County, Georgia | 11 | 0.8166 | 0.8628 | 10500 | 50021 | 0.8397
11890 | Thomas County, Georgia | 11 | 0.8166 | 0.7662 | 99911 | 50020 | 0.7914
11900 | Tift County, Georgia | 11 | 0.8166 | 0.7662 | 99911 | 50020 | 0.7914
11901 | Toombs County, Georgia | 11 | 0.8166 | 0.7662 | 99911 | 50020 | 0.7914
11902 | Towns County, Georgia | 11 | 0.8166 | 0.7662 | 99911 | 50020 | 0.7914
11903 | Treutlen County, Georgia | 11 | 0.8166 | 0.7662 | 99911 | 50020 | 0.7914
11910 | Troup County, Georgia | 11 | 0.8166 | 0.7662 | 99911 | 50020 | 0.7914
11911 | Turner County, Georgia | 11 | 0.8166 | 0.7662 | 99911 | 50020 | 0.7914
11912 | Twiggs County, Georgia | 4680 | 0.9277 | 0.9443 | 31420 | 50273 | 0.9360
11913 | Union County, Georgia | 11 | 0.8166 | 0.7662 | 99911 | 50020 | 0.7914
11920 | Upson County, Georgia | 11 | 0.8166 | 0.7662 | 99911 | 50020 | 0.7914
11921 | Walker County, Georgia | 1560 | 0.9088 | 0.9088 | 16860 | 50195 | 0.9088
11930 | Walton County, Georgia | 0520 | 0.9793 | 0.9793 | 12060 | 50175 | 0.9793
11940 | Ware County, Georgia | 11 | 0.8166 | 0.7662 | 99911 | 50020 | 0.7914
11941 | Warren County, Georgia | 11 | 0.8166 | 0.7662 | 99911 | 50020 | 0.7914
11950 | Washington County, Georgia | 11 | 0.8166 | 0.7662 | 99911 | 50020 | 0.7914
11960 | Wayne County, Georgia | 11 | 0.8166 | 0.7662 | 99911 | 50020 | 0.7914
11961 | Webster County, Georgia | 11 | 0.8166 | 0.7662 | 99911 | 50020 | 0.7914
11962 | Wheeler County, Georgia | 11 | 0.8166 | 0.7662 | 99911 | 50020 | 0.7914
11963 | White County, Georgia | 11 | 0.8166 | 0.7662 | 99911 | 50020 | 0.7914
11970 | Whitfield County, Georgia | 11 | 0.8166 | 0.9079 | 19140 | 19140 | 0.8623
11971 | Wilcox County, Georgia | 11 | 0.8166 | 0.7662 | 99911 | 50020 | 0.7914
11972 | Wilkes County, Georgia | 11 | 0.8166 | 0.7662 | 99911 | 50020 | 0.7914
11973 | Wilkinson County, Georgia | 11 | 0.8166 | 0.7662 | 99911 | 50020 | 0.7914
11980 | Worth County, Georgia | 11 | 0.8166 | 0.8628 | 10500 | 50021 | 0.8397
12005 | Kalawao County, Hawaii | 12 | 1.0551 | 1.0551 | 99912 | 99912 | 1.0551
12010 | Hawaii County, Hawaii | 12 | 1.0551 | 1.0551 | 99912 | 99912 | 1.0551
12020 | Honolulu County, Hawaii | 3320 | 1.1214 | 1.1214 | 26180 | 26180 | 1.1214
12040 | Kauai County, Hawaii | 12 | 1.0551 | 1.0551 | 99912 | 99912 | 1.0551
12050 | Maui County, Hawaii | 12 | 1.0551 | 1.0551 | 99912 | 99912 | 1.0551
13000 | Ada County, Idaho | 1080 | 0.9052 | 0.9052 | 14260 | 50184 | 0.9052
13010 | Adams County, Idaho | 13 | 0.9097 | 0.8037 | 99913 | 99913 | 0.8567
13020 | Bannock County, Idaho | 6340 | 0.9351 | 0.9351 | 38540 | 50302 | 0.9351
13030 | Bear Lake County, Idaho | 13 | 0.9097 | 0.8037 | 99913 | 99913 | 0.8567
13040 | Benewah County, Idaho | 13 | 0.9097 | 0.8037 | 99913 | 99913 | 0.8567
13050 | Bingham County, Idaho | 13 | 0.9097 | 0.8037 | 99913 | 99913 | 0.8567
13060 | Blaine County, Idaho | 13 | 0.9097 | 0.8037 | 99913 | 99913 | 0.8567
13070 | Boise County, Idaho | 13 | 0.9097 | 0.9052 | 14260 | 50027 | 0.9075
13080 | Bonner County, Idaho | 13 | 0.9097 | 0.8037 | 99913 | 99913 | 0.8567
13090 | Bonneville County, Idaho | 13 | 0.9097 | 0.9420 | 26820 | 26820 | 0.9259
13100 | Boundary County, Idaho | 13 | 0.9097 | 0.8037 | 99913 | 99913 | 0.8567
13110 | Butte County, Idaho | 13 | 0.9097 | 0.8037 | 99913 | 99913 | 0.8567
13120 | Camas County, Idaho | 13 | 0.9097 | 0.8037 | 99913 | 99913 | 0.8567
13130 | Canyon County, Idaho | 1080 | 0.9052 | 0.9052 | 14260 | 50184 | 0.9052
13140 | Caribou County, Idaho | 13 | 0.9097 | 0.8037 | 99913 | 99913 | 0.8567
13150 | Cassia County, Idaho | 13 | 0.9097 | 0.8037 | 99913 | 99913 | 0.8567
13160 | Clark County, Idaho | 13 | 0.9097 | 0.8037 | 99913 | 99913 | 0.8567
13170 | Clearwater County, Idaho | 13 | 0.9097 | 0.8037 | 99913 | 99913 | 0.8567
13180 | Custer County, Idaho | 13 | 0.9097 | 0.8037 | 99913 | 99913 | 0.8567
13190 | Elmore County, Idaho | 13 | 0.9097 | 0.8037 | 99913 | 99913 | 0.8567
13200 | Franklin County, Idaho | 13 | 0.9097 | 0.9164 | 30860 | 50029 | 0.9131
13210 | Fremont County, Idaho | 13 | 0.9097 | 0.8037 | 99913 | 99913 | 0.8567
13220 | Gem County, Idaho | 13 | 0.9097 | 0.9052 | 14260 | 50027 | 0.9075
13230 | Gooding County, Idaho | 13 | 0.9097 | 0.8037 | 99913 | 99913 | 0.8567
13240 | Idaho County, Idaho | 13 | 0.9097 | 0.8037 | 99913 | 99913 | 0.8567
13250 | Jefferson County, Idaho | 13 | 0.9097 | 0.9420 | 26820 | 26820 | 0.9259
13260 | Jerome County, Idaho | 13 | 0.9097 | 0.8037 | 99913 | 99913 | 0.8567
13270 | Kootenai County, Idaho | 13 | 0.9097 | 0.9647 | 17660 | 17660 | 0.9372
13280 | Latah County, Idaho | 13 | 0.9097 | 0.8037 | 99913 | 99913 | 0.8567
13290 | Lemhi County, Idaho | 13 | 0.9097 | 0.8037 | 99913 | 99913 | 0.8567
13300 | Lewis County, Idaho | 13 | 0.9097 | 0.8037 | 99913 | 99913 | 0.8567
13310 | Lincoln County, Idaho | 13 | 0.9097 | 0.8037 | 99913 | 99913 | 0.8567
13320 | Madison County, Idaho | 13 | 0.9097 | 0.8037 | 99913 | 99913 | 0.8567
13330 | Minidoka County, Idaho | 13 | 0.9097 | 0.8037 | 99913 | 99913 | 0.8567
13340 | Nez Perce County, Idaho | 13 | 0.9097 | 0.9886 | 30300 | 50028 | 0.9492
13350 | Oneida County, Idaho | 13 | 0.9097 | 0.8037 | 99913 | 99913 | 0.8567
13360 | Owyhee County, Idaho | 13 | 0.9097 | 0.9052 | 14260 | 50027 | 0.9075
13370 | Payette County, Idaho | 13 | 0.9097 | 0.8037 | 99913 | 99913 | 0.8567
13380 | Power County, Idaho | 13 | 0.9097 | 0.9351 | 38540 | 50030 | 0.9224
13390 | Shoshone County, Idaho | 13 | 0.9097 | 0.8037 | 99913 | 99913 | 0.8567
13400 | Teton County, Idaho | 13 | 0.9097 | 0.8037 | 99913 | 99913 | 0.8567
13410 | Twin Falls County, Idaho | 13 | 0.9097 | 0.8037 | 99913 | 99913 | 0.8567
13420 | Valley County, Idaho | 13 | 0.9097 | 0.8037 | 99913 | 99913 | 0.8567
13430 | Washington County, Idaho | 13 | 0.9097 | 0.8037 | 99913 | 99913 | 0.8567
14000 | Adams County, Illinois | 14 | 0.8301 | 0.8271 | 99914 | 50031 | 0.8286
14010 | Alexander County, Illinois | 14 | 0.8301 | 0.8271 | 99914 | 50031 | 0.8286
14020 | Bond County, Illinois | 14 | 0.8301 | 0.8954 | 41180 | 50035 | 0.8628
14030 | Boone County, Illinois | 6880 | 0.9984 | 0.9984 | 40420 | 40420 | 0.9984
14040 | Brown County, Illinois | 14 | 0.8301 | 0.8271 | 99914 | 50031 | 0.8286
14050 | Bureau County, Illinois | 14 | 0.8301 | 0.8271 | 99914 | 50031 | 0.8286
14060 | Calhoun County, Illinois | 14 | 0.8301 | 0.8954 | 41180 | 50035 | 0.8628
14070 | Carroll County, Illinois | 14 | 0.8301 | 0.8271 | 99914 | 50031 | 0.8286
14080 | Cass County, Illinois | 14 | 0.8301 | 0.8271 | 99914 | 50031 | 0.8286
14090 | Champaign County, Illinois | 1400 | 0.9594 | 0.9594 | 16580 | 50190 | 0.9594
14100 | Christian County, Illinois | 14 | 0.8301 | 0.8271 | 99914 | 50031 | 0.8286
14110 | Clark County, Illinois | 14 | 0.8301 | 0.8271 | 99914 | 50031 | 0.8286
14120 | Clay County, Illinois | 14 | 0.8301 | 0.8271 | 99914 | 50031 | 0.8286
14130 | Clinton County, Illinois | 7040 | 0.8962 | 0.8954 | 41180 | 50318 | 0.8958
14140 | Coles County, Illinois | 14 | 0.8301 | 0.8271 | 99914 | 50031 | 0.8286
14141 | Cook County, Illinois | 1600 | 1.0783 | 1.0790 | 16974 | 16974 | 1.0787
14150 | Crawford County, Illinois | 14 | 0.8301 | 0.8271 | 99914 | 50031 | 0.8286
14160 | Cumberland County, Illinois | 14 | 0.8301 | 0.8271 | 99914 | 50031 | 0.8286
14170 | De Kalb County, Illinois | 1600 | 1.0783 | 1.0790 | 16974 | 16974 | 1.0787
14180 | De Witt County, Illinois | 14 | 0.8301 | 0.8271 | 99914 | 50031 | 0.8286
14190 | Douglas County, Illinois | 14 | 0.8301 | 0.8271 | 99914 | 50031 | 0.8286
14250 | Du Page County, Illinois | 1600 | 1.0783 | 1.0790 | 16974 | 16974 | 1.0787
14310 | Edgar County, Illinois | 14 | 0.8301 | 0.8271 | 99914 | 50031 | 0.8286
14320 | Edwards County, Illinois | 14 | 0.8301 | 0.8271 | 99914 | 50031 | 0.8286
14330 | Effingham County, Illinois | 14 | 0.8301 | 0.8271 | 99914 | 50031 | 0.8286
14340 | Fayette County, Illinois | 14 | 0.8301 | 0.8271 | 99914 | 50031 | 0.8286
14350 | Ford County, Illinois | 14 | 0.8301 | 0.9594 | 16580 | 50032 | 0.8948
14360 | Franklin County, Illinois | 14 | 0.8301 | 0.8271 | 99914 | 50031 | 0.8286
14370 | Fulton County, Illinois | 14 | 0.8301 | 0.8271 | 99914 | 50031 | 0.8286
14380 | Gallatin County, Illinois | 14 | 0.8301 | 0.8271 | 99914 | 50031 | 0.8286
14390 | Greene County, Illinois | 14 | 0.8301 | 0.8271 | 99914 | 50031 | 0.8286
14400 | Grundy County, Illinois | 1600 | 1.0783 | 1.0790 | 16974 | 16974 | 1.0787
14410 | Hamilton County, Illinois | 14 | 0.8301 | 0.8271 | 99914 | 50031 | 0.8286
14420 | Hancock County, Illinois | 14 | 0.8301 | 0.8271 | 99914 | 50031 | 0.8286
14421 | Hardin County, Illinois | 14 | 0.8301 | 0.8271 | 99914 | 50031 | 0.8286
14440 | Henderson County, Illinois | 14 | 0.8301 | 0.8271 | 99914 | 50031 | 0.8286
14450 | Henry County, Illinois | 1960 | 0.8724 | 0.8724 | 19340 | 50208 | 0.8724
14460 | Iroquois County, Illinois | 14 | 0.8301 | 0.8271 | 99914 | 50031 | 0.8286
14470 | Jackson County, Illinois | 14 | 0.8301 | 0.8271 | 99914 | 50031 | 0.8286
14480 | Jasper County, Illinois | 14 | 0.8301 | 0.8271 | 99914 | 50031 | 0.8286
14490 | Jefferson County, Illinois | 14 | 0.8301 | 0.8271 | 99914 | 50031 | 0.8286
14500 | Jersey County, Illinois | 7040 | 0.8962 | 0.8954 | 41180 | 50318 | 0.8958
14510 | Jo Daviess County, Illinois | 14 | 0.8301 | 0.8271 | 99914 | 50031 | 0.8286
14520 | Johnson County, Illinois | 14 | 0.8301 | 0.8271 | 99914 | 50031 | 0.8286
14530 | Kane County, Illinois | 1600 | 1.0783 | 1.0790 | 16974 | 16974 | 1.0787
14540 | Kankakee County, Illinois | 3740 | 1.0721 | 1.0721 | 28100 | 28100 | 1.0721
14550 | Kendall County, Illinois | 1600 | 1.0783 | 1.0790 | 16974 | 16974 | 1.0787
14560 | Knox County, Illinois | 14 | 0.8301 | 0.8271 | 99914 | 50031 | 0.8286
14570 | Lake County, Illinois | 1600 | 1.0783 | 1.0429 | 29404 | 50196 | 1.0606
14580 | La Salle County, Illinois | 14 | 0.8301 | 0.8271 | 99914 | 50031 | 0.8286
14590 | Lawrence County, Illinois | 14 | 0.8301 | 0.8271 | 99914 | 50031 | 0.8286
14600 | Lee County, Illinois | 14 | 0.8301 | 0.8271 | 99914 | 50031 | 0.8286
14610 | Livingston County, Illinois | 14 | 0.8301 | 0.8271 | 99914 | 50031 | 0.8286
14620 | Logan County, Illinois | 14 | 0.8301 | 0.8271 | 99914 | 50031 | 0.8286
14630 | McDonough County, Illinois | 14 | 0.8301 | 0.8271 | 99914 | 50031 | 0.8286
14640 | Mc Henry County, Illinois | 1600 | 1.0783 | 1.0790 | 16974 | 16974 | 1.0787
14650 | Mclean County, Illinois | 1040 | 0.9075 | 0.9075 | 14060 | 14060 | 0.9075
14660 | Macon County, Illinois | 2040 | 0.8067 | 0.8067 | 19500 | 19500 | 0.8067
14670 | Macoupin County, Illinois | 14 | 0.8301 | 0.8954 | 41180 | 50035 | 0.8628
14680 | Madison County, Illinois | 7040 | 0.8962 | 0.8954 | 41180 | 50318 | 0.8958
14690 | Marion County, Illinois | 14 | 0.8301 | 0.8271 | 99914 | 50031 | 0.8286
14700 | Marshall County, Illinois | 14 | 0.8301 | 0.8870 | 37900 | 50034 | 0.8586
14710 | Mason County, Illinois | 14 | 0.8301 | 0.8271 | 99914 | 50031 | 0.8286
14720 | Massac County, Illinois | 14 | 0.8301 | 0.8271 | 99914 | 50031 | 0.8286
14730 | Menard County, Illinois | 7880 | 0.8792 | 0.8792 | 44100 | 44100 | 0.8792
14740 | Mercer County, Illinois | 14 | 0.8301 | 0.8724 | 19340 | 50033 | 0.8513
14750 | Monroe County, Illinois | 7040 | 0.8962 | 0.8954 | 41180 | 50318 | 0.8958
14760 | Montgomery County, Illinois | 14 | 0.8301 | 0.8271 | 99914 | 50031 | 0.8286
14770 | Morgan County, Illinois | 14 | 0.8301 | 0.8271 | 99914 | 50031 | 0.8286
14780 | Moultrie County, Illinois | 14 | 0.8301 | 0.8271 | 99914 | 50031 | 0.8286
14790 | Ogle County, Illinois | 6880 | 0.9984 | 0.8271 | 99914 | 50314 | 0.9128
14800 | Peoria County, Illinois | 6120 | 0.8870 | 0.8870 | 37900 | 50298 | 0.8870
14810 | Perry County, Illinois | 14 | 0.8301 | 0.8271 | 99914 | 50031 | 0.8286
14820 | Piatt County, Illinois | 14 | 0.8301 | 0.9594 | 16580 | 50032 | 0.8948
14830 | Pike County, Illinois | 14 | 0.8301 | 0.8271 | 99914 | 50031 | 0.8286
14831 | Pope County, Illinois | 14 | 0.8301 | 0.8271 | 99914 | 50031 | 0.8286
14850 | Pulaski County, Illinois | 14 | 0.8301 | 0.8271 | 99914 | 50031 | 0.8286
14860 | Putnam County, Illinois | 14 | 0.8301 | 0.8271 | 99914 | 50031 | 0.8286
14870 | Randolph County, Illinois | 14 | 0.8301 | 0.8271 | 99914 | 50031 | 0.8286
14880 | Richland County, Illinois | 14 | 0.8301 | 0.8271 | 99914 | 50031 | 0.8286
14890 | Rock Island County, Illinois | 1960 | 0.8724 | 0.8724 | 19340 | 50208 | 0.8724
14900 | St Clair County, Illinois | 7040 | 0.8962 | 0.8954 | 41180 | 50318 | 0.8958
14910 | Saline County, Illinois | 14 | 0.8301 | 0.8271 | 99914 | 50031 | 0.8286
14920 | Sangamon County, Illinois | 7880 | 0.8792 | 0.8792 | 44100 | 44100 | 0.8792
14921 | Schuyler County, Illinois | 14 | 0.8301 | 0.8271 | 99914 | 50031 | 0.8286
14940 | Scott County, Illinois | 14 | 0.8301 | 0.8271 | 99914 | 50031 | 0.8286
14950 | Shelby County, Illinois | 14 | 0.8301 | 0.8271 | 99914 | 50031 | 0.8286
14960 | Stark County, Illinois | 14 | 0.8301 | 0.8870 | 37900 | 50034 | 0.8586
14970 | Stephenson County, Illinois | 14 | 0.8301 | 0.8271 | 99914 | 50031 | 0.8286
14980 | Tazewell County, Illinois | 6120 | 0.8870 | 0.8870 | 37900 | 50298 | 0.8870
14981 | Union County, Illinois | 14 | 0.8301 | 0.8271 | 99914 | 50031 | 0.8286
14982 | Vermilion County, Illinois | 14 | 0.8301 | 0.9028 | 19180 | 19180 | 0.8665
14983 | Wabash County, Illinois | 14 | 0.8301 | 0.8271 | 99914 | 50031 | 0.8286
14984 | Warren County, Illinois | 14 | 0.8301 | 0.8271 | 99914 | 50031 | 0.8286
14985 | Washington County, Illinois | 14 | 0.8301 | 0.8271 | 99914 | 50031 | 0.8286
14986 | Wayne County, Illinois | 14 | 0.8301 | 0.8271 | 99914 | 50031 | 0.8286
14987 | White County, Illinois | 14 | 0.8301 | 0.8271 | 99914 | 50031 | 0.8286
14988 | Whiteside County, Illinois | 14 | 0.8301 | 0.8271 | 99914 | 50031 | 0.8286
14989 | Will County, Illinois | 1600 | 1.0783 | 1.0790 | 16974 | 16974 | 1.0787
14990 | Williamson County, Illinois | 14 | 0.8301 | 0.8271 | 99914 | 50031 | 0.8286
14991 | Winnebago County, Illinois | 6880 | 0.9984 | 0.9984 | 40420 | 40420 | 0.9984
14992 | Woodford County, Illinois | 6120 | 0.8870 | 0.8870 | 37900 | 50298 | 0.8870
15000 | Adams County, Indiana | 2760 | 0.9706 | 0.8624 | 99915 | 50225 | 0.9165
15010 | Allen County, Indiana | 2760 | 0.9706 | 0.9793 | 23060 | 23060 | 0.9750
15020 | Bartholomew County, Indiana | 15 | 0.8739 | 0.9588 | 18020 | 18020 | 0.9164
15030 | Benton County, Indiana | 15 | 0.8739 | 0.8736 | 29140 | 50042 | 0.8738
15040 | Blackford County, Indiana | 15 | 0.8739 | 0.8624 | 99915 | 50036 | 0.8682
15050 | Boone County, Indiana | 3480 | 0.9865 | 0.9920 | 26900 | 50244 | 0.9893
15060 | Brown County, Indiana | 15 | 0.8739 | 0.9920 | 26900 | 50041 | 0.9330
15070 | Carroll County, Indiana | 15 | 0.8739 | 0.8736 | 29140 | 50042 | 0.8738
15080 | Cass County, Indiana | 15 | 0.8739 | 0.8624 | 99915 | 50036 | 0.8682
15090 | Clark County, Indiana | 4520 | 0.9293 | 0.9251 | 31140 | 50269 | 0.9272
15100 | Clay County, Indiana | 8320 | 0.8337 | 0.8304 | 45460 | 50338 | 0.8321
15110 | Clinton County, Indiana | 3920 | 0.8736 | 0.8624 | 99915 | 50257 | 0.8680
15120 | Crawford County, Indiana | 15 | 0.8739 | 0.8624 | 99915 | 50036 | 0.8682
15130 | Daviess County, Indiana | 15 | 0.8739 | 0.8624 | 99915 | 50036 | 0.8682
15140 | Dearborn County, Indiana | 1640 | 0.9734 | 0.9615 | 17140 | 50197 | 0.9675
15150 | Decatur County, Indiana | 15 | 0.8739 | 0.8624 | 99915 | 50036 | 0.8682
15160 | De Kalb County, Indiana | 2760 | 0.9706 | 0.8624 | 99915 | 50225 | 0.9165
15170 | Delaware County, Indiana | 5280 | 0.8930 | 0.8930 | 34620 | 34620 | 0.8930
15180 | Dubois County, Indiana | 15 | 0.8739 | 0.8624 | 99915 | 50036 | 0.8682
15190 | Elkhart County, Indiana | 2330 | 0.9627 | 0.9627 | 21140 | 21140 | 0.9627
15200 | Fayette County, Indiana | 15 | 0.8739 | 0.8624 | 99915 | 50036 | 0.8682
15210 | Floyd County, Indiana | 4520 | 0.9293 | 0.9251 | 31140 | 50269 | 0.9272
15220 | Fountain County, Indiana | 15 | 0.8739 | 0.8624 | 99915 | 50036 | 0.8682
15230 | Franklin County, Indiana | 15 | 0.8739 | 0.9615 | 17140 | 50038 | 0.9177
15240 | Fulton County, Indiana | 15 | 0.8739 | 0.8624 | 99915 | 50036 | 0.8682
15250 | Gibson County, Indiana | 15 | 0.8739 | 0.8713 | 21780 | 50039 | 0.8726
15260 | Grant County, Indiana | 15 | 0.8739 | 0.8624 | 99915 | 50036 | 0.8682
15270 | Greene County, Indiana | 15 | 0.8739 | 0.8447 | 14020 | 50037 | 0.8593
15280 | Hamilton County, Indiana | 3480 | 0.9865 | 0.9920 | 26900 | 50244 | 0.9893
15290 | Hancock County, Indiana | 3480 | 0.9865 | 0.9920 | 26900 | 50244 | 0.9893
15300 | Harrison County, Indiana | 4520 | 0.9293 | 0.9251 | 31140 | 50269 | 0.9272
15310 | Hendricks County, Indiana | 3480 | 0.9865 | 0.9920 | 26900 | 50244 | 0.9893
15320 | Henry County, Indiana | 15 | 0.8739 | 0.8624 | 99915 | 50036 | 0.8682
15330 | Howard County, Indiana | 3850 | 0.9508 | 0.9508 | 29020 | 29020 | 0.9508
15340 | Huntington County, Indiana | 2760 | 0.9706 | 0.8624 | 99915 | 50225 | 0.9165
15350 | Jackson County, Indiana | 15 | 0.8739 | 0.8624 | 99915 | 50036 | 0.8682
15360 | Jasper County, Indiana | 15 | 0.8739 | 0.9395 | 23844 | 50040 | 0.9067
15370 | Jay County, Indiana | 15 | 0.8739 | 0.8624 | 99915 | 50036 | 0.8682
15380 | Jefferson County, Indiana | 15 | 0.8739 | 0.8624 | 99915 | 50036 | 0.8682
15390 | Jennings County, Indiana | 15 | 0.8739 | 0.8624 | 99915 | 50036 | 0.8682
15400 | Johnson County, Indiana | 3480 | 0.9865 | 0.9920 | 26900 | 50244 | 0.9893
15410 | Knox County, Indiana | 15 | 0.8739 | 0.8624 | 99915 | 50036 | 0.8682
15420 | Kosciusko County, Indiana | 15 | 0.8739 | 0.8624 | 99915 | 50036 | 0.8682
15430 | Lagrange County, Indiana | 15 | 0.8739 | 0.8624 | 99915 | 50036 | 0.8682
15440 | Lake County, Indiana | 2960 | 0.9395 | 0.9395 | 23844 | 50230 | 0.9395
15450 | La Porte County, Indiana | 15 | 0.8739 | 0.9399 | 33140 | 33140 | 0.9069
15460 | Lawrence County, Indiana | 15 | 0.8739 | 0.8624 | 99915 | 50036 | 0.8682
15470 | Madison County, Indiana | 3480 | 0.9865 | 0.8586 | 11300 | 11300 | 0.9226
15480 | Marion County, Indiana | 3480 | 0.9865 | 0.9920 | 26900 | 50244 | 0.9893
15490 | Marshall County, Indiana | 15 | 0.8739 | 0.8624 | 99915 | 50036 | 0.8682
15500 | Martin County, Indiana | 15 | 0.8739 | 0.8624 | 99915 | 50036 | 0.8682
15510 | Miami County, Indiana | 15 | 0.8739 | 0.8624 | 99915 | 50036 | 0.8682
15520 | Monroe County, Indiana | 1020 | 0.8447 | 0.8447 | 14020 | 50183 | 0.8447
15530 | Montgomery County, Indiana | 15 | 0.8739 | 0.8624 | 99915 | 50036 | 0.8682
15540 | Morgan County, Indiana | 3480 | 0.9865 | 0.9920 | 26900 | 50244 | 0.9893
15550 | Newton County, Indiana | 15 | 0.8739 | 0.9395 | 23844 | 50040 | 0.9067
15560 | Noble County, Indiana | 15 | 0.8739 | 0.8624 | 99915 | 50036 | 0.8682
15570 | Ohio County, Indiana | 1640 | 0.9734 | 0.9615 | 17140 | 50197 | 0.9675
15580 | Orange County, Indiana | 15 | 0.8739 | 0.8624 | 99915 | 50036 | 0.8682
15590 | Owen County, Indiana | 15 | 0.8739 | 0.8447 | 14020 | 50037 | 0.8593
15600 | Parke County, Indiana | 15 | 0.8739 | 0.8624 | 99915 | 50036 | 0.8682
15610 | Perry County, Indiana | 15 | 0.8739 | 0.8624 | 99915 | 50036 | 0.8682
15620 | Pike County, Indiana | 15 | 0.8739 | 0.8624 | 99915 | 50036 | 0.8682
15630 | Porter County, Indiana | 2960 | 0.9395 | 0.9395 | 23844 | 50230 | 0.9395
15640 | Posey County, Indiana | 2440 | 0.8713 | 0.8713 | 21780 | 50219 | 0.8713
15650 | Pulaski County, Indiana | 15 | 0.8739 | 0.8624 | 99915 | 50036 | 0.8682
15660 | Putnam County, Indiana | 15 | 0.8739 | 0.9920 | 26900 | 50041 | 0.9330
15670 | Randolph County, Indiana | 15 | 0.8739 | 0.8624 | 99915 | 50036 | 0.8682
15680 | Ripley County, Indiana | 15 | 0.8739 | 0.8624 | 99915 | 50036 | 0.8682
15690 | Rush County, Indiana | 15 | 0.8739 | 0.8624 | 99915 | 50036 | 0.8682
15700 | St Joseph County, Indiana | 7800 | 0.9788 | 0.9788 | 43780 | 50333 | 0.9788
15710 | Scott County, Indiana | 4520 | 0.9293 | 0.8624 | 99915 | 50268 | 0.8959
15720 | Shelby County, Indiana | 3480 | 0.9865 | 0.9920 | 26900 | 50244 | 0.9893
15730 | Spencer County, Indiana | 15 | 0.8739 | 0.8624 | 99915 | 50036 | 0.8682
15740 | Starke County, Indiana | 15 | 0.8739 | 0.8624 | 99915 | 50036 | 0.8682
15750 | Steuben County, Indiana | 15 | 0.8739 | 0.8624 | 99915 | 50036 | 0.8682
15760 | Sullivan County, Indiana | 15 | 0.8739 | 0.8304 | 45460 | 50044 | 0.8522
15770 | Switzerland County, Indiana | 15 | 0.8739 | 0.8624 | 99915 | 50036 | 0.8682
15780 | Tippecanoe County, Indiana | 3920 | 0.8736 | 0.8736 | 29140 | 50258 | 0.8736
15790 | Tipton County, Indiana | 3850 | 0.9508 | 0.9508 | 29020 | 29020 | 0.9508
15800 | Union County, Indiana | 15 | 0.8739 | 0.8624 | 99915 | 50036 | 0.8682
15810 | Vanderburgh County, Indiana | 2440 | 0.8713 | 0.8713 | 21780 | 50219 | 0.8713
15820 | Vermillion County, Indiana | 8320 | 0.8337 | 0.8304 | 45460 | 50338 | 0.8321
15830 | Vigo County, Indiana | 8320 | 0.8337 | 0.8304 | 45460 | 50338 | 0.8321
15840 | Wabash County, Indiana | 15 | 0.8739 | 0.8624 | 99915 | 50036 | 0.8682
15850 | Warren County, Indiana | 15 | 0.8739 | 0.8624 | 99915 | 50036 | 0.8682
15860 | Warrick County, Indiana | 2440 | 0.8713 | 0.8713 | 21780 | 50219 | 0.8713
15870 | Washington County, Indiana | 15 | 0.8739 | 0.9251 | 31140 | 50043 | 0.8995
15880 | Wayne County, Indiana | 15 | 0.8739 | 0.8624 | 99915 | 50036 | 0.8682
15890 | Wells County, Indiana | 2760 | 0.9706 | 0.9793 | 23060 | 23060 | 0.9750
15900 | White County, Indiana | 15 | 0.8739 | 0.8624 | 99915 | 50036 | 0.8682
15910 | Whitley County, Indiana | 2760 | 0.9706 | 0.9793 | 23060 | 23060 | 0.9750
16000 | Adair County, Iowa | 16 | 0.8594 | 0.8509 | 99916 | 99916 | 0.8552
16010 | Adams County, Iowa | 16 | 0.8594 | 0.8509 | 99916 | 99916 | 0.8552
16020 | Allamakee County, Iowa | 16 | 0.8594 | 0.8509 | 99916 | 99916 | 0.8552
16030 | Appanoose County, Iowa | 16 | 0.8594 | 0.8509 | 99916 | 99916 | 0.8552
16040 | Audubon County, Iowa | 16 | 0.8594 | 0.8509 | 99916 | 99916 | 0.8552
16050 | Benton County, Iowa | 16 | 0.8594 | 0.8825 | 16300 | 50045 | 0.8710
16060 | Black Hawk County, Iowa | 8920 | 0.8557 | 0.8557 | 47940 | 50346 | 0.8557
16070 | Boone County, Iowa | 16 | 0.8594 | 0.8509 | 99916 | 99916 | 0.8552
16080 | Bremer County, Iowa | 16 | 0.8594 | 0.8557 | 47940 | 50049 | 0.8576
16090 | Buchanan County, Iowa | 16 | 0.8594 | 0.8509 | 99916 | 99916 | 0.8552
16100 | Buena Vista County, Iowa | 16 | 0.8594 | 0.8509 | 99916 | 99916 | 0.8552
16110 | Butler County, Iowa | 16 | 0.8594 | 0.8509 | 99916 | 99916 | 0.8552
16120 | Calhoun County, Iowa | 16 | 0.8594 | 0.8509 | 99916 | 99916 | 0.8552
16130 | Carroll County, Iowa | 16 | 0.8594 | 0.8509 | 99916 | 99916 | 0.8552
16140 | Cass County, Iowa | 16 | 0.8594 | 0.8509 | 99916 | 99916 | 0.8552
16150 | Cedar County, Iowa | 16 | 0.8594 | 0.8509 | 99916 | 99916 | 0.8552
16160 | Cerro Gordo County, Iowa | 16 | 0.8594 | 0.8509 | 99916 | 99916 | 0.8552
16170 | Cherokee County, Iowa | 16 | 0.8594 | 0.8509 | 99916 | 99916 | 0.8552
16180 | Chickasaw County, Iowa | 16 | 0.8594 | 0.8509 | 99916 | 99916 | 0.8552
16190 | Clarke County, Iowa | 16 | 0.8594 | 0.8509 | 99916 | 99916 | 0.8552
16200 | Clay County, Iowa | 16 | 0.8594 | 0.8509 | 99916 | 99916 | 0.8552
16210 | Clayton County, Iowa | 16 | 0.8594 | 0.8509 | 99916 | 99916 | 0.8552
16220 | Clinton County, Iowa | 16 | 0.8594 | 0.8509 | 99916 | 99916 | 0.8552
16230 | Crawford County, Iowa | 16 | 0.8594 | 0.8509 | 99916 | 99916 | 0.8552
16240 | Dallas County, Iowa | 2120 | 0.9669 | 0.9669 | 19780 | 50212 | 0.9669
16250 | Davis County, Iowa | 16 | 0.8594 | 0.8509 | 99916 | 99916 | 0.8552
16260 | Decatur County, Iowa | 16 | 0.8594 | 0.8509 | 99916 | 99916 | 0.8552
16270 | Delaware County, Iowa | 16 | 0.8594 | 0.8509 | 99916 | 99916 | 0.8552
16280 | Des Moines County, Iowa | 16 | 0.8594 | 0.8509 | 99916 | 99916 | 0.8552
16290 | Dickinson County, Iowa | 16 | 0.8594 | 0.8509 | 99916 | 99916 | 0.8552
16300 | Dubuque County, Iowa | 2200 | 0.9024 | 0.9024 | 20220 | 20220 | 0.9024
16310 | Emmet County, Iowa | 16 | 0.8594 | 0.8509 | 99916 | 99916 | 0.8552
16320 | Fayette County, Iowa | 16 | 0.8594 | 0.8509 | 99916 | 99916 | 0.8552
16330 | Floyd County, Iowa | 16 | 0.8594 | 0.8509 | 99916 | 99916 | 0.8552
16340 | Franklin County, Iowa | 16 | 0.8594 | 0.8509 | 99916 | 99916 | 0.8552
16350 | Fremont County, Iowa | 16 | 0.8594 | 0.8509 | 99916 | 99916 | 0.8552
16360 | Greene County, Iowa | 16 | 0.8594 | 0.8509 | 99916 | 99916 | 0.8552
16370 | Grundy County, Iowa | 16 | 0.8594 | 0.8557 | 47940 | 50049 | 0.8576
16380 | Guthrie County, Iowa | 16 | 0.8594 | 0.9669 | 19780 | 50046 | 0.9132
16390 | Hamilton County, Iowa | 16 | 0.8594 | 0.8509 | 99916 | 99916 | 0.8552
16400 | Hancock County, Iowa | 16 | 0.8594 | 0.8509 | 99916 | 99916 | 0.8552
16410 | Hardin County, Iowa | 16 | 0.8594 | 0.8509 | 99916 | 99916 | 0.8552
16420 | Harrison County, Iowa | 16 | 0.8594 | 0.9560 | 36540 | 50048 | 0.9077
16430 | Henry County, Iowa | 16 | 0.8594 | 0.8509 | 99916 | 99916 | 0.8552
16440 | Howard County, Iowa | 16 | 0.8594 | 0.8509 | 99916 | 99916 | 0.8552
16450 | Humboldt County, Iowa | 16 | 0.8594 | 0.8509 | 99916 | 99916 | 0.8552
16460 | Ida County, Iowa | 16 | 0.8594 | 0.8509 | 99916 | 99916 | 0.8552
16470 | Iowa County, Iowa | 16 | 0.8594 | 0.8509 | 99916 | 99916 | 0.8552
16480 | Jackson County, Iowa | 16 | 0.8594 | 0.8509 | 99916 | 99916 | 0.8552
16490 | Jasper County, Iowa | 16 | 0.8594 | 0.8509 | 99916 | 99916 | 0.8552
16500 | Jefferson County, Iowa | 16 | 0.8594 | 0.8509 | 99916 | 99916 | 0.8552
16510 | Johnson County, Iowa | 3500 | 0.9747 | 0.9747 | 26980 | 50245 | 0.9747
16520 | Jones County, Iowa | 16 | 0.8594 | 0.8825 | 16300 | 50045 | 0.8710
16530 | Keokuk County, Iowa | 16 | 0.8594 | 0.8509 | 99916 | 99916 | 0.8552
16540 | Kossuth County, Iowa | 16 | 0.8594 | 0.8509 | 99916 | 99916 | 0.8552
16550 | Lee County, Iowa | 16 | 0.8594 | 0.8509 | 99916 | 99916 | 0.8552
16560 | Linn County, Iowa | 1360 | 0.8825 | 0.8825 | 16300 | 50189 | 0.8825
16570 | Louisa County, Iowa | 16 | 0.8594 | 0.8509 | 99916 | 99916 | 0.8552
16580 | Lucas County, Iowa | 16 | 0.8594 | 0.8509 | 99916 | 99916 | 0.8552
16590 | Lyon County, Iowa | 16 | 0.8594 | 0.8509 | 99916 | 99916 | 0.8552
16600 | Madison County, Iowa | 16 | 0.8594 | 0.9669 | 19780 | 50046 | 0.9132
16610 | Mahaska County, Iowa | 16 | 0.8594 | 0.8509 | 99916 | 99916 | 0.8552
16620 | Marion County, Iowa | 16 | 0.8594 | 0.8509 | 99916 | 99916 | 0.8552
16630 | Marshall County, Iowa | 16 | 0.8594 | 0.8509 | 99916 | 99916 | 0.8552
16640 | Mills County, Iowa | 16 | 0.8594 | 0.9560 | 36540 | 50048 | 0.9077
16650 | Mitchell County, Iowa | 16 | 0.8594 | 0.8509 | 99916 | 99916 | 0.8552
16660 | Monona County, Iowa | 16 | 0.8594 | 0.8509 | 99916 | 99916 | 0.8552
16670 | Monroe County, Iowa | 16 | 0.8594 | 0.8509 | 99916 | 99916 | 0.8552
16680 | Montgomery County, Iowa | 16 | 0.8594 | 0.8509 | 99916 | 99916 | 0.8552
16690 | Muscatine County, Iowa | 16 | 0.8594 | 0.8509 | 99916 | 99916 | 0.8552
16700 | OBrien County, Iowa | 16 | 0.8594 | 0.8509 | 99916 | 99916 | 0.8552
16710 | Osceola County, Iowa | 16 | 0.8594 | 0.8509 | 99916 | 99916 | 0.8552
16720 | Page County, Iowa | 16 | 0.8594 | 0.8509 | 99916 | 99916 | 0.8552
16730 | Palo Alto County, Iowa | 16 | 0.8594 | 0.8509 | 99916 | 99916 | 0.8552
16740 | Plymouth County, Iowa | 16 | 0.8594 | 0.8509 | 99916 | 99916 | 0.8552
16750 | Pocahontas County, Iowa | 16 | 0.8594 | 0.8509 | 99916 | 99916 | 0.8552
16760 | Polk County, Iowa | 2120 | 0.9669 | 0.9669 | 19780 | 50212 | 0.9669
16770 | Pottawattamie County, Iowa | 5920 | 0.9560 | 0.9560 | 36540 | 50295 | 0.9560
16780 | Poweshiek County, Iowa | 16 | 0.8594 | 0.8509 | 99916 | 99916 | 0.8552
16790 | Ringgold County, Iowa | 16 | 0.8594 | 0.8509 | 99916 | 99916 | 0.8552
16800 | Sac County, Iowa | 16 | 0.8594 | 0.8509 | 99916 | 99916 | 0.8552
16810 | Scott County, Iowa | 1960 | 0.8724 | 0.8724 | 19340 | 50208 | 0.8724
16820 | Shelby County, Iowa | 16 | 0.8594 | 0.8509 | 99916 | 99916 | 0.8552
16830 | Sioux County, Iowa | 16 | 0.8594 | 0.8509 | 99916 | 99916 | 0.8552
16840 | Story County, Iowa | 16 | 0.8594 | 0.9536 | 11180 | 11180 | 0.9065
16850 | Tama County, Iowa | 16 | 0.8594 | 0.8509 | 99916 | 99916 | 0.8552
16860 | Taylor County, Iowa | 16 | 0.8594 | 0.8509 | 99916 | 99916 | 0.8552
16870 | Union County, Iowa | 16 | 0.8594 | 0.8509 | 99916 | 99916 | 0.8552
16880 | Van Buren County, Iowa | 16 | 0.8594 | 0.8509 | 99916 | 99916 | 0.8552
16890 | Wapello County, Iowa | 16 | 0.8594 | 0.8509 | 99916 | 99916 | 0.8552
16900 | Warren County, Iowa | 2120 | 0.9669 | 0.9669 | 19780 | 50212 | 0.9669
16910 | Washington County, Iowa | 16 | 0.8594 | 0.9747 | 26980 | 50047 | 0.9171
16920 | Wayne County, Iowa | 16 | 0.8594 | 0.8509 | 99916 | 99916 | 0.8552
16930 | Webster County, Iowa | 16 | 0.8594 | 0.8509 | 99916 | 99916 | 0.8552
16940 | Winnebago County, Iowa | 16 | 0.8594 | 0.8509 | 99916 | 99916 | 0.8552
16950 | Winneshiek County, Iowa | 16 | 0.8594 | 0.8509 | 99916 | 99916 | 0.8552
16960 | Woodbury County, Iowa | 7720 | 0.9416 | 0.9381 | 43580 | 50331 | 0.9399
16970 | Worth County, Iowa | 16 | 0.8594 | 0.8509 | 99916 | 99916 | 0.8552
16980 | Wright County, Iowa | 16 | 0.8594 | 0.8509 | 99916 | 99916 | 0.8552
17000 | Allen County, Kansas | 17 | 0.8040 | 0.8035 | 99917 | 99917 | 0.8038
17010 | Anderson County, Kansas | 17 | 0.8040 | 0.8035 | 99917 | 99917 | 0.8038
17020 | Atchison County, Kansas | 17 | 0.8040 | 0.8035 | 99917 | 99917 | 0.8038
17030 | Barber County, Kansas | 17 | 0.8040 | 0.8035 | 99917 | 99917 | 0.8038
17040 | Barton County, Kansas | 17 | 0.8040 | 0.8035 | 99917 | 99917 | 0.8038
17050 | Bourbon County, Kansas | 17 | 0.8040 | 0.8035 | 99917 | 99917 | 0.8038
17060 | Brown County, Kansas | 17 | 0.8040 | 0.8035 | 99917 | 99917 | 0.8038
17070 | Butler County, Kansas | 9040 | 0.9175 | 0.9153 | 48620 | 50347 | 0.9164
17080 | Chase County, Kansas | 17 | 0.8040 | 0.8035 | 99917 | 99917 | 0.8038
17090 | Chautauqua County, Kansas | 17 | 0.8040 | 0.8035 | 99917 | 99917 | 0.8038
17100 | Cherokee County, Kansas | 17 | 0.8040 | 0.8035 | 99917 | 99917 | 0.8038
17110 | Cheyenne County, Kansas | 17 | 0.8040 | 0.8035 | 99917 | 99917 | 0.8038
17120 | Clark County, Kansas | 17 | 0.8040 | 0.8035 | 99917 | 99917 | 0.8038
17130 | Clay County, Kansas | 17 | 0.8040 | 0.8035 | 99917 | 99917 | 0.8038
17140 | Cloud County, Kansas | 17 | 0.8040 | 0.8035 | 99917 | 99917 | 0.8038
17150 | Coffey County, Kansas | 17 | 0.8040 | 0.8035 | 99917 | 99917 | 0.8038
17160 | Comanche County, Kansas | 17 | 0.8040 | 0.8035 | 99917 | 99917 | 0.8038
17170 | Cowley County, Kansas | 17 | 0.8040 | 0.8035 | 99917 | 99917 | 0.8038
17180 | Crawford County, Kansas | 17 | 0.8040 | 0.8035 | 99917 | 99917 | 0.8038
17190 | Decatur County, Kansas | 17 | 0.8040 | 0.8035 | 99917 | 99917 | 0.8038
17200 | Dickinson County, Kansas | 17 | 0.8040 | 0.8035 | 99917 | 99917 | 0.8038
17210 | Doniphan County, Kansas | 17 | 0.8040 | 0.9519 | 41140 | 50051 | 0.8780
17220 | Douglas County, Kansas | 4150 | 0.8537 | 0.8537 | 29940 | 29940 | 0.8537
17230 | Edwards County, Kansas | 17 | 0.8040 | 0.8035 | 99917 | 99917 | 0.8038
17240 | Elk County, Kansas | 17 | 0.8040 | 0.8035 | 99917 | 99917 | 0.8038
17250 | Ellis County, Kansas | 17 | 0.8040 | 0.8035 | 99917 | 99917 | 0.8038
17260 | Ellsworth County, Kansas | 17 | 0.8040 | 0.8035 | 99917 | 99917 | 0.8038
17270 | Finney County, Kansas | 17 | 0.8040 | 0.8035 | 99917 | 99917 | 0.8038
17280 | Ford County, Kansas | 17 | 0.8040 | 0.8035 | 99917 | 99917 | 0.8038
17290 | Franklin County, Kansas | 17 | 0.8040 | 0.9476 | 28140 | 50050 | 0.8758
17300 | Geary County, Kansas | 17 | 0.8040 | 0.8035 | 99917 | 99917 | 0.8038
17310 | Gove County, Kansas | 17 | 0.8040 | 0.8035 | 99917 | 99917 | 0.8038
17320 | Graham County, Kansas | 17 | 0.8040 | 0.8035 | 99917 | 99917 | 0.8038
17330 | Grant County, Kansas | 17 | 0.8040 | 0.8035 | 99917 | 99917 | 0.8038
17340 | Gray County, Kansas | 17 | 0.8040 | 0.8035 | 99917 | 99917 | 0.8038
17350 | Greeley County, Kansas | 17 | 0.8040 | 0.8035 | 99917 | 99917 | 0.8038
17360 | Greenwood County, Kansas | 17 | 0.8040 | 0.8035 | 99917 | 99917 | 0.8038
17370 | Hamilton County, Kansas | 17 | 0.8040 | 0.8035 | 99917 | 99917 | 0.8038
17380 | Harper County, Kansas | 17 | 0.8040 | 0.8035 | 99917 | 99917 | 0.8038
17390 | Harvey County, Kansas | 9040 | 0.9175 | 0.9153 | 48620 | 50347 | 0.9164
17391 | Haskell County, Kansas | 17 | 0.8040 | 0.8035 | 99917 | 99917 | 0.8038
17410 | Hodgeman County, Kansas | 17 | 0.8040 | 0.8035 | 99917 | 99917 | 0.8038
17420 | Jackson County, Kansas | 17 | 0.8040 | 0.8920 | 45820 | 50052 | 0.8480
17430 | Jefferson County, Kansas | 17 | 0.8040 | 0.8920 | 45820 | 50052 | 0.8480
17440 | Jewell County, Kansas | 17 | 0.8040 | 0.8035 | 99917 | 99917 | 0.8038
17450 | Johnson County, Kansas | 3760 | 0.9490 | 0.9476 | 28140 | 50252 | 0.9483
17451 | Kearny County, Kansas | 17 | 0.8040 | 0.8035 | 99917 | 99917 | 0.8038
17470 | Kingman County, Kansas | 17 | 0.8040 | 0.8035 | 99917 | 99917 | 0.8038
17480 | Kiowa County, Kansas | 17 | 0.8040 | 0.8035 | 99917 | 99917 | 0.8038
17490 | Labette County, Kansas | 17 | 0.8040 | 0.8035 | 99917 | 99917 | 0.8038
17500 | Lane County, Kansas | 17 | 0.8040 | 0.8035 | 99917 | 99917 | 0.8038
17510 | Leavenworth County, Kansas | 3760 | 0.9490 | 0.9476 | 28140 | 50252 | 0.9483
17520 | Lincoln County, Kansas | 17 | 0.8040 | 0.8035 | 99917 | 99917 | 0.8038
17530 | Linn County, Kansas | 17 | 0.8040 | 0.9476 | 28140 | 50050 | 0.8758
17540 | Logan County, Kansas | 17 | 0.8040 | 0.8035 | 99917 | 99917 | 0.8038
17550 | Lyon County, Kansas | 17 | 0.8040 | 0.8035 | 99917 | 99917 | 0.8038
17560 | Mc Pherson County, Kansas | 17 | 0.8040 | 0.8035 | 99917 | 99917 | 0.8038
17570 | Marion County, Kansas | 17 | 0.8040 | 0.8035 | 99917 | 99917 | 0.8038
17580 | Marshall County, Kansas | 17 | 0.8040 | 0.8035 | 99917 | 99917 | 0.8038
17590 | Meade County, Kansas | 17 | 0.8040 | 0.8035 | 99917 | 99917 | 0.8038
17600 | Miami County, Kansas | 3760 | 0.9490 | 0.9476 | 28140 | 50252 | 0.9483
17610 | Mitchell County, Kansas | 17 | 0.8040 | 0.8035 | 99917 | 99917 | 0.8038
17620 | Montgomery County, Kansas | 17 | 0.8040 | 0.8035 | 99917 | 99917 | 0.8038
17630 | Morris County, Kansas | 17 | 0.8040 | 0.8035 | 99917 | 99917 | 0.8038
17640 | Morton County, Kansas | 17 | 0.8040 | 0.8035 | 99917 | 99917 | 0.8038
17650 | Nemaha County, Kansas | 17 | 0.8040 | 0.8035 | 99917 | 99917 | 0.8038
17660 | Neosho County, Kansas | 17 | 0.8040 | 0.8035 | 99917 | 99917 | 0.8038
17670 | Ness County, Kansas | 17 | 0.8040 | 0.8035 | 99917 | 99917 | 0.8038
17680 | Norton County, Kansas | 17 | 0.8040 | 0.8035 | 99917 | 99917 | 0.8038
17690 | Osage County, Kansas | 17 | 0.8040 | 0.8920 | 45820 | 50052 | 0.8480
17700 | Osborne County, Kansas | 17 | 0.8040 | 0.8035 | 99917 | 99917 | 0.8038
17710 | Ottawa County, Kansas | 17 | 0.8040 | 0.8035 | 99917 | 99917 | 0.8038
17720 | Pawnee County, Kansas | 17 | 0.8040 | 0.8035 | 99917 | 99917 | 0.8038
17730 | Phillips County, Kansas | 17 | 0.8040 | 0.8035 | 99917 | 99917 | 0.8038
17740 | Pottawatomie County, Kansas | 17 | 0.8040 | 0.8035 | 99917 | 99917 | 0.8038
17750 | Pratt County, Kansas | 17 | 0.8040 | 0.8035 | 99917 | 99917 | 0.8038
17760 | Rawlins County, Kansas | 17 | 0.8040 | 0.8035 | 99917 | 99917 | 0.8038
17770 | Reno County, Kansas | 17 | 0.8040 | 0.8035 | 99917 | 99917 | 0.8038
17780 | Republic County, Kansas | 17 | 0.8040 | 0.8035 | 99917 | 99917 | 0.8038
17790 | Rice County, Kansas | 17 | 0.8040 | 0.8035 | 99917 | 99917 | 0.8038
17800 | Riley County, Kansas | 17 | 0.8040 | 0.8035 | 99917 | 99917 | 0.8038
17810 | Rooks County, Kansas | 17 | 0.8040 | 0.8035 | 99917 | 99917 | 0.8038
17820 | Rush County, Kansas | 17 | 0.8040 | 0.8035 | 99917 | 99917 | 0.8038
17830 | Russell County, Kansas | 17 | 0.8040 | 0.8035 | 99917 | 99917 | 0.8038
17840 | Saline County, Kansas | 17 | 0.8040 | 0.8035 | 99917 | 99917 | 0.8038
17841 | Scott County, Kansas | 17 | 0.8040 | 0.8035 | 99917 | 99917 | 0.8038
17860 | Sedgwick County, Kansas | 9040 | 0.9175 | 0.9153 | 48620 | 50347 | 0.9164
17870 | Seward County, Kansas | 7 | 0.8040 | 0.8035 | 99917 | 99917 | 0.8038
17880 | Shawnee County, Kansas | 8440 | 0.8920 | 0.8920 | 45820 | 50340 | 0.8920
17890 | Sheridan County, Kansas | 17 | 0.8040 | 0.8035 | 99917 | 99917 | 0.8038
17900 | Sherman County, Kansas | 17 | 0.8040 | 0.8035 | 99917 | 99917 | 0.8038
17910 | Smith County, Kansas | 17 | 0.8040 | 0.8035 | 99917 | 99917 | 0.8038
17920 | Stafford County, Kansas | 17 | 0.8040 | 0.8035 | 99917 | 99917 | 0.8038
17921 | Stanton County, Kansas | 17 | 0.8040 | 0.8035 | 99917 | 99917 | 0.8038
17940 | Stevens County, Kansas | 17 | 0.8040 | 0.8035 | 99917 | 99917 | 0.8038
17950 | Sumner County, Kansas | 17 | 0.8040 | 0.9153 | 48620 | 50053 | 0.8597
17960 | Thomas County, Kansas | 17 | 0.8040 | 0.8035 | 99917 | 99917 | 0.8038
17970 | Trego County, Kansas | 17 | 0.8040 | 0.8035 | 99917 | 99917 | 0.8038
17980 | Wabaunsee County, Kansas | 17 | 0.8040 | 0.8920 | 45820 | 50052 | 0.8480
17981 | Wallace County, Kansas | 17 | 0.8040 | 0.8035 | 99917 | 99917 | 0.8038
17982 | Washington County, Kansas | 17 | 0.8040 | 0.8035 | 99917 | 99917 | 0.8038
17983 | Wichita County, Kansas | 17 | 0.8040 | 0.8035 | 99917 | 99917 | 0.8038
17984 | Wilson County, Kansas | 17 | 0.8040 | 0.8035 | 99917 | 99917 | 0.8038
17985 | Woodson County, Kansas | 17 | 0.8040 | 0.8035 | 99917 | 99917 | 0.8038
17986 | Wyandotte County, Kansas | 3760 | 0.9490 | 0.9476 | 28140 | 50252 | 0.9483
18000 | Adair County, Kentucky | 18 | 0.7858 | 0.7766 | 99918 | 50054 | 0.7812
18010 | Allen County, Kentucky | 18 | 0.7858 | 0.7766 | 99918 | 50054 | 0.7812
18020 | Anderson County, Kentucky | 18 | 0.7858 | 0.7766 | 99918 | 50054 | 0.7812
18030 | Ballard County, Kentucky | 18 | 0.7858 | 0.7766 | 99918 | 50054 | 0.7812
18040 | Barren County, Kentucky | 18 | 0.7858 | 0.7766 | 99918 | 50054 | 0.7812
18050 | Bath County, Kentucky | 18 | 0.7858 | 0.7766 | 99918 | 50054 | 0.7812
18060 | Bell County, Kentucky | 18 | 0.7858 | 0.7766 | 99918 | 50054 | 0.7812
18070 | Boone County, Kentucky | 1640 | 0.9734 | 0.9615 | 17140 | 50197 | 0.9675
18080 | Bourbon County, Kentucky | 4280 | 0.8988 | 0.9075 | 30460 | 30460 | 0.9032
18090 | Boyd County, Kentucky | 3400 | 0.9477 | 0.9477 | 26580 | 26580 | 0.9477
18100 | Boyle County, Kentucky | 18 | 0.7858 | 0.7766 | 99918 | 50054 | 0.7812
18110 | Bracken County, Kentucky | 18 | 0.7858 | 0.9615 | 17140 | 50055 | 0.8737
18120 | Breathitt County, Kentucky | 18 | 0.7858 | 0.7766 | 99918 | 50054 | 0.7812
18130 | Breckinridge County, Kentucky | 18 | 0.7858 | 0.7766 | 99918 | 50054 | 0.7812
18140 | Bullitt County, Kentucky | 4520 | 0.9293 | 0.9251 | 31140 | 50269 | 0.9272
18150 | Butler County, Kentucky | 18 | 0.7858 | 0.7766 | 99918 | 50054 | 0.7812
18160 | Caldwell County, Kentucky | 18 | 0.7858 | 0.7766 | 99918 | 50054 | 0.7812
18170 | Calloway County, Kentucky | 18 | 0.7858 | 0.7766 | 99918 | 50054 | 0.7812
18180 | Campbell County, Kentucky | 1640 | 0.9734 | 0.9615 | 17140 | 50197 | 0.9675
18190 | Carlisle County, Kentucky | 18 | 0.7858 | 0.7766 | 99918 | 50054 | 0.7812
18191 | Carroll County, Kentucky | 18 | 0.7858 | 0.7766 | 99918 | 50054 | 0.7812
18210 | Carter County, Kentucky | 3400 | 0.9477 | 0.7766 | 99918 | 50243 | 0.8622
18220 | Casey County, Kentucky | 18 | 0.7858 | 0.7766 | 99918 | 50054 | 0.7812
18230 | Christian County, Kentucky | 1660 | 0.8284 | 0.8284 | 17300 | 50198 | 0.8284
18240 | Clark County, Kentucky | 4280 | 0.8988 | 0.9075 | 30460 | 30460 | 0.9032
18250 | Clay County, Kentucky | 18 | 0.7858 | 0.7766 | 99918 | 50054 | 0.7812
18260 | Clinton County, Kentucky | 18 | 0.7858 | 0.7766 | 99918 | 50054 | 0.7812
18270 | Crittenden County, Kentucky | 18 | 0.7858 | 0.7766 | 99918 | 50054 | 0.7812
18271 | Cumberland County, Kentucky | 18 | 0.7858 | 0.7766 | 99918 | 50054 | 0.7812
18290 | Daviess County, Kentucky | 5990 | 0.8780 | 0.8780 | 36980 | 50296 | 0.8780
18291 | Edmonson County, Kentucky | 18 | 0.7858 | 0.8211 | 14540 | 14540 | 0.8035
18310 | Elliott County, Kentucky | 18 | 0.7858 | 0.7766 | 99918 | 50054 | 0.7812
18320 | Estill County, Kentucky | 18 | 0.7858 | 0.7766 | 99918 | 50054 | 0.7812
18330 | Fayette County, Kentucky | 4280 | 0.8988 | 0.9075 | 30460 | 30460 | 0.9032
18340 | Fleming County, Kentucky | 18 | 0.7858 | 0.7766 | 99918 | 50054 | 0.7812
18350 | Floyd County, Kentucky | 18 | 0.7858 | 0.7766 | 99918 | 50054 | 0.7812
18360 | Franklin County, Kentucky | 18 | 0.7858 | 0.7766 | 99918 | 50054 | 0.7812
18361 | Fulton County, Kentucky | 18 | 0.7858 | 0.7766 | 99918 | 50054 | 0.7812
18362 | Gallatin County, Kentucky | 1640 | 0.9734 | 0.9615 | 17140 | 50197 | 0.9675
18390 | Garrard County, Kentucky | 18 | 0.7858 | 0.7766 | 99918 | 50054 | 0.7812
18400 | Grant County, Kentucky | 1640 | 0.9734 | 0.9615 | 17140 | 50197 | 0.9675
18410 | Graves County, Kentucky | 18 | 0.7858 | 0.7766 | 99918 | 50054 | 0.7812
18420 | Grayson County, Kentucky | 18 | 0.7858 | 0.7766 | 99918 | 50054 | 0.7812
18421 | Green County, Kentucky | 18 | 0.7858 | 0.7766 | 99918 | 50054 | 0.7812
18440 | Greenup County, Kentucky | 3400 | 0.9477 | 0.9477 | 26580 | 26580 | 0.9477
18450 | Hancock County, Kentucky | 18 | 0.7858 | 0.8780 | 36980 | 50059 | 0.8319
18460 | Hardin County, Kentucky | 18 | 0.7858 | 0.8802 | 21060 | 21060 | 0.8330
18470 | Harlan County, Kentucky | 18 | 0.7858 | 0.7766 | 99918 | 50054 | 0.7812
18480 | Harrison County, Kentucky | 18 | 0.7858 | 0.7766 | 99918 | 50054 | 0.7812
18490 | Hart County, Kentucky | 18 | 0.7858 | 0.7766 | 99918 | 50054 | 0.7812
18500 | Henderson County, Kentucky | 2440 | 0.8713 | 0.8713 | 21780 | 50219 | 0.8713
18510 | Henry County, Kentucky | 18 | 0.7858 | 0.9251 | 31140 | 50058 | 0.8555
18511 | Hickman County, Kentucky | 18 | 0.7858 | 0.7766 | 99918 | 50054 | 0.7812
18530 | Hopkins County, Kentucky | 18 | 0.7858 | 0.7766 | 99918 | 50054 | 0.7812
18540 | Jackson County, Kentucky | 18 | 0.7858 | 0.7766 | 99918 | 50054 | 0.7812
18550 | Jefferson County, Kentucky | 4520 | 0.9293 | 0.9251 | 31140 | 50269 | 0.9272
18560 | Jessamine County, Kentucky | 4280 | 0.8988 | 0.9075 | 30460 | 30460 | 0.9032
18570 | Johnson County, Kentucky | 18 | 0.7858 | 0.7766 | 99918 | 50054 | 0.7812
18580 | Kenton County, Kentucky | 1640 | 0.9734 | 0.9615 | 17140 | 50197 | 0.9675
18590 | Knott County, Kentucky | 18 | 0.7858 | 0.7766 | 99918 | 50054 | 0.7812
18600 | Knox County, Kentucky | 18 | 0.7858 | 0.7766 | 99918 | 50054 | 0.7812
18610 | Larue County, Kentucky | 18 | 0.7858 | 0.8802 | 21060 | 21060 | 0.8330
18620 | Laurel County, Kentucky | 18 | 0.7858 | 0.7766 | 99918 | 50054 | 0.7812
18630 | Lawrence County, Kentucky | 18 | 0.7858 | 0.7766 | 99918 | 50054 | 0.7812
18640 | Lee County, Kentucky | 18 | 0.7858 | 0.7766 | 99918 | 50054 | 0.7812
18650 | Leslie County, Kentucky | 18 | 0.7858 | 0.7766 | 99918 | 50054 | 0.7812
18660 | Letcher County, Kentucky | 18 | 0.7858 | 0.7766 | 99918 | 50054 | 0.7812
18670 | Lewis County, Kentucky | 18 | 0.7858 | 0.7766 | 99918 | 50054 | 0.7812
18680 | Lincoln County, Kentucky | 18 | 0.7858 | 0.7766 | 99918 | 50054 | 0.7812
18690 | Livingston County, Kentucky | 18 | 0.7858 | 0.7766 | 99918 | 50054 | 0.7812
18700 | Logan County, Kentucky | 18 | 0.7858 | 0.7766 | 99918 | 50054 | 0.7812
18710 | Lyon County, Kentucky | 18 | 0.7858 | 0.7766 | 99918 | 50054 | 0.7812
18720 | Mc Cracken County, Kentucky | 18 | 0.7858 | 0.7766 | 99918 | 50054 | 0.7812
18730 | Mc Creary County, Kentucky | 18 | 0.7858 | 0.7766 | 99918 | 50054 | 0.7812
18740 | Mc Lean County, Kentucky | 18 | 0.7858 | 0.8780 | 36980 | 50059 | 0.8319
18750 | Madison County, Kentucky | 4280 | 0.8988 | 0.7766 | 99918 | 50262 | 0.8377
18760 | Magoffin County, Kentucky | 18 | 0.7858 | 0.7766 | 99918 | 50054 | 0.7812
18770 | Marion County, Kentucky | 18 | 0.7858 | 0.7766 | 99918 | 50054 | 0.7812
18780 | Marshall County, Kentucky | 18 | 0.7858 | 0.7766 | 99918 | 50054 | 0.7812
18790 | Martin County, Kentucky | 18 | 0.7858 | 0.7766 | 99918 | 50054 | 0.7812
18800 | Mason County, Kentucky | 18 | 0.7858 | 0.7766 | 99918 | 50054 | 0.7812
18801 | Meade County, Kentucky | 18 | 0.7858 | 0.9251 | 31140 | 50058 | 0.8555
18802 | Menifee County, Kentucky | 18 | 0.7858 | 0.7766 | 99918 | 50054 | 0.7812
18830 | Mercer County, Kentucky | 18 | 0.7858 | 0.7766 | 99918 | 50054 | 0.7812
18831 | Metcalfe County, Kentucky | 18 | 0.7858 | 0.7766 | 99918 | 50054 | 0.7812
18850 | Monroe County, Kentucky | 18 | 0.7858 | 0.7766 | 99918 | 50054 | 0.7812
18860 | Montgomery County, Kentucky | 18 | 0.7858 | 0.7766 | 99918 | 50054 | 0.7812
18861 | Morgan County, Kentucky | 18 | 0.7858 | 0.7766 | 99918 | 50054 | 0.7812
18880 | Muhlenberg County, Kentucky | 18 | 0.7858 | 0.7766 | 99918 | 50054 | 0.7812
18890 | Nelson County, Kentucky | 18 | 0.7858 | 0.9251 | 31140 | 50058 | 0.8555
18900 | Nicholas County, Kentucky | 18 | 0.7858 | 0.7766 | 99918 | 50054 | 0.7812
18910 | Ohio County, Kentucky | 18 | 0.7858 | 0.7766 | 99918 | 50054 | 0.7812
18920 | Oldham County, Kentucky | 4520 | 0.9293 | 0.9251 | 31140 | 50269 | 0.9272
18930 | Owen County, Kentucky | 18 | 0.7858 | 0.7766 | 99918 | 50054 | 0.7812
18931 | Owsley County, Kentucky | 18 | 0.7858 | 0.7766 | 99918 | 50054 | 0.7812
18932 | Pendleton County, Kentucky | 1640 | 0.9734 | 0.9615 | 17140 | 50197 | 0.9675
18960 | Perry County, Kentucky | 18 | 0.7858 | 0.7766 | 99918 | 50054 | 0.7812
18970 | Pike County, Kentucky | 18 | 0.7858 | 0.7766 | 99918 | 50054 | 0.7812
18971 | Powell County, Kentucky | 18 | 0.7858 | 0.7766 | 99918 | 50054 | 0.7812
18972 | Pulaski County, Kentucky | 18 | 0.7858 | 0.7766 | 99918 | 50054 | 0.7812
18973 | Robertson County, Kentucky | 18 | 0.7858 | 0.7766 | 99918 | 50054 | 0.7812
18974 | Rockcastle County, Kentucky | 18 | 0.7858 | 0.7766 | 99918 | 50054 | 0.7812
18975 | Rowan County, Kentucky | 18 | 0.7858 | 0.7766 | 99918 | 50054 | 0.7812
18976 | Russell County, Kentucky | 18 | 0.7858 | 0.7766 | 99918 | 50054 | 0.7812
18977 | Scott County, Kentucky | 4280 | 0.8988 | 0.9075 | 30460 | 30460 | 0.9032
18978 | Shelby County, Kentucky | 18 | 0.7858 | 0.9251 | 31140 | 50058 | 0.8555
18979 | Simpson County, Kentucky | 18 | 0.7858 | 0.7766 | 99918 | 50054 | 0.7812
18980 | Spencer County, Kentucky | 18 | 0.7858 | 0.9251 | 31140 | 50058 | 0.8555
18981 | Taylor County, Kentucky | 18 | 0.7858 | 0.7766 | 99918 | 50054 | 0.7812
18982 | Todd County, Kentucky | 18 | 0.7858 | 0.7766 | 99918 | 50054 | 0.7812
18983 | Trigg County, Kentucky | 18 | 0.7858 | 0.8284 | 17300 | 50056 | 0.8071
18984 | Trimble County, Kentucky | 18 | 0.7858 | 0.9251 | 31140 | 50058 | 0.8555
18985 | Union County, Kentucky | 18 | 0.7858 | 0.7766 | 99918 | 50054 | 0.7812
18986 | Warren County, Kentucky | 18 | 0.7858 | 0.8211 | 14540 | 14540 | 0.8035
18987 | Washington County, Kentucky | 18 | 0.7858 | 0.7766 | 99918 | 50054 | 0.7812
18988 | Wayne County, Kentucky | 18 | 0.7858 | 0.7766 | 99918 | 50054 | 0.7812
18989 | Webster County, Kentucky | 18 | 0.7858 | 0.8713 | 21780 | 50057 | 0.8286
18990 | Whitley County, Kentucky | 18 | 0.7858 | 0.7766 | 99918 | 50054 | 0.7812
18991 | Wolfe County, Kentucky | 18 | 0.7858 | 0.7766 | 99918 | 50054 | 0.7812
18992 | Woodford County, Kentucky | 4280 | 0.8988 | 0.9075 | 30460 | 30460 | 0.9032
19000 | Acadia County, Louisiana | 3880 | 0.8251 | 0.7411 | 99919 | 50256 | 0.7831
19010 | Allen County, Louisiana | 19 | 0.7340 | 0.7411 | 99919 | 50060 | 0.7376
19020 | Ascension County, Louisiana | 0760 | 0.8643 | 0.8593 | 12940 | 50177 | 0.8618
19030 | Assumption County, Louisiana | 19 | 0.7340 | 0.7411 | 99919 | 50060 | 0.7376
19040 | Avoyelles County, Louisiana | 19 | 0.7340 | 0.7411 | 99919 | 50060 | 0.7376
19050 | Beauregard County, Louisiana | 19 | 0.7340 | 0.7411 | 99919 | 50060 | 0.7376
19060 | Bienville County, Louisiana | 19 | 0.7340 | 0.7411 | 99919 | 50060 | 0.7376
19070 | Bossier County, Louisiana | 7680 | 0.8737 | 0.8760 | 43340 | 50330 | 0.8749
19080 | Caddo County, Louisiana | 7680 | 0.8737 | 0.8760 | 43340 | 50330 | 0.8749
19090 | Calcasieu County, Louisiana | 3960 | 0.7858 | 0.7833 | 29340 | 50259 | 0.7846
19100 | Caldwell County, Louisiana | 19 | 0.7340 | 0.7411 | 99919 | 50060 | 0.7376
19110 | Cameron County, Louisiana | 19 | 0.7340 | 0.7833 | 29340 | 50063 | 0.7587
19120 | Catahoula County, Louisiana | 19 | 0.7340 | 0.7411 | 99919 | 50060 | 0.7376
19130 | Claiborne County, Louisiana | 19 | 0.7340 | 0.7411 | 99919 | 50060 | 0.7376
19140 | Concordia County, Louisiana | 19 | 0.7340 | 0.7411 | 99919 | 50060 | 0.7376
19150 | De Soto County, Louisiana | 19 | 0.7340 | 0.8760 | 43340 | 50065 | 0.8050
19160 | East Baton Rouge County, Louisiana | 0760 | 0.8643 | 0.8593 | 12940 | 50177 | 0.8618
19170 | East Carroll County, Louisiana | 19 | 0.7340 | 0.7411 | 99919 | 50060 | 0.7376
19180 | East Feliciana County, Louisiana | 19 | 0.7340 | 0.8593 | 12940 | 50062 | 0.7967
19190 | Evangeline County, Louisiana | 19 | 0.7340 | 0.7411 | 99919 | 50060 | 0.7376
19200 | Franklin County, Louisiana | 19 | 0.7340 | 0.7411 | 99919 | 50060 | 0.7376
19210 | Grant County, Louisiana | 19 | 0.7340 | 0.8033 | 10780 | 50061 | 0.7687
19220 | Iberia County, Louisiana | 19 | 0.7340 | 0.7411 | 99919 | 50060 | 0.7376
19230 | Iberville County, Louisiana | 19 | 0.7340 | 0.8593 | 12940 | 50062 | 0.7967
19240 | Jackson County, Louisiana | 19 | 0.7340 | 0.7411 | 99919 | 50060 | 0.7376
19250 | Jefferson County, Louisiana | 5560 | 0.8995 | 0.8995 | 35380 | 35380 | 0.8995
19260 | Jefferson Davis County, Louisiana | 19 | 0.7340 | 0.7411 | 99919 | 50060 | 0.7376
19270 | Lafayette County, Louisiana | 3880 | 0.8251 | 0.8428 | 29180 | 29180 | 0.8340
19280 | Lafourche County, Louisiana | 3350 | 0.7894 | 0.7894 | 26380 | 26380 | 0.7894
19290 | La Salle County, Louisiana | 19 | 0.7340 | 0.7411 | 99919 | 50060 | 0.7376
19300 | Lincoln County, Louisiana | 19 | 0.7340 | 0.7411 | 99919 | 50060 | 0.7376
19310 | Livingston County, Louisiana | 0760 | 0.8643 | 0.8593 | 12940 | 50177 | 0.8618
19320 | Madison County, Louisiana | 19 | 0.7340 | 0.7411 | 99919 | 50060 | 0.7376
19330 | Morehouse County, Louisiana | 19 | 0.7340 | 0.7411 | 99919 | 50060 | 0.7376
19340 | Natchitoches County, Louisiana | 19 | 0.7340 | 0.7411 | 99919 | 50060 | 0.7376
19350 | Orleans County, Louisiana | 5560 | 0.8995 | 0.8995 | 35380 | 35380 | 0.8995
19360 | Ouachita County, Louisiana | 5200 | 0.8044 | 0.8031 | 33740 | 50283 | 0.8038
19370 | Plaquemines County, Louisiana | 5560 | 0.8995 | 0.8995 | 35380 | 35380 | 0.8995
19380 | Pointe Coupee County, Louisiana | 19 | 0.7340 | 0.8593 | 12940 | 50062 | 0.7967
19390 | Rapides County, Louisiana | 0220 | 0.8033 | 0.8033 | 10780 | 50166 | 0.8033
19400 | Red River County, Louisiana | 19 | 0.7340 | 0.7411 | 99919 | 50060 | 0.7376
19410 | Richland County, Louisiana | 19 | 0.7340 | 0.7411 | 99919 | 50060 | 0.7376
19420 | Sabine County, Louisiana | 19 | 0.7340 | 0.7411 | 99919 | 50060 | 0.7376
19430 | St Bernard County, Louisiana | 5560 | 0.8995 | 0.8995 | 35380 | 35380 | 0.8995
19440 | St Charles County, Louisiana | 5560 | 0.8995 | 0.8995 | 35380 | 35380 | 0.8995
19450 | St Helena County, Louisiana | 19 | 0.7340 | 0.8593 | 12940 | 50062 | 0.7967
19460 | St James County, Louisiana | 5560 | 0.8995 | 0.7411 | 99919 | 50286 | 0.8203
19470 | St John Baptist County, Louisiana | 5560 | 0.8995 | 0.8995 | 35380 | 35380 | 0.8995
19480 | St Landry County, Louisiana | 3880 | 0.8251 | 0.7411 | 99919 | 50256 | 0.7831
19490 | St Martin County, Louisiana | 3880 | 0.8251 | 0.8428 | 29180 | 29180 | 0.8340
19500 | St Mary County, Louisiana | 19 | 0.7340 | 0.7411 | 99919 | 50060 | 0.7376
19510 | St Tammany County, Louisiana | 5560 | 0.8995 | 0.8995 | 35380 | 35380 | 0.8995
19520 | Tangipahoa County, Louisiana | 19 | 0.7340 | 0.7411 | 99919 | 50060 | 0.7376
19530 | Tensas County, Louisiana | 19 | 0.7340 | 0.7411 | 99919 | 50060 | 0.7376
19540 | Terrebonne County, Louisiana | 3350 | 0.7894 | 0.7894 | 26380 | 26380 | 0.7894
19550 | Union County, Louisiana | 19 | 0.7340 | 0.8031 | 33740 | 50064 | 0.7686
19560 | Vermilion County, Louisiana | 19 | 0.7340 | 0.7411 | 99919 | 50060 | 0.7376
19570 | Vernon County, Louisiana | 19 | 0.7340 | 0.7411 | 99919 | 50060 | 0.7376
19580 | Washington County, Louisiana | 19 | 0.7340 | 0.7411 | 99919 | 50060 | 0.7376
19590 | Webster County, Louisiana | 7680 | 0.8737 | 0.7411 | 99919 | 50329 | 0.8074
19600 | West Baton Rouge County, Louisiana | 0760 | 0.8643 | 0.8593 | 12940 | 50177 | 0.8618
19610 | West Carroll County, Louisiana | 19 | 0.7340 | 0.7411 | 99919 | 50060 | 0.7376
19620 | West Feliciana County, Louisiana | 19 | 0.7340 | 0.8593 | 12940 | 50062 | 0.7967
19630 | Winn County, Louisiana | 19 | 0.7340 | 0.7411 | 99919 | 50060 | 0.7376
20000 | Androscoggin County, Maine | 4243 | 0.9331 | 0.9331 | 30340 | 30340 | 0.9331
20010 | Aroostook County, Maine | 20 | 0.8843 | 0.8843 | 99920 | 99920 | 0.8843
20020 | Cumberland County, Maine | 6403 | 1.0382 | 1.0382 | 38860 | 38860 | 1.0382
20030 | Franklin County, Maine | 20 | 0.8843 | 0.8843 | 99920 | 99920 | 0.8843
20040 | Hancock County, Maine | 20 | 0.8843 | 0.8843 | 99920 | 99920 | 0.8843
20050 | Kennebec County, Maine | 20 | 0.8843 | 0.8843 | 99920 | 99920 | 0.8843
20060 | Knox County, Maine | 20 | 0.8843 | 0.8843 | 99920 | 99920 | 0.8843
20070 | Lincoln County, Maine | 20 | 0.8843 | 0.8843 | 99920 | 99920 | 0.8843
20080 | Oxford County, Maine | 20 | 0.8843 | 0.8843 | 99920 | 99920 | 0.8843
20090 | Penobscot County, Maine | 0733 | 0.9993 | 0.9993 | 12620 | 12620 | 0.9993
20100 | Piscataquis County, Maine | 20 | 0.8843 | 0.8843 | 99920 | 99920 | 0.8843
20110 | Sagadahoc County, Maine | 6403 | 1.0382 | 1.0382 | 38860 | 38860 | 1.0382
20120 | Somerset County, Maine | 20 | 0.8843 | 0.8843 | 99920 | 99920 | 0.8843
20130 | Waldo County, Maine | 20 | 0.8843 | 0.8843 | 99920 | 99920 | 0.8843
20140 | Washington County, Maine | 20 | 0.8843 | 0.8843 | 99920 | 99920 | 0.8843
20150 | York County, Maine | 6403 | 1.0382 | 1.0382 | 38860 | 38860 | 1.0382
21000 | Allegany County, Maryland | 1900 | 0.9317 | 0.9317 | 19060 | 19060 | 0.9317
21010 | Anne Arundel County, Maryland | 0720 | 0.9897 | 0.9897 | 12580 | 12580 | 0.9897
21020 | Baltimore County, Maryland | 0720 | 0.9897 | 0.9897 | 12580 | 12580 | 0.9897
21030 | Baltimore City County, Maryland | 0720 | 0.9897 | 0.9897 | 12580 | 12580 | 0.9897
21040 | Calvert County, Maryland | 8840 | 1.0976 | 1.0926 | 47894 | 47894 | 1.0951
21050 | Caroline County, Maryland | 21 | 0.9230 | 0.9353 | 99921 | 99921 | 0.9292
21060 | Carroll County, Maryland | 0720 | 0.9897 | 0.9897 | 12580 | 12580 | 0.9897
21070 | Cecil County, Maryland | 9160 | 1.0527 | 1.0471 | 48864 | 50349 | 1.0499
21080 | Charles County, Maryland | 8840 | 1.0976 | 1.0926 | 47894 | 47894 | 1.0951
21090 | Dorchester County, Maryland | 21 | 0.9230 | 0.9353 | 99921 | 99921 | 0.9292
21100 | Frederick County, Maryland | 8840 | 1.0976 | 1.1483 | 13644 | 13644 | 1.1230
21110 | Garrett County, Maryland | 21 | 0.9230 | 0.9353 | 99921 | 99921 | 0.9292
21120 | Harford County, Maryland | 0720 | 0.9897 | 0.9897 | 12580 | 12580 | 0.9897
21130 | Howard County, Maryland | 0720 | 0.9897 | 0.9897 | 12580 | 12580 | 0.9897
21140 | Kent County, Maryland | 21 | 0.9230 | 0.9353 | 99921 | 99921 | 0.9292
21150 | Montgomery County, Maryland | 8840 | 1.0976 | 1.1483 | 13644 | 13644 | 1.1230
21160 | Prince Georges County, Maryland | 8840 | 1.0976 | 1.0926 | 47894 | 47894 | 1.0951
21170 | Queen Annes County, Maryland | 0720 | 0.9897 | 0.9897 | 12580 | 12580 | 0.9897
21180 | St Marys County, Maryland | 21 | 0.9230 | 0.9353 | 99921 | 99921 | 0.9292
21190 | Somerset County, Maryland | 21 | 0.9230 | 0.9064 | 41540 | 41540 | 0.9147
21200 | Talbot County, Maryland | 21 | 0.9230 | 0.9353 | 99921 | 99921 | 0.9292
21210 | Washington County, Maryland | 3180 | 0.9869 | 0.9489 | 25180 | 50239 | 0.9679
21220 | Wicomico County, Maryland | 21 | 0.9230 | 0.9064 | 41540 | 41540 | 0.9147
21230 | Worcester County, Maryland | 21 | 0.9230 | 0.9353 | 99921 | 99921 | 0.9292
22000 | Barnstable County, Massachusetts | 0743 | 1.2600 | 1.2600 | 12700 | 12700 | 1.2600
22010 | Berkshire County, Massachusetts | 6323 | 1.0181 | 1.0181 | 38340 | 38340 | 1.0181
22020 | Bristol County, Massachusetts | 1123 | 1.1178 | 1.0966 | 39300 | 50185 | 1.1072
22030 | Dukes County, Massachusetts | 22 | 1.0216 | 1.0216 | 99922 | 99922 | 1.0216
22040 | Essex County, Massachusetts | 1123 | 1.1178 | 1.0538 | 21604 | 21604 | 1.0858
22060 | Franklin County, Massachusetts | 22 | 1.0216 | 1.0248 | 44140 | 50066 | 1.0232
22070 | Hampden County, Massachusetts | 8003 | 1.0263 | 1.0248 | 44140 | 50335 | 1.0256
22080 | Hampshire County, Massachusetts | 8003 | 1.0263 | 1.0248 | 44140 | 50335 | 1.0256
22090 | Middlesex County, Massachusetts | 1123 | 1.1178 | 1.1172 | 15764 | 15764 | 1.1175
22120 | Nantucket County, Massachusetts | 22 | 1.0216 | 1.0216 | 99922 | 99922 | 1.0216
22130 | Norfolk County, Massachusetts | 1123 | 1.1178 | 1.1558 | 14484 | 14484 | 1.1368
22150 | Plymouth County, Massachusetts | 1123 | 1.1178 | 1.1558 | 14484 | 14484 | 1.1368
22160 | Suffolk County, Massachusetts | 1123 | 1.1178 | 1.1558 | 14484 | 14484 | 1.1368
22170 | Worcester County, Massachusetts | 1123 | 1.1178 | 1.1028 | 49340 | 49340 | 1.1103
23000 | Alcona County, Michigan | 23 | 0.8824 | 0.8895 | 99923 | 50067 | 0.8860
23010 | Alger County, Michigan | 23 | 0.8824 | 0.8895 | 99923 | 50067 | 0.8860
23020 | Allegan County, Michigan | 3000 | 0.9445 | 0.8895 | 99923 | 50231 | 0.9170
23030 | Alpena County, Michigan | 23 | 0.8824 | 0.8895 | 99923 | 50067 | 0.8860
23040 | Antrim County, Michigan | 23 | 0.8824 | 0.8895 | 99923 | 50067 | 0.8860
23050 | Arenac County, Michigan | 23 | 0.8824 | 0.8895 | 99923 | 50067 | 0.8860
23060 | Baraga County, Michigan | 23 | 0.8824 | 0.8895 | 99923 | 50067 | 0.8860
23070 | Barry County, Michigan | 23 | 0.8824 | 0.9390 | 24340 | 50068 | 0.9107
23080 | Bay County, Michigan | 6960 | 0.9241 | 0.9343 | 13020 | 13020 | 0.9292
23090 | Benzie County, Michigan | 23 | 0.8824 | 0.8895 | 99923 | 50067 | 0.8860
23100 | Berrien County, Michigan | 0870 | 0.8879 | 0.8879 | 35660 | 35660 | 0.8879
23110 | Branch County, Michigan | 23 | 0.8824 | 0.8895 | 99923 | 50067 | 0.8860
23120 | Calhoun County, Michigan | 3720 | 1.0143 | 0.9508 | 12980 | 12980 | 0.9826
23130 | Cass County, Michigan | 23 | 0.8824 | 0.9788 | 43780 | 50069 | 0.9306
23140 | Charlevoix County, Michigan | 23 | 0.8824 | 0.8895 | 99923 | 50067 | 0.8860
23150 | Cheboygan County, Michigan | 23 | 0.8824 | 0.8895 | 99923 | 50067 | 0.8860
23160 | Chippewa County, Michigan | 23 | 0.8824 | 0.8895 | 99923 | 50067 | 0.8860
23170 | Clare County, Michigan | 23 | 0.8824 | 0.8895 | 99923 | 50067 | 0.8860
23180 | Clinton County, Michigan | 4040 | 0.9794 | 0.9794 | 29620 | 29620 | 0.9794
23190 | Crawford County, Michigan | 23 | 0.8824 | 0.8895 | 99923 | 50067 | 0.8860
23200 | Delta County, Michigan | 23 | 0.8824 | 0.8895 | 99923 | 50067 | 0.8860
23210 | Dickinson County, Michigan | 23 | 0.8824 | 0.8895 | 99923 | 50067 | 0.8860
23220 | Eaton County, Michigan | 4040 | 0.9794 | 0.9794 | 29620 | 29620 | 0.9794
23230 | Emmet County, Michigan | 23 | 0.8824 | 0.8895 | 99923 | 50067 | 0.8860
23240 | Genesee County, Michigan | 2640 | 1.0655 | 1.0655 | 22420 | 22420 | 1.0655
23250 | Gladwin County, Michigan | 23 | 0.8824 | 0.8895 | 99923 | 50067 | 0.8860
23260 | Gogebic County, Michigan | 23 | 0.8824 | 0.8895 | 99923 | 50067 | 0.8860
23270 | Grand Traverse County, Michigan | 23 | 0.8824 | 0.8895 | 99923 | 50067 | 0.8860
23280 | Gratiot County, Michigan | 23 | 0.8824 | 0.8895 | 99923 | 50067 | 0.8860
23290 | Hillsdale County, Michigan | 23 | 0.8824 | 0.8895 | 99923 | 50067 | 0.8860
23300 | Houghton County, Michigan | 23 | 0.8824 | 0.8895 | 99923 | 50067 | 0.8860
23310 | Huron County, Michigan | 23 | 0.8824 | 0.8895 | 99923 | 50067 | 0.8860
23320 | Ingham County, Michigan | 4040 | 0.9794 | 0.9794 | 29620 | 29620 | 0.9794
23330 | Ionia County, Michigan | 23 | 0.8824 | 0.9390 | 24340 | 50068 | 0.9107
23340 | Iosco County, Michigan | 23 | 0.8824 | 0.8895 | 99923 | 50067 | 0.8860
23350 | Iron County, Michigan | 23 | 0.8824 | 0.8895 | 99923 | 50067 | 0.8860
23360 | Isabella County, Michigan | 23 | 0.8824 | 0.8895 | 99923 | 50067 | 0.8860
23370 | Jackson County, Michigan | 3520 | 0.9304 | 0.9304 | 27100 | 27100 | 0.9304
23380 | Kalamazoo County, Michigan | 3720 | 1.0143 | 1.0381 | 28020 | 28020 | 1.0262
23390 | Kalkaska County, Michigan | 23 | 0.8824 | 0.8895 | 99923 | 50067 | 0.8860
23400 | Kent County, Michigan | 3000 | 0.9445 | 0.9390 | 24340 | 50232 | 0.9418
23410 | Keweenaw County, Michigan | 23 | 0.8824 | 0.8895 | 99923 | 50067 | 0.8860
23420 | Lake County, Michigan | 23 | 0.8824 | 0.8895 | 99923 | 50067 | 0.8860
23430 | Lapeer County, Michigan | 2160 | 1.0147 | 0.9871 | 47644 | 50213 | 1.0009
23440 | Leelanau County, Michigan | 23 | 0.8824 | 0.8895 | 99923 | 50067 | 0.8860
23450 | Lenawee County, Michigan | 0440 | 1.0707 | 0.8895 | 99923 | 50170 | 0.9801
23460 | Livingston County, Michigan | 0440 | 1.0707 | 0.9871 | 47644 | 50171 | 1.0289
23470 | Luce County, Michigan | 23 | 0.8824 | 0.8895 | 99923 | 50067 | 0.8860
23480 | Mackinac County, Michigan | 23 | 0.8824 | 0.8895 | 99923 | 50067 | 0.8860
23490 | Macomb County, Michigan | 2160 | 1.0147 | 0.9871 | 47644 | 50213 | 1.0009
23500 | Manistee County, Michigan | 23 | 0.8824 | 0.8895 | 99923 | 50067 | 0.8860
23510 | Marquette County, Michigan | 23 | 0.8824 | 0.8895 | 99923 | 50067 | 0.8860
23520 | Mason County, Michigan | 23 | 0.8824 | 0.8895 | 99923 | 50067 | 0.8860
23530 | Mecosta County, Michigan | 23 | 0.8824 | 0.8895 | 99923 | 50067 | 0.8860
23540 | Menominee County, Michigan | 23 | 0.8824 | 0.8895 | 99923 | 50067 | 0.8860
23550 | Midland County, Michigan | 6960 | 0.9241 | 0.8895 | 99923 | 50316 | 0.9068
23560 | Missaukee County, Michigan | 23 | 0.8824 | 0.8895 | 99923 | 50067 | 0.8860
23570 | Monroe County, Michigan | 2160 | 1.0147 | 0.9468 | 33780 | 33780 | 0.9808
23580 | Montcalm County, Michigan | 23 | 0.8824 | 0.8895 | 99923 | 50067 | 0.8860
23590 | Montmorency County, Michigan | 23 | 0.8824 | 0.8895 | 99923 | 50067 | 0.8860
23600 | Muskegon County, Michigan | 3000 | 0.9445 | 0.9664 | 34740 | 34740 | 0.9555
23610 | Newaygo County, Michigan | 23 | 0.8824 | 0.9390 | 24340 | 50068 | 0.9107
23620 | Oakland County, Michigan | 2160 | 1.0147 | 0.9871 | 47644 | 50213 | 1.0009
23630 | Oceana County, Michigan | 23 | 0.8824 | 0.8895 | 99923 | 50067 | 0.8860
23640 | Ogemaw County, Michigan | 23 | 0.8824 | 0.8895 | 99923 | 50067 | 0.8860
23650 | Ontonagon County, Michigan | 23 | 0.8824 | 0.8895 | 99923 | 50067 | 0.8860
23660 | Osceola County, Michigan | 23 | 0.8824 | 0.8895 | 99923 | 50067 | 0.8860
23670 | Oscoda County, Michigan | 23 | 0.8824 | 0.8895 | 99923 | 50067 | 0.8860
23680 | Otsego County, Michigan | 23 | 0.8824 | 0.8895 | 99923 | 50067 | 0.8860
23690 | Ottawa County, Michigan | 3000 | 0.9445 | 0.9055 | 26100 | 26100 | 0.9250
23700 | Presque Isle County, Michigan | 23 | 0.8824 | 0.8895 | 99923 | 50067 | 0.8860
23710 | Roscommon County, Michigan | 23 | 0.8824 | 0.8895 | 99923 | 50067 | 0.8860
23720 | Saginaw County, Michigan | 6960 | 0.9241 | 0.9088 | 40980 | 40980 | 0.9165
23730 | St Clair County, Michigan | 2160 | 1.0147 | 0.9871 | 47644 | 50213 | 1.0009
23740 | St Joseph County, Michigan | 23 | 0.8824 | 0.8895 | 99923 | 50067 | 0.8860
23750 | Sanilac County, Michigan | 23 | 0.8824 | 0.8895 | 99923 | 50067 | 0.8860
23760 | Schoolcraft County, Michigan | 23 | 0.8824 | 0.8895 | 99923 | 50067 | 0.8860
23770 | Shiawassee County, Michigan | 23 | 0.8824 | 0.8895 | 99923 | 50067 | 0.8860
23780 | Tuscola County, Michigan | 23 | 0.8824 | 0.8895 | 99923 | 50067 | 0.8860
23790 | Van Buren County, Michigan | 3720 | 1.0143 | 1.0381 | 28020 | 28020 | 1.0262
23800 | Washtenaw County, Michigan | 0440 | 1.0707 | 1.0859 | 11460 | 11460 | 1.0783
23810 | Wayne County, Michigan | 2160 | 1.0147 | 1.0424 | 19804 | 19804 | 1.0286
23830 | Wexford County, Michigan | 23 | 0.8824 | 0.8895 | 99923 | 50067 | 0.8860
24000 | Aitkin County, Minnesota | 24 | 0.9132 | 0.9132 | 99924 | 99924 | 0.9132
24010 | Anoka County, Minnesota | 5120 | 1.1075 | 1.1075 | 33460 | 33460 | 1.1075
24020 | Becker County, Minnesota | 24 | 0.9132 | 0.9132 | 99924 | 99924 | 0.9132
24030 | Beltrami County, Minnesota | 24 | 0.9132 | 0.9132 | 99924 | 99924 | 0.9132
24040 | Benton County, Minnesota | 6980 | 0.9965 | 0.9965 | 41060 | 41060 | 0.9965
24050 | Big Stone County, Minnesota | 24 | 0.9132 | 0.9132 | 99924 | 99924 | 0.9132
24060 | Blue Earth County, Minnesota | 24 | 0.9132 | 0.9132 | 99924 | 99924 | 0.9132
24070 | Brown County, Minnesota | 24 | 0.9132 | 0.9132 | 99924 | 99924 | 0.9132
24080 | Carlton County, Minnesota | 24 | 0.9132 | 1.0213 | 20260 | 50070 | 0.9673
24090 | Carver County, Minnesota | 5120 | 1.1075 | 1.1075 | 33460 | 33460 | 1.1075
24100 | Cass County, Minnesota | 24 | 0.9132 | 0.9132 | 99924 | 99924 | 0.9132
24110 | Chippewa County, Minnesota | 24 | 0.9132 | 0.9132 | 99924 | 99924 | 0.9132
24120 | Chisago County, Minnesota | 5120 | 1.1075 | 1.1075 | 33460 | 33460 | 1.1075
24130 | Clay County, Minnesota | 2520 | 0.8486 | 0.8486 | 22020 | 22020 | 0.8486
24140 | Clearwater County, Minnesota | 24 | 0.9132 | 0.9132 | 99924 | 99924 | 0.9132
24150 | Cook County, Minnesota | 24 | 0.9132 | 0.9132 | 99924 | 99924 | 0.9132
24160 | Cottonwood County, Minnesota | 24 | 0.9132 | 0.9132 | 99924 | 99924 | 0.9132
24170 | Crow Wing County, Minnesota | 24 | 0.9132 | 0.9132 | 99924 | 99924 | 0.9132
24180 | Dakota County, Minnesota | 5120 | 1.1075 | 1.1075 | 33460 | 33460 | 1.1075
24190 | Dodge County, Minnesota | 24 | 0.9132 | 1.1131 | 40340 | 50071 | 1.0132
24200 | Douglas County, Minnesota | 24 | 0.9132 | 0.9132 | 99924 | 99924 | 0.9132
24210 | Faribault County, Minnesota | 24 | 0.9132 | 0.9132 | 99924 | 99924 | 0.9132
24220 | Fillmore County, Minnesota | 24 | 0.9132 | 0.9132 | 99924 | 99924 | 0.9132
24230 | Freeborn County, Minnesota | 24 | 0.9132 | 0.9132 | 99924 | 99924 | 0.9132
24240 | Goodhue County, Minnesota | 24 | 0.9132 | 0.9132 | 99924 | 99924 | 0.9132
24250 | Grant County, Minnesota | 24 | 0.9132 | 0.9132 | 99924 | 99924 | 0.9132
24260 | Hennepin County, Minnesota | 5120 | 1.1075 | 1.1075 | 33460 | 33460 | 1.1075
24270 | Houston County, Minnesota | 3870 | 0.9564 | 0.9564 | 29100 | 29100 | 0.9564
24280 | Hubbard County, Minnesota | 24 | 0.9132 | 0.9132 | 99924 | 99924 | 0.9132
24290 | Isanti County, Minnesota | 5120 | 1.1075 | 1.1075 | 33460 | 33460 | 1.1075
24300 | Itasca County, Minnesota | 24 | 0.9132 | 0.9132 | 99924 | 99924 | 0.9132
24310 | Jackson County, Minnesota | 24 | 0.9132 | 0.9132 | 99924 | 99924 | 0.9132
24320 | Kanabec County, Minnesota | 24 | 0.9132 | 0.9132 | 99924 | 99924 | 0.9132
24330 | Kandiyohi County, Minnesota | 24 | 0.9132 | 0.9132 | 99924 | 99924 | 0.9132
24340 | Kittson County, Minnesota | 24 | 0.9132 | 0.9132 | 99924 | 99924 | 0.9132
24350 | Koochiching County, Minnesota | 24 | 0.9132 | 0.9132 | 99924 | 99924 | 0.9132
24360 | Lac Qui Parle County, Minnesota | 24 | 0.9132 | 0.9132 | 99924 | 99924 | 0.9132
24370 | Lake County, Minnesota | 24 | 0.9132 | 0.9132 | 99924 | 99924 | 0.9132
24380 | Lake Of Woods County, Minnesota | 24 | 0.9132 | 0.9132 | 99924 | 99924 | 0.9132
24390 | Le Sueur County, Minnesota | 24 | 0.9132 | 0.9132 | 99924 | 99924 | 0.9132
24400 | Lincoln County, Minnesota | 24 | 0.9132 | 0.9132 | 99924 | 99924 | 0.9132
24410 | Lyon County, Minnesota | 24 | 0.9132 | 0.9132 | 99924 | 99924 | 0.9132
24420 | Mc Leod County, Minnesota | 24 | 0.9132 | 0.9132 | 99924 | 99924 | 0.9132
24430 | Mahnomen County, Minnesota | 24 | 0.9132 | 0.9132 | 99924 | 99924 | 0.9132
24440 | Marshall County, Minnesota | 24 | 0.9132 | 0.9132 | 99924 | 99924 | 0.9132
24450 | Martin County, Minnesota | 24 | 0.9132 | 0.9132 | 99924 | 99924 | 0.9132
24460 | Meeker County, Minnesota | 24 | 0.9132 | 0.9132 | 99924 | 99924 | 0.9132
24470 | Mille Lacs County, Minnesota | 24 | 0.9132 | 0.9132 | 99924 | 99924 | 0.9132
24480 | Morrison County, Minnesota | 24 | 0.9132 | 0.9132 | 99924 | 99924 | 0.9132
24490 | Mower County, Minnesota | 24 | 0.9132 | 0.9132 | 99924 | 99924 | 0.9132
24500 | Murray County, Minnesota | 24 | 0.9132 | 0.9132 | 99924 | 99924 | 0.9132
24510 | Nicollet County, Minnesota | 24 | 0.9132 | 0.9132 | 99924 | 99924 | 0.9132
24520 | Nobles County, Minnesota | 24 | 0.9132 | 0.9132 | 99924 | 99924 | 0.9132
24530 | Norman County, Minnesota | 24 | 0.9132 | 0.9132 | 99924 | 99924 | 0.9132
24540 | Olmsted County, Minnesota | 6820 | 1.1131 | 1.1131 | 40340 | 50312 | 1.1131
24550 | Otter Tail County, Minnesota | 24 | 0.9132 | 0.9132 | 99924 | 99924 | 0.9132
24560 | Pennington County, Minnesota | 24 | 0.9132 | 0.9132 | 99924 | 99924 | 0.9132
24570 | Pine County, Minnesota | 24 | 0.9132 | 0.9132 | 99924 | 99924 | 0.9132
24580 | Pipestone County, Minnesota | 24 | 0.9132 | 0.9132 | 99924 | 99924 | 0.9132
24590 | Polk County, Minnesota | 2985 | 0.7901 | 0.7901 | 24220 | 24220 | 0.7901
24600 | Pope County, Minnesota | 24 | 0.9132 | 0.9132 | 99924 | 99924 | 0.9132
24610 | Ramsey County, Minnesota | 5120 | 1.1075 | 1.1075 | 33460 | 33460 | 1.1075
24620 | Red Lake County, Minnesota | 24 | 0.9132 | 0.9132 | 99924 | 99924 | 0.9132
24630 | Redwood County, Minnesota | 24 | 0.9132 | 0.9132 | 99924 | 99924 | 0.9132
24640 | Renville County, Minnesota | 24 | 0.9132 | 0.9132 | 99924 | 99924 | 0.9132
24650 | Rice County, Minnesota | 24 | 0.9132 | 0.9132 | 99924 | 99924 | 0.9132
24660 | Rock County, Minnesota | 24 | 0.9132 | 0.9132 | 99924 | 99924 | 0.9132
24670 | Roseau County, Minnesota | 24 | 0.9132 | 0.9132 | 99924 | 99924 | 0.9132
24680 | St Louis County, Minnesota | 2240 | 1.0213 | 1.0213 | 20260 | 50216 | 1.0213
24690 | Scott County, Minnesota | 5120 | 1.1075 | 1.1075 | 33460 | 33460 | 1.1075
24700 | Sherburne County, Minnesota | 5120 | 1.1075 | 1.1075 | 33460 | 33460 | 1.1075
24710 | Sibley County, Minnesota | 24 | 0.9132 | 0.9132 | 99924 | 99924 | 0.9132
24720 | Stearns County, Minnesota | 6980 | 0.9965 | 0.9965 | 41060 | 41060 | 0.9965
24730 | Steele County, Minnesota | 24 | 0.9132 | 0.9132 | 99924 | 99924 | 0.9132
24740 | Stevens County, Minnesota | 24 | 0.9132 | 0.9132 | 99924 | 99924 | 0.9132
24750 | Swift County, Minnesota | 24 | 0.9132 | 0.9132 | 99924 | 99924 | 0.9132
24760 | Todd County, Minnesota | 24 | 0.9132 | 0.9132 | 99924 | 99924 | 0.9132
24770 | Traverse County, Minnesota | 24 | 0.9132 | 0.9132 | 99924 | 99924 | 0.9132
24780 | Wabasha County, Minnesota | 24 | 0.9132 | 1.1131 | 40340 | 50071 | 1.0132
24790 | Wadena County, Minnesota | 24 | 0.9132 | 0.9132 | 99924 | 99924 | 0.9132
24800 | Waseca County, Minnesota | 24 | 0.9132 | 0.9132 | 99924 | 99924 | 0.9132
24810 | Washington County, Minnesota | 5120 | 1.1075 | 1.1075 | 33460 | 33460 | 1.1075
24820 | Watonwan County, Minnesota | 24 | 0.9132 | 0.9132 | 99924 | 99924 | 0.9132
24830 | Wilkin County, Minnesota | 24 | 0.9132 | 0.9132 | 99924 | 99924 | 0.9132
24840 | Winona County, Minnesota | 24 | 0.9132 | 0.9132 | 99924 | 99924 | 0.9132
24850 | Wright County, Minnesota | 5120 | 1.1075 | 1.1075 | 33460 | 33460 | 1.1075
24860 | Yellow Medicine County, Minnesota | 24 | 0.9132 | 0.9132 | 99924 | 99924 | 0.9132
25000 | Adams County, Mississippi | 25 | 0.7634 | 0.7674 | 99925 | 99925 | 0.7654
25010 | Alcorn County, Mississippi | 25 | 0.7634 | 0.7674 | 99925 | 99925 | 0.7654
25020 | Amite County, Mississippi | 25 | 0.7634 | 0.7674 | 99925 | 99925 | 0.7654
25030 | Attala County, Mississippi | 25 | 0.7634 | 0.7674 | 99925 | 99925 | 0.7654
25040 | Benton County, Mississippi | 25 | 0.7634 | 0.7674 | 99925 | 99925 | 0.7654
25050 | Bolivar County, Mississippi | 25 | 0.7634 | 0.7674 | 99925 | 99925 | 0.7654
25060 | Calhoun County, Mississippi | 25 | 0.7634 | 0.7674 | 99925 | 99925 | 0.7654
25070 | Carroll County, Mississippi | 25 | 0.7634 | 0.7674 | 99925 | 99925 | 0.7654
25080 | Chickasaw County, Mississippi | 25 | 0.7634 | 0.7674 | 99925 | 99925 | 0.7654
25090 | Choctaw County, Mississippi | 25 | 0.7634 | 0.7674 | 99925 | 99925 | 0.7654
25100 | Claiborne County, Mississippi | 25 | 0.7634 | 0.7674 | 99925 | 99925 | 0.7654
25110 | Clarke County, Mississippi | 25 | 0.7634 | 0.7674 | 99925 | 99925 | 0.7654
25120 | Clay County, Mississippi | 25 | 0.7634 | 0.7674 | 99925 | 99925 | 0.7654
25130 | Coahoma County, Mississippi | 25 | 0.7634 | 0.7674 | 99925 | 99925 | 0.7654
25140 | Copiah County, Mississippi | 25 | 0.7634 | 0.8311 | 27140 | 50074 | 0.7973
25150 | Covington County, Mississippi | 25 | 0.7634 | 0.7674 | 99925 | 99925 | 0.7654
25160 | Desoto County, Mississippi | 4920 | 0.9416 | 0.9397 | 32820 | 50278 | 0.9407
25170 | Forrest County, Mississippi | 3285 | 0.7601 | 0.7601 | 25620 | 50241 | 0.7601
25180 | Franklin County, Mississippi | 25 | 0.7634 | 0.7674 | 99925 | 99925 | 0.7654
25190 | George County, Mississippi | 25 | 0.7634 | 0.8156 | 37700 | 50076 | 0.7895
25200 | Greene County, Mississippi | 25 | 0.7634 | 0.7674 | 99925 | 99925 | 0.7654
25210 | Grenada County, Mississippi | 25 | 0.7634 | 0.7674 | 99925 | 99925 | 0.7654
25220 | Hancock County, Mississippi | 0920 | 0.8706 | 0.8929 | 25060 | 50180 | 0.8818
25230 | Harrison County, Mississippi | 0920 | 0.8706 | 0.8929 | 25060 | 50180 | 0.8818
25240 | Hinds County, Mississippi | 3560 | 0.8382 | 0.8311 | 27140 | 50246 | 0.8347
25250 | Holmes County, Mississippi | 25 | 0.7634 | 0.7674 | 99925 | 99925 | 0.7654
25260 | Humphreys County, Mississippi | 25 | 0.7634 | 0.7674 | 99925 | 99925 | 0.7654
25270 | Issaquena County, Mississippi | 25 | 0.7634 | 0.7674 | 99925 | 99925 | 0.7654
25280 | Itawamba County, Mississippi | 25 | 0.7634 | 0.7674 | 99925 | 99925 | 0.7654
25290 | Jackson County, Mississippi | 0920 | 0.8706 | 0.8156 | 37700 | 50181 | 0.8431
25300 | Jasper County, Mississippi | 25 | 0.7634 | 0.7674 | 99925 | 99925 | 0.7654
25310 | Jefferson County, Mississippi | 25 | 0.7634 | 0.7674 | 99925 | 99925 | 0.7654
25320 | Jefferson Davis County, Mississippi | 25 | 0.7634 | 0.7674 | 99925 | 99925 | 0.7654
25330 | Jones County, Mississippi | 25 | 0.7634 | 0.7674 | 99925 | 99925 | 0.7654
25340 | Kemper County, Mississippi | 25 | 0.7634 | 0.7674 | 99925 | 99925 | 0.7654
25350 | Lafayette County, Mississippi | 25 | 0.7634 | 0.7674 | 99925 | 99925 | 0.7654
25360 | Lamar County, Mississippi | 3285 | 0.7601 | 0.7601 | 25620 | 50241 | 0.7601
25370 | Lauderdale County, Mississippi | 25 | 0.7634 | 0.7674 | 99925 | 99925 | 0.7654
25380 | Lawrence County, Mississippi | 25 | 0.7634 | 0.7674 | 99925 | 99925 | 0.7654
25390 | Leake County, Mississippi | 25 | 0.7634 | 0.7674 | 99925 | 99925 | 0.7654
25400 | Lee County, Mississippi | 25 | 0.7634 | 0.7674 | 99925 | 99925 | 0.7654
25410 | Leflore County, Mississippi | 25 | 0.7634 | 0.7674 | 99925 | 99925 | 0.7654
25420 | Lincoln County, Mississippi | 25 | 0.7634 | 0.7674 | 99925 | 99925 | 0.7654
25430 | Lowndes County, Mississippi | 25 | 0.7634 | 0.7674 | 99925 | 99925 | 0.7654
25440 | Madison County, Mississippi | 3560 | 0.8382 | 0.8311 | 27140 | 50246 | 0.8347
25450 | Marion County, Mississippi | 25 | 0.7634 | 0.7674 | 99925 | 99925 | 0.7654
25460 | Marshall County, Mississippi | 25 | 0.7634 | 0.9397 | 32820 | 50075 | 0.8516
25470 | Monroe County, Mississippi | 25 | 0.7634 | 0.7674 | 99925 | 99925 | 0.7654
25480 | Montgomery County, Mississippi | 25 | 0.7634 | 0.7674 | 99925 | 99925 | 0.7654
25490 | Neshoba County, Mississippi | 25 | 0.7634 | 0.7674 | 99925 | 99925 | 0.7654
25500 | Newton County, Mississippi | 25 | 0.7634 | 0.7674 | 99925 | 99925 | 0.7654
25510 | Noxubee County, Mississippi | 25 | 0.7634 | 0.7674 | 99925 | 99925 | 0.7654
25520 | Oktibbeha County, Mississippi | 25 | 0.7634 | 0.7674 | 99925 | 99925 | 0.7654
25530 | Panola County, Mississippi | 25 | 0.7634 | 0.7674 | 99925 | 99925 | 0.7654
25540 | Pearl River County, Mississippi | 25 | 0.7634 | 0.7674 | 99925 | 99925 | 0.7654
25550 | Perry County, Mississippi | 25 | 0.7634 | 0.7601 | 25620 | 50073 | 0.7618
25560 | Pike County, Mississippi | 25 | 0.7634 | 0.7674 | 99925 | 99925 | 0.7654
25570 | Pontotoc County, Mississippi | 25 | 0.7634 | 0.7674 | 99925 | 99925 | 0.7654
25580 | Prentiss County, Mississippi | 25 | 0.7634 | 0.7674 | 99925 | 99925 | 0.7654
25590 | Quitman County, Mississippi | 25 | 0.7634 | 0.7674 | 99925 | 99925 | 0.7654
25600 | Rankin County, Mississippi | 3560 | 0.8382 | 0.8311 | 27140 | 50246 | 0.8347
25610 | Scott County, Mississippi | 25 | 0.7634 | 0.7674 | 99925 | 99925 | 0.7654
25620 | Sharkey County, Mississippi | 25 | 0.7634 | 0.7674 | 99925 | 99925 | 0.7654
25630 | Simpson County, Mississippi | 25 | 0.7634 | 0.8311 | 27140 | 50074 | 0.7973
25640 | Smith County, Mississippi | 25 | 0.7634 | 0.7674 | 99925 | 99925 | 0.7654
25650 | Stone County, Mississippi | 25 | 0.7634 | 0.8929 | 25060 | 50072 | 0.8282
25660 | Sunflower County, Mississippi | 25 | 0.7634 | 0.7674 | 99925 | 99925 | 0.7654
25670 | Tallahatchie County, Mississippi | 25 | 0.7634 | 0.7674 | 99925 | 99925 | 0.7654
25680 | Tate County, Mississippi | 25 | 0.7634 | 0.9397 | 32820 | 50075 | 0.8516
25690 | Tippah County, Mississippi | 25 | 0.7634 | 0.7674 | 99925 | 99925 | 0.7654
25700 | Tishomingo County, Mississippi | 25 | 0.7634 | 0.7674 | 99925 | 99925 | 0.7654
25710 | Tunica County, Mississippi | 25 | 0.7634 | 0.9397 | 32820 | 50075 | 0.8516
25720 | Union County, Mississippi | 25 | 0.7634 | 0.7674 | 99925 | 99925 | 0.7654
25730 | Walthall County, Mississippi | 25 | 0.7634 | 0.7674 | 99925 | 99925 | 0.7654
25740 | Warren County, Mississippi | 25 | 0.7634 | 0.7674 | 99925 | 99925 | 0.7654
25750 | Washington County, Mississippi | 25 | 0.7634 | 0.7674 | 99925 | 99925 | 0.7654
25760 | Wayne County, Mississippi | 25 | 0.7634 | 0.7674 | 99925 | 99925 | 0.7654
25770 | Webster County, Mississippi | 25 | 0.7634 | 0.7674 | 99925 | 99925 | 0.7654
25780 | Wilkinson County, Mississippi | 25 | 0.7634 | 0.7674 | 99925 | 99925 | 0.7654
25790 | Winston County, Mississippi | 25 | 0.7634 | 0.7674 | 99925 | 99925 | 0.7654
25800 | Yalobusha County, Mississippi | 25 | 0.7634 | 0.7674 | 99925 | 99925 | 0.7654
25810 | Yazoo County, Mississippi | 25 | 0.7634 | 0.7674 | 99925 | 99925 | 0.7654
26000 | Adair County, Missouri | 26 | 0.7959 | 0.7900 | 99926 | 99926 | 0.7930
26010 | Andrew County, Missouri | 7000 | 0.9519 | 0.9519 | 41140 | 50317 | 0.9519
26020 | Atchison County, Missouri | 26 | 0.7959 | 0.7900 | 99926 | 99926 | 0.7930
26030 | Audrain County, Missouri | 26 | 0.7959 | 0.7900 | 99926 | 99926 | 0.7930
26040 | Barry County, Missouri | 26 | 0.7959 | 0.7900 | 99926 | 99926 | 0.7930
26050 | Barton County, Missouri | 26 | 0.7959 | 0.7900 | 99926 | 99926 | 0.7930
26060 | Bates County, Missouri | 26 | 0.7959 | 0.9476 | 28140 | 50079 | 0.8718
26070 | Benton County, Missouri | 26 | 0.7959 | 0.7900 | 99926 | 99926 | 0.7930
26080 | Bollinger County, Missouri | 26 | 0.7959 | 0.7900 | 99926 | 99926 | 0.7930
26090 | Boone County, Missouri | 1740 | 0.8345 | 0.8345 | 17860 | 50201 | 0.8345
26100 | Buchanan County, Missouri | 7000 | 0.9519 | 0.9519 | 41140 | 50317 | 0.9519
26110 | Butler County, Missouri | 26 | 0.7959 | 0.7900 | 99926 | 99926 | 0.7930
26120 | Caldwell County, Missouri | 26 | 0.7959 | 0.9476 | 28140 | 50079 | 0.8718
26130 | Callaway County, Missouri | 26 | 0.7959 | 0.8387 | 27620 | 27620 | 0.8173
26140 | Camden County, Missouri | 26 | 0.7959 | 0.7900 | 99926 | 99926 | 0.7930
26150 | Cape Girardeau County, Missouri | 26 | 0.7959 | 0.7900 | 99926 | 99926 | 0.7930
26160 | Carroll County, Missouri | 26 | 0.7959 | 0.7900 | 99926 | 99926 | 0.7930
26170 | Carter County, Missouri | 26 | 0.7959 | 0.7900 | 99926 | 99926 | 0.7930
26180 | Cass County, Missouri | 3760 | 0.9490 | 0.9476 | 28140 | 50252 | 0.9483
26190 | Cedar County, Missouri | 26 | 0.7959 | 0.7900 | 99926 | 99926 | 0.7930
26200 | Chariton County, Missouri | 26 | 0.7959 | 0.7900 | 99926 | 99926 | 0.7930
26210 | Christian County, Missouri | 7920 | 0.8250 | 0.8237 | 44180 | 50334 | 0.8244
26220 | Clark County, Missouri | 26 | 0.7959 | 0.7900 | 99926 | 99926 | 0.7930
26230 | Clay County, Missouri | 3760 | 0.9490 | 0.9476 | 28140 | 50252 | 0.9483
26240 | Clinton County, Missouri | 3760 | 0.9490 | 0.9476 | 28140 | 50252 | 0.9483
26250 | Cole County, Missouri | 26 | 0.7959 | 0.8387 | 27620 | 27620 | 0.8173
26260 | Cooper County, Missouri | 26 | 0.7959 | 0.7900 | 99926 | 99926 | 0.7930
26270 | Crawford County, Missouri | 26 | 0.7959 | 0.8954 | 41180 | 50081 | 0.8457
26280 | Dade County, Missouri | 26 | 0.7959 | 0.7900 | 99926 | 99926 | 0.7930
26290 | Dallas County, Missouri | 26 | 0.7959 | 0.8237 | 44180 | 50082 | 0.8098
26300 | Daviess County, Missouri | 26 | 0.7959 | 0.7900 | 99926 | 99926 | 0.7930
26310 | De Kalb County, Missouri | 26 | 0.7959 | 0.9519 | 41140 | 50080 | 0.8739
26320 | Dent County, Missouri | 26 | 0.7959 | 0.7900 | 99926 | 99926 | 0.7930
26330 | Douglas County, Missouri | 26 | 0.7959 | 0.7900 | 99926 | 99926 | 0.7930
26340 | Dunklin County, Missouri | 26 | 0.7959 | 0.7900 | 99926 | 99926 | 0.7930
26350 | Franklin County, Missouri | 7040 | 0.8962 | 0.8954 | 41180 | 50318 | 0.8958
26360 | Gasconade County, Missouri | 26 | 0.7959 | 0.7900 | 99926 | 99926 | 0.7930
26370 | Gentry County, Missouri | 26 | 0.7959 | 0.7900 | 99926 | 99926 | 0.7930
26380 | Greene County, Missouri | 7920 | 0.8250 | 0.8237 | 44180 | 50334 | 0.8244
26390 | Grundy County, Missouri | 26 | 0.7959 | 0.7900 | 99926 | 99926 | 0.7930
26400 | Harrison County, Missouri | 26 | 0.7959 | 0.7900 | 99926 | 99926 | 0.7930
26410 | Henry County, Missouri | 26 | 0.7959 | 0.7900 | 99926 | 99926 | 0.7930
26411 | Hickory County, Missouri | 26 | 0.7959 | 0.7900 | 99926 | 99926 | 0.7930
26412 | Holt County, Missouri | 26 | 0.7959 | 0.7900 | 99926 | 99926 | 0.7930
26440 | Howard County, Missouri | 26 | 0.7959 | 0.8345 | 17860 | 50077 | 0.8152
26450 | Howell County, Missouri | 26 | 0.7959 | 0.7900 | 99926 | 99926 | 0.7930
26460 | Iron County, Missouri | 26 | 0.7959 | 0.7900 | 99926 | 99926 | 0.7930
26470 | Jackson County, Missouri | 3760 | 0.9490 | 0.9476 | 28140 | 50252 | 0.9483
26480 | Jasper County, Missouri | 3710 | 0.8582 | 0.8582 | 27900 | 27900 | 0.8582
26490 | Jefferson County, Missouri | 7040 | 0.8962 | 0.8954 | 41180 | 50318 | 0.8958
26500 | Johnson County, Missouri | 26 | 0.7959 | 0.7900 | 99926 | 99926 | 0.7930
26510 | Knox County, Missouri | 26 | 0.7959 | 0.7900 | 99926 | 99926 | 0.7930
26520 | Laclede County, Missouri | 26 | 0.7959 | 0.7900 | 99926 | 99926 | 0.7930
26530 | Lafayette County, Missouri | 3760 | 0.9490 | 0.9476 | 28140 | 50252 | 0.9483
26540 | Lawrence County, Missouri | 26 | 0.7959 | 0.7900 | 99926 | 99926 | 0.7930
26541 | Lewis County, Missouri | 26 | 0.7959 | 0.7900 | 99926 | 99926 | 0.7930
26560 | Lincoln County, Missouri | 7040 | 0.8962 | 0.8954 | 41180 | 50318 | 0.8958
26570 | Linn County, Missouri | 26 | 0.7959 | 0.7900 | 99926 | 99926 | 0.7930
26580 | Livingston County, Missouri | 26 | 0.7959 | 0.7900 | 99926 | 99926 | 0.7930
26590 | Mc Donald County, Missouri | 26 | 0.7959 | 0.8661 | 22220 | 50078 | 0.8310
26600 | Macon County, Missouri | 26 | 0.7959 | 0.7900 | 99926 | 99926 | 0.7930
26601 | Madison County, Missouri | 26 | 0.7959 | 0.7900 | 99926 | 99926 | 0.7930
26620 | Maries County, Missouri | 26 | 0.7959 | 0.7900 | 99926 | 99926 | 0.7930
26630 | Marion County, Missouri | 26 | 0.7959 | 0.7900 | 99926 | 99926 | 0.7930
26631 | Mercer County, Missouri | 26 | 0.7959 | 0.7900 | 99926 | 99926 | 0.7930
26650 | Miller County, Missouri | 26 | 0.7959 | 0.7900 | 99926 | 99926 | 0.7930
26660 | Mississippi County, Missouri | 26 | 0.7959 | 0.7900 | 99926 | 99926 | 0.7930
26670 | Moniteau County, Missouri | 26 | 0.7959 | 0.8387 | 27620 | 27620 | 0.8173
26680 | Monroe County, Missouri | 26 | 0.7959 | 0.7900 | 99926 | 99926 | 0.7930
26690 | Montgomery County, Missouri | 26 | 0.7959 | 0.7900 | 99926 | 99926 | 0.7930
26700 | Morgan County, Missouri | 26 | 0.7959 | 0.7900 | 99926 | 99926 | 0.7930
26710 | New Madrid County, Missouri | 26 | 0.7959 | 0.7900 | 99926 | 99926 | 0.7930
26720 | Newton County, Missouri | 3710 | 0.8582 | 0.8582 | 27900 | 27900 | 0.8582
26730 | Nodaway County, Missouri | 26 | 0.7959 | 0.7900 | 99926 | 99926 | 0.7930
26740 | Oregon County, Missouri | 26 | 0.7959 | 0.7900 | 99926 | 99926 | 0.7930
26750 | Osage County, Missouri | 26 | 0.7959 | 0.8387 | 27620 | 27620 | 0.8173
26751 | Ozark County, Missouri | 26 | 0.7959 | 0.7900 | 99926 | 99926 | 0.7930
26770 | Pemiscot County, Missouri | 26 | 0.7959 | 0.7900 | 99926 | 99926 | 0.7930
26780 | Perry County, Missouri | 26 | 0.7959 | 0.7900 | 99926 | 99926 | 0.7930
26790 | Pettis County, Missouri | 26 | 0.7959 | 0.7900 | 99926 | 99926 | 0.7930
26800 | Phelps County, Missouri | 26 | 0.7959 | 0.7900 | 99926 | 99926 | 0.7930
26810 | Pike County, Missouri | 26 | 0.7959 | 0.7900 | 99926 | 99926 | 0.7930
26820 | Platte County, Missouri | 3760 | 0.9490 | 0.9476 | 28140 | 50252 | 0.9483
26821 | Polk County, Missouri | 26 | 0.7959 | 0.8237 | 44180 | 50082 | 0.8098
26840 | Pulaski County, Missouri | 26 | 0.7959 | 0.7900 | 99926 | 99926 | 0.7930
26850 | Putnam County, Missouri | 26 | 0.7959 | 0.7900 | 99926 | 99926 | 0.7930
26860 | Ralls County, Missouri | 26 | 0.7959 | 0.7900 | 99926 | 99926 | 0.7930
26870 | Randolph County, Missouri | 26 | 0.7959 | 0.7900 | 99926 | 99926 | 0.7930
26880 | Ray County, Missouri | 3760 | 0.9490 | 0.9476 | 28140 | 50252 | 0.9483
26881 | Reynolds County, Missouri | 26 | 0.7959 | 0.7900 | 99926 | 99926 | 0.7930
26900 | Ripley County, Missouri | 26 | 0.7959 | 0.7900 | 99926 | 99926 | 0.7930
26910 | St Charles County, Missouri | 7040 | 0.8962 | 0.8954 | 41180 | 50318 | 0.8958
26911 | St Clair County, Missouri | 26 | 0.7959 | 0.7900 | 99926 | 99926 | 0.7930
26930 | St Francois County, Missouri | 26 | 0.7959 | 0.7900 | 99926 | 99926 | 0.7930
26940 | St Louis County, Missouri | 7040 | 0.8962 | 0.8954 | 41180 | 50318 | 0.8958
26950 | St Louis City County, Missouri | 7040 | 0.8962 | 0.8954 | 41180 | 50318 | 0.8958
26960 | Ste Genevieve County, Missouri | 26 | 0.7959 | 0.7900 | 99926 | 99926 | 0.7930
26970 | Saline County, Missouri | 26 | 0.7959 | 0.7900 | 99926 | 99926 | 0.7930
26980 | Schuyler County, Missouri | 26 | 0.7959 | 0.7900 | 99926 | 99926 | 0.7930
26981 | Scotland County, Missouri | 26 | 0.7959 | 0.7900 | 99926 | 99926 | 0.7930
26982 | Scott County, Missouri | 26 | 0.7959 | 0.7900 | 99926 | 99926 | 0.7930
26983 | Shannon County, Missouri | 26 | 0.7959 | 0.7900 | 99926 | 99926 | 0.7930
26984 | Shelby County, Missouri | 26 | 0.7959 | 0.7900 | 99926 | 99926 | 0.7930
26985 | Stoddard County, Missouri | 26 | 0.7959 | 0.7900 | 99926 | 99926 | 0.7930
26986 | Stone County, Missouri | 26 | 0.7959 | 0.7900 | 99926 | 99926 | 0.7930
26987 | Sullivan County, Missouri | 26 | 0.7959 | 0.7900 | 99926 | 99926 | 0.7930
26988 | Taney County, Missouri | 26 | 0.7959 | 0.7900 | 99926 | 99926 | 0.7930
26989 | Texas County, Missouri | 26 | 0.7959 | 0.7900 | 99926 | 99926 | 0.7930
26990 | Vernon County, Missouri | 26 | 0.7959 | 0.7900 | 99926 | 99926 | 0.7930
26991 | Warren County, Missouri | 7040 | 0.8962 | 0.8954 | 41180 | 50318 | 0.8958
26992 | Washington County, Missouri | 26 | 0.7959 | 0.8954 | 41180 | 50081 | 0.8457
26993 | Wayne County, Missouri | 26 | 0.7959 | 0.7900 | 99926 | 99926 | 0.7930
26994 | Webster County, Missouri | 7920 | 0.8250 | 0.8237 | 44180 | 50334 | 0.8244
26995 | Worth County, Missouri | 26 | 0.7959 | 0.7900 | 99926 | 99926 | 0.7930
26996 | Wright County, Missouri | 26 | 0.7959 | 0.7900 | 99926 | 99926 | 0.7930
27000 | Beaverhead County, Montana | 27 | 0.8762 | 0.8762 | 99927 | 99927 | 0.8762
27010 | Big Horn County, Montana | 27 | 0.8762 | 0.8762 | 99927 | 99927 | 0.8762
27020 | Blaine County, Montana | 27 | 0.8762 | 0.8762 | 99927 | 99927 | 0.8762
27030 | Broadwater County, Montana | 27 | 0.8762 | 0.8762 | 99927 | 99927 | 0.8762
27040 | Carbon County, Montana | 27 | 0.8762 | 0.8834 | 13740 | 50083 | 0.8798
27050 | Carter County, Montana | 27 | 0.8762 | 0.8762 | 99927 | 99927 | 0.8762
27060 | Cascade County, Montana | 3040 | 0.9052 | 0.9052 | 24500 | 24500 | 0.9052
27070 | Chouteau County, Montana | 27 | 0.8762 | 0.8762 | 99927 | 99927 | 0.8762
27080 | Custer County, Montana | 27 | 0.8762 | 0.8762 | 99927 | 99927 | 0.8762
27090 | Daniels County, Montana | 27 | 0.8762 | 0.8762 | 99927 | 99927 | 0.8762
27100 | Dawson County, Montana | 27 | 0.8762 | 0.8762 | 99927 | 99927 | 0.8762
27110 | Deer Lodge County, Montana | 27 | 0.8762 | 0.8762 | 99927 | 99927 | 0.8762
27113 | Yellowstone National Park, Montana | 27 | 0.8762 | 0.8762 | 99927 | 99927 | 0.8762
27120 | Fallon County, Montana | 27 | 0.8762 | 0.8762 | 99927 | 99927 | 0.8762
27130 | Fergus County, Montana | 27 | 0.8762 | 0.8762 | 99927 | 99927 | 0.8762
27140 | Flathead County, Montana | 27 | 0.8762 | 0.8762 | 99927 | 99927 | 0.8762
27150 | Gallatin County, Montana | 27 | 0.8762 | 0.8762 | 99927 | 99927 | 0.8762
27160 | Garfield County, Montana | 27 | 0.8762 | 0.8762 | 99927 | 99927 | 0.8762
27170 | Glacier County, Montana | 27 | 0.8762 | 0.8762 | 99927 | 99927 | 0.8762
27180 | Golden Valley County, Montana | 27 | 0.8762 | 0.8762 | 99927 | 99927 | 0.8762
27190 | Granite County, Montana | 27 | 0.8762 | 0.8762 | 99927 | 99927 | 0.8762
27200 | Hill County, Montana | 27 | 0.8762 | 0.8762 | 99927 | 99927 | 0.8762
27210 | Jefferson County, Montana | 27 | 0.8762 | 0.8762 | 99927 | 99927 | 0.8762
27220 | Judith Basin County, Montana | 27 | 0.8762 | 0.8762 | 99927 | 99927 | 0.8762
27230 | Lake County, Montana | 27 | 0.8762 | 0.8762 | 99927 | 99927 | 0.8762
27240 | Lewis And Clark County, Montana | 27 | 0.8762 | 0.8762 | 99927 | 99927 | 0.8762
27250 | Liberty County, Montana | 27 | 0.8762 | 0.8762 | 99927 | 99927 | 0.8762
27260 | Lincoln County, Montana | 27 | 0.8762 | 0.8762 | 99927 | 99927 | 0.8762
27270 | Mc Cone County, Montana | 27 | 0.8762 | 0.8762 | 99927 | 99927 | 0.8762
27280 | Madison County, Montana | 27 | 0.8762 | 0.8762 | 99927 | 99927 | 0.8762
27290 | Meagher County, Montana | 27 | 0.8762 | 0.8762 | 99927 | 99927 | 0.8762
27300 | Mineral County, Montana | 27 | 0.8762 | 0.8762 | 99927 | 99927 | 0.8762
27310 | Missoula County, Montana | 5140 | 0.9473 | 0.9473 | 33540 | 33540 | 0.9473
27320 | Musselshell County, Montana | 27 | 0.8762 | 0.8762 | 99927 | 99927 | 0.8762
27330 | Park County, Montana | 27 | 0.8762 | 0.8762 | 99927 | 99927 | 0.8762
27340 | Petroleum County, Montana | 27 | 0.8762 | 0.8762 | 99927 | 99927 | 0.8762
27350 | Phillips County, Montana | 27 | 0.8762 | 0.8762 | 99927 | 99927 | 0.8762
27360 | Pondera County, Montana | 27 | 0.8762 | 0.8762 | 99927 | 99927 | 0.8762
27370 | Powder River County, Montana | 27 | 0.8762 | 0.8762 | 99927 | 99927 | 0.8762
27380 | Powell County, Montana | 27 | 0.8762 | 0.8762 | 99927 | 99927 | 0.8762
27390 | Prairie County, Montana | 27 | 0.8762 | 0.8762 | 99927 | 99927 | 0.8762
27400 | Ravalli County, Montana | 27 | 0.8762 | 0.8762 | 99927 | 99927 | 0.8762
27410 | Richland County, Montana | 27 | 0.8762 | 0.8762 | 99927 | 99927 | 0.8762
27420 | Roosevelt County, Montana | 27 | 0.8762 | 0.8762 | 99927 | 99927 | 0.8762
27430 | Rosebud County, Montana | 27 | 0.8762 | 0.8762 | 99927 | 99927 | 0.8762
27440 | Sanders County, Montana | 27 | 0.8762 | 0.8762 | 99927 | 99927 | 0.8762
27450 | Sheridan County, Montana | 27 | 0.8762 | 0.8762 | 99927 | 99927 | 0.8762
27460 | Silver Bow County, Montana | 27 | 0.8762 | 0.8762 | 99927 | 99927 | 0.8762
27470 | Stillwater County, Montana | 27 | 0.8762 | 0.8762 | 99927 | 99927 | 0.8762
27480 | Sweet Grass County, Montana | 27 | 0.8762 | 0.8762 | 99927 | 99927 | 0.8762
27490 | Teton County, Montana | 27 | 0.8762 | 0.8762 | 99927 | 99927 | 0.8762
27500 | Toole County, Montana | 27 | 0.8762 | 0.8762 | 99927 | 99927 | 0.8762
27510 | Treasure County, Montana | 27 | 0.8762 | 0.8762 | 99927 | 99927 | 0.8762
27520 | Valley County, Montana | 27 | 0.8762 | 0.8762 | 99927 | 99927 | 0.8762
27530 | Wheatland County, Montana | 27 | 0.8762 | 0.8762 | 99927 | 99927 | 0.8762
27540 | Wibaux County, Montana | 27 | 0.8762 | 0.8762 | 99927 | 99927 | 0.8762
27550 | Yellowstone County, Montana | 0880 | 0.8834 | 0.8834 | 13740 | 50179 | 0.8834
28000 | Adams County, Nebraska | 28 | 0.8657 | 0.8657 | 99928 | 99928 | 0.8657
28010 | Antelope County, Nebraska | 28 | 0.8657 | 0.8657 | 99928 | 99928 | 0.8657
28020 | Arthur County, Nebraska | 28 | 0.8657 | 0.8657 | 99928 | 99928 | 0.8657
28030 | Banner County, Nebraska | 28 | 0.8657 | 0.8657 | 99928 | 99928 | 0.8657
28040 | Blaine County, Nebraska | 28 | 0.8657 | 0.8657 | 99928 | 99928 | 0.8657
28050 | Boone County, Nebraska | 28 | 0.8657 | 0.8657 | 99928 | 99928 | 0.8657
28060 | Box Butte County, Nebraska | 28 | 0.8657 | 0.8657 | 99928 | 99928 | 0.8657
28070 | Boyd County, Nebraska | 28 | 0.8657 | 0.8657 | 99928 | 99928 | 0.8657
28080 | Brown County, Nebraska | 28 | 0.8657 | 0.8657 | 99928 | 99928 | 0.8657
28090 | Buffalo County, Nebraska | 28 | 0.8657 | 0.8657 | 99928 | 99928 | 0.8657
28100 | Burt County, Nebraska | 28 | 0.8657 | 0.8657 | 99928 | 99928 | 0.8657
28110 | Butler County, Nebraska | 28 | 0.8657 | 0.8657 | 99928 | 99928 | 0.8657
28120 | Cass County, Nebraska | 5920 | 0.9560 | 0.9560 | 36540 | 50295 | 0.9560
28130 | Cedar County, Nebraska | 28 | 0.8657 | 0.8657 | 99928 | 99928 | 0.8657
28140 | Chase County, Nebraska | 28 | 0.8657 | 0.8657 | 99928 | 99928 | 0.8657
28150 | Cherry County, Nebraska | 28 | 0.8657 | 0.8657 | 99928 | 99928 | 0.8657
28160 | Cheyenne County, Nebraska | 28 | 0.8657 | 0.8657 | 99928 | 99928 | 0.8657
28170 | Clay County, Nebraska | 28 | 0.8657 | 0.8657 | 99928 | 99928 | 0.8657
28180 | Colfax County, Nebraska | 28 | 0.8657 | 0.8657 | 99928 | 99928 | 0.8657
28190 | Cuming County, Nebraska | 28 | 0.8657 | 0.8657 | 99928 | 99928 | 0.8657
28200 | Custer County, Nebraska | 28 | 0.8657 | 0.8657 | 99928 | 99928 | 0.8657
28210 | Dakota County, Nebraska | 7720 | 0.9416 | 0.9381 | 43580 | 50331 | 0.9399
28220 | Dawes County, Nebraska | 28 | 0.8657 | 0.8657 | 99928 | 99928 | 0.8657
28230 | Dawson County, Nebraska | 28 | 0.8657 | 0.8657 | 99928 | 99928 | 0.8657
28240 | Deuel County, Nebraska | 28 | 0.8657 | 0.8657 | 99928 | 99928 | 0.8657
28250 | Dixon County, Nebraska | 28 | 0.8657 | 0.9381 | 43580 | 50086 | 0.9019
28260 | Dodge County, Nebraska | 28 | 0.8657 | 0.8657 | 99928 | 99928 | 0.8657
28270 | Douglas County, Nebraska | 5920 | 0.9560 | 0.9560 | 36540 | 50295 | 0.9560
28280 | Dundy County, Nebraska | 28 | 0.8657 | 0.8657 | 99928 | 99928 | 0.8657
28290 | Fillmore County, Nebraska | 28 | 0.8657 | 0.8657 | 99928 | 99928 | 0.8657
28300 | Franklin County, Nebraska | 28 | 0.8657 | 0.8657 | 99928 | 99928 | 0.8657
28310 | Frontier County, Nebraska | 28 | 0.8657 | 0.8657 | 99928 | 99928 | 0.8657
28320 | Furnas County, Nebraska | 28 | 0.8657 | 0.8657 | 99928 | 99928 | 0.8657
28330 | Gage County, Nebraska | 28 | 0.8657 | 0.8657 | 99928 | 99928 | 0.8657
28340 | Garden County, Nebraska | 28 | 0.8657 | 0.8657 | 99928 | 99928 | 0.8657
28350 | Garfield County, Nebraska | 28 | 0.8657 | 0.8657 | 99928 | 99928 | 0.8657
28360 | Gosper County, Nebraska | 28 | 0.8657 | 0.8657 | 99928 | 99928 | 0.8657
28370 | Grant County, Nebraska | 28 | 0.8657 | 0.8657 | 99928 | 99928 | 0.8657
28380 | Greeley County, Nebraska | 28 | 0.8657 | 0.8657 | 99928 | 99928 | 0.8657
28390 | Hall County, Nebraska | 28 | 0.8657 | 0.8657 | 99928 | 99928 | 0.8657
28400 | Hamilton County, Nebraska | 28 | 0.8657 | 0.8657 | 99928 | 99928 | 0.8657
28410 | Harlan County, Nebraska | 28 | 0.8657 | 0.8657 | 99928 | 99928 | 0.8657
28420 | Hayes County, Nebraska | 28 | 0.8657 | 0.8657 | 99928 | 99928 | 0.8657
28430 | Hitchcock County, Nebraska | 28 | 0.8657 | 0.8657 | 99928 | 99928 | 0.8657
28440 | Holt County, Nebraska | 28 | 0.8657 | 0.8657 | 99928 | 99928 | 0.8657
28450 | Hooker County, Nebraska | 28 | 0.8657 | 0.8657 | 99928 | 99928 | 0.8657
28460 | Howard County, Nebraska | 28 | 0.8657 | 0.8657 | 99928 | 99928 | 0.8657
28470 | Jefferson County, Nebraska | 28 | 0.8657 | 0.8657 | 99928 | 99928 | 0.8657
28480 | Johnson County, Nebraska | 28 | 0.8657 | 0.8657 | 99928 | 99928 | 0.8657
28490 | Kearney County, Nebraska | 28 | 0.8657 | 0.8657 | 99928 | 99928 | 0.8657
28500 | Keith County, Nebraska | 28 | 0.8657 | 0.8657 | 99928 | 99928 | 0.8657
28510 | Keya Paha County, Nebraska | 28 | 0.8657 | 0.8657 | 99928 | 99928 | 0.8657
28520 | Kimball County, Nebraska | 28 | 0.8657 | 0.8657 | 99928 | 99928 | 0.8657
28530 | Knox County, Nebraska | 28 | 0.8657 | 0.8657 | 99928 | 99928 | 0.8657
28540 | Lancaster County, Nebraska | 4360 | 1.0214 | 1.0214 | 30700 | 50264 | 1.0214
28550 | Lincoln County, Nebraska | 28 | 0.8657 | 0.8657 | 99928 | 99928 | 0.8657
28560 | Logan County, Nebraska | 28 | 0.8657 | 0.8657 | 99928 | 99928 | 0.8657
28570 | Loup County, Nebraska | 28 | 0.8657 | 0.8657 | 99928 | 99928 | 0.8657
28580 | Mc Pherson County, Nebraska | 28 | 0.8657 | 0.8657 | 99928 | 99928 | 0.8657
28590 | Madison County, Nebraska | 28 | 0.8657 | 0.8657 | 99928 | 99928 | 0.8657
28600 | Merrick County, Nebraska | 28 | 0.8657 | 0.8657 | 99928 | 99928 | 0.8657
28610 | Morrill County, Nebraska | 28 | 0.8657 | 0.8657 | 99928 | 99928 | 0.8657
28620 | Nance County, Nebraska | 28 | 0.8657 | 0.8657 | 99928 | 99928 | 0.8657
28630 | Nemaha County, Nebraska | 28 | 0.8657 | 0.8657 | 99928 | 99928 | 0.8657
28640 | Nuckolls County, Nebraska | 28 | 0.8657 | 0.8657 | 99928 | 99928 | 0.8657
28650 | Otoe County, Nebraska | 28 | 0.8657 | 0.8657 | 99928 | 99928 | 0.8657
28660 | Pawnee County, Nebraska | 28 | 0.8657 | 0.8657 | 99928 | 99928 | 0.8657
28670 | Perkins County, Nebraska | 28 | 0.8657 | 0.8657 | 99928 | 99928 | 0.8657
28680 | Phelps County, Nebraska | 28 | 0.8657 | 0.8657 | 99928 | 99928 | 0.8657
28690 | Pierce County, Nebraska | 28 | 0.8657 | 0.8657 | 99928 | 99928 | 0.8657
28700 | Platte County, Nebraska | 28 | 0.8657 | 0.8657 | 99928 | 99928 | 0.8657
28710 | Polk County, Nebraska | 28 | 0.8657 | 0.8657 | 99928 | 99928 | 0.8657
28720 | Redwillow County, Nebraska | 28 | 0.8657 | 0.8657 | 99928 | 99928 | 0.8657
28730 | Richardson County, Nebraska | 28 | 0.8657 | 0.8657 | 99928 | 99928 | 0.8657
28740 | Rock County, Nebraska | 28 | 0.8657 | 0.8657 | 99928 | 99928 | 0.8657
28750 | Saline County, Nebraska | 28 | 0.8657 | 0.8657 | 99928 | 99928 | 0.8657
28760 | Sarpy County, Nebraska | 5920 | 0.9560 | 0.9560 | 36540 | 50295 | 0.9560
28770 | Saunders County, Nebraska | 28 | 0.8657 | 0.9560 | 36540 | 50085 | 0.9109
28780 | Scotts Bluff County, Nebraska | 28 | 0.8657 | 0.8657 | 99928 | 99928 | 0.8657
28790 | Seward County, Nebraska | 28 | 0.8657 | 1.0214 | 30700 | 50084 | 0.9436
28800 | Sheridan County, Nebraska | 28 | 0.8657 | 0.8657 | 99928 | 99928 | 0.8657
28810 | Sherman County, Nebraska | 28 | 0.8657 | 0.8657 | 99928 | 99928 | 0.8657
28820 | Sioux County, Nebraska | 28 | 0.8657 | 0.8657 | 99928 | 99928 | 0.8657
28830 | Stanton County, Nebraska | 28 | 0.8657 | 0.8657 | 99928 | 99928 | 0.8657
28840 | Thayer County, Nebraska | 28 | 0.8657 | 0.8657 | 99928 | 99928 | 0.8657
28850 | Thomas County, Nebraska | 28 | 0.8657 | 0.8657 | 99928 | 99928 | 0.8657
28860 | Thurston County, Nebraska | 28 | 0.8657 | 0.8657 | 99928 | 99928 | 0.8657
28870 | Valley County, Nebraska | 28 | 0.8657 | 0.8657 | 99928 | 99928 | 0.8657
28880 | Washington County, Nebraska | 5920 | 0.9560 | 0.9560 | 36540 | 50295 | 0.9560
28890 | Wayne County, Nebraska | 28 | 0.8657 | 0.8657 | 99928 | 99928 | 0.8657
28900 | Webster County, Nebraska | 28 | 0.8657 | 0.8657 | 99928 | 99928 | 0.8657
28910 | Wheeler County, Nebraska | 28 | 0.8657 | 0.8657 | 99928 | 99928 | 0.8657
28920 | York County, Nebraska | 28 | 0.8657 | 0.8657 | 99928 | 99928 | 0.8657
29000 | Churchill County, Nevada | 29 | 0.9687 | 0.9065 | 99929 | 50087 | 0.9376
29010 | Clark County, Nevada | 4120 | 1.1155 | 1.1437 | 29820 | 29820 | 1.1296
29020 | Douglas County, Nevada | 29 | 0.9687 | 0.9065 | 99929 | 50087 | 0.9376
29030 | Elko County, Nevada | 29 | 0.9687 | 0.9065 | 99929 | 50087 | 0.9376
29040 | Esmeralda County, Nevada | 29 | 0.9687 | 0.9065 | 99929 | 50087 | 0.9376
29050 | Eureka County, Nevada | 29 | 0.9687 | 0.9065 | 99929 | 50087 | 0.9376
29060 | Humboldt County, Nevada | 29 | 0.9687 | 0.9065 | 99929 | 50087 | 0.9376
29070 | Lander County, Nevada | 29 | 0.9687 | 0.9065 | 99929 | 50087 | 0.9376
29080 | Lincoln County, Nevada | 29 | 0.9687 | 0.9065 | 99929 | 50087 | 0.9376
29090 | Lyon County, Nevada | 29 | 0.9687 | 0.9065 | 99929 | 50087 | 0.9376
29100 | Mineral County, Nevada | 29 | 0.9687 | 0.9065 | 99929 | 50087 | 0.9376
29110 | Nye County, Nevada | 4120 | 1.1155 | 0.9065 | 99929 | 50261 | 1.0110
29120 | Carson City County, Nevada | 29 | 0.9687 | 1.0234 | 16180 | 16180 | 0.9961
29130 | Pershing County, Nevada | 29 | 0.9687 | 0.9065 | 99929 | 50087 | 0.9376
29140 | Storey County, Nevada | 29 | 0.9687 | 1.0982 | 39900 | 50088 | 1.0335
29150 | Washoe County, Nevada | 6720 | 1.0982 | 1.0982 | 39900 | 50309 | 1.0982
29160 | White Pine County, Nevada | 29 | 0.9687 | 0.9065 | 99929 | 50087 | 0.9376
30000 | Belknap County, New Hampshire | 30 | 1.0817 | 1.0817 | 99930 | 99930 | 1.0817
30010 | Carroll County, New Hampshire | 30 | 1.0817 | 1.0817 | 99930 | 99930 | 1.0817
30020 | Cheshire County, New Hampshire | 30 | 1.0817 | 1.0817 | 99930 | 99930 | 1.0817
30030 | Coos County, New Hampshire | 30 | 1.0817 | 1.0817 | 99930 | 99930 | 1.0817
30040 | Grafton County, New Hampshire | 30 | 1.0817 | 1.0817 | 99930 | 99930 | 1.0817
30050 | Hillsboro County, New Hampshire | 1123 | 1.1178 | 1.0354 | 31700 | 31700 | 1.0766
30060 | Merrimack County, New Hampshire | 1123 | 1.1178 | 1.0354 | 31700 | 31700 | 1.0766
30070 | Rockingham County, New Hampshire | 1123 | 1.1178 | 1.0374 | 40484 | 40484 | 1.0776
30080 | Strafford County, New Hampshire | 1123 | 1.1178 | 1.0374 | 40484 | 40484 | 1.0776
30090 | Sullivan County, New Hampshire | 30 | 1.0817 | 1.0817 | 99930 | 99930 | 1.0817
31000 | Atlantic County, New Jersey | 0560 | 1.1496 | 1.1615 | 12100 | 12100 | 1.1556
31100 | Bergen County, New Jersey | 0875 | 1.1651 | 1.3188 | 35644 | 50178 | 1.2420
31150 | Burlington County, New Jersey | 6160 | 1.0922 | 1.0517 | 15804 | 15804 | 1.0720
31160 | Camden County, New Jersey | 6160 | 1.0922 | 1.0517 | 15804 | 15804 | 1.0720
31180 | Cape May County, New Jersey | 0560 | 1.1496 | 1.1011 | 36140 | 36140 | 1.1254
31190 | Cumberland County, New Jersey | 8760 | 0.9827 | 0.9827 | 47220 | 47220 | 0.9827
31200 | Essex County, New Jersey | 5640 | 1.1834 | 1.1883 | 35084 | 50289 | 1.1859
31220 | Gloucester County, New Jersey | 6160 | 1.0922 | 1.0517 | 15804 | 15804 | 1.0720
31230 | Hudson County, New Jersey | 3640 | 1.1338 | 1.3188 | 35644 | 50249 | 1.2263
31250 | Hunterdon County, New Jersey | 5015 | 1.1167 | 1.1883 | 35084 | 50280 | 1.1525
31260 | Mercer County, New Jersey | 8480 | 1.0834 | 1.0834 | 45940 | 45940 | 1.0834
31270 | Middlesex County, New Jersey | 5015 | 1.1167 | 1.1249 | 20764 | 50279 | 1.1208
31290 | Monmouth County, New Jersey | 5190 | 1.1260 | 1.1249 | 20764 | 50282 | 1.1255
31300 | Morris County, New Jersey | 5640 | 1.1834 | 1.1883 | 35084 | 50289 | 1.1859
31310 | Ocean County, New Jersey | 5190 | 1.1260 | 1.1249 | 20764 | 50282 | 1.1255
31320 | Passaic County, New Jersey | 0875 | 1.1651 | 1.3188 | 35644 | 50178 | 1.2420
31340 | Salem County, New Jersey | 6160 | 1.0922 | 1.0471 | 48864 | 50299 | 1.0697
31350 | Somerset County, New Jersey | 5015 | 1.1167 | 1.1249 | 20764 | 50279 | 1.1208
31360 | Sussex County, New Jersey | 5640 | 1.1834 | 1.1883 | 35084 | 50289 | 1.1859
31370 | Union County, New Jersey | 5640 | 1.1834 | 1.1883 | 35084 | 50289 | 1.1859
31390 | Warren County, New Jersey | 5640 | 1.1834 | 0.9818 | 10900 | 50288 | 1.0826
32000 | Bernalillo County, New Mexico | 0200 | 0.9684 | 0.9684 | 10740 | 50165 | 0.9684
32010 | Catron County, New Mexico | 32 | 0.8563 | 0.8635 | 99932 | 50089 | 0.8599
32020 | Chaves County, New Mexico | 32 | 0.8563 | 0.8635 | 99932 | 50089 | 0.8599
32025 | Cibola County, New Mexico | 32 | 0.8563 | 0.8635 | 99932 | 50089 | 0.8599
32030 | Colfax County, New Mexico | 32 | 0.8563 | 0.8635 | 99932 | 50089 | 0.8599
32040 | Curry County, New Mexico | 32 | 0.8563 | 0.8635 | 99932 | 50089 | 0.8599
32050 | De Baca County, New Mexico | 32 | 0.8563 | 0.8635 | 99932 | 50089 | 0.8599
32060 | Dona Ana County, New Mexico | 4100 | 0.8467 | 0.8467 | 29740 | 29740 | 0.8467
32070 | Eddy County, New Mexico | 32 | 0.8563 | 0.8635 | 99932 | 50089 | 0.8599
32080 | Grant County, New Mexico | 32 | 0.8563 | 0.8635 | 99932 | 50089 | 0.8599
32090 | Guadalupe County, New Mexico | 32 | 0.8563 | 0.8635 | 99932 | 50089 | 0.8599
32100 | Harding County, New Mexico | 32 | 0.8563 | 0.8635 | 99932 | 50089 | 0.8599
32110 | Hidalgo County, New Mexico | 32 | 0.8563 | 0.8635 | 99932 | 50089 | 0.8599
32120 | Lea County, New Mexico | 32 | 0.8563 | 0.8635 | 99932 | 50089 | 0.8599
32130 | Lincoln County, New Mexico | 32 | 0.8563 | 0.8635 | 99932 | 50089 | 0.8599
32131 | Los Alamos County, New Mexico | 7490 | 1.0748 | 0.8635 | 99932 | 50325 | 0.9692
32140 | Luna County, New Mexico | 32 | 0.8563 | 0.8635 | 99932 | 50089 | 0.8599
32150 | Mc Kinley County, New Mexico | 32 | 0.8563 | 0.8635 | 99932 | 50089 | 0.8599
32160 | Mora County, New Mexico | 32 | 0.8563 | 0.8635 | 99932 | 50089 | 0.8599
32170 | Otero County, New Mexico | 32 | 0.8563 | 0.8635 | 99932 | 50089 | 0.8599
32180 | Quay County, New Mexico | 32 | 0.8563 | 0.8635 | 99932 | 50089 | 0.8599
32190 | Rio Arriba County, New Mexico | 32 | 0.8563 | 0.8635 | 99932 | 50089 | 0.8599
32200 | Roosevelt County, New Mexico | 32 | 0.8563 | 0.8635 | 99932 | 50089 | 0.8599
32210 | Sandoval County, New Mexico | 0200 | 0.9684 | 0.9684 | 10740 | 50165 | 0.9684
32220 | San Juan County, New Mexico | 32 | 0.8563 | 0.8509 | 22140 | 22140 | 0.8536
32230 | San Miguel County, New Mexico | 32 | 0.8563 | 0.8635 | 99932 | 50089 | 0.8599
32240 | Santa Fe County, New Mexico | 7490 | 1.0748 | 1.0920 | 42140 | 42140 | 1.0834
32250 | Sierra County, New Mexico | 32 | 0.8563 | 0.8635 | 99932 | 50089 | 0.8599
32260 | Socorro County, New Mexico | 32 | 0.8563 | 0.8635 | 99932 | 50089 | 0.8599
32270 | Taos County, New Mexico | 32 | 0.8563 | 0.8635 | 99932 | 50089 | 0.8599
32280 | Torrance County, New Mexico | 32 | 0.8563 | 0.9684 | 10740 | 50090 | 0.9124
32290 | Union County, New Mexico | 32 | 0.8563 | 0.8635 | 99932 | 50089 | 0.8599
32300 | Valencia County, New Mexico | 0200 | 0.9684 | 0.9684 | 10740 | 50165 | 0.9684
33000 | Albany County, New York | 0160 | 0.8559 | 0.8589 | 10580 | 10580 | 0.8574
33010 | Allegany County, New York | 33 | 0.8395 | 0.8154 | 99933 | 50091 | 0.8275
33020 | Bronx County, New York | 5600 | 1.3464 | 1.3188 | 35644 | 50287 | 1.3326
33030 | Broome County, New York | 0960 | 0.8562 | 0.8562 | 13780 | 13780 | 0.8562
33040 | Cattaraugus County, New York | 33 | 0.8395 | 0.8154 | 99933 | 50091 | 0.8275
33050 | Cayuga County, New York | 8160 | 0.9492 | 0.8154 | 99933 | 50336 | 0.8823
33060 | Chautauqua County, New York | 3610 | 0.7544 | 0.8154 | 99933 | 50248 | 0.7849
33070 | Chemung County, New York | 2335 | 0.8250 | 0.8250 | 21300 | 21300 | 0.8250
33080 | Chenango County, New York | 33 | 0.8395 | 0.8154 | 99933 | 50091 | 0.8275
33090 | Clinton County, New York | 33 | 0.8395 | 0.8154 | 99933 | 50091 | 0.8275
33200 | Columbia County, New York | 33 | 0.8395 | 0.8154 | 99933 | 50091 | 0.8275
33210 | Cortland County, New York | 33 | 0.8395 | 0.8154 | 99933 | 50091 | 0.8275
33220 | Delaware County, New York | 33 | 0.8395 | 0.8154 | 99933 | 50091 | 0.8275
33230 | Dutchess County, New York | 2281 | 1.0475 | 1.0891 | 39100 | 50217 | 1.0683
33240 | Erie County, New York | 1280 | 0.9511 | 0.9511 | 15380 | 15380 | 0.9511
33260 | Essex County, New York | 33 | 0.8395 | 0.8154 | 99933 | 50091 | 0.8275
33270 | Franklin County, New York | 33 | 0.8395 | 0.8154 | 99933 | 50091 | 0.8275
33280 | Fulton County, New York | 33 | 0.8395 | 0.8154 | 99933 | 50091 | 0.8275
33290 | Genesee County, New York | 6840 | 0.9049 | 0.8154 | 99933 | 50313 | 0.8602
33300 | Greene County, New York | 33 | 0.8395 | 0.8154 | 99933 | 50091 | 0.8275
33310 | Hamilton County, New York | 33 | 0.8395 | 0.8154 | 99933 | 50091 | 0.8275
33320 | Herkimer County, New York | 8680 | 0.8358 | 0.8358 | 46540 | 46540 | 0.8358
33330 | Jefferson County, New York | 33 | 0.8395 | 0.8154 | 99933 | 50091 | 0.8275
33331 | Kings County, New York | 5600 | 1.3464 | 1.3188 | 35644 | 50287 | 1.3326
33340 | Lewis County, New York | 33 | 0.8395 | 0.8154 | 99933 | 50091 | 0.8275
33350 | Livingston County, New York | 6840 | 0.9049 | 0.9121 | 40380 | 40380 | 0.9085
33360 | Madison County, New York | 8160 | 0.9492 | 0.9574 | 45060 | 45060 | 0.9533
33370 | Monroe County, New York | 6840 | 0.9049 | 0.9121 | 40380 | 40380 | 0.9085
33380 | Montgomery County, New York | 0160 | 0.8559 | 0.8154 | 99933 | 50164 | 0.8357
33400 | Nassau County, New York | 5380 | 1.2719 | 1.2719 | 35004 | 35004 | 1.2719
33420 | New York County, New York | 5600 | 1.3464 | 1.3188 | 35644 | 50287 | 1.3326
33500 | Niagara County, New York | 1280 | 0.9511 | 0.9511 | 15380 | 15380 | 0.9511
33510 | Oneida County, New York | 8680 | 0.8358 | 0.8358 | 46540 | 46540 | 0.8358
33520 | Onondaga County, New York | 8160 | 0.9492 | 0.9574 | 45060 | 45060 | 0.9533
33530 | Ontario County, New York | 6840 | 0.9049 | 0.9121 | 40380 | 40380 | 0.9085
33540 | Orange County, New York | 5660 | 1.1207 | 1.0891 | 39100 | 50291 | 1.1049
33550 | Orleans County, New York | 6840 | 0.9049 | 0.9121 | 40380 | 40380 | 0.9085
33560 | Oswego County, New York | 8160 | 0.9492 | 0.9574 | 45060 | 45060 | 0.9533
33570 | Otsego County, New York | 33 | 0.8395 | 0.8154 | 99933 | 50091 | 0.8275
33580 | Putnam County, New York | 5600 | 1.3464 | 1.3188 | 35644 | 50287 | 1.3326
33590 | Queens County, New York | 5600 | 1.3464 | 1.3188 | 35644 | 50287 | 1.3326
33600 | Rensselaer County, New York | 0160 | 0.8559 | 0.8589 | 10580 | 10580 | 0.8574
33610 | Richmond County, New York | 5600 | 1.3464 | 1.3188 | 35644 | 50287 | 1.3326
33620 | Rockland County, New York | 5600 | 1.3464 | 1.3188 | 35644 | 50287 | 1.3326
33630 | St Lawrence County, New York | 33 | 0.8395 | 0.8154 | 99933 | 50091 | 0.8275
33640 | Saratoga County, New York | 0160 | 0.8559 | 0.8589 | 10580 | 10580 | 0.8574
33650 | Schenectady County, New York | 0160 | 0.8559 | 0.8589 | 10580 | 10580 | 0.8574
33660 | Schoharie County, New York | 0160 | 0.8559 | 0.8589 | 10580 | 10580 | 0.8574
33670 | Schuyler County, New York | 33 | 0.8395 | 0.8154 | 99933 | 50091 | 0.8275
33680 | Seneca County, New York | 33 | 0.8395 | 0.8154 | 99933 | 50091 | 0.8275
33690 | Steuben County, New York | 33 | 0.8395 | 0.8154 | 99933 | 50091 | 0.8275
33700 | Suffolk County, New York | 5380 | 1.2719 | 1.2719 | 35004 | 35004 | 1.2719
33710 | Sullivan County, New York | 33 | 0.8395 | 0.8154 | 99933 | 50091 | 0.8275
33720 | Tioga County, New York | 0960 | 0.8562 | 0.8562 | 13780 | 13780 | 0.8562
33730 | Tompkins County, New York | 33 | 0.8395 | 0.9793 | 27060 | 27060 | 0.9094
33740 | Ulster County, New York | 33 | 0.8395 | 0.9255 | 28740 | 28740 | 0.8825
33750 | Warren County, New York | 2975 | 0.8559 | 0.8559 | 24020 | 24020 | 0.8559
33760 | Washington County, New York | 2975 | 0.8559 | 0.8559 | 24020 | 24020 | 0.8559
33770 | Wayne County, New York | 6840 | 0.9049 | 0.9121 | 40380 | 40380 | 0.9085
33800 | Westchester County, New York | 5600 | 1.3464 | 1.3188 | 35644 | 50287 | 1.3326
33900 | Wyoming County, New York | 33 | 0.8395 | 0.8154 | 99933 | 50091 | 0.8275
33910 | Yates County, New York | 33 | 0.8395 | 0.8154 | 99933 | 50091 | 0.8275
34000 | Alamance County, N Carolina | 3120 | 0.9018 | 0.8905 | 15500 | 15500 | 0.8962
34010 | Alexander County, N Carolina | 3290 | 0.8921 | 0.8921 | 25860 | 25860 | 0.8921
34020 | Alleghany County, N Carolina | 34 | 0.8462 | 0.8540 | 99934 | 50092 | 0.8501
34030 | Anson County, N Carolina | 34 | 0.8462 | 0.9750 | 16740 | 50094 | 0.9106
34040 | Ashe County, N Carolina | 34 | 0.8462 | 0.8540 | 99934 | 50092 | 0.8501
34050 | Avery County, N Carolina | 34 | 0.8462 | 0.8540 | 99934 | 50092 | 0.8501
34060 | Beaufort County, N Carolina | 34 | 0.8462 | 0.8540 | 99934 | 50092 | 0.8501
34070 | Bertie County, N Carolina | 34 | 0.8462 | 0.8540 | 99934 | 50092 | 0.8501
34080 | Bladen County, N Carolina | 34 | 0.8462 | 0.8540 | 99934 | 50092 | 0.8501
34090 | Brunswick County, N Carolina | 9200 | 0.9582 | 0.9582 | 48900 | 50350 | 0.9582
34100 | Buncombe County, N Carolina | 0480 | 0.9737 | 0.9285 | 11700 | 50173 | 0.9511
34110 | Burke County, N Carolina | 3290 | 0.8921 | 0.8921 | 25860 | 25860 | 0.8921
34120 | Cabarrus County, N Carolina | 1520 | 0.9715 | 0.9750 | 16740 | 50193 | 0.9733
34130 | Caldwell County, N Carolina | 3290 | 0.8921 | 0.8921 | 25860 | 25860 | 0.8921
34140 | Camden County, N Carolina | 34 | 0.8462 | 0.8540 | 99934 | 50092 | 0.8501
34150 | Carteret County, N Carolina | 34 | 0.8462 | 0.8540 | 99934 | 50092 | 0.8501
34160 | Caswell County, N Carolina | 34 | 0.8462 | 0.8540 | 99934 | 50092 | 0.8501
34170 | Catawba County, N Carolina | 3290 | 0.8921 | 0.8921 | 25860 | 25860 | 0.8921
34180 | Chatham County, N Carolina | 6640 | 1.0034 | 1.0244 | 20500 | 50307 | 1.0139
34190 | Cherokee County, N Carolina | 34 | 0.8462 | 0.8540 | 99934 | 50092 | 0.8501
34200 | Chowan County, N Carolina | 34 | 0.8462 | 0.8540 | 99934 | 50092 | 0.8501
34210 | Clay County, N Carolina | 34 | 0.8462 | 0.8540 | 99934 | 50092 | 0.8501
34220 | Cleveland County, N Carolina | 34 | 0.8462 | 0.8540 | 99934 | 50092 | 0.8501
34230 | Columbus County, N Carolina | 34 | 0.8462 | 0.8540 | 99934 | 50092 | 0.8501
34240 | Craven County, N Carolina | 34 | 0.8462 | 0.8540 | 99934 | 50092 | 0.8501
34250 | Cumberland County, N Carolina | 2560 | 0.9416 | 0.9416 | 22180 | 50220 | 0.9416
34251 | Currituck County, N Carolina | 5720 | 0.8799 | 0.8799 | 47260 | 50292 | 0.8799
34270 | Dare County, N Carolina | 34 | 0.8462 | 0.8540 | 99934 | 50092 | 0.8501
34280 | Davidson County, N Carolina | 3120 | 0.9018 | 0.8540 | 99934 | 50234 | 0.8779
34290 | Davie County, N Carolina | 3120 | 0.9018 | 0.8944 | 49180 | 49180 | 0.8981
34300 | Duplin County, N Carolina | 34 | 0.8462 | 0.8540 | 99934 | 50092 | 0.8501
34310 | Durham County, N Carolina | 6640 | 1.0034 | 1.0244 | 20500 | 50307 | 1.0139
34320 | Edgecombe County, N Carolina | 6895 | 0.8915 | 0.8915 | 40580 | 40580 | 0.8915
34330 | Forsyth County, N Carolina | 3120 | 0.9018 | 0.8944 | 49180 | 49180 | 0.8981
34340 | Franklin County, N Carolina | 6640 | 1.0034 | 0.9691 | 39580 | 39580 | 0.9863
34350 | Gaston County, N Carolina | 1520 | 0.9715 | 0.9750 | 16740 | 50193 | 0.9733
34360 | Gates County, N Carolina | 34 | 0.8462 | 0.8540 | 99934 | 50092 | 0.8501
34370 | Graham County, N Carolina | 34 | 0.8462 | 0.8540 | 99934 | 50092 | 0.8501
34380 | Granville County, N Carolina | 34 | 0.8462 | 0.8540 | 99934 | 50092 | 0.8501
34390 | Greene County, N Carolina | 34 | 0.8462 | 0.9425 | 24780 | 50098 | 0.8944
34400 | Guilford County, N Carolina | 3120 | 0.9018 | 0.9104 | 24660 | 50235 | 0.9061
34410 | Halifax County, N Carolina | 34 | 0.8462 | 0.8540 | 99934 | 50092 | 0.8501
34420 | Harnett County, N Carolina | 34 | 0.8462 | 0.8540 | 99934 | 50092 | 0.8501
34430 | Haywood County, N Carolina | 34 | 0.8462 | 0.9285 | 11700 | 50093 | 0.8874
34440 | Henderson County, N Carolina | 34 | 0.8462 | 0.9285 | 11700 | 50093 | 0.8874
34450 | Hertford County, N Carolina | 34 | 0.8462 | 0.8540 | 99934 | 50092 | 0.8501
34460 | Hoke County, N Carolina | 34 | 0.8462 | 0.9416 | 22180 | 50096 | 0.8939
34470 | Hyde County, N Carolina | 34 | 0.8462 | 0.8540 | 99934 | 50092 | 0.8501
34480 | Iredell County, N Carolina | 34 | 0.8462 | 0.8540 | 99934 | 50092 | 0.8501
34490 | Jackson County, N Carolina | 34 | 0.8462 | 0.8540 | 99934 | 50092 | 0.8501
34500 | Johnston County, N Carolina | 6640 | 1.0034 | 0.9691 | 39580 | 39580 | 0.9863
34510 | Jones County, N Carolina | 34 | 0.8462 | 0.8540 | 99934 | 50092 | 0.8501
34520 | Lee County, N Carolina | 34 | 0.8462 | 0.8540 | 99934 | 50092 | 0.8501
34530 | Lenoir County, N Carolina | 34 | 0.8462 | 0.8540 | 99934 | 50092 | 0.8501
34540 | Lincoln County, N Carolina | 1520 | 0.9715 | 0.8540 | 99934 | 50192 | 0.9128
34550 | Mc Dowell County, N Carolina | 34 | 0.8462 | 0.8540 | 99934 | 50092 | 0.8501
34560 | Macon County, N Carolina | 34 | 0.8462 | 0.8540 | 99934 | 50092 | 0.8501
34570 | Madison County, N Carolina | 0480 | 0.9737 | 0.9285 | 11700 | 50173 | 0.9511
34580 | Martin County, N Carolina | 34 | 0.8462 | 0.8540 | 99934 | 50092 | 0.8501
34590 | Mecklenburg County, N Carolina | 1520 | 0.9715 | 0.9750 | 16740 | 50193 | 0.9733
34600 | Mitchell County, N Carolina | 34 | 0.8462 | 0.8540 | 99934 | 50092 | 0.8501
34610 | Montgomery County, N Carolina | 34 | 0.8462 | 0.8540 | 99934 | 50092 | 0.8501
34620 | Moore County, N Carolina | 34 | 0.8462 | 0.8540 | 99934 | 50092 | 0.8501
34630 | Nash County, N Carolina | 6895 | 0.8915 | 0.8915 | 40580 | 40580 | 0.8915
34640 | New Hanover County, N Carolina | 9200 | 0.9582 | 0.9582 | 48900 | 50350 | 0.9582
34650 | Northampton County, N Carolina | 34 | 0.8462 | 0.8540 | 99934 | 50092 | 0.8501
34660 | Onslow County, N Carolina | 3605 | 0.8236 | 0.8236 | 27340 | 27340 | 0.8236
34670 | Orange County, N Carolina | 6640 | 1.0034 | 1.0244 | 20500 | 50307 | 1.0139
34680 | Pamlico County, N Carolina | 34 | 0.8462 | 0.8540 | 99934 | 50092 | 0.8501
34690 | Pasquotank County, N Carolina | 34 | 0.8462 | 0.8540 | 99934 | 50092 | 0.8501
34700 | Pender County, N Carolina | 34 | 0.8462 | 0.9582 | 48900 | 50099 | 0.9022
34710 | Perquimans County, N Carolina | 34 | 0.8462 | 0.8540 | 99934 | 50092 | 0.8501
34720 | Person County, N Carolina | 34 | 0.8462 | 1.0244 | 20500 | 50095 | 0.9353
34730 | Pitt County, N Carolina | 3150 | 0.9425 | 0.9425 | 24780 | 50236 | 0.9425
34740 | Polk County, N Carolina | 34 | 0.8462 | 0.8540 | 99934 | 50092 | 0.8501
34750 | Randolph County, N Carolina | 3120 | 0.9018 | 0.9104 | 24660 | 50235 | 0.9061
34760 | Richmond County, N Carolina | 34 | 0.8462 | 0.8540 | 99934 | 50092 | 0.8501
34770 | Robeson County, N Carolina | 34 | 0.8462 | 0.8540 | 99934 | 50092 | 0.8501
34780 | Rockingham County, N Carolina | 34 | 0.8462 | 0.9104 | 24660 | 50097 | 0.8783
34790 | Rowan County, N Carolina | 1520 | 0.9715 | 0.8540 | 99934 | 50192 | 0.9128
34800 | Rutherford County, N Carolina | 34 | 0.8462 | 0.8540 | 99934 | 50092 | 0.8501
34810 | Sampson County, N Carolina | 34 | 0.8462 | 0.8540 | 99934 | 50092 | 0.8501
34820 | Scotland County, N Carolina | 34 | 0.8462 | 0.8540 | 99934 | 50092 | 0.8501
34830 | Stanly County, N Carolina | 34 | 0.8462 | 0.8540 | 99934 | 50092 | 0.8501
34840 | Stokes County, N Carolina | 3120 | 0.9018 | 0.8944 | 49180 | 49180 | 0.8981
34850 | Surry County, N Carolina | 34 | 0.8462 | 0.8540 | 99934 | 50092 | 0.8501
34860 | Swain County, N Carolina | 34 | 0.8462 | 0.8540 | 99934 | 50092 | 0.8501
34870 | Transylvania County, N Carolina | 34 | 0.8462 | 0.8540 | 99934 | 50092 | 0.8501
34880 | Tyrrell County, N Carolina | 34 | 0.8462 | 0.8540 | 99934 | 50092 | 0.8501
34890 | Union County, N Carolina | 1520 | 0.9715 | 0.9750 | 16740 | 50193 | 0.9733
34900 | Vance County, N Carolina | 34 | 0.8462 | 0.8540 | 99934 | 50092 | 0.8501
34910 | Wake County, N Carolina | 6640 | 1.0034 | 0.9691 | 39580 | 39580 | 0.9863
34920 | Warren County, N Carolina | 34 | 0.8462 | 0.8540 | 99934 | 50092 | 0.8501
34930 | Washington County, N Carolina | 34 | 0.8462 | 0.8540 | 99934 | 50092 | 0.8501
34940 | Watauga County, N Carolina | 34 | 0.8462 | 0.8540 | 99934 | 50092 | 0.8501
34950 | Wayne County, N Carolina | 2980 | 0.8775 | 0.8775 | 24140 | 24140 | 0.8775
34960 | Wilkes County, N Carolina | 34 | 0.8462 | 0.8540 | 99934 | 50092 | 0.8501
34970 | Wilson County, N Carolina | 34 | 0.8462 | 0.8540 | 99934 | 50092 | 0.8501
34980 | Yadkin County, N Carolina | 3120 | 0.9018 | 0.8944 | 49180 | 49180 | 0.8981
34981 | Yancey County, N Carolina | 34 | 0.8462 | 0.8540 | 99934 | 50092 | 0.8501
35000 | Adams County, N Dakota | 35 | 0.7261 | 0.7261 | 99935 | 99935 | 0.7261
35010 | Barnes County, N Dakota | 35 | 0.7261 | 0.7261 | 99935 | 99935 | 0.7261
35020 | Benson County, N Dakota | 35 | 0.7261 | 0.7261 | 99935 | 99935 | 0.7261
35030 | Billings County, N Dakota | 35 | 0.7261 | 0.7261 | 99935 | 99935 | 0.7261
35040 | Bottineau County, N Dakota | 35 | 0.7261 | 0.7261 | 99935 | 99935 | 0.7261
35050 | Bowman County, N Dakota | 35 | 0.7261 | 0.7261 | 99935 | 99935 | 0.7261
35060 | Burke County, N Dakota | 35 | 0.7261 | 0.7261 | 99935 | 99935 | 0.7261
35070 | Burleigh County, N Dakota | 1010 | 0.7574 | 0.7574 | 13900 | 13900 | 0.7574
35080 | Cass County, N Dakota | 2520 | 0.8486 | 0.8486 | 22020 | 22020 | 0.8486
35090 | Cavalier County, N Dakota | 35 | 0.7261 | 0.7261 | 99935 | 99935 | 0.7261
35100 | Dickey County, N Dakota | 35 | 0.7261 | 0.7261 | 99935 | 99935 | 0.7261
35110 | Divide County, N Dakota | 35 | 0.7261 | 0.7261 | 99935 | 99935 | 0.7261
35120 | Dunn County, N Dakota | 35 | 0.7261 | 0.7261 | 99935 | 99935 | 0.7261
35130 | Eddy County, N Dakota | 35 | 0.7261 | 0.7261 | 99935 | 99935 | 0.7261
35140 | Emmons County, N Dakota | 35 | 0.7261 | 0.7261 | 99935 | 99935 | 0.7261
35150 | Foster County, N Dakota | 35 | 0.7261 | 0.7261 | 99935 | 99935 | 0.7261
35160 | Golden Valley County, N Dakota | 35 | 0.7261 | 0.7261 | 99935 | 99935 | 0.7261
35170 | Grand Forks County, N Dakota | 2985 | 0.7901 | 0.7901 | 24220 | 24220 | 0.7901
35180 | Grant County, N Dakota | 35 | 0.7261 | 0.7261 | 99935 | 99935 | 0.7261
35190 | Griggs County, N Dakota | 35 | 0.7261 | 0.7261 | 99935 | 99935 | 0.7261
35200 | Hettinger County, N Dakota | 35 | 0.7261 | 0.7261 | 99935 | 99935 | 0.7261
35210 | Kidder County, N Dakota | 35 | 0.7261 | 0.7261 | 99935 | 99935 | 0.7261
35220 | La Moure County, N Dakota | 35 | 0.7261 | 0.7261 | 99935 | 99935 | 0.7261
35230 | Logan County, N Dakota | 35 | 0.7261 | 0.7261 | 99935 | 99935 | 0.7261
35240 | Mc Henry County, N Dakota | 35 | 0.7261 | 0.7261 | 99935 | 99935 | 0.7261
35250 | Mc Intosh County, N Dakota | 35 | 0.7261 | 0.7261 | 99935 | 99935 | 0.7261
35260 | Mc Kenzie County, N Dakota | 35 | 0.7261 | 0.7261 | 99935 | 99935 | 0.7261
35270 | Mc Lean County, N Dakota | 35 | 0.7261 | 0.7261 | 99935 | 99935 | 0.7261
35280 | Mercer County, N Dakota | 35 | 0.7261 | 0.7261 | 99935 | 99935 | 0.7261
35290 | Morton County, N Dakota | 1010 | 0.7574 | 0.7574 | 13900 | 13900 | 0.7574
35300 | Mountrail County, N Dakota | 35 | 0.7261 | 0.7261 | 99935 | 99935 | 0.7261
35310 | Nelson County, N Dakota | 35 | 0.7261 | 0.7261 | 99935 | 99935 | 0.7261
35320 | Oliver County, N Dakota | 35 | 0.7261 | 0.7261 | 99935 | 99935 | 0.7261
35330 | Pembina County, N Dakota | 35 | 0.7261 | 0.7261 | 99935 | 99935 | 0.7261
35340 | Pierce County, N Dakota | 35 | 0.7261 | 0.7261 | 99935 | 99935 | 0.7261
35350 | Ramsey County, N Dakota | 35 | 0.7261 | 0.7261 | 99935 | 99935 | 0.7261
35360 | Ransom County, N Dakota | 35 | 0.7261 | 0.7261 | 99935 | 99935 | 0.7261
35370 | Renville County, N Dakota | 35 | 0.7261 | 0.7261 | 99935 | 99935 | 0.7261
35380 | Richland County, N Dakota | 35 | 0.7261 | 0.7261 | 99935 | 99935 | 0.7261
35390 | Rolette County, N Dakota | 35 | 0.7261 | 0.7261 | 99935 | 99935 | 0.7261
35400 | Sargent County, N Dakota | 35 | 0.7261 | 0.7261 | 99935 | 99935 | 0.7261
35410 | Sheridan County, N Dakota | 35 | 0.7261 | 0.7261 | 99935 | 99935 | 0.7261
35420 | Sioux County, N Dakota | 35 | 0.7261 | 0.7261 | 99935 | 99935 | 0.7261
35430 | Slope County, N Dakota | 35 | 0.7261 | 0.7261 | 99935 | 99935 | 0.7261
35440 | Stark County, N Dakota | 35 | 0.7261 | 0.7261 | 99935 | 99935 | 0.7261
35450 | Steele County, N Dakota | 35 | 0.7261 | 0.7261 | 99935 | 99935 | 0.7261
35460 | Stutsman County, N Dakota | 35 | 0.7261 | 0.7261 | 99935 | 99935 | 0.7261
35470 | Towner County, N Dakota | 35 | 0.7261 | 0.7261 | 99935 | 99935 | 0.7261
35480 | Traill County, N Dakota | 35 | 0.7261 | 0.7261 | 99935 | 99935 | 0.7261
35490 | Walsh County, N Dakota | 35 | 0.7261 | 0.7261 | 99935 | 99935 | 0.7261
35500 | Ward County, N Dakota | 35 | 0.7261 | 0.7261 | 99935 | 99935 | 0.7261
35510 | Wells County, N Dakota | 35 | 0.7261 | 0.7261 | 99935 | 99935 | 0.7261
35520 | Williams County, N Dakota | 35 | 0.7261 | 0.7261 | 99935 | 99935 | 0.7261
36000 | Adams County, Ohio | 36 | 0.8921 | 0.8826 | 99936 | 50100 | 0.8874
36010 | Allen County, Ohio | 4320 | 0.9119 | 0.9225 | 30620 | 30620 | 0.9172
36020 | Ashland County, Ohio | 36 | 0.8921 | 0.8826 | 99936 | 50100 | 0.8874
36030 | Ashtabula County, Ohio | 1680 | 0.9183 | 0.8826 | 99936 | 50199 | 0.9005
36040 | Athens County, Ohio | 36 | 0.8921 | 0.8826 | 99936 | 50100 | 0.8874
36050 | Auglaize County, Ohio | 4320 | 0.9119 | 0.8826 | 99936 | 50263 | 0.8973
36060 | Belmont County, Ohio | 9000 | 0.7161 | 0.7161 | 48540 | 48540 | 0.7161
36070 | Brown County, Ohio | 1640 | 0.9734 | 0.9615 | 17140 | 50197 | 0.9675
36080 | Butler County, Ohio | 3200 | 0.8951 | 0.9615 | 17140 | 50240 | 0.9283
36090 | Carroll County, Ohio | 1320 | 0.8935 | 0.8935 | 15940 | 15940 | 0.8935
36100 | Champaign County, Ohio | 36 | 0.8921 | 0.8826 | 99936 | 50100 | 0.8874
36110 | Clark County, Ohio | 2000 | 0.8980 | 0.8396 | 44220 | 44220 | 0.8688
36120 | Clermont County, Ohio | 1640 | 0.9734 | 0.9615 | 17140 | 50197 | 0.9675
36130 | Clinton County, Ohio | 36 | 0.8921 | 0.8826 | 99936 | 50100 | 0.8874
36140 | Columbiana County, Ohio | 9320 | 0.8848 | 0.8826 | 99936 | 50352 | 0.8837
36150 | Coshocton County, Ohio | 36 | 0.8921 | 0.8826 | 99936 | 50100 | 0.8874
36160 | Crawford County, Ohio | 4800 | 0.9891 | 0.8826 | 99936 | 50275 | 0.9359
36170 | Cuyahoga County, Ohio | 1680 | 0.9183 | 0.9213 | 17460 | 17460 | 0.9198
36190 | Darke County, Ohio | 36 | 0.891 | 0.8826 | 99936 | 50100 | 0.8874
36200 | Defiance County, Ohio | 36 | 0.8921 | 0.8826 | 99936 | 50100 | 0.8874
36210 | Delaware County, Ohio | 1840 | 0.9874 | 0.9860 | 18140 | 50204 | 0.9867
36220 | Erie County, Ohio | 36 | 0.8921 | 0.9019 | 41780 | 41780 | 0.8970
36230 | Fairfield County, Ohio | 1840 | 0.9874 | 0.9860 | 18140 | 50204 | 0.9867
36240 | Fayette County, Ohio | 36 | 0.8921 | 0.8826 | 99936 | 50100 | 0.8874
36250 | Franklin County, Ohio | 1840 | 0.9874 | 0.9860 | 18140 | 50204 | 0.9867
36260 | Fulton County, Ohio | 8400 | 0.9574 | 0.9574 | 45780 | 50339 | 0.9574
36270 | Gallia County, Ohio | 36 | 0.8921 | 0.8826 | 99936 | 50100 | 0.8874
36280 | Geauga County, Ohio | 1680 | 0.9183 | 0.9213 | 17460 | 17460 | 0.9198
36290 | Greene County, Ohio | 2000 | 0.8980 | 0.9064 | 19380 | 50209 | 0.9022
36300 | Guernsey County, Ohio | 36 | 0.8921 | 0.8826 | 99936 | 50100 | 0.8874
36310 | Hamilton County, Ohio | 1640 | 0.9734 | 0.9615 | 17140 | 50197 | 0.9675
36330 | Hancock County, Ohio | 36 | 0.8921 | 0.8826 | 99936 | 50100 | 0.8874
36340 | Hardin County, Ohio | 36 | 0.8921 | 0.8826 | 99936 | 50100 | 0.8874
36350 | Harrison County, Ohio | 36 | 0.8921 | 0.8826 | 99936 | 50100 | 0.8874
36360 | Henry County, Ohio | 36 | 0.8921 | 0.8826 | 99936 | 50100 | 0.8874
36370 | Highland County, Ohio | 36 | 0.8921 | 0.8826 | 99936 | 50100 | 0.8874
36380 | Hocking County, Ohio | 36 | 0.8921 | 0.8826 | 99936 | 50100 | 0.8874
36390 | Holmes County, Ohio | 36 | 0.8921 | 0.8826 | 99936 | 50100 | 0.8874
36400 | Huron County, Ohio | 36 | 0.8921 | 0.8826 | 99936 | 50100 | 0.8874
36410 | Jackson County, Ohio | 36 | 0.8921 | 0.8826 | 99936 | 50100 | 0.8874
36420 | Jefferson County, Ohio | 8080 | 0.7819 | 0.7819 | 48260 | 48260 | 0.7819
36430 | Knox County, Ohio | 36 | 0.8921 | 0.8826 | 99936 | 50100 | 0.8874
36440 | Lake County, Ohio | 1680 | 0.9183 | 0.9213 | 17460 | 17460 | 0.9198
36450 | Lawrence County, Ohio | 3400 | 0.9477 | 0.9477 | 26580 | 26580 | 0.9477
36460 | Licking County, Ohio | 1840 | 0.9874 | 0.9860 | 18140 | 50204 | 0.9867
36470 | Logan County, Ohio | 36 | 0.8921 | 0.8826 | 99936 | 50100 | 0.8874
36480 | Lorain County, Ohio | 1680 | 0.9183 | 0.9213 | 17460 | 17460 | 0.9198
36490 | Lucas County, Ohio | 8400 | 0.9574 | 0.9574 | 45780 | 50339 | 0.9574
36500 | Madison County, Ohio | 1840 | 0.9874 | 0.9860 | 18140 | 50204 | 0.9867
36510 | Mahoning County, Ohio | 9320 | 0.8848 | 0.8603 | 49660 | 50353 | 0.8726
36520 | Marion County, Ohio | 36 | 0.8921 | 0.8826 | 99936 | 50100 | 0.8874
36530 | Medina County, Ohio | 1680 | 0.9183 | 0.9213 | 17460 | 17460 | 0.9198
36540 | Meigs County, Ohio | 36 | 0.8921 | 0.8826 | 99936 | 50100 | 0.8874
36550 | Mercer County, Ohio | 36 | 0.8921 | 0.8826 | 99936 | 50100 | 0.8874
36560 | Miami County, Ohio | 2000 | 0.8980 | 0.9064 | 19380 | 50209 | 0.9022
36570 | Monroe County, Ohio | 36 | 0.8921 | 0.8826 | 99936 | 50100 | 0.8874
36580 | Montgomery County, Ohio | 2000 | 0.8980 | 0.9064 | 19380 | 50209 | 0.9022
36590 | Morgan County, Ohio | 36 | 0.8921 | 0.8826 | 99936 | 50100 | 0.8874
36600 | Morrow County, Ohio | 36 | 0.8921 | 0.9860 | 18140 | 50101 | 0.9391
36610 | Muskingum County, Ohio | 36 | 0.8921 | 0.8826 | 99936 | 50100 | 0.8874
36620 | Noble County, Ohio | 36 | 0.8921 | 0.8826 | 99936 | 50100 | 0.8874
36630 | Ottawa County, Ohio | 36 | 0.8921 | 0.9574 | 45780 | 50103 | 0.9248
36640 | Paulding County, Ohio | 36 | 0.8921 | 0.8826 | 99936 | 50100 | 0.8874
36650 | Perry County, Ohio | 36 | 0.8921 | 0.8826 | 99936 | 50100 | 0.8874
36660 | Pickaway County, Ohio | 1840 | 0.9874 | 0.9860 | 18140 | 50204 | 0.9867
36670 | Pike County, Ohio | 36 | 0.8921 | 0.8826 | 99936 | 50100 | 0.8874
36680 | Portage County, Ohio | 0080 | 0.8982 | 0.8982 | 10420 | 10420 | 0.8982
36690 | Preble County, Ohio | 36 | 0.8921 | 0.9064 | 19380 | 50102 | 0.8993
36700 | Putnam County, Ohio | 36 | 0.8921 | 0.8826 | 99936 | 50100 | 0.8874
36710 | Richland County, Ohio | 4800 | 0.9891 | 0.9891 | 31900 | 31900 | 0.9891
36720 | Ross County, Ohio | 36 | 0.8921 | 0.8826 | 99936 | 50100 | 0.8874
36730 | Sandusky County, Ohio | 36 | 0.8921 | 0.8826 | 99936 | 50100 | 0.8874
36740 | Scioto County, Ohio | 36 | 0.8921 | 0.8826 | 99936 | 50100 | 0.8874
36750 | Seneca County, Ohio | 36 | 0.8921 | 0.8826 | 99936 | 50100 | 0.8874
36760 | Shelby County, Ohio | 36 | 0.8921 | 0.8826 | 99936 | 50100 | 0.8874
36770 | Stark County, Ohio | 1320 | 0.8935 | 0.8935 | 15940 | 15940 | 0.8935
36780 | Summit County, Ohio | 0080 | 0.8982 | 0.8982 | 10420 | 10420 | 0.8982
36790 | Trumbull County, Ohio | 9320 | 0.8848 | 0.8603 | 49660 | 50353 | 0.8726
36800 | Tuscarawas County, Ohio | 36 | 0.8921 | 0.8826 | 99936 | 50100 | 0.8874
36810 | Union County, Ohio | 36 | 0.8921 | 0.9860 | 18140 | 50101 | 0.9391
36820 | Van Wert County, Ohio | 36 | 0.8921 | 0.8826 | 99936 | 50100 | 0.8874
36830 | Vinton County, Ohio | 36 | 0.8921 | 0.8826 | 99936 | 50100 | 0.8874
36840 | Warren County, Ohio | 1640 | 0.9734 | 0.9615 | 17140 | 50197 | 0.9675
36850 | Washington County, Ohio | 6020 | 0.8270 | 0.8270 | 37620 | 50297 | 0.8270
36860 | Wayne County, Ohio | 36 | 0.8921 | 0.8826 | 99936 | 50100 | 0.8874
36870 | Williams County, Ohio | 36 | 0.8921 | 0.8826 | 99936 | 50100 | 0.8874
36880 | Wood County, Ohio | 8400 | 0.9574 | 0.9574 | 45780 | 50339 | 0.9574
36890 | Wyandot County, Ohio | 36 | 0.8921 | 0.8826 | 99936 | 50100 | 0.8874
37000 | Adair County, Oklahoma | 37 | 0.7442 | 0.7581 | 99937 | 50104 | 0.7512
37010 | Alfalfa County, Oklahoma | 37 | 0.7442 | 0.7581 | 99937 | 50104 | 0.7512
37020 | Atoka County, Oklahoma | 37 | 0.7442 | 0.7581 | 99937 | 50104 | 0.7512
37030 | Beaver County, Oklahoma | 37 | 0.7442 | 0.7581 | 99937 | 50104 | 0.7512
37040 | Beckham County, Oklahoma | 37 | 0.7442 | 0.7581 | 99937 | 50104 | 0.7512
37050 | Blaine County, Oklahoma | 37 | 0.7442 | 0.7581 | 99937 | 50104 | 0.7512
37060 | Bryan County, Oklahoma | 37 | 0.7442 | 0.7581 | 99937 | 50104 | 0.7512
37070 | Caddo County, Oklahoma | 37 | 0.7442 | 0.7581 | 99937 | 50104 | 0.7512
37080 | Canadian County, Oklahoma | 5880 | 0.9025 | 0.9031 | 36420 | 50294 | 0.9028
37090 | Carter County, Oklahoma | 37 | 0.7442 | 0.7581 | 99937 | 50104 | 0.7512
37100 | Cherokee County, Oklahoma | 37 | 0.7442 | 0.7581 | 99937 | 50104 | 0.7512
37110 | Choctaw County, Oklahoma | 37 | 0.7442 | 0.7581 | 99937 | 50104 | 0.7512
37120 | Cimarron County, Oklahoma | 37 | 0.7442 | 0.7581 | 99937 | 50104 | 0.7512
37130 | Cleveland County, Oklahoma | 5880 | 0.9025 | 0.9031 | 36420 | 50294 | 0.9028
37140 | Coal County, Oklahoma | 37 | 0.7442 | 0.7581 | 99937 | 50104 | 0.7512
37150 | Comanche County, Oklahoma | 4200 | 0.7872 | 0.7872 | 30020 | 30020 | 0.7872
37160 | Cotton County, Oklahoma | 37 | 0.7442 | 0.7581 | 99937 | 50104 | 0.7512
37170 | Craig County, Oklahoma | 37 | 0.7442 | 0.7581 | 99937 | 50104 | 0.7512
37180 | Creek County, Oklahoma | 8560 | 0.8587 | 0.8543 | 46140 | 50341 | 0.8565
37190 | Custer County, Oklahoma | 37 | 0.7442 | 0.7581 | 99937 | 50104 | 0.7512
37200 | Delaware County, Oklahoma | 37 | 0.7442 | 0.7581 | 99937 | 50104 | 0.7512
37210 | Dewey County, Oklahoma | 37 | 0.7442 | 0.7581 | 99937 | 50104 | 0.7512
37220 | Ellis County, Oklahoma | 37 | 0.7442 | 0.7581 | 99937 | 50104 | 0.7512
37230 | Garfield County, Oklahoma | 2340 | 0.8666 | 0.7581 | 99937 | 50218 | 0.8124
37240 | Garvin County, Oklahoma | 37 | 0.7442 | 0.7581 | 99937 | 50104 | 0.7512
37250 | Grady County, Oklahoma | 37 | 0.7442 | 0.9031 | 36420 | 50106 | 0.8237
37260 | Grant County, Oklahoma | 37 | 0.7442 | 0.7581 | 99937 | 50104 | 0.7512
37270 | Greer County, Oklahoma | 37 | 0.7442 | 0.7581 | 99937 | 50104 | 0.7512
37280 | Harmon County, Oklahoma | 37 | 0.7442 | 0.7581 | 99937 | 50104 | 0.7512
37290 | Harper County, Oklahoma | 37 | 0.7442 | 0.7581 | 99937 | 50104 | 0.7512
37300 | Haskell County, Oklahoma | 37 | 0.7442 | 0.7581 | 99937 | 50104 | 0.7512
37310 | Hughes County, Oklahoma | 37 | 0.7442 | 0.7581 | 99937 | 50104 | 0.7512
37320 | Jackson County, Oklahoma | 37 | 0.7442 | 0.7581 | 99937 | 50104 | 0.7512
37330 | Jefferson County, Oklahoma | 37 | 0.7442 | 0.7581 | 99937 | 50104 | 0.7512
37340 | Johnston County, Oklahoma | 37 | 0.7442 | 0.7581 | 99937 | 50104 | 0.7512
37350 | Kay County, Oklahoma | 37 | 0.7442 | 0.7581 | 99937 | 50104 | 0.7512
37360 | Kingfisher County, Oklahoma | 37 | 0.7442 | 0.7581 | 99937 | 50104 | 0.7512
37370 | Kiowa County, Oklahoma | 37 | 0.7442 | 0.7581 | 99937 | 50104 | 0.7512
37380 | Latimer County, Oklahoma | 37 | 0.7442 | 0.7581 | 99937 | 50104 | 0.7512
37390 | Le Flore County, Oklahoma | 37 | 0.7442 | 0.8230 | 22900 | 50105 | 0.7836
37400 | Lincoln County, Oklahoma | 37 | 0.7442 | 0.9031 | 36420 | 50106 | 0.8237
37410 | Logan County, Oklahoma | 5880 | 0.9025 | 0.9031 | 36420 | 50294 | 0.9028
37420 | Love County, Oklahoma | 37 | 0.7442 | 0.7581 | 99937 | 50104 | 0.7512
37430 | Mc Clain County, Oklahoma | 5880 | 0.9025 | 0.9031 | 36420 | 50294 | 0.9028
37440 | Mc Curtain County, Oklahoma | 37 | 0.7442 | 0.7581 | 99937 | 50104 | 0.7512
37450 | Mc Intosh County, Oklahoma | 37 | 0.7442 | 0.7581 | 99937 | 50104 | 0.7512
37460 | Major County, Oklahoma | 37 | 0.7442 | 0.7581 | 99937 | 50104 | 0.7512
37470 | Marshall County, Oklahoma | 37 | 0.7442 | 0.7581 | 99937 | 50104 | 0.7512
37480 | Mayes County, Oklahoma | 37 | 0.7442 | 0.7581 | 99937 | 50104 | 0.7512
37490 | Murray County, Oklahoma | 37 | 0.7442 | 0.7581 | 99937 | 50104 | 0.7512
37500 | Muskogee County, Oklahoma | 37 | 0.7442 | 0.7581 | 99937 | 50104 | 0.7512
37510 | Noble County, Oklahoma | 37 | 0.7442 | 0.7581 | 99937 | 50104 | 0.7512
37520 | Nowata County, Oklahoma | 37 | 0.7442 | 0.7581 | 99937 | 50104 | 0.7512
37530 | Okfuskee County, Oklahoma | 37 | 0.7442 | 0.7581 | 99937 | 50104 | 0.7512
37540 | Oklahoma County, Oklahoma | 5880 | 0.9025 | 0.9031 | 36420 | 50294 | 0.9028
37550 | Okmulgee County, Oklahoma | 37 | 0.7442 | 0.8543 | 46140 | 50107 | 0.7993
37560 | Osage County, Oklahoma | 8560 | 0.8587 | 0.8543 | 46140 | 50341 | 0.8565
37570 | Ottawa County, Oklahoma | 37 | 0.7442 | 0.7581 | 99937 | 50104 | 0.7512
37580 | Pawnee County, Oklahoma | 37 | 0.7442 | 0.8543 | 46140 | 50107 | 0.7993
37590 | Payne County, Oklahoma | 37 | 0.7442 | 0.7581 | 99937 | 50104 | 0.7512
37600 | Pittsburg County, Oklahoma | 37 | 0.7442 | 0.7581 | 99937 | 50104 | 0.7512
37610 | Pontotoc County, Oklahoma | 37 | 0.7442 | 0.7581 | 99937 | 50104 | 0.7512
37620 | Pottawatomie County, Oklahoma | 5880 | 0.9025 | 0.7581 | 99937 | 50293 | 0.8303
37630 | Pushmataha County, Oklahoma | 37 | 0.7442 | 0.7581 | 99937 | 50104 | 0.7512
37640 | Roger Mills County, Oklahoma | 37 | 0.7442 | 0.7581 | 99937 | 50104 | 0.7512
37650 | Rogers County, Oklahoma | 8560 | 0.8587 | 0.8543 | 46140 | 50341 | 0.8565
37660 | Seminole County, Oklahoma | 37 | 0.7442 | 0.7581 | 99937 | 50104 | 0.7512
37670 | Sequoyah County, Oklahoma | 2720 | 0.8246 | 0.8230 | 22900 | 50224 | 0.8238
37680 | Stephens County, Oklahoma | 37 | 0.7442 | 0.7581 | 99937 | 50104 | 0.7512
37690 | Texas County, Oklahoma | 37 | 0.7442 | 0.7581 | 99937 | 50104 | 0.7512
37700 | Tillman County, Oklahoma | 37 | 0.7442 | 0.7581 | 99937 | 50104 | 0.7512
37710 | Tulsa County, Oklahoma | 8560 | 0.8587 | 0.8543 | 46140 | 50341 | 0.8565
37720 | Wagoner County, Oklahoma | 8560 | 0.8587 | 0.8543 | 46140 | 50341 | 0.8565
37730 | Washington County, Oklahoma | 37 | 0.7442 | 0.7581 | 99937 | 50104 | 0.7512
37740 | Washita County, Oklahoma | 37 | 0.7442 | 0.7581 | 99937 | 50104 | 0.7512
37750 | Woods County, Oklahoma | 37 | 0.7442 | 0.7581 | 99937 | 50104 | 0.7512
37760 | Woodward County, Oklahoma | 37 | 0.7442 | 0.7581 | 99937 | 50104 | 0.7512
38000 | Baker County, Oregon | 38 | 1.0052 | 0.9826 | 99938 | 99938 | 0.9939
38010 | Benton County, Oregon | 1890 | 1.0729 | 1.0729 | 18700 | 18700 | 1.0729
38020 | Clackamas County, Oregon | 6440 | 1.1266 | 1.1266 | 38900 | 50304 | 1.1266
38030 | Clatsop County, Oregon | 38 | 1.0052 | 0.9826 | 99938 | 99938 | 0.9939
38040 | Columbia County, Oregon | 6440 | 1.1266 | 1.1266 | 38900 | 50304 | 1.1266
38050 | Coos County, Oregon | 38 | 1.0052 | 0.9826 | 99938 | 99938 | 0.9939
38060 | Crook County, Oregon | 38 | 1.0052 | 0.9826 | 99938 | 99938 | 0.9939
38070 | Curry County, Oregon | 38 | 1.0052 | 0.9826 | 99938 | 99938 | 0.9939
38080 | Deschutes County, Oregon | 38 | 1.0052 | 1.0786 | 13460 | 13460 | 1.0419
38090 | Douglas County, Oregon | 38 | 1.0052 | 0.9826 | 99938 | 99938 | 0.9939
38100 | Gilliam County, Oregon | 38 | 1.0052 | 0.9826 | 99938 | 99938 | 0.9939
38110 | Grant County, Oregon | 38 | 1.0052 | 0.9826 | 99938 | 99938 | 0.9939
38120 | Harney County, Oregon | 38 | 1.0052 | 0.9826 | 99938 | 99938 | 0.9939
38130 | Hood River County, Oregon | 38 | 1.0052 | 0.9826 | 99938 | 99938 | 0.9939
38140 | Jackson County, Oregon | 4890 | 1.0225 | 1.0225 | 32780 | 32780 | 1.0225
38150 | Jefferson County, Oregon | 38 | 1.0052 | 0.9826 | 99938 | 99938 | 0.9939
38160 | Josephine County, Oregon | 38 | 1.0052 | 0.9826 | 99938 | 99938 | 0.9939
38170 | Klamath County, Oregon | 38 | 1.0052 | 0.9826 | 99938 | 99938 | 0.9939
38180 | Lake County, Oregon | 38 | 1.0052 | 0.9826 | 99938 | 99938 | 0.9939
38190 | Lane County, Oregon | 2400 | 1.0818 | 1.0818 | 21660 | 21660 | 1.0818
38200 | Lincoln County, Oregon | 38 | 1.0052 | 0.9826 | 99938 | 99938 | 0.9939
38210 | Linn County, Oregon | 38 | 1.0052 | 0.9826 | 99938 | 99938 | 0.9939
38220 | Malheur County, Oregon | 38 | 1.0052 | 0.9826 | 99938 | 99938 | 0.9939
38230 | Marion County, Oregon | 7080 | 1.0442 | 1.0442 | 41420 | 41420 | 1.0442
38240 | Morrow County, Oregon | 38 | 1.0052 | 0.9826 | 99938 | 99938 | 0.9939
38250 | Multnomah County, Oregon | 6440 | 1.1266 | 1.1266 | 38900 | 50304 | 1.1266
38260 | Polk County, Oregon | 7080 | 1.0442 | 1.0442 | 41420 | 41420 | 1.0442
38270 | Sherman County, Oregon | 38 | 1.0052 | 0.9826 | 99938 | 99938 | 0.9939
38280 | Tillamook County, Oregon | 38 | 1.0052 | 0.9826 | 99938 | 99938 | 0.9939
38290 | Umatilla County, Oregon | 38 | 1.0052 | 0.9826 | 99938 | 99938 | 0.9939
38300 | Union County, Oregon | 38 | 1.0052 | 0.9826 | 99938 | 99938 | 0.9939
38310 | Wallowa County, Oregon | 38 | 1.0052 | 0.9826 | 99938 | 99938 | 0.9939
38320 | Wasco County, Oregon | 38 | 1.0052 | 0.9826 | 99938 | 99938 | 0.9939
38330 | Washington County, Oregon | 6440 | 1.1266 | 1.1266 | 38900 | 50304 | 1.1266
38340 | Wheeler County, Oregon | 38 | 1.0052 | 0.9826 | 99938 | 99938 | 0.9939
38350 | Yamhill County, Oregon | 6440 | 1.1266 | 1.1266 | 38900 | 50304 | 1.1266
39000 | Adams County, Pennsylvania | 39 | 0.8319 | 0.8291 | 99939 | 50108 | 0.8305
39010 | Allegheny County, Pennsylvania | 6280 | 0.8860 | 0.8845 | 38300 | 50301 | 0.8853
39070 | Armstrong County, Pennsylvania | 39 | 0.8319 | 0.8845 | 38300 | 50109 | 0.8582
39080 | Beaver County, Pennsylvania | 6280 | 0.8860 | 0.8845 | 38300 | 50301 | 0.8853
39100 | Bedford County, Pennsylvania | 39 | 0.8319 | 0.8291 | 99939 | 50108 | 0.8305
39110 | Berks County, Pennsylvania | 6680 | 0.9686 | 0.9686 | 39740 | 39740 | 0.9686
39120 | Blair County, Pennsylvania | 0280 | 0.8944 | 0.8944 | 11020 | 11020 | 0.8944
39130 | Bradford County, Pennsylvania | 39 | 0.8319 | 0.8291 | 99939 | 50108 | 0.8305
39140 | Bucks County, Pennsylvania | 6160 | 1.0922 | 1.1038 | 37964 | 37964 | 1.0980
39150 | Butler County, Pennsylvania | 6280 | 0.8860 | 0.8845 | 38300 | 50301 | 0.8853
39160 | Cambria County, Pennsylvania | 3680 | 0.8086 | 0.8354 | 27780 | 27780 | 0.8220
39180 | Cameron County, Pennsylvania | 39 | 0.8319 | 0.8291 | 99939 | 50108 | 0.8305
39190 | Carbon County, Pennsylvania | 0240 | 0.9845 | 0.9818 | 10900 | 50167 | 0.9832
39200 | Centre County, Pennsylvania | 8050 | 0.8356 | 0.8356 | 44300 | 44300 | 0.8356
39210 | Chester County, Pennsylvania | 6160 | 1.0922 | 1.1038 | 37964 | 37964 | 1.0980
39220 | Clarion County, Pennsylvania | 39 | 0.8319 | 0.8291 | 99939 | 50108 | 0.8305
39230 | Clearfield County, Pennsylvania | 39 | 0.8319 | 0.8291 | 99939 | 50108 | 0.8305
39240 | Clinton County, Pennsylvania | 39 | 0.8319 | 0.8291 | 99939 | 50108 | 0.8305
39250 | Columbia County, Pennsylvania | 7560 | 0.8524 | 0.8291 | 99939 | 50326 | 0.8408
39260 | Crawford County, Pennsylvania | 39 | 0.8319 | 0.8291 | 99939 | 50108 | 0.8305
39270 | Cumberland County, Pennsylvania | 3240 | 0.9233 | 0.9313 | 25420 | 25420 | 0.9273
39280 | Dauphin County, Pennsylvania | 3240 | 0.9233 | 0.9313 | 25420 | 25420 | 0.9273
39290 | Delaware County, Pennsylvania | 6160 | 1.0922 | 1.1038 | 37964 | 37964 | 1.0980
39310 | Elk County, Pennsylvania | 39 | 0.8319 | 0.8291 | 99939 | 50108 | 0.8305
39320 | Erie County, Pennsylvania | 2360 | 0.8737 | 0.8737 | 21500 | 21500 | 0.8737
39330 | Fayette County, Pennsylvania | 6280 | 0.8860 | 0.8845 | 38300 | 50301 | 0.8853
39340 | Forest County, Pennsylvania | 39 | 0.8319 | 0.8291 | 99939 | 50108 | 0.8305
39350 | Franklin County, Pennsylvania | 39 | 0.8319 | 0.8291 | 99939 | 50108 | 0.8305
39360 | Fulton County, Pennsylvania | 39 | 0.8319 | 0.8291 | 99939 | 50108 | 0.8305
39370 | Greene County, Pennsylvania | 39 | 0.8319 | 0.8291 | 99939 | 50108 | 0.8305
39380 | Huntingdon County, Pennsylvania | 39 | 0.8319 | 0.8291 | 99939 | 50108 | 0.8305
39390 | Indiana County, Pennsylvania | 39 | 0.8319 | 0.8291 | 99939 | 50108 | 0.8305
39400 | Jefferson County, Pennsylvania | 39 | 0.8319 | 0.8291 | 99939 | 50108 | 0.8305
39410 | Juniata County, Pennsylvania | 39 | 0.8319 | 0.8291 | 99939 | 50108 | 0.8305
39420 | Lackawanna County, Pennsylvania | 7560 | 0.8524 | 0.8540 | 42540 | 42540 | 0.8532
39440 | Lancaster County, Pennsylvania | 4000 | 0.9694 | 0.9694 | 29540 | 29540 | 0.9694
39450 | Lawrence County, Pennsylvania | 39 | 0.8319 | 0.8291 | 99939 | 50108 | 0.8305
39460 | Lebanon County, Pennsylvania | 3240 | 0.9233 | 0.8459 | 30140 | 30140 | 0.8846
39470 | Lehigh County, Pennsylvania | 0240 | 0.9845 | 0.9818 | 10900 | 50167 | 0.9832
39480 | Luzerne County, Pennsylvania | 7560 | 0.8524 | 0.8540 | 42540 | 42540 | 0.8532
39510 | Lycoming County, Pennsylvania | 9140 | 0.8364 | 0.8364 | 48700 | 48700 | 0.8364
39520 | Mc Kean County, Pennsylvania | 39 | 0.8319 | 0.8291 | 99939 | 50108 | 0.8305
39530 | Mercer County, Pennsylvania | 7610 | 0.7793 | 0.8603 | 49660 | 50328 | 0.8198
39540 | Mifflin County, Pennsylvania | 39 | 0.8319 | 0.8291 | 99939 | 50108 | 0.8305
39550 | Monroe County, Pennsylvania | 39 | 0.8319 | 0.8291 | 99939 | 50108 | 0.8305
39560 | Montgomery County, Pennsylvania | 6160 | 1.0922 | 1.1038 | 37964 | 37964 | 1.0980
39580 | Montour County, Pennsylvania | 39 | 0.8319 | 0.8291 | 99939 | 50108 | 0.8305
39590 | Northampton County, Pennsylvania | 0240 | 0.9845 | 0.9818 | 10900 | 50167 | 0.9832
39600 | Northumberland County, Pennsylvania | 39 | 0.8319 | 0.8291 | 99939 | 50108 | 0.8305
39610 | Perry County, Pennsylvania | 3240 | 0.9233 | 0.9313 | 25420 | 25420 | 0.9273
39620 | Philadelphia County, Pennsylvania | 6160 | 1.0922 | 1.1038 | 37964 | 37964 | 1.0980
39630 | Pike County, Pennsylvania | 5660 | 1.1207 | 1.1883 | 35084 | 50290 | 1.1545
39640 | Potter County, Pennsylvania | 39 | 0.8319 | 0.8291 | 99939 | 50108 | 0.8305
39650 | Schuylkill County, Pennsylvania | 39 | 0.8319 | 0.8291 | 99939 | 50108 | 0.8305
39670 | Snyder County, Pennsylvania | 39 | 0.8319 | 0.8291 | 99939 | 50108 | 0.8305
39680 | Somerset County, Pennsylvania | 3680 | 0.8086 | 0.8291 | 99939 | 50250 | 0.8189
39690 | Sullivan County, Pennsylvania | 39 | 0.8319 | 0.8291 | 99939 | 50108 | 0.8305
39700 | Susquehanna County, Pennsylvania | 39 | 0.8319 | 0.8291 | 99939 | 50108 | 0.8305
39710 | Tioga County, Pennsylvania | 39 | 0.8319 | 0.8291 | 99939 | 50108 | 0.8305
39720 | Union County, Pennsylvania | 39 | 0.8319 | 0.8291 | 99939 | 50108 | 0.8305
39730 | Venango County, Pennsylvania | 39 | 0.8319 | 0.8291 | 99939 | 50108 | 0.8305
39740 | Warren County, Pennsylvania | 39 | 0.8319 | 0.8291 | 99939 | 50108 | 0.8305
39750 | Washington County, Pennsylvania | 6280 | 0.8860 | 0.8845 | 38300 | 50301 | 0.8853
39760 | Wayne County, Pennsylvania | 39 | 0.8319 | 0.8291 | 99939 | 50108 | 0.8305
39770 | Westmoreland County, Pennsylvania | 6280 | 0.8860 | 0.8845 | 38300 | 50301 | 0.8853
39790 | Wyoming County, Pennsylvania | 7560 | 0.8524 | 0.8540 | 42540 | 42540 | 0.8532
39800 | York County, Pennsylvania | 9280 | 0.9347 | 0.9347 | 49620 | 49620 | 0.9347
40010 | Adjuntas County, Puerto Rico | 40 | 0.3604 | 0.4047 | 99940 | 99940 | 0.3826
40020 | Aguada County, Puerto Rico | 0060 | 0.4876 | 0.4738 | 10380 | 50162 | 0.4807
40030 | Aguadilla County, Puerto Rico | 0060 | 0.4876 | 0.4738 | 10380 | 50162 | 0.4807
40040 | Aguas Buenas County, Puerto Rico | 7440 | 0.4752 | 0.4621 | 41980 | 50324 | 0.4687
40050 | Aibonito County, Puerto Rico | 40 | 0.3604 | 0.4621 | 41980 | 50112 | 0.4113
40060 | Anasco County, Puerto Rico | 4840 | 0.4243 | 0.4738 | 10380 | 50276 | 0.4491
40070 | Arecibo County, Puerto Rico | 0470 | 0.4112 | 0.4621 | 41980 | 50172 | 0.4367
40080 | Arroyo County, Puerto Rico | 40 | 0.3604 | 0.3181 | 25020 | 25020 | 0.3393
40090 | Barceloneta County, Puerto Rico | 7440 | 0.4752 | 0.4621 | 41980 | 50324 | 0.4687
40100 | Barranquitas County, Puerto Rico | 40 | 0.3604 | 0.4621 | 41980 | 50112 | 0.4113
40110 | Bayamon County, Puerto Rico | 7440 | 0.4752 | 0.4621 | 41980 | 50324 | 0.4687
40120 | Cabo Rojo County, Puerto Rico | 4840 | 0.4243 | 0.4650 | 41900 | 50277 | 0.4447
40130 | Caguas County, Puerto Rico | 1310 | 0.4120 | 0.4621 | 41980 | 50188 | 0.4371
40140 | Camuy County, Puerto Rico | 0470 | 0.4112 | 0.4621 | 41980 | 50172 | 0.4367
40145 | Canovanas County, Puerto Rico | 7440 | 0.4752 | 0.4621 | 41980 | 50324 | 0.4687
40150 | Carolina County, Puerto Rico | 7440 | 0.4752 | 0.4621 | 41980 | 50324 | 0.4687
40160 | Catano County, Puerto Rico | 7440 | 0.4752 | 0.4621 | 41980 | 50324 | 0.4687
40170 | Cayey County, Puerto Rico | 1310 | 0.4120 | 0.4621 | 41980 | 50188 | 0.4371
40180 | Ceiba County, Puerto Rico | 7440 | 0.4752 | 0.4153 | 21940 | 21940 | 0.4453
40190 | Ciales County, Puerto Rico | 40 | 0.3604 | 0.4621 | 41980 | 50112 | 0.4113
40200 | Cidra County, Puerto Rico | 1310 | 0.4120 | 0.4621 | 41980 | 50188 | 0.4371
40210 | Coamo County, Puerto Rico | 40 | 0.3604 | 0.4047 | 99940 | 99940 | 0.3826
40220 | Comerio County, Puerto Rico | 7440 | 0.4752 | 0.4621 | 41980 | 50324 | 0.4687
40230 | Corozal County, Puerto Rico | 7440 | 0.4752 | 0.4621 | 41980 | 50324 | 0.4687
40240 | Culebra County, Puerto Rico | 40 | 0.3604 | 0.4047 | 99940 | 99940 | 0.3826
40250 | Dorado County, Puerto Rico | 7440 | 0.4752 | 0.4621 | 41980 | 50324 | 0.4687
40260 | Fajardo County, Puerto Rico | 7440 | 0.4752 | 0.4153 | 21940 | 21940 | 0.4453
40265 | Florida County, Puerto Rico | 7440 | 0.4752 | 0.4621 | 41980 | 50324 | 0.4687
40270 | Guanica County, Puerto Rico | 40 | 0.3604 | 0.4408 | 49500 | 50113 | 0.4006
40280 | Guayama County, Puerto Rico | 40 | 0.3604 | 0.3181 | 25020 | 25020 | 0.3393
40290 | Guayanilla County, Puerto Rico | 6360 | 0.4881 | 0.4408 | 49500 | 50303 | 0.4645
40300 | Guaynabo County, Puerto Rico | 7440 | 0.4752 | 0.4621 | 41980 | 50324 | 0.4687
40310 | Gurabo County, Puerto Rico | 1310 | 0.4120 | 0.4621 | 41980 | 50188 | 0.4371
40320 | Hatillo County, Puerto Rico | 0470 | 0.4112 | 0.4621 | 41980 | 50172 | 0.4367
40330 | Hormigueros County, Puerto Rico | 4840 | 0.4243 | 0.4020 | 32420 | 32420 | 0.4132
40340 | Humacao County, Puerto Rico | 7440 | 0.4752 | 0.4621 | 41980 | 50324 | 0.4687
40350 | Isabela County, Puerto Rico | 40 | 0.3604 | 0.4738 | 10380 | 50110 | 0.4171
40360 | Jayuya County, Puerto Rico | 40 | 0.3604 | 0.4047 | 99940 | 99940 | 0.3826
40370 | Juana Diaz County, Puerto Rico | 6360 | 0.4881 | 0.4939 | 38660 | 38660 | 0.4910
40380 | Juncos County, Puerto Rico | 7440 | 0.4752 | 0.4621 | 41980 | 50324 | 0.4687
40390 | Lajas County, Puerto Rico | 40 | 0.3604 | 0.4650 | 41900 | 50111 | 0.4127
40400 | Lares County, Puerto Rico | 40 | 0.3604 | 0.4738 | 10380 | 50110 | 0.4171
40410 | Las Marias County, Puerto Rico | 40 | 0.3604 | 0.4047 | 99940 | 99940 | 0.3826
40420 | Las Piedras County, Puerto Rico | 7440 | 0.4752 | 0.4621 | 41980 | 50324 | 0.4687
40430 | Loiza County, Puerto Rico | 7440 | 0.4752 | 0.4621 | 41980 | 50324 | 0.4687
40440 | Luquillo County, Puerto Rico | 7440 | 0.4752 | 0.4153 | 21940 | 21940 | 0.4453
40450 | Manati County, Puerto Rico | 7440 | 0.4752 | 0.4621 | 41980 | 50324 | 0.4687
40460 | Maricao County, Puerto Rico | 40 | 0.3604 | 0.4047 | 99940 | 99940 | 0.3826
40470 | Maunabo County, Puerto Rico | 40 | 0.3604 | 0.4621 | 41980 | 50112 | 0.4113
40480 | Mayaguez County, Puerto Rico | 4840 | 0.4243 | 0.4020 | 32420 | 32420 | 0.4132
40490 | Moca County, Puerto Rico | 0060 | 0.4876 | 0.4738 | 10380 | 50162 | 0.4807
40500 | Morovis County, Puerto Rico | 7440 | 0.4752 | 0.4621 | 41980 | 50324 | 0.4687
40510 | Naguabo County, Puerto Rico | 7440 | 0.4752 | 0.4621 | 41980 | 50324 | 0.4687
40520 | Naranjito County, Puerto Rico | 7440 | 0.4752 | 0.4621 | 41980 | 50324 | 0.4687
40530 | Orocovis County, Puerto Rico | 40 | 0.3604 | 0.4621 | 41980 | 50112 | 0.4113
40540 | Patillas County, Puerto Rico | 40 | 0.3604 | 0.3181 | 25020 | 25020 | 0.3393
40550 | Penuelas County, Puerto Rico | 6360 | 0.4881 | 0.4408 | 49500 | 50303 | 0.4645
40560 | Ponce County, Puerto Rico | 6360 | 0.4881 | 0.4939 | 38660 | 38660 | 0.4910
40570 | Quebradillas County, Puerto Rico | 40 | 0.3604 | 0.4621 | 41980 | 50112 | 0.4113
40580 | Rincon County, Puerto Rico | 40 | 0.3604 | 0.4738 | 10380 | 50110 | 0.4171
40590 | Rio Grande County, Puerto Rico | 7440 | 0.4752 | 0.4621 | 41980 | 50324 | 0.4687
40610 | Sabana Grande County, Puerto Rico | 4840 | 0.4243 | 0.4650 | 41900 | 50277 | 0.4447
40620 | Salinas County, Puerto Rico | 40 | 0.3604 | 0.4047 | 99940 | 99940 | 0.3826
40630 | San German County, Puerto Rico | 4840 | 0.4243 | 0.4650 | 41900 | 50277 | 0.4447
40640 | San Juan County, Puerto Rico | 7440 | 0.4752 | 0.4621 | 41980 | 50324 | 0.4687
40650 | San Lorenzo County, Puerto Rico | 11310 | 0.4120 | 0.4621 | 41980 | 50188 | 0.4371
40660 | San Sebastian County, Puerto Rico | 40 | 0.3604 | 0.4738 | 10380 | 50110 | 0.4171
40670 | Santa Isabel County, Puerto Rico | 40 | 0.3604 | 0.4047 | 99940 | 99940 | 0.3826
40680 | Toa Alta County, Puerto Rico | 7440 | 0.4752 | 0.4621 | 41980 | 50324 | 0.4687
40690 | Toa Baja County, Puerto Rico | 7440 | 0.4752 | 0.4621 | 41980 | 50324 | 0.4687
40700 | Trujillo Alto County, Puerto Rico | 7440 | 0.4752 | 0.4621 | 41980 | 50324 | 0.4687
40710 | Utuado County, Puerto Rico | 40 | 0.3604 | 0.4047 | 99940 | 99940 | 0.3826
40720 | Vega Alta County, Puerto Rico | 7440 | 0.4752 | 0.4621 | 41980 | 50324 | 0.4687
40730 | Vega Baja County, Puerto Rico | 7440 | 0.4752 | 0.4621 | 41980 | 50324 | 0.4687
40740 | Vieques County, Puerto Rico | 40 | 0.3604 | 0.4047 | 99940 | 99940 | 0.3826
40750 | Villalba County, Puerto Rico | 6360 | 0.4881 | 0.4939 | 38660 | 38660 | 0.4910
40760 | Yabucoa County, Puerto Rico | 7440 | 0.4752 | 0.4621 | 41980 | 50324 | 0.4687
40770 | Yauco County, Puerto Rico | 6360 | 0.4881 | 0.4408 | 49500 | 50303 | 0.4645
41000 | Bristol County, Rhode Island | 6483 | 1.1058 | 1.0966 | 39300 | 50305 | 1.1012
41010 | Kent County, Rhode Island | 6483 | 1.1058 | 1.0966 | 39300 | 50305 | 1.1012
41020 | Newport County, Rhode Island | 6483 | 1.1058 | 1.0966 | 39300 | 50305 | 1.1012
41030 | Providence County, Rhode Island | 6483 | 1.1058 | 1.0966 | 39300 | 50305 | 1.1012
41050 | Washington County, Rhode Island | 6483 | 1.1058 | 1.0966 | 39300 | 50305 | 1.1012
42000 | Abbeville County, S Carolina | 42 | 0.8631 | 0.8638 | 99942 | 50114 | 0.8635
42010 | Aiken County, S Carolina | 0600 | 0.9808 | 0.9748 | 12260 | 50176 | 0.9778
42020 | Allendale County, S Carolina | 42 | 0.8631 | 0.8638 | 99942 | 50114 | 0.8635
42030 | Anderson County, S Carolina | 3160 | 0.9615 | 0.8997 | 11340 | 11340 | 0.9306
42040 | Bamberg County, S Carolina | 42 | 0.8631 | 0.8638 | 99942 | 50114 | 0.8635
42050 | Barnwell County, S Carolina | 42 | 0.8631 | 0.8638 | 99942 | 50114 | 0.8635
42060 | Beaufort County, S Carolina | 42 | 0.8631 | 0.8638 | 99942 | 50114 | 0.8635
42070 | Berkeley County, S Carolina | 1440 | 0.9245 | 0.9245 | 16700 | 16700 | 0.9245
42080 | Calhoun County, S Carolina | 42 | 0.8631 | 0.9057 | 17900 | 50115 | 0.8844
42090 | Charleston County, S Carolina | 1440 | 0.9245 | 0.9245 | 16700 | 16700 | 0.9245
42100 | Cherokee County, S Carolina | 3160 | 0.9615 | 0.8638 | 99942 | 50237 | 0.9127
42110 | Chester County, S Carolina | 42 | 0.8631 | 0.8638 | 99942 | 50114 | 0.8635
42120 | Chesterfield County, S Carolina | 42 | 0.8631 | 0.8638 | 99942 | 50114 | 0.8635
42130 | Clarendon County, S Carolina | 42 | 0.8631 | 0.8638 | 99942 | 50114 | 0.8635
42140 | Colleton County, S Carolina | 42 | 0.8631 | 0.8638 | 99942 | 50114 | 0.8635
42150 | Darlington County, S Carolina | 42 | 0.8631 | 0.8947 | 22500 | 50116 | 0.8789
42160 | Dillon County, S Carolina | 42 | 0.8631 | 0.8638 | 99942 | 50114 | 0.8635
42170 | Dorchester County, S Carolina | 1440 | 0.9245 | 0.9245 | 16700 | 16700 | 0.9245
42180 | Edgefield County, S Carolina | 0600 | 0.9808 | 0.9748 | 12260 | 50176 | 0.9778
42190 | Fairfield County, S Carolina | 42 | 0.8631 | 0.9057 | 17900 | 50115 | 0.8844
42200 | Florence County, S Carolina | 2655 | 0.9042 | 0.8947 | 22500 | 50223 | 0.8995
42210 | Georgetown County, S Carolina | 42 | 0.8631 | 0.8638 | 99942 | 50114 | 0.8635
42220 | Greenville County, S Carolina | 3160 | 0.9615 | 1.0027 | 24860 | 50238 | 0.9821
42230 | Greenwood County, S Carolina | 42 | 0.8631 | 0.8638 | 99942 | 50114 | 0.8635
42240 | Hampton County, S Carolina | 42 | 0.8631 | 0.8638 | 99942 | 50114 | 0.8635
42250 | Horry County, S Carolina | 5330 | 0.8934 | 0.8934 | 34820 | 34820 | 0.8934
42260 | Jasper County, S Carolina | 42 | 0.8631 | 0.8638 | 99942 | 50114 | 0.8635
42270 | Kershaw County, S Carolina | 42 | 0.8631 | 0.9057 | 17900 | 50115 | 0.8844
42280 | Lancaster County, S Carolina | 42 | 0.8631 | 0.8638 | 99942 | 50114 | 0.8635
42290 | Laurens County, S Carolina | 42 | 0.8631 | 1.0027 | 24860 | 50117 | 0.9329
42300 | Lee County, S Carolina | 42 | 0.8631 | 0.8638 | 99942 | 50114 | 0.8635
42310 | Lexington County, S Carolina | 1760 | 0.9082 | 0.9057 | 17900 | 50202 | 0.9070
42320 | Mc Cormick County, S Carolina | 42 | 0.8631 | 0.8638 | 99942 | 50114 | 0.8635
42330 | Marion County, S Carolina | 42 | 0.8631 | 0.8638 | 99942 | 50114 | 0.8635
42340 | Marlboro County, S Carolina | 42 | 0.8631 | 0.8638 | 99942 | 50114 | 0.8635
42350 | Newberry County, S Carolina | 42 | 0.8631 | 0.8638 | 99942 | 50114 | 0.8635
42360 | Oconee County, S Carolina | 42 | 0.8631 | 0.8638 | 99942 | 50114 | 0.8635
42370 | Orangeburg County, S Carolina | 42 | 0.8631 | 0.8638 | 99942 | 50114 | 0.8635
42380 | Pickens County, S Carolina | 3160 | 0.9615 | 1.0027 | 24860 | 50238 | 0.9821
42390 | Richland County, S Carolina | 1760 | 0.9082 | 0.9057 | 17900 | 50202 | 0.9070
42400 | Saluda County, S Carolina | 42 | 0.8631 | 0.9057 | 17900 | 50115 | 0.8844
42410 | Spartanburg County, S Carolina | 3160 | 0.9615 | 0.9172 | 43900 | 43900 | 0.9394
42420 | Sumter County, S Carolina | 8140 | 0.8377 | 0.8377 | 44940 | 44940 | 0.8377
42430 | Union County, S Carolina | 42 | 0.8631 | 0.8638 | 99942 | 50114 | 0.8635
42440 | Williamsburg County, S Carolina | 42 | 0.8631 | 0.8638 | 99942 | 50114 | 0.8635
42450 | York County, S Carolina | 1520 | 0.9715 | 0.9750 | 16740 | 50193 | 0.9733
43010 | Aurora County, S Dakota | 43 | 0.8551 | 0.8560 | 99943 | 99943 | 0.8556
43020 | Beadle County, S Dakota | 43 | 0.8551 | 0.8560 | 99943 | 99943 | 0.8556
43030 | Bennett County, S Dakota | 43 | 0.8551 | 0.8560 | 99943 | 99943 | 0.8556
43040 | Bon Homme County, S Dakota | 43 | 0.8551 | 0.8560 | 99943 | 99943 | 0.8556
43050 | Brookings County, S Dakota | 43 | 0.8551 | 0.8560 | 99943 | 99943 | 0.8556
43060 | Brown County, S Dakota | 43 | 0.8551 | 0.8560 | 99943 | 99943 | 0.8556
43070 | Brule County, S Dakota | 43 | 0.8551 | 0.8560 | 99943 | 99943 | 0.8556
43080 | Buffalo County, S Dakota | 43 | 0.8551 | 0.8560 | 99943 | 99943 | 0.8556
43090 | Butte County, S Dakota | 43 | 0.8551 | 0.8560 | 99943 | 99943 | 0.8556
43100 | Campbell County, S Dakota | 43 | 0.8551 | 0.8560 | 99943 | 99943 | 0.8556
43110 | Charles Mix County, S Dakota | 43 | 0.8551 | 0.8560 | 99943 | 99943 | 0.8556
43120 | Clark County, S Dakota | 43 | 0.8551 | 0.8560 | 99943 | 99943 | 0.8556
43130 | Clay County, S Dakota | 43 | 0.8551 | 0.8560 | 99943 | 99943 | 0.8556
43140 | Codington County, S Dakota | 43 | 0.8551 | 0.8560 | 99943 | 99943 | 0.8556
43150 | Corson County, S Dakota | 43 | 0.8551 | 0.8560 | 99943 | 99943 | 0.8556
43160 | Custer County, S Dakota | 43 | 0.8551 | 0.8560 | 99943 | 99943 | 0.8556
43170 | Davison County, S Dakota | 43 | 0.8551 | 0.8560 | 99943 | 99943 | 0.8556
43180 | Day County, S Dakota | 43 | 0.8551 | 0.8560 | 99943 | 99943 | 0.8556
43190 | Deuel County, S Dakota | 43 | 0.8551 | 0.8560 | 99943 | 99943 | 0.8556
43200 | Dewey County, S Dakota | 43 | 0.8551 | 0.8560 | 99943 | 99943 | 0.8556
43210 | Douglas County, S Dakota | 43 | 0.8551 | 0.8560 | 99943 | 99943 | 0.8556
43220 | Edmunds County, S Dakota | 43 | 0.8551 | 0.8560 | 99943 | 99943 | 0.8556
43230 | Fall River County, S Dakota | 43 | 0.8551 | 0.8560 | 99943 | 99943 | 0.8556
43240 | Faulk County, S Dakota | 43 | 0.8551 | 0.8560 | 99943 | 99943 | 0.8556
43250 | Grant County, S Dakota | 43 | 0.8551 | 0.8560 | 99943 | 99943 | 0.8556
43260 | Gregory County, S Dakota | 43 | 0.8551 | 0.8560 | 99943 | 99943 | 0.8556
43270 | Haakon County, S Dakota | 43 | 0.8551 | 0.8560 | 99943 | 99943 | 0.8556
43280 | Hamlin County, S Dakota | 43 | 0.8551 | 0.8560 | 99943 | 99943 | 0.8556
43290 | Hand County, S Dakota | 43 | 0.8551 | 0.8560 | 99943 | 99943 | 0.8556
43300 | Hanson County, S Dakota | 43 | 0.8551 | 0.8560 | 99943 | 99943 | 0.8556
43310 | Harding County, S Dakota | 43 | 0.8551 | 0.8560 | 99943 | 99943 | 0.8556
43320 | Hughes County, S Dakota | 43 | 0.8551 | 0.8560 | 99943 | 99943 | 0.8556
43330 | Hutchinson County, S Dakota | 43 | 0.8551 | 0.8560 | 99943 | 99943 | 0.8556
43340 | Hyde County, S Dakota | 43 | 0.8551 | 0.8560 | 99943 | 99943 | 0.8556
43350 | Jackson County, S Dakota | 43 | 0.8551 | 0.8560 | 99943 | 99943 | 0.8556
43360 | Jerauld County, S Dakota | 43 | 0.8551 | 0.8560 | 99943 | 99943 | 0.8556
43370 | Jones County, S Dakota | 43 | 0.8551 | 0.8560 | 99943 | 99943 | 0.8556
43380 | Kingsbury County, S Dakota | 43 | 0.8551 | 0.8560 | 99943 | 99943 | 0.8556
43390 | Lake County, S Dakota | 43 | 0.8551 | 0.8560 | 99943 | 99943 | 0.8556
43400 | Lawrence County, S Dakota | 43 | 0.8551 | 0.8560 | 99943 | 99943 | 0.8556
43410 | Lincoln County, S Dakota | 7760 | 0.9635 | 0.9635 | 43620 | 50332 | 0.9635
43420 | Lyman County, S Dakota | 43 | 0.8551 | 0.8560 | 99943 | 99943 | 0.8556
43430 | Mc Cook County, S Dakota | 43 | 0.8551 | 0.9635 | 43620 | 50120 | 0.9093
43440 | Mc Pherson County, S Dakota | 43 | 0.8551 | 0.8560 | 99943 | 99943 | 0.8556
43450 | Marshall County, S Dakota | 43 | 0.8551 | 0.8560 | 99943 | 99943 | 0.8556
43460 | Meade County, S Dakota | 43 | 0.8551 | 0.8987 | 39660 | 50118 | 0.8769
43470 | Mellette County, S Dakota | 43 | 0.8551 | 0.8560 | 99943 | 99943 | 0.8556
43480 | Miner County, S Dakota | 43 | 0.8551 | 0.8560 | 99943 | 99943 | 0.8556
43490 | Minnehaha County, S Dakota | 7760 | 0.9635 | 0.9635 | 43620 | 50332 | 0.9635
43500 | Moody County, S Dakota | 43 | 0.8551 | 0.8560 | 99943 | 99943 | 0.8556
43510 | Pennington County, S Dakota | 6660 | 0.8987 | 0.8987 | 39660 | 50308 | 0.8987
43520 | Perkins County, S Dakota | 43 | 0.8551 | 0.8560 | 99943 | 99943 | 0.8556
43530 | Potter County, S Dakota | 43 | 0.8551 | 0.8560 | 99943 | 99943 | 0.8556
43540 | Roberts County, S Dakota | 43 | 0.8551 | 0.8560 | 99943 | 99943 | 0.8556
43550 | Sanborn County, S Dakota | 43 | 0.8551 | 0.8560 | 99943 | 99943 | 0.8556
43560 | Shannon County, S Dakota | 43 | 0.8551 | 0.8560 | 99943 | 99943 | 0.8556
43570 | Spink County, S Dakota | 43 | 0.8551 | 0.8560 | 99943 | 99943 | 0.8556
43580 | Stanley County, S Dakota | 43 | 0.8551 | 0.8560 | 99943 | 99943 | 0.8556
43590 | Sully County, S Dakota | 43 | 0.8551 | 0.8560 | 99943 | 99943 | 0.8556
43600 | Todd County, S Dakota | 43 | 0.8551 | 0.8560 | 99943 | 99943 | 0.8556
43610 | Tripp County, S Dakota | 43 | 0.8551 | 0.8560 | 99943 | 99943 | 0.8556
43620 | Turner County, S Dakota | 43 | 0.8551 | 0.9635 | 43620 | 50120 | 0.9093
43630 | Union County, S Dakota | 43 | 0.8551 | 0.9381 | 43580 | 50119 | 0.8966
43640 | Walworth County, S Dakota | 43 | 0.8551 | 0.8560 | 99943 | 99943 | 0.8556
43650 | Washabaugh County, S Dakota | 43 | 0.8551 | 0.8560 | 99943 | 99943 | 0.8556
43670 | Yankton County, S Dakota | 43 | 0.8551 | 0.8560 | 99943 | 99943 | 0.8556
43680 | Ziebach County, S Dakota | 43 | 0.8551 | 0.8560 | 99943 | 99943 | 0.8556
44000 | Anderson County, Tennessee | 3840 | 0.8397 | 0.8441 | 28940 | 28940 | 0.8419
44010 | Bedford County, Tennessee | 44 | 0.7935 | 0.7895 | 99944 | 50121 | 0.7915
44020 | Benton County, Tennessee | 44 | 0.7935 | 0.7895 | 99944 | 50121 | 0.7915
44030 | Bledsoe County, Tennessee | 44 | 0.7935 | 0.7895 | 99944 | 50121 | 0.7915
44040 | Blount County, Tennessee | 3840 | 0.8397 | 0.8441 | 28940 | 28940 | 0.8419
44050 | Bradley County, Tennessee | 44 | 0.7935 | 0.8139 | 17420 | 17420 | 0.8037
44060 | Campbell County, Tennessee | 44 | 0.7935 | 0.7895 | 99944 | 50121 | 0.7915
44070 | Cannon County, Tennessee | 44 | 0.7935 | 0.9790 | 34980 | 50124 | 0.8863
44080 | Carroll County, Tennessee | 44 | 0.7935 | 0.7895 | 99944 | 50121 | 0.7915
44090 | Carter County, Tennessee | 3660 | 0.8007 | 0.7937 | 27740 | 27740 | 0.7972
44100 | Cheatham County, Tennessee | 5360 | 0.9808 | 0.9790 | 34980 | 50285 | 0.9799
44110 | Chester County, Tennessee | 3580 | 0.8964 | 0.8964 | 27180 | 27180 | 0.8964
44120 | Claiborne County, Tennessee | 44 | 0.7935 | 0.7895 | 99944 | 50121 | 0.7915
44130 | Clay County, Tennessee | 44 | 0.7935 | 0.7895 | 99944 | 50121 | 0.7915
44140 | Cocke County, Tennessee | 44 | 0.7935 | 0.7895 | 99944 | 50121 | 0.7915
44150 | Coffee County, Tennessee | 44 | 0.7935 | 0.7895 | 99944 | 50121 | 0.7915
44160 | Crockett County, Tennessee | 44 | 0.7935 | 0.7895 | 99944 | 50121 | 0.7915
44170 | Cumberland County, Tennessee | 44 | 0.7935 | 0.7895 | 99944 | 50121 | 0.7915
44180 | Davidson County, Tennessee | 5360 | 0.9808 | 0.9790 | 34980 | 50285 | 0.9799
44190 | Decatur County, Tennessee | 44 | 0.7935 | 0.7895 | 99944 | 50121 | 0.7915
44200 | De Kalb County, Tennessee | 44 | 0.7935 | 0.7895 | 99944 | 50121 | 0.7915
44210 | Dickson County, Tennessee | 5360 | 0.9808 | 0.9790 | 34980 | 50285 | 0.9799
44220 | Dyer County, Tennessee | 44 | 0.7935 | 0.7895 | 99944 | 50121 | 0.7915
44230 | Fayette County, Tennessee | 4920 | 0.9416 | 0.9397 | 32820 | 50278 | 0.9407
44240 | Fentress County, Tennessee | 44 | 0.7935 | 0.7895 | 99944 | 50121 | 0.7915
44250 | Franklin County, Tennessee | 44 | 0.7935 | 0.7895 | 99944 | 50121 | 0.7915
44260 | Gibson County, Tennessee | 44 | 0.7935 | 0.7895 | 99944 | 50121 | 0.7915
44270 | Giles County, Tennessee | 44 | 0.7935 | 0.7895 | 99944 | 50121 | 0.7915
44280 | Grainger County, Tennessee | 44 | 0.7935 | 0.7961 | 34100 | 34100 | 0.7948
44290 | Greene County, Tennessee | 44 | 0.7935 | 0.7895 | 99944 | 50121 | 0.7915
44300 | Grundy County, Tennessee | 44 | 0.7935 | 0.7895 | 99944 | 50121 | 0.7915
44310 | Hamblen County, Tennessee | 44 | 0.7935 | 0.7961 | 34100 | 34100 | 0.7948
44320 | Hamilton County, Tennessee | 1560 | 0.9088 | 0.9088 | 16860 | 50195 | 0.9088
44330 | Hancock County, Tennessee | 44 | 0.7935 | 0.7895 | 99944 | 50121 | 0.7915
44340 | Hardeman County, Tennessee | 44 | 0.7935 | 0.7895 | 99944 | 50121 | 0.7915
44350 | Hardin County, Tennessee | 44 | 0.7935 | 0.7895 | 99944 | 50121 | 0.7915
44360 | Hawkins County, Tennessee | 3660 | 0.8007 | 0.8054 | 28700 | 28700 | 0.8031
44370 | Haywood County, Tennessee | 44 | 0.7935 | 0.7895 | 99944 | 50121 | 0.7915
44380 | Henderson County, Tennessee | 44 | 0.7935 | 0.7895 | 99944 | 50121 | 0.7915
44390 | Henry County, Tennessee | 44 | 0.7935 | 0.7895 | 99944 | 50121 | 0.7915
44400 | Hickman County, Tennessee | 44 | 0.7935 | 0.9790 | 34980 | 50124 | 0.8863
44410 | Houston County, Tennessee | 44 | 0.7935 | 0.7895 | 99944 | 50121 | 0.7915
44420 | Humphreys County, Tennessee | 44 | 0.7935 | 0.7895 | 99944 | 50121 | 0.7915
44430 | Jackson County, Tennessee | 44 | 0.7935 | 0.7895 | 99944 | 50121 | 0.7915
44440 | Jefferson County, Tennessee | 44 | 0.7935 | 0.7961 | 34100 | 34100 | 0.7948
44450 | Johnson County, Tennessee | 44 | 0.7935 | 0.7895 | 99944 | 50121 | 0.7915
44460 | Knox County, Tennessee | 3840 | 0.8397 | 0.8441 | 28940 | 28940 | 0.8419
44470 | Lake County, Tennessee | 44 | 0.7935 | 0.7895 | 99944 | 50121 | 0.7915
44480 | Lauderdale County, Tennessee | 44 | 0.7935 | 0.7895 | 99944 | 50121 | 0.7915
44490 | Lawrence County, Tennessee | 44 | 0.7935 | 0.7895 | 99944 | 50121 | 0.7915
44500 | Lewis County, Tennessee | 44 | 0.7935 | 0.7895 | 99944 | 50121 | 0.7915
44510 | Lincoln County, Tennessee | 44 | 0.7935 | 0.7895 | 99944 | 50121 | 0.7915
44520 | Loudon County, Tennessee | 3840 | 0.8397 | 0.8441 | 28940 | 28940 | 0.8419
44530 | Mc Minn County, Tennessee | 44 | 0.7935 | 0.7895 | 99944 | 50121 | 0.7915
44540 | Mc Nairy County, Tennessee | 44 | 0.7935 | 0.7895 | 99944 | 50121 | 0.7915
44550 | Macon County, Tennessee | 44 | 0.7935 | 0.9790 | 34980 | 50124 | 0.8863
44560 | Madison County, Tennessee | 3580 | 0.8964 | 0.8964 | 27180 | 27180 | 0.8964
44570 | Marion County, Tennessee | 1560 | 0.9088 | 0.9088 | 16860 | 50195 | 0.9088
44580 | Marshall County, Tennessee | 44 | 0.7935 | 0.7895 | 99944 | 50121 | 0.7915
44590 | Maury County, Tennessee | 44 | 0.7935 | 0.7895 | 99944 | 50121 | 0.7915
44600 | Meigs County, Tennessee | 44 | 0.7935 | 0.7895 | 99944 | 50121 | 0.7915
44610 | Monroe County, Tennessee | 44 | 0.7935 | 0.7895 | 99944 | 50121 | 0.7915
44620 | Montgomery County, Tennessee | 1660 | 0.8284 | 0.8284 | 17300 | 50198 | 0.8284
44630 | Moore County, Tennessee | 44 | 0.7935 | 0.7895 | 99944 | 50121 | 0.7915
44640 | Morgan County, Tennessee | 44 | 0.7935 | 0.7895 | 99944 | 50121 | 0.7915
44650 | Obion County, Tennessee | 44 | 0.7935 | 0.7895 | 99944 | 50121 | 0.7915
44660 | Overton County, Tennessee | 44 | 0.7935 | 0.7895 | 99944 | 50121 | 0.7915
44670 | Perry County, Tennessee | 44 | 0.7935 | 0.7895 | 99944 | 50121 | 0.7915
44680 | Pickett County, Tennessee | 44 | 0.7935 | 0.7895 | 99944 | 50121 | 0.7915
44690 | Polk County, Tennessee | 44 | 0.7935 | 0.8139 | 17420 | 17420 | 0.8037
44700 | Putnam County, Tennessee | 44 | 0.7935 | 0.7895 | 99944 | 50121 | 0.7915
44710 | Rhea County, Tennessee | 44 | 0.7935 | 0.7895 | 99944 | 50121 | 0.7915
44720 | Roane County, Tennessee | 44 | 0.7935 | 0.7895 | 99944 | 50121 | 0.7915
44730 | Robertson County, Tennessee | 5360 | 0.9808 | 0.9790 | 34980 | 50285 | 0.9799
44740 | Rutherford County, Tennessee | 5360 | 0.9808 | 0.9790 | 34980 | 50285 | 0.9799
44750 | Scott County, Tennessee | 44 | 0.7935 | 0.7895 | 99944 | 50121 | 0.7915
44760 | Sequatchie County, Tennessee | 44 | 0.7935 | 0.9088 | 16860 | 50122 | 0.8512
44770 | Sevier County, Tennessee | 3840 | 0.8397 | 0.7895 | 99944 | 50255 | 0.8146
44780 | Shelby County, Tennessee | 4920 | 0.9416 | 0.9397 | 32820 | 50278 | 0.9407
44790 | Smith County, Tennessee | 44 | 0.7935 | 0.9790 | 34980 | 50124 | 0.8863
44800 | Stewart County, Tennessee | 44 | 0.7935 | 0.8284 | 17300 | 50123 | 0.8110
44810 | Sullivan County, Tennessee | 3660 | 0.8007 | 0.8054 | 28700 | 28700 | 0.8031
44820 | Sumner County, Tennessee | 5360 | 0.9808 | 0.9790 | 34980 | 50285 | 0.9799
44830 | Tipton County, Tennessee | 4920 | 0.9416 | 0.9397 | 32820 | 50278 | 0.9407
44840 | Trousdale County, Tennessee | 44 | 0.7935 | 0.9790 | 34980 | 50124 | 0.8863
44850 | Unicoi County, Tennessee | 3660 | 0.8007 | 0.7937 | 27740 | 27740 | 0.7972
44860 | Union County, Tennessee | 3840 | 0.8397 | 0.8441 | 28940 | 28940 | 0.8419
44870 | Van Buren County, Tennessee | 44 | 0.7935 | 0.7895 | 99944 | 50121 | 0.7915
44880 | Warren County, Tennessee | 44 | 0.7935 | 0.7895 | 99944 | 50121 | 0.7915
44890 | Washington County, Tennessee | 3660 | 0.8007 | 0.7937 | 27740 | 27740 | 0.7972
44900 | Wayne County, Tennessee | 44 | 0.7935 | 0.7895 | 99944 | 50121 | 0.7915
44910 | Weakley County, Tennessee | 44 | 0.7935 | 0.7895 | 99944 | 50121 | 0.7915
44920 | White County, Tennessee | 44 | 0.7935 | 0.7895 | 99944 | 50121 | 0.7915
44930 | Williamson County, Tennessee | 5360 | 0.9808 | 0.9790 | 34980 | 50285 | 0.9799
44940 | Wilson County, Tennessee | 5360 | 0.9808 | 0.9790 | 34980 | 50285 | 0.9799
45000 | Anderson County, Texas | 45 | 0.7931 | 0.8003 | 99945 | 50125 | 0.7967
45010 | Andrews County, Texas | 45 | 0.7931 | 0.8003 | 99945 | 50125 | 0.7967
45020 | Angelina County, Texas | 45 | 0.7931 | 0.8003 | 99945 | 50125 | 0.7967
45030 | Aransas County, Texas | 45 | 0.7931 | 0.8550 | 18580 | 50129 | 0.8241
45040 | Archer County, Texas | 9080 | 0.8365 | 0.8285 | 48660 | 50348 | 0.8325
45050 | Armstrong County, Texas | 45 | 0.7931 | 0.9156 | 11100 | 50127 | 0.8544
45060 | Atascosa County, Texas | 45 | 0.7931 | 0.8980 | 41700 | 50137 | 0.8456
45070 | Austin County, Texas | 45 | 0.7931 | 0.9996 | 26420 | 50132 | 0.8964
45080 | Bailey County, Texas | 45 | 0.7931 | 0.8003 | 99945 | 50125 | 0.7967
45090 | Bandera County, Texas | 45 | 0.7931 | 0.8980 | 41700 | 50137 | 0.8456
45100 | Bastrop County, Texas | 0640 | 0.9437 | 0.9437 | 12420 | 12420 | 0.9437
45110 | Baylor County, Texas | 45 | 0.7931 | 0.8003 | 99945 | 50125 | 0.7967
45113 | Bee County, Texas | 45 | 0.7931 | 0.8003 | 99945 | 50125 | 0.7967
45120 | Bell County, Texas | 3810 | 0.8526 | 0.8526 | 28660 | 50254 | 0.8526
45130 | Bexar County, Texas | 7240 | 0.8984 | 0.8980 | 41700 | 50322 | 0.8982
45140 | Blanco County, Texas | 45 | 0.7931 | 0.8003 | 99945 | 50125 | 0.7967
45150 | Borden County, Texas | 45 | 0.7931 | 0.8003 | 99945 | 50125 | 0.7967
45160 | Bosque County, Texas | 45 | 0.7931 | 0.8003 | 99945 | 50125 | 0.7967
45170 | Bowie County, Texas | 8360 | 0.8283 | 0.8283 | 45500 | 45500 | 0.8283
45180 | Brazoria County, Texas | 1145 | 0.8563 | 0.9996 | 26420 | 50186 | 0.9280
45190 | Brazos County, Texas | 1260 | 0.8900 | 0.8900 | 17780 | 50187 | 0.8900
45200 | Brewster County, Texas | 45 | 0.7931 | 0.8003 | 99945 | 50125 | 0.7967
45201 | Briscoe County, Texas | 45 | 0.7931 | 0.8003 | 99945 | 50125 | 0.7967
45210 | Brooks County, Texas | 45 | 0.7931 | 0.8003 | 99945 | 50125 | 0.7967
45220 | Brown County, Texas | 45 | 0.7931 | 0.8003 | 99945 | 50125 | 0.7967
45221 | Burleson County, Texas | 45 | 0.7931 | 0.8900 | 17780 | 50128 | 0.8416
45222 | Burnet County, Texas | 45 | 0.7931 | 0.8003 | 99945 | 50125 | 0.7967
45223 | Caldwell County, Texas | 0640 | 0.9437 | 0.9437 | 12420 | 12420 | 0.9437
45224 | Calhoun County, Texas | 45 | 0.7931 | 0.8160 | 47020 | 50138 | 0.8046
45230 | Callahan County, Texas | 45 | 0.7931 | 0.7896 | 10180 | 50126 | 0.7914
45240 | Cameron County, Texas | 1240 | 0.9804 | 0.9804 | 15180 | 15180 | 0.9804
45250 | Camp County, Texas | 45 | 0.7931 | 0.8003 | 99945 | 50125 | 0.7967
45251 | Carson County, Texas | 45 | 0.7931 | 0.9156 | 11100 | 50127 | 0.8544
45260 | Cass County, Texas | 45 | 0.7931 | 0.8003 | 99945 | 50125 | 0.7967
45270 | Castro County, Texas | 45 | 0.7931 | 0.8003 | 99945 | 50125 | 0.7967
45280 | Chambers County, Texas | 3360 | 1.0091 | 0.9996 | 26420 | 50242 | 1.0044
45281 | Cherokee County, Texas | 45 | 0.7931 | 0.8003 | 99945 | 50125 | 0.7967
45290 | Childress County, Texas | 45 | 0.7931 | 0.8003 | 99945 | 50125 | 0.7967
45291 | Clay County, Texas | 45 | 0.7931 | 0.8285 | 48660 | 50139 | 0.8108
45292 | Cochran County, Texas | 45 | 0.7931 | 0.8003 | 99945 | 50125 | 0.7967
45300 | Coke County, Texas | 45 | 0.7931 | 0.8003 | 99945 | 50125 | 0.7967
45301 | Coleman County, Texas | 45 | 0.7931 | 0.8003 | 99945 | 50125 | 0.7967
45310 | Collin County, Texas | 1920 | 1.0205 | 1.0228 | 19124 | 50207 | 1.0217
45311 | Collingsworth County, Texas | 45 | 0.7931 | 0.8003 | 99945 | 50125 | 0.7967
45312 | Colorado County, Texas | 45 | 0.7931 | 0.8003 | 99945 | 50125 | 0.7967
45320 | Comal County, Texas | 7240 | 0.8984 | 0.8980 | 41700 | 50322 | 0.8982
45321 | Comanche County, Texas | 45 | 0.7931 | 0.8003 | 99945 | 50125 | 0.7967
45330 | Concho County, Texas | 45 | 0.7931 | 0.8003 | 99945 | 50125 | 0.7967
45340 | Cooke County, Texas | 45 | 0.7931 | 0.8003 | 99945 | 50125 | 0.7967
45341 | Coryell County, Texas | 3810 | 0.8526 | 0.8526 | 28660 | 50254 | 0.8526
45350 | Cottle County, Texas | 45 | 0.7931 | 0.8003 | 99945 | 50125 | 0.7967
45360 | Crane County, Texas | 45 | 0.7931 | 0.8003 | 99945 | 50125 | 0.7967
45361 | Crockett County, Texas | 45 | 0.7931 | 0.8003 | 99945 | 50125 | 0.7967
45362 | Crosby County, Texas | 45 | 0.7931 | 0.8783 | 31180 | 50135 | 0.8357
45370 | Culberson County, Texas | 45 | 0.7931 | 0.8003 | 99945 | 50125 | 0.7967
45380 | Dallam County, Texas | 45 | 0.7931 | 0.8003 | 99945 | 50125 | 0.7967
45390 | Dallas County, Texas | 1920 | 1.0205 | 1.0228 | 19124 | 50207 | 1.0217
45391 | Dawson County, Texas | 45 | 0.7931 | 0.8003 | 99945 | 50125 | 0.7967
45392 | Deaf Smith County, Texas | 45 | 0.7931 | 0.8003 | 99945 | 50125 | 0.7967
45400 | Delta County, Texas | 45 | 0.7931 | 1.0228 | 19124 | 50130 | 0.9080
45410 | Denton County, Texas | 1920 | 1.0205 | 1.0228 | 19124 | 50207 | 1.0217
45420 | De Witt County, Texas | 45 | 0.7931 | 0.8003 | 99945 | 50125 | 0.7967
45421 | Dickens County, Texas | 45 | 0.7931 | 0.8003 | 99945 | 50125 | 0.7967
45430 | Dimmit County, Texas | 45 | 0.7931 | 0.8003 | 99945 | 50125 | 0.7967
45431 | Donley County, Texas | 45 | 0.7931 | 0.8003 | 99945 | 50125 | 0.7967
45440 | Duval County, Texas | 45 | 0.7931 | 0.8003 | 99945 | 50125 | 0.7967
45450 | Eastland County, Texas | 45 | 0.7931 | 0.8003 | 99945 | 50125 | 0.7967
45451 | Ector County, Texas | 5800 | 0.9741 | 0.9884 | 36220 | 36220 | 0.9813
45460 | Edwards County, Texas | 45 | 0.7931 | 0.8003 | 99945 | 50125 | 0.7967
45470 | Ellis County, Texas | 1920 | 1.0205 | 1.0228 | 19124 | 50207 | 1.0217
45480 | El Paso County, Texas | 2320 | 0.8977 | 0.8977 | 21340 | 21340 | 0.8977
45490 | Erath County, Texas | 45 | 0.7931 | 0.8003 | 99945 | 50125 | 0.7967
45500 | Falls County, Texas | 45 | 0.7931 | 0.8003 | 99945 | 50125 | 0.7967
45510 | Fannin County, Texas | 45 | 0.7931 | 0.8003 | 99945 | 50125 | 0.7967
45511 | Fayette County, Texas | 45 | 0.7931 | 0.8003 | 99945 | 50125 | 0.7967
45520 | Fisher County, Texas | 45 | 0.7931 | 0.8003 | 99945 | 50125 | 0.7967
45521 | Floyd County, Texas | 45 | 0.7931 | 0.8003 | 99945 | 50125 | 0.7967
45522 | Foard County, Texas | 45 | 0.7931 | 0.8003 | 99945 | 50125 | 0.7967
45530 | Fort Bend County, Texas | 3360 | 1.0091 | 0.9996 | 26420 | 50242 | 1.0044
45531 | Franklin County, Texas | 45 | 0.7931 | 0.8003 | 99945 | 50125 | 0.7967
45540 | Freestone County, Texas | 45 | 0.7931 | 0.8003 | 99945 | 50125 | 0.7967
45541 | Frio County, Texas | 45 | 0.7931 | 0.8003 | 99945 | 50125 | 0.7967
45542 | Gaines County, Texas | 45 | 0.7931 | 0.8003 | 99945 | 50125 | 0.7967
45550 | Galveston County, Texas | 2920 | 0.9635 | 0.9996 | 26420 | 50229 | 0.9816
45551 | Garza County, Texas | 45 | 0.7931 | 0.8003 | 99945 | 50125 | 0.7967
45552 | Gillespie County, Texas | 45 | 0.7931 | 0.8003 | 99945 | 50125 | 0.7967
45560 | Glasscock County, Texas | 45 | 0.7931 | 0.8003 | 99945 | 50125 | 0.7967
45561 | Goliad County, Texas | 45 | 0.7931 | 0.8160 | 47020 | 50138 | 0.8046
45562 | Gonzales County, Texas | 45 | 0.7931 | 0.8003 | 99945 | 50125 | 0.7967
45563 | Gray County, Texas | 45 | 0.7931 | 0.8003 | 99945 | 50125 | 0.7967
45564 | Grayson County, Texas | 7640 | 0.9507 | 0.9507 | 43300 | 43300 | 0.9507
45570 | Gregg County, Texas | 4420 | 0.8888 | 0.8730 | 30980 | 50267 | 0.8809
45580 | Grimes County, Texas | 45 | 0.7931 | 0.8003 | 99945 | 50125 | 0.7967
45581 | Guadaloupe County, Texas | 7240 | 0.8984 | 0.8980 | 41700 | 50322 | 0.8982
45582 | Hale County, Texas | 45 | 0.7931 | 0.8003 | 99945 | 50125 | 0.7967
45583 | Hall County, Texas | 45 | 0.7931 | 0.8003 | 99945 | 50125 | 0.7967
45590 | Hamilton County, Texas | 45 | 0.7931 | 0.8003 | 99945 | 50125 | 0.7967
45591 | Hansford County, Texas | 45 | 0.7931 | 0.8003 | 99945 | 50125 | 0.7967
45592 | Hardeman County, Texas | 45 | 0.7931 | 0.8003 | 99945 | 50125 | 0.7967
45600 | Hardin County, Texas | 0840 | 0.8412 | 0.8412 | 13140 | 13140 | 0.8412
45610 | Harris County, Texas | 3360 | 1.0091 | 0.9996 | 26420 | 50242 | 1.0044
45620 | Harrison County, Texas | 4420 | 0.8888 | 0.8003 | 99945 | 50266 | 0.8446
45621 | Hartley County, Texas | 45 | 0.7931 | 0.8003 | 99945 | 50125 | 0.7967
45630 | Haskell County, Texas | 45 | 0.7931 | 0.8003 | 99945 | 50125 | 0.7967
45631 | Hays County, Texas | 0640 | 0.9437 | 0.9437 | 12420 | 12420 | 0.9437
45632 | Hemphill County, Texas | 45 | 0.7931 | 0.8003 | 99945 | 50125 | 0.7967
45640 | Henderson County, Texas | 1920 | 1.0205 | 0.8003 | 99945 | 50206 | 0.9104
45650 | Hidalgo County, Texas | 4880 | 0.8934 | 0.8934 | 32580 | 32580 | 0.8934
45651 | Hill County, Texas | 45 | 0.7931 | 0.8003 | 99945 | 50125 | 0.7967
45652 | Hockley County, Texas | 45 | 0.7931 | 0.8003 | 99945 | 50125 | 0.7967
45653 | Hood County, Texas | 2800 | 0.9522 | 0.8003 | 99945 | 50226 | 0.8763
45654 | Hopkins County, Texas | 45 | 0.7931 | 0.8003 | 99945 | 50125 | 0.7967
45660 | Houston County, Texas | 45 | 0.7931 | 0.8003 | 99945 | 50125 | 0.7967
45661 | Howard County, Texas | 45 | 0.7931 | 0.8003 | 99945 | 50125 | 0.7967
45662 | Hudspeth County, Texas | 45 | 0.7931 | 0.8003 | 99945 | 50125 | 0.7967
45670 | Hunt County, Texas | 1920 | 1.0205 | 1.0228 | 19124 | 50207 | 1.0217
45671 | Hutchinson County, Texas | 45 | 0.7931 | 0.8003 | 99945 | 50125 | 0.7967
45672 | Irion County, Texas | 45 | 0.7931 | 0.8271 | 41660 | 50136 | 0.8101
45680 | Jack County, Texas | 45 | 0.7931 | 0.8003 | 99945 | 50125 | 0.7967
45681 | Jackson County, Texas | 45 | 0.7931 | 0.8003 | 99945 | 50125 | 0.7967
45690 | Jasper County, Texas | 45 | 0.7931 | 0.8003 | 99945 | 50125 | 0.7967
45691 | Jeff Davis County, Texas | 45 | 0.7931 | 0.8003 | 99945 | 50125 | 0.7967
45700 | Jefferson County, Texas | 0840 | 0.8412 | 0.8412 | 13140 | 13140 | 0.8412
45710 | Jim Hogg County, Texas | 45 | 0.7931 | 0.8003 | 99945 | 50125 | 0.7967
45711 | Jim Wells County, Texas | 45 | 0.7931 | 0.8003 | 99945 | 50125 | 0.7967
45720 | Johnson County, Texas | 2800 | 0.9522 | 0.9486 | 23104 | 50227 | 0.9504
45721 | Jones County, Texas | 45 | 0.7931 | 0.7896 | 10180 | 50126 | 0.7914
45722 | Karnes County, Texas | 45 | 0.7931 | 0.8003 | 99945 | 50125 | 0.7967
45730 | Kaufman County, Texas | 1920 | 1.0205 | 1.0228 | 19124 | 50207 | 1.0217
45731 | Kendall County, Texas | 45 | 0.7931 | 0.8980 | 41700 | 50137 | 0.8456
45732 | Kenedy County, Texas | 45 | 0.7931 | 0.8003 | 99945 | 50125 | 0.7967
45733 | Kent County, Texas | 45 | 0.7931 | 0.8003 | 99945 | 50125 | 0.7967
45734 | Kerr County, Texas | 45 | 0.7931 | 0.8003 | 99945 | 50125 | 0.7967
45740 | Kimble County, Texas | 45 | 0.7931 | 0.8003 | 99945 | 50125 | 0.7967
45741 | King County, Texas | 45 | 0.7931 | 0.8003 | 99945 | 50125 | 0.7967
45742 | Kinney County, Texas | 45 | 0.7931 | 0.8003 | 99945 | 50125 | 0.7967
45743 | Kleberg County, Texas | 45 | 0.7931 | 0.8003 | 99945 | 50125 | 0.7967
45744 | Knox County, Texas | 45 | 0.7931 | 0.8003 | 99945 | 50125 | 0.7967
45750 | Lamar County, Texas | 45 | 0.7931 | 0.8003 | 99945 | 50125 | 0.7967
45751 | Lamb County, Texas | 45 | 0.7931 | 0.8003 | 99945 | 50125 | 0.7967
45752 | Lampasas County, Texas | 45 | 0.7931 | 0.8526 | 28660 | 50133 | 0.8229
45753 | La Salle County, Texas | 45 | 0.7931 | 0.8003 | 99945 | 50125 | 0.7967
45754 | Lavaca County, Texas | 45 | 0.7931 | 0.8003 | 99945 | 50125 | 0.7967
45755 | Lee County, Texas | 45 | 0.7931 | 0.8003 | 99945 | 50125 | 0.7967
45756 | Leon County, Texas | 45 | 0.7931 | 0.8003 | 99945 | 50125 | 0.7967
45757 | Liberty County, Texas | 3360 | 1.0091 | 0.9996 | 26420 | 50242 | 1.0044
45758 | Limestone County, Texas | 45 | 0.7931 | 0.8003 | 99945 | 50125 | 0.7967
45759 | Lipscomb County, Texas | 45 | 0.7931 | 0.8003 | 99945 | 50125 | 0.7967
45760 | Live Oak County, Texas | 45 | 0.7931 | 0.8003 | 99945 | 50125 | 0.7967
45761 | Llano County, Texas | 45 | 0.7931 | 0.8003 | 99945 | 50125 | 0.7967
45762 | Loving County, Texas | 45 | 0.7931 | 0.8003 | 99945 | 50125 | 0.7967
45770 | Lubbock County, Texas | 4600 | 0.8783 | 0.8783 | 31180 | 50270 | 0.8783
45771 | Lynn County, Texas | 45 | 0.7931 | 0.8003 | 99945 | 50125 | 0.7967
45772 | Mc Culloch County, Texas | 45 | 0.7931 | 0.8003 | 99945 | 50125 | 0.7967
45780 | Mc Lennan County, Texas | 8800 | 0.8518 | 0.8518 | 47380 | 47380 | 0.8518
45781 | Mc Mullen County, Texas | 45 | 0.7931 | 0.8003 | 99945 | 50125 | 0.7967
45782 | Madison County, Texas | 45 | 0.7931 | 0.8003 | 99945 | 50125 | 0.7967
45783 | Marion County, Texas | 45 | 0.7931 | 0.8003 | 99945 | 50125 | 0.7967
45784 | Martin County, Texas | 45 | 0.7931 | 0.8003 | 99945 | 50125 | 0.7967
45785 | Mason County, Texas | 45 | 0.7931 | 0.8003 | 99945 | 50125 | 0.7967
45790 | Matagorda County, Texas | 45 | 0.7931 | 0.8003 | 99945 | 50125 | 0.7967
45791 | Maverick County, Texas | 45 | 0.7931 | 0.8003 | 99945 | 50125 | 0.7967
45792 | Medina County, Texas | 45 | 0.7931 | 0.8980 | 41700 | 50137 | 0.8456
45793 | Menard County, Texas | 45 | 0.7931 | 0.8003 | 99945 | 50125 | 0.7967
45794 | Midland County, Texas | 5800 | 0.9741 | 0.9514 | 33260 | 33260 | 0.9628
45795 | Milam County, Texas | 45 | 0.7931 | 0.8003 | 99945 | 50125 | 0.7967
45796 | Mills County, Texas | 45 | 0.7931 | 0.8003 | 99945 | 50125 | 0.7967
45797 | Mitchell County, Texas | 45 | 0.7931 | 0.8003 | 99945 | 50125 | 0.7967
45800 | Montague County, Texas | 45 | 0.7931 | 0.8003 | 99945 | 50125 | 0.7967
45801 | Montgomery County, Texas | 3360 | 1.0091 | 0.9996 | 26420 | 50242 | 1.0044
45802 | Moore County, Texas | 45 | 0.7931 | 0.8003 | 99945 | 50125 | 0.7967
45803 | Morris County, Texas | 45 | 0.7931 | 0.8003 | 99945 | 50125 | 0.7967
45804 | Motley County, Texas | 45 | 0.7931 | 0.8003 | 99945 | 50125 | 0.7967
45810 | Nacogdoches County, Texas | 45 | 0.7931 | 0.8003 | 99945 | 50125 | 0.7967
45820 | Navarro County, Texas | 45 | 0.7931 | 0.8003 | 99945 | 50125 | 0.7967
45821 | Newton County, Texas | 45 | 0.7931 | 0.8003 | 99945 | 50125 | 0.7967
45822 | Nolan County, Texas | 45 | 0.7931 | 0.8003 | 99945 | 50125 | 0.7967
45830 | Nueces County, Texas | 1880 | 0.8550 | 0.8550 | 18580 | 50205 | 0.8550
45831 | Ochiltree County, Texas | 45 | 0.7931 | 0.8003 | 99945 | 50125 | 0.7967
45832 | Oldham County, Texas | 45 | 0.7931 | 0.8003 | 99945 | 50125 | 0.7967
45840 | Orange County, Texas | 0840 | 0.8412 | 0.8412 | 13140 | 13140 | 0.8412
45841 | Palo Pinto County, Texas | 45 | 0.7931 | 0.8003 | 99945 | 50125 | 0.7967
45842 | Panola County, Texas | 45 | 0.7931 | 0.8003 | 99945 | 50125 | 0.7967
45843 | Parker County, Texas | 2800 | 0.9522 | 0.9486 | 23104 | 50227 | 0.9504
45844 | Parmer County, Texas | 45 | 0.7931 | 0.8003 | 99945 | 50125 | 0.7967
45845 | Pecos County, Texas | 45 | 0.7931 | 0.8003 | 99945 | 50125 | 0.7967
45850 | Polk County, Texas | 45 | 0.7931 | 0.8003 | 99945 | 50125 | 0.7967
45860 | Potter County, Texas | 0320 | 0.9156 | 0.9156 | 11100 | 50168 | 0.9156
45861 | Presidio County, Texas | 45 | 0.7931 | 0.8003 | 99945 | 50125 | 0.7967
45870 | Rains County, Texas | 45 | 0.7931 | 0.8003 | 99945 | 50125 | 0.7967
45871 | Randall County, Texas | 0320 | 0.9156 | 0.9156 | 11100 | 50168 | 0.9156
45872 | Reagan County, Texas | 45 | 0.7931 | 0.8003 | 99945 | 50125 | 0.7967
45873 | Real County, Texas | 45 | 0.7931 | 0.8003 | 99945 | 50125 | 0.7967
45874 | Red River County, Texas | 45 | 0.7931 | 0.8003 | 99945 | 50125 | 0.7967
45875 | Reeves County, Texas | 45 | 0.7931 | 0.8003 | 99945 | 50125 | 0.7967
45876 | Refugio County, Texas | 45 | 0.7931 | 0.8003 | 99945 | 50125 | 0.7967
45877 | Roberts County, Texas | 45 | 0.7931 | 0.8003 | 99945 | 50125 | 0.7967
45878 | Robertson County, Texas | 45 | 0.7931 | 0.8900 | 17780 | 50128 | 0.8416
45879 | Rockwall County, Texas | 1920 | 1.0205 | 1.0228 | 19124 | 50207 | 1.0217
45880 | Runnels County, Texas | 45 | 0.7931 | 0.8003 | 99945 | 50125 | 0.7967
45881 | Rusk County, Texas | 45 | 0.7931 | 0.8730 | 30980 | 50134 | 0.8331
45882 | Sabine County, Texas | 45 | 0.7931 | 0.8003 | 99945 | 50125 | 0.7967
45883 | San Augustine County, Texas | 45 | 0.7931 | 0.8003 | 99945 | 50125 | 0.7967
45884 | San Jacinto County, Texas | 45 | 0.7931 | 0.9996 | 26420 | 50132 | 0.8964
45885 | San Patricio County, Texas | 1880 | 0.8550 | 0.8550 | 18580 | 50205 | 0.8550
45886 | San Saba County, Texas | 45 | 0.7931 | 0.8003 | 99945 | 50125 | 0.7967
45887 | Schleicher County, Texas | 45 | 0.7931 | 0.8003 | 99945 | 50125 | 0.7967
45888 | Scurry County, Texas | 45 | 0.7931 | 0.8003 | 99945 | 50125 | 0.7967
45889 | Shackelford County, Texas | 45 | 0.7931 | 0.8003 | 99945 | 50125 | 0.7967
45890 | Shelby County, Texas | 45 | 0.7931 | 0.8003 | 99945 | 50125 | 0.7967
45891 | Sherman County, Texas | 45 | 0.7931 | 0.8003 | 99945 | 50125 | 0.7967
45892 | Smith County, Texas | 8640 | 0.9168 | 0.9168 | 46340 | 46340 | 0.9168
45893 | Somervell County, Texas | 45 | 0.7931 | 0.8003 | 99945 | 50125 | 0.7967
45900 | Starr County, Texas | 45 | 0.7931 | 0.8003 | 99945 | 50125 | 0.7967
45901 | Stephens County, Texas | 45 | 0.7931 | 0.8003 | 99945 | 50125 | 0.7967
45902 | Sterling County, Texas | 45 | 0.7931 | 0.8003 | 99945 | 50125 | 0.7967
45903 | Stonewall County, Texas | 45 | 0.7931 | 0.8003 | 99945 | 50125 | 0.7967
45904 | Sutton County, Texas | 45 | 0.7931 | 0.8003 | 99945 | 50125 | 0.7967
45905 | Swisher County, Texas | 45 | 0.7931 | 0.8003 | 99945 | 50125 | 0.7967
45910 | Tarrant County, Texas | 2800 | 0.9522 | 0.9486 | 23104 | 50227 | 0.9504
45911 | Taylor County, Texas | 0040 | 0.8054 | 0.7896 | 10180 | 50161 | 0.7975
45912 | Terrell County, Texas | 45 | 0.7931 | 0.8003 | 99945 | 50125 | 0.7967
45913 | Terry County, Texas | 45 | 0.7931 | 0.8003 | 99945 | 50125 | 0.7967
45920 | Throckmorton County, Texas | 45 | 0.7931 | 0.8003 | 99945 | 50125 | 0.7967
45921 | Titus County, Texas | 45 | 0.7931 | 0.8003 | 99945 | 50125 | 0.7967
45930 | Tom Green County, Texas | 7200 | 0.8271 | 0.8271 | 41660 | 50321 | 0.8271
45940 | Travis County, Texas | 0640 | 0.9437 | 0.9437 | 12420 | 12420 | 0.9437
45941 | Trinity County, Texas | 45 | 0.7931 | 0.8003 | 99945 | 50125 | 0.7967
45942 | Tyler County, Texas | 45 | 0.7931 | 0.8003 | 99945 | 50125 | 0.7967
45943 | Upshur County, Texas | 4420 | 0.8888 | 0.8730 | 30980 | 50267 | 0.8809
45944 | Upton County, Texas | 45 | 0.7931 | 0.8003 | 99945 | 50125 | 0.7967
45945 | Uvalde County, Texas | 45 | 0.7931 | 0.8003 | 99945 | 50125 | 0.7967
45946 | Val Verde County, Texas | 45 | 0.7931 | 0.8003 | 99945 | 50125 | 0.7967
45947 | Van Zandt County, Texas | 45 | 0.7931 | 0.8003 | 99945 | 50125 | 0.7967
45948 | Victoria County, Texas | 8750 | 0.8160 | 0.8160 | 47020 | 50343 | 0.8160
45949 | Walker County, Texas | 45 | 0.7931 | 0.8003 | 99945 | 50125 | 0.7967
45950 | Waller County, Texas | 3360 | 1.0091 | 0.9996 | 26420 | 50242 | 1.0044
45951 | Ward County, Texas | 45 | 0.7931 | 0.8003 | 99945 | 50125 | 0.7967
45952 | Washington County, Texas | 45 | 0.7931 | 0.8003 | 99945 | 50125 | 0.7967
45953 | Webb County, Texas | 4080 | 0.8068 | 0.8068 | 29700 | 29700 | 0.8068
45954 | Wharton County, Texas | 45 | 0.7931 | 0.8003 | 99945 | 50125 | 0.7967
45955 | Wheeler County, Texas | 45 | 0.7931 | 0.8003 | 99945 | 50125 | 0.7967
45960 | Wichita County, Texas | 9080 | 0.8365 | 0.8285 | 48660 | 50348 | 0.8325
45961 | Wilbarger County, Texas | 45 | 0.7931 | 0.8003 | 99945 | 50125 | 0.7967
45962 | Willacy County, Texas | 45 | 0.7931 | 0.8003 | 99945 | 50125 | 0.7967
45970 | Williamson County, Texas | 0640 | 0.9437 | 0.9437 | 12420 | 12420 | 0.9437
45971 | Wilson County, Texas | 7240 | 0.8984 | 0.8980 | 41700 | 50322 | 0.8982
45972 | Winkler County, Texas | 45 | 0.7931 | 0.8003 | 99945 | 50125 | 0.7967
45973 | Wise County, Texas | 45 | 0.7931 | 0.9486 | 23104 | 50131 | 0.8709
45974 | Wood County, Texas | 45 | 0.7931 | 0.8003 | 99945 | 50125 | 0.7967
45980 | Yoakum County, Texas | 45 | 0.7931 | 0.8003 | 99945 | 50125 | 0.7967
45981 | Young County, Texas | 45 | 0.7931 | 0.8003 | 99945 | 50125 | 0.7967
45982 | Zapata County, Texas | 45 | 0.7931 | 0.8003 | 99945 | 50125 | 0.7967
45983 | Zavala County, Texas | 45 | 0.7931 | 0.8003 | 99945 | 50125 | 0.7967
46000 | Beaver County, Utah | 46 | 0.8762 | 0.8118 | 99946 | 50140 | 0.8440
46010 | Box Elder County, Utah | 46 | 0.8762 | 0.8118 | 99946 | 50140 | 0.8440
46020 | Cache County, Utah | 46 | 0.8762 | 0.9164 | 30860 | 50141 | 0.8963
46030 | Carbon County, Utah | 46 | 0.8762 | 0.8118 | 99946 | 50140 | 0.8440
46040 | Daggett County, Utah | 46 | 0.8762 | 0.8118 | 99946 | 50140 | 0.8440
46050 | Davis County, Utah | 7160 | 0.9340 | 0.9029 | 36260 | 50319 | 0.9185
46060 | Duchesne County, Utah | 46 | 0.8762 | 0.8118 | 99946 | 50140 | 0.8440
46070 | Emery County, Utah | 46 | 0.8762 | 0.8118 | 99946 | 50140 | 0.8440
46080 | Garfield County, Utah | 46 | 0.8762 | 0.8118 | 99946 | 50140 | 0.8440
46090 | Grand County, Utah | 46 | 0.8762 | 0.8118 | 99946 | 50140 | 0.8440
46100 | Iron County, Utah | 46 | 0.8762 | 0.8118 | 99946 | 50140 | 0.8440
46110 | Juab County, Utah | 46 | 0.8762 | 0.9500 | 39340 | 50143 | 0.9131
46120 | Kane County, Utah | 2620 | 1.1845 | 0.8118 | 99946 | 50222 | 0.9982
46130 | Millard County, Utah | 46 | 0.8762 | 0.8118 | 99946 | 50140 | 0.8440
46140 | Morgan County, Utah | 46 | 0.8762 | 0.9029 | 36260 | 50142 | 0.8896
46150 | Piute County, Utah | 46 | 0.8762 | 0.8118 | 99946 | 50140 | 0.8440
46160 | Rich County, Utah | 46 | 0.8762 | 0.8118 | 99946 | 50140 | 0.8440
46170 | Salt Lake County, Utah | 7160 | 0.9340 | 0.9421 | 41620 | 50320 | 0.9381
46180 | San Juan County, Utah | 46 | 0.8762 | 0.8118 | 99946 | 50140 | 0.8440
46190 | Sanpete County, Utah | 46 | 0.8762 | 0.8118 | 99946 | 50140 | 0.8440
46200 | Sevier County, Utah | 46 | 0.8762 | 0.8118 | 99946 | 50140 | 0.8440
46210 | Summit County, Utah | 46 | 0.8762 | 0.9421 | 41620 | 50144 | 0.9092
46220 | Tooele County, Utah | 46 | 0.8762 | 0.9421 | 41620 | 50144 | 0.9092
46230 | Uintah County, Utah | 46 | 0.8762 | 0.8118 | 99946 | 50140 | 0.8440
46240 | Utah County, Utah | 6520 | 0.9500 | 0.9500 | 39340 | 50306 | 0.9500
46250 | Wasatch County, Utah | 46 | 0.8762 | 0.8118 | 99946 | 50140 | 0.8440
46260 | Washington County, Utah | 46 | 0.8762 | 0.9392 | 41100 | 41100 | 0.9077
46270 | Wayne County, Utah | 46 | 0.8762 | 0.8118 | 99946 | 50140 | 0.8440
46280 | Weber County, Utah | 7160 | 0.9340 | 0.9029 | 36260 | 50319 | 0.9185
47000 | Addison County, Vermont | 47 | 0.9830 | 0.9830 | 99947 | 99947 | 0.9830
47010 | Bennington County, Vermont | 47 | 0.9830 | 0.9830 | 99947 | 99947 | 0.9830
47020 | Caledonia County, Vermont | 47 | 0.9830 | 0.9830 | 99947 | 99947 | 0.9830
47030 | Chittenden County, Vermont | 1303 | 0.9410 | 0.9410 | 15540 | 15540 | 0.9410
47040 | Essex County, Vermont | 47 | 0.9830 | 0.9830 | 99947 | 99947 | 0.9830
47050 | Franklin County, Vermont | 1303 | 0.9410 | 0.9410 | 15540 | 15540 | 0.9410
47060 | Grand Isle County, Vermont | 1303 | 0.9410 | 0.9410 | 15540 | 15540 | 0.9410
47070 | Lamoille County, Vermont | 47 | 0.9830 | 0.9830 | 99947 | 99947 | 0.9830
47080 | Orange County, Vermont | 47 | 0.9830 | 0.9830 | 99947 | 99947 | 0.9830
47090 | Orleans County, Vermont | 47 | 0.9830 | 0.9830 | 99947 | 99947 | 0.9830
47100 | Rutland County, Vermont | 47 | 0.9830 | 0.9830 | 99947 | 99947 | 0.9830
47110 | Washington County, Vermont | 47 | 0.9830 | 0.9830 | 99947 | 99947 | 0.9830
47120 | Windham County, Vermont | 47 | 0.9830 | 0.9830 | 99947 | 99947 | 0.9830
47130 | Windsor County, Vermont | 47 | 0.9830 | 0.9830 | 99947 | 99947 | 0.9830
48010 | St Croix County, Virgin Islands | 48 | 0.7615 | 0.7615 | 99948 | 99948 | 0.7615
48020 | St Thomas-John County, Virgin Islands | 48 | 0.7615 | 0.7615 | 99948 | 99948 | 0.7615
49000 | Accomack County, Virginia | 49 | 0.8417 | 0.8013 | 99949 | 50145 | 0.8215
49010 | Albemarle County, Virginia | 1540 | 1.0187 | 1.0187 | 16820 | 50194 | 1.0187
49011 | Alexandria City County, Virginia | 8840 | 1.0976 | 1.0926 | 47894 | 47894 | 1.0951
49020 | Alleghany County, Virginia | 49 | 0.8417 | 0.8013 | 99949 | 50145 | 0.8215
49030 | Amelia County, Virginia | 49 | 0.8417 | 0.9328 | 40060 | 50148 | 0.8873
49040 | Amherst County, Virginia | 4640 | 0.8691 | 0.8691 | 31340 | 50271 | 0.8691
49050 | Appomattox County, Virginia | 49 | 0.8417 | 0.8691 | 31340 | 50147 | 0.8554
49060 | Arlington County, Virginia | 8840 | 1.0976 | 1.0926 | 47894 | 47894 | 1.0951
49070 | Augusta County, Virginia | 49 | 0.8417 | 0.8013 | 99949 | 50145 | 0.8215
49080 | Bath County, Virginia | 49 | 0.8417 | 0.8013 | 99949 | 50145 | 0.8215
49088 | Bedford City County, Virginia | 4640 | 0.8691 | 0.8691 | 31340 | 50271 | 0.8691
49090 | Bedford County, Virginia | 4640 | 0.8691 | 0.8691 | 31340 | 50271 | 0.8691
49100 | Bland County, Virginia | 49 | 0.8417 | 0.8013 | 99949 | 50145 | 0.8215
49110 | Botetourt County, Virginia | 6800 | 0.8387 | 0.8374 | 40220 | 50311 | 0.8381
49111 | Bristol City County, Virginia | 3660 | 0.8007 | 0.8054 | 28700 | 28700 | 0.8031
49120 | Brunswick County, Virginia | 49 | 0.8417 | 0.8013 | 99949 | 50145 | 0.8215
49130 | Buchanan County, Virginia | 49 | 0.8417 | 0.8013 | 99949 | 50145 | 0.8215
49140 | Buckingham County, Virginia | 49 | 0.8417 | 0.8013 | 99949 | 50145 | 0.8215
49141 | Buena Vista City County, Virginia | 49 | 0.8417 | 0.8013 | 99949 | 50145 | 0.8215
49150 | Campbell County, Virginia | 4640 | 0.8691 | 0.8691 | 31340 | 50271 | 0.8691
49160 | Caroline County, Virginia | 49 | 0.8417 | 0.9328 | 40060 | 50148 | 0.8873
49170 | Carroll County, Virginia | 49 | 0.8417 | 0.8013 | 99949 | 50145 | 0.8215
49180 | Charles City County, Virginia | 6760 | 0.9328 | 0.9328 | 40060 | 50310 | 0.9328
49190 | Charlotte County, Virginia | 49 | 0.8417 | 0.8013 | 99949 | 50145 | 0.8215
49191 | Charlottesville City County, Virginia | 1540 | 1.0187 | 1.0187 | 16820 | 50194 | 1.0187
49194 | Chesapeake County, Virginia | 5720 | 0.8799 | 0.8799 | 47260 | 50292 | 0.8799
49200 | Chesterfield County, Virginia | 6760 | 0.9328 | 0.9328 | 40060 | 50310 | 0.9328
49210 | Clarke County, Virginia | 8840 | 1.0976 | 1.0926 | 47894 | 47894 | 1.0951
49211 | Clifton Forge City County, Virginia | 49 | 0.8417 | 0.8013 | 99949 | 50145 | 0.8215
49212 | Colonial Heights County, Virginia | 6760 | 0.9328 | 0.9328 | 40060 | 50310 | 0.9328
49213 | Covington City County, Virginia | 49 | 0.8417 | 0.8013 | 99949 | 50145 | 0.8215
49220 | Craig County, Virginia | 49 | 0.8417 | 0.8374 | 40220 | 50149 | 0.8396
49230 | Culpeper County, Virginia | 8840 | 1.0976 | 0.8013 | 99949 | 50344 | 0.9495
49240 | Cumberland County, Virginia | 49 | 0.8417 | 0.9328 | 40060 | 50148 | 0.8873
49241 | Danville City County, Virginia | 1950 | 0.8489 | 0.8489 | 19260 | 19260 | 0.8489
49250 | Dickenson County, Virginia | 49 | 0.8417 | 0.8013 | 99949 | 50145 | 0.8215
49260 | Dinniddie County, Virginia | 6760 | 0.9328 | 0.9328 | 40060 | 50310 | 0.9328
49270 | Emporia County, Virginia | 49 | 0.8417 | 0.8013 | 99949 | 50145 | 0.8215
49280 | Essex County, Virginia | 49 | 0.8417 | 0.8013 | 99949 | 50145 | 0.8215
49288 | Fairfax City County, Virginia | 8840 | 1.0976 | 1.0926 | 47894 | 47894 | 1.0951
49290 | Fairfax County, Virginia | 8840 | 1.0976 | 1.0926 | 47894 | 47894 | 1.0951
49291 | Falls Church City County, Virginia | 8840 | 1.0976 | 1.0926 | 47894 | 47894 | 1.0951
49300 | Fauquier County, Virginia | 8840 | 1.0976 | 1.0926 | 47894 | 47894 | 1.0951
49310 | Floyd County, Virginia | 49 | 0.8417 | 0.8013 | 99949 | 50145 | 0.8215
49320 | Fluvanna County, Virginia | 1540 | 1.0187 | 1.0187 | 16820 | 50194 | 1.0187
49328 | Franklin City County, Virginia | 49 | 0.8417 | 0.8013 | 99949 | 50145 | 0.8215
49330 | Franklin County, Virginia | 49 | 0.8417 | 0.8374 | 40220 | 50149 | 0.8396
49340 | Frederick County, Virginia | 49 | 0.8417 | 1.0214 | 49020 | 50151 | 0.9316
49342 | Fredericksburg City County, Virginia | 8840 | 1.0976 | 1.0926 | 47894 | 47894 | 1.0951
49343 | Galax City County, Virginia | 49 | 0.8417 | 0.8013 | 99949 | 50145 | 0.8215
49350 | Giles County, Virginia | 49 | 0.8417 | 0.7954 | 13980 | 13980 | 0.8186
49360 | Gloucester County, Virginia | 5720 | 0.8799 | 0.8799 | 47260 | 50292 | 0.8799
49370 | Goochland County, Virginia | 6760 | 0.9328 | 0.9328 | 40060 | 50310 | 0.9328
49380 | Grayson County, Virginia | 49 | 0.8417 | 0.8013 | 99949 | 50145 | 0.8215
49390 | Greene County, Virginia | 1540 | 1.0187 | 1.0187 | 16820 | 50194 | 1.0187
49400 | Greensville County, Virginia | 49 | 0.8417 | 0.8013 | 99949 | 50145 | 0.8215
49410 | Halifax County, Virginia | 49 | 0.8417 | 0.8013 | 99949 | 50145 | 0.8215
49411 | Hampton City County, Virginia | 5720 | 0.8799 | 0.8799 | 47260 | 50292 | 0.8799
49420 | Hanover County, Virginia | 6760 | 0.9328 | 0.9328 | 40060 | 50310 | 0.9328
49421 | Harrisonburg City County, Virginia | 49 | 0.8417 | 0.9088 | 25500 | 25500 | 0.8753
49430 | Henrico County, Virginia | 6760 | 0.9328 | 0.9328 | 40060 | 50310 | 0.9328
49440 | Henry County, Virginia | 49 | 0.8417 | 0.8013 | 99949 | 50145 | 0.8215
49450 | Highland County, Virginia | 49 | 0.8417 | 0.8013 | 99949 | 50145 | 0.8215
49451 | Hopewell City County, Virginia | 6760 | 0.9328 | 0.9328 | 40060 | 50310 | 0.9328
49460 | Isle Of Wight County, Virginia | 5720 | 0.8799 | 0.8799 | 47260 | 50292 | 0.8799
49470 | James City Co County, Virginia | 5720 | 0.8799 | 0.8799 | 47260 | 50292 | 0.8799
49480 | King And Queen County, Virginia | 49 | 0.8417 | 0.9328 | 40060 | 50148 | 0.8873
49490 | King George County, Virginia | 8840 | 1.0976 | 0.8013 | 99949 | 50344 | 0.9495
49500 | King William County, Virginia | 49 | 0.8417 | 0.9328 | 40060 | 50148 | 0.8873
49510 | Lancaster County, Virginia | 49 | 0.8417 | 0.8013 | 99949 | 50145 | 0.8215
49520 | Lee County, Virginia | 49 | 0.8417 | 0.8013 | 99949 | 50145 | 0.8215
49522 | Lexington County, Virginia | 49 | 0.8417 | 0.8013 | 99949 | 50145 | 0.8215
49530 | Loudoun County, Virginia | 8840 | 1.0976 | 1.0926 | 47894 | 47894 | 1.0951
49540 | Louisa County, Virginia | 49 | 0.8417 | 0.9328 | 40060 | 50148 | 0.8873
49550 | Lunenburg County, Virginia | 49 | 0.8417 | 0.8013 | 99949 | 50145 | 0.8215
49551 | Lynchburg City County, Virginia | 4640 | 0.8691 | 0.8691 | 31340 | 50271 | 0.8691
49560 | Madison County, Virginia | 49 | 0.8417 | 0.8013 | 99949 | 50145 | 0.8215
49561 | Martinsville City County, Virginia | 49 | 0.8417 | 0.8013 | 99949 | 50145 | 0.8215
49563 | Manassas City County, Virginia | 8840 | 1.0976 | 1.0926 | 47894 | 47894 | 1.0951
49565 | Manassas Park City County, Virginia | 8840 | 1.0976 | 1.0926 | 47894 | 47894 | 1.0951
49570 | Mathews County, Virginia | 5720 | 0.8799 | 0.8799 | 47260 | 50292 | 0.8799
49580 | Mecklenburg County, Virginia | 49 | 0.8417 | 0.8013 | 99949 | 50145 | 0.8215
49590 | Middlesex County, Virginia | 49 | 0.8417 | 0.8013 | 99949 | 50145 | 0.8215
49600 | Montgomery County, Virginia | 49 | 0.8417 | 0.7954 | 13980 | 13980 | 0.8186
49610 | Nansemond, Virginia | 49 | 0.8417 | 0.8013 | 99949 | 50145 | 0.8215
49620 | Nelson County, Virginia | 49 | 0.8417 | 1.0187 | 16820 | 50146 | 0.9302
49621 | New Kent County, Virginia | 6760 | 0.9328 | 0.9328 | 40060 | 50310 | 0.9328
49622 | Newport News City County, Virginia | 5720 | 0.8799 | 0.8799 | 47260 | 50292 | 0.8799
49641 | Norfolk City County, Virginia | 5720 | 0.8799 | 0.8799 | 47260 | 50292 | 0.8799
49650 | Northampton County, Virginia | 49 | 0.8417 | 0.8013 | 99949 | 50145 | 0.8215
49660 | Northumberland County, Virginia | 49 | 0.8417 | 0.8013 | 99949 | 50145 | 0.8215
49661 | Norton City County, Virginia | 49 | 0.8417 | 0.8013 | 99949 | 50145 | 0.8215
49670 | Nottoway County, Virginia | 49 | 0.8417 | 0.8013 | 99949 | 50145 | 0.8215
49680 | Orange County, Virginia | 49 | 0.8417 | 0.8013 | 99949 | 50145 | 0.8215
49690 | Page County, Virginia | 49 | 0.8417 | 0.8013 | 99949 | 50145 | 0.8215
49700 | Patrick County, Virginia | 49 | 0.8417 | 0.8013 | 99949 | 50145 | 0.8215
49701 | Petersburg City County, Virginia | 6760 | 0.9328 | 0.9328 | 40060 | 50310 | 0.9328
49710 | Pittsylvania County, Virginia | 1950 | 0.8489 | 0.8489 | 19260 | 19260 | 0.8489
49711 | Portsmouth City County, Virginia | 5720 | 0.8799 | 0.8799 | 47260 | 50292 | 0.8799
49712 | Poquoson City County, Virginia | 5720 | 0.8799 | 0.8799 | 47260 | 50292 | 0.8799
49720 | Powhatan County, Virginia | 6760 | 0.9328 | 0.9328 | 40060 | 50310 | 0.9328
49730 | Prince Edward County, Virginia | 49 | 0.8417 | 0.8013 | 99949 | 50145 | 0.8215
49740 | Prince George County, Virginia | 6760 | 0.9328 | 0.9328 | 40060 | 50310 | 0.9328
49750 | Prince William County, Virginia | 8840 | 1.0976 | 1.0926 | 47894 | 47894 | 1.0951
49770 | Pulaski County, Virginia | 49 | 0.8417 | 0.7954 | 13980 | 13980 | 0.8186
49771 | Radford City County, Virginia | 49 | 0.8417 | 0.7954 | 13980 | 13980 | 0.8186
49780 | Rappahannock County, Virginia | 49 | 0.8417 | 0.8013 | 99949 | 50145 | 0.8215
49790 | Richmond County, Virginia | 49 | 0.8417 | 0.8013 | 99949 | 50145 | 0.8215
49791 | Richmond City County, Virginia | 6760 | 0.9328 | 0.9328 | 40060 | 50310 | 0.9328
49800 | Roanoke County, Virginia | 6800 | 0.8387 | 0.8374 | 40220 | 50311 | 0.8381
49801 | Roanoke City County, Virginia | 6800 | 0.8387 | 0.8374 | 40220 | 50311 | 0.8381
49810 | Rockbridge County, Virginia | 49 | 0.8417 | 0.8013 | 99949 | 50145 | 0.8215
49820 | Rockingham County, Virginia | 49 | 0.8417 | 0.9088 | 25500 | 25500 | 0.8753
49830 | Russell County, Virginia | 49 | 0.8417 | 0.8013 | 99949 | 50145 | 0.8215
49838 | Salem County, Virginia | 6800 | 0.8387 | 0.8374 | 40220 | 50311 | 0.8381
49840 | Scott County, Virginia | 3660 | 0.8007 | 0.8054 | 28700 | 28700 | 0.8031
49850 | Shenandoah County, Virginia | 49 | 0.8417 | 0.8013 | 99949 | 50145 | 0.8215
49860 | Smyth County, Virginia | 49 | 0.8417 | 0.8013 | 99949 | 50145 | 0.8215
49867 | South Boston City County, Virginia | 49 | 0.8417 | 0.8013 | 99949 | 50145 | 0.8215
49870 | Southampton County, Virginia | 49 | 0.8417 | 0.8013 | 99949 | 50145 | 0.8215
49880 | Spotsylvania County, Virginia | 8840 | 1.0976 | 1.0926 | 47894 | 47894 | 1.0951
49890 | Stafford County, Virginia | 8840 | 1.0976 | 1.0926 | 47894 | 47894 | 1.0951
49891 | Staunton City County, Virginia | 49 | 0.8417 | 0.8013 | 99949 | 50145 | 0.8215
49892 | Suffolk City County, Virginia | 5720 | 0.8799 | 0.8799 | 47260 | 50292 | 0.8799
49900 | Surry County, Virginia | 49 | 0.8417 | 0.8799 | 47260 | 50150 | 0.8608
49910 | Sussex County, Virginia | 49 | 0.8417 | 0.9328 | 40060 | 50148 | 0.8873
49920 | Tazewell County, Virginia | 49 | 0.8417 | 0.8013 | 99949 | 50145 | 0.8215
49921 | Virginia Beach City County, Virginia | 5720 | 0.8799 | 0.8799 | 47260 | 50292 | 0.8799
49930 | Warren County, Virginia | 8840 | 1.0976 | 1.0926 | 47894 | 47894 | 1.0951
49950 | Washington County, Virginia | 3660 | 0.8007 | 0.8054 | 28700 | 28700 | 0.8031
49951 | Waynesboro City County, Virginia | 49 | 0.8417 | 0.8013 | 99949 | 50145 | 0.8215
49960 | Westmoreland County, Virginia | 49 | 0.8417 | 0.8013 | 99949 | 50145 | 0.8215
49961 | Williamsburg City County, Virginia | 5720 | 0.8799 | 0.8799 | 47260 | 50292 | 0.8799
49962 | Winchester City County, Virginia | 49 | 0.8417 | 1.0214 | 49020 | 50151 | 0.9316
49970 | Wise County, Virginia | 49 | 0.8417 | 0.8013 | 99949 | 50145 | 0.8215
49980 | Wythe County, Virginia | 49 | 0.8417 | 0.8013 | 99949 | 50145 | 0.8215
49981 | York County, Virginia | 5720 | 0.8799 | 0.8799 | 47260 | 50292 | 0.8799
50000 | Adams County, Washington | 50 | 1.0217 | 1.0510 | 99950 | 50152 | 1.0364
50010 | Asotin County, Washington | 50 | 1.0217 | 0.9886 | 30300 | 50153 | 1.0052
50020 | Benton County, Washington | 6740 | 1.0619 | 1.0619 | 28420 | 28420 | 1.0619
50030 | Chelan County, Washington | 50 | 1.0217 | 1.0070 | 48300 | 48300 | 1.0144
50040 | Clallam County, Washington | 50 | 1.0217 | 1.0510 | 99950 | 50152 | 1.0364
50050 | Clark County, Washington | 6440 | 1.1266 | 1.1266 | 38900 | 50304 | 1.1266
50060 | Columbia County, Washington | 50 | 1.0217 | 1.0510 | 99950 | 50152 | 1.0364
50070 | Cowlitz County, Washington | 50 | 1.0217 | 0.9579 | 31020 | 31020 | 0.9898
50080 | Douglas County, Washington | 50 | 1.0217 | 1.0070 | 48300 | 48300 | 1.0144
50090 | Ferry County, Washington | 50 | 1.0217 | 1.0510 | 99950 | 50152 | 1.0364
50100 | Franklin County, Washington | 6740 | 1.0619 | 1.0619 | 28420 | 28420 | 1.0619
50110 | Garfield County, Washington | 50 | 1.0217 | 1.0510 | 99950 | 50152 | 1.0364
50120 | Grant County, Washington | 50 | 1.0217 | 1.0510 | 99950 | 50152 | 1.0364
50130 | Grays Harbor County, Washington | 50 | 1.0217 | 1.0510 | 99950 | 50152 | 1.0364
50140 | Island County, Washington | 7600 | 1.1567 | 1.0510 | 99950 | 50327 | 1.1039
50150 | Jefferson County, Washington | 50 | 1.0217 | 1.0510 | 99950 | 50152 | 1.0364
50160 | King County, Washington | 7600 | 1.1567 | 1.1577 | 42644 | 42644 | 1.1572
50170 | Kitsap County, Washington | 1150 | 1.0675 | 1.0675 | 14740 | 14740 | 1.0675
50180 | Kittitas County, Washington | 50 | 1.0217 | 1.0510 | 99950 | 50152 | 1.0364
50190 | Klickitat County, Washington | 50 | 1.0217 | 1.0510 | 99950 | 50152 | 1.0364
50200 | Lewis County, Washington | 50 | 1.0217 | 1.0510 | 99950 | 50152 | 1.0364
50210 | Lincoln County, Washington | 50 | 1.0217 | 1.0510 | 99950 | 50152 | 1.0364
50220 | Mason County, Washington | 50 | 1.0217 | 1.0510 | 99950 | 50152 | 1.0364
50230 | Okanogan County, Washington | 50 | 1.0217 | 1.0510 | 99950 | 50152 | 1.0364
50240 | Pacific County, Washington | 50 | 1.0217 | 1.0510 | 99950 | 50152 | 1.0364
50250 | Pend Oreille County, Washington | 50 | 1.0217 | 1.0510 | 99950 | 50152 | 1.0364
50260 | Pierce County, Washington | 8200 | 1.0742 | 1.0742 | 45104 | 45104 | 1.0742
50270 | San Juan County, Washington | 50 | 1.0217 | 1.0510 | 99950 | 50152 | 1.0364
50280 | Skagit County, Washington | 50 | 1.0217 | 1.0454 | 34580 | 34580 | 1.0336
50290 | Skamania County, Washington | 50 | 1.0217 | 1.1266 | 38900 | 50154 | 1.0742
50300 | Snohomish County, Washington | 7600 | 1.1567 | 1.1577 | 42644 | 42644 | 1.1572
50310 | Spokane County, Washington | 7840 | 1.0905 | 1.0905 | 44060 | 44060 | 1.0905
50320 | Stevens County, Washington | 50 | 1.0217 | 1.0510 | 99950 | 50152 | 1.0364
50330 | Thurston County, Washington | 5910 | 1.0927 | 1.0927 | 36500 | 36500 | 1.0927
50340 | Wahkiakum County, Washington | 50 | 1.0217 | 1.0510 | 99950 | 50152 | 1.0364
50350 | Walla Walla County, Washington | 50 | 1.0217 | 1.0510 | 99950 | 50152 | 1.0364
50360 | Whatcom County, Washington | 0860 | 1.1731 | 1.1731 | 13380 | 13380 | 1.1731
50370 | Whitman County, Washington | 50 | 1.0217 | 1.0510 | 99950 | 50152 | 1.0364
50380 | Yakima County, Washington | 9260 | 1.0155 | 1.0155 | 49420 | 49420 | 1.0155
51000 | Barbour County, W Virginia | 51 | 0.7900 | 0.7717 | 99951 | 99951 | 0.7809
51010 | Berkeley County, W Virginia | 8840 | 1.0976 | 0.9489 | 25180 | 50345 | 1.0233
51020 | Boone County, W Virginia | 51 | 0.7900 | 0.8445 | 16620 | 50155 | 0.8173
51030 | Braxton County, W Virginia | 51 | 0.7900 | 0.7717 | 99951 | 99951 | 0.7809
51040 | Brooke County, W Virginia | 8080 | 0.7819 | 0.7819 | 48260 | 48260 | 0.7819
51050 | Cabell County, W Virginia | 3400 | 0.9477 | 0.9477 | 26580 | 26580 | 0.9477
51060 | Calhoun County, W Virginia | 51 | 0.7900 | 0.7717 | 99951 | 99951 | 0.7809
51070 | Clay County, W Virginia | 51 | 0.7900 | 0.8445 | 16620 | 50155 | 0.8173
51080 | Doddridge County, W Virginia | 51 | 0.7900 | 0.7717 | 99951 | 99951 | 0.7809
51090 | Fayette County, W Virginia | 51 | 0.7900 | 0.7717 | 99951 | 99951 | 0.7809
51100 | Gilmer County, W Virginia | 51 | 0.7900 | 0.7717 | 99951 | 99951 | 0.7809
51110 | Grant County, W Virginia | 51 | 0.7900 | 0.7717 | 99951 | 99951 | 0.7809
51120 | Greenbrier County, W Virginia | 51 | 0.7900 | 0.7717 | 99951 | 99951 | 0.7809
51130 | Hampshire County, W Virginia | 51 | 0.7900 | 1.0214 | 49020 | 50158 | 0.9057
51140 | Hancock County, W Virginia | 8080 | 0.7819 | 0.7819 | 48260 | 48260 | 0.7819
51150 | Hardy County, W Virginia | 51 | 0.7900 | 0.7717 | 99951 | 99951 | 0.7809
51160 | Harrison County, W Virginia | 51 | 0.7900 | 0.7717 | 99951 | 99951 | 0.7809
51170 | Jackson County, W Virginia | 51 | 0.7900 | 0.7717 | 99951 | 99951 | 0.7809
51180 | Jefferson County, W Virginia | 8840 | 1.0976 | 1.0926 | 47894 | 47894 | 1.0951
51190 | Kanawha County, W Virginia | 1480 | 0.8445 | 0.8445 | 16620 | 50191 | 0.8445
51200 | Lewis County, W Virginia | 51 | 0.7900 | 0.7717 | 99951 | 99951 | 0.7809
51210 | Lincoln County, W Virginia | 51 | 0.7900 | 0.8445 | 16620 | 50155 | 0.8173
51220 | Logan County, W Virginia | 51 | 0.7900 | 0.7717 | 99951 | 99951 | 0.7809
51230 | Mc Dowell County, W Virginia | 51 | 0.7900 | 0.7717 | 99951 | 99951 | 0.7809
51240 | Marion County, W Virginia | 51 | 0.7900 | 0.7717 | 99951 | 99951 | 0.7809
51250 | Marshall County, W Virginia | 9000 | 0.7161 | 0.7161 | 48540 | 48540 | 0.7161
51260 | Mason County, W Virginia | 51 | 0.7900 | 0.7717 | 99951 | 99951 | 0.7809
51270 | Mercer County, W Virginia | 51 | 0.7900 | 0.7717 | 99951 | 99951 | 0.7809
51280 | Mineral County, W Virginia | 1900 | 0.9317 | 0.9317 | 19060 | 19060 | 0.9317
51290 | Mingo County, W Virginia | 51 | 0.7900 | 0.7717 | 99951 | 99951 | 0.7809
51300 | Monongalia County, W Virginia | 51 | 0.7900 | 0.8420 | 34060 | 34060 | 0.8160
51310 | Monroe County, W Virginia | 51 | 0.7900 | 0.7717 | 99951 | 99951 | 0.7809
51320 | Morgan County, W Virginia | 51 | 0.7900 | 0.9489 | 25180 | 50156 | 0.8695
51330 | Nicholas County, W Virginia | 51 | 0.7900 | 0.7717 | 99951 | 99951 | 0.7809
51340 | Ohio County, W Virginia | 9000 | 0.7161 | 0.7161 | 48540 | 48540 | 0.7161
51350 | Pendleton County, W Virginia | 51 | 0.7900 | 0.7717 | 99951 | 99951 | 0.7809
51360 | Pleasants County, W Virginia | 51 | 0.7900 | 0.8270 | 37620 | 50157 | 0.8085
51370 | Pocahontas County, W Virginia | 51 | 0.7900 | 0.7717 | 99951 | 99951 | 0.7809
51380 | Preston County, W Virginia | 51 | 0.7900 | 0.8420 | 34060 | 34060 | 0.8160
51390 | Putnam County, W Virginia | 1480 | 0.8445 | 0.8445 | 16620 | 50191 | 0.8445
51400 | Raleigh County, W Virginia | 51 | 0.7900 | 0.7717 | 99951 | 99951 | 0.7809
51410 | Randolph County, W Virginia | 51 | 0.7900 | 0.7717 | 99951 | 99951 | 0.7809
51420 | Ritchie County, W Virginia | 51 | 0.7900 | 0.7717 | 99951 | 99951 | 0.7809
51430 | Roane County, W Virginia | 51 | 0.7900 | 0.7717 | 99951 | 99951 | 0.7809
51440 | Summers County, W Virginia | 51 | 0.7900 | 0.7717 | 99951 | 99951 | 0.7809
51450 | Taylor County, W Virginia | 51 | 0.7900 | 0.7717 | 99951 | 99951 | 0.7809
51460 | Tucker County, W Virginia | 51 | 0.7900 | 0.7717 | 99951 | 99951 | 0.7809
51470 | Tyler County, W Virginia | 51 | 0.7900 | 0.7717 | 99951 | 99951 | 0.7809
51480 | Upshur County, W Virginia | 51 | 0.7900 | 0.7717 | 99951 | 99951 | 0.7809
51490 | Wayne County, W Virginia | 3400 | 0.9477 | 0.9477 | 26580 | 26580 | 0.9477
51500 | Webster County, W Virginia | 51 | 0.7900 | 0.7717 | 99951 | 99951 | 0.7809
51510 | Wetzel County, W Virginia | 51 | 0.7900 | 0.7717 | 99951 | 99951 | 0.7809
51520 | Wirt County, W Virginia | 51 | 0.7900 | 0.8270 | 37620 | 50157 | 0.8085
51530 | Wood County, W Virginia | 6020 | 0.8270 | 0.8270 | 37620 | 50297 | 0.8270
51540 | Wyoming County, W Virginia | 51 | 0.7900 | 0.7717 | 99951 | 99951 | 0.7809
52000 | Adams County, Wisconsin | 52 | 0.9478 | 0.9509 | 99952 | 99952 | 0.9494
52010 | Ashland County, Wisconsin | 52 | 0.9478 | 0.9509 | 99952 | 99952 | 0.9494
52020 | Barron County, Wisconsin | 52 | 0.9478 | 0.9509 | 99952 | 99952 | 0.9494
52030 | Bayfield County, Wisconsin | 52 | 0.9478 | 0.9509 | 99952 | 99952 | 0.9494
52040 | Brown County, Wisconsin | 3080 | 0.9483 | 0.9483 | 24580 | 50233 | 0.9483
52050 | Buffalo County, Wisconsin | 52 | 0.9478 | 0.9509 | 99952 | 99952 | 0.9494
52060 | Burnett County, Wisconsin | 52 | 0.9478 | 0.9509 | 99952 | 99952 | 0.9494
52070 | Calumet County, Wisconsin | 0460 | 0.9239 | 0.9288 | 11540 | 11540 | 0.9264
52080 | Chippewa County, Wisconsin | 2290 | 0.9201 | 0.9201 | 20740 | 20740 | 0.9201
52090 | Clark County, Wisconsin | 52 | 0.9478 | 0.9509 | 99952 | 99952 | 0.9494
52100 | Columbia County, Wisconsin | 52 | 0.9478 | 1.0659 | 31540 | 50160 | 1.0069
52110 | Crawford County, Wisconsin | 52 | 0.9478 | 0.9509 | 99952 | 99952 | 0.9494
52120 | Dane County, Wisconsin | 4720 | 1.0754 | 1.0659 | 31540 | 50274 | 1.0707
52130 | Dodge County, Wisconsin | 52 | 0.9478 | 0.9509 | 99952 | 99952 | 0.9494
52140 | Door County, Wisconsin | 52 | 0.9478 | 0.9509 | 99952 | 99952 | 0.9494
52150 | Douglas County, Wisconsin | 2240 | 1.0213 | 1.0213 | 20260 | 50216 | 1.0213
52160 | Dunn County, Wisconsin | 52 | 0.9478 | 0.9509 | 99952 | 99952 | 0.9494
52170 | Eau Claire County, Wisconsin | 2290 | 0.9201 | 0.9201 | 20740 | 20740 | 0.9201
52180 | Florence County, Wisconsin | 52 | 0.9478 | 0.9509 | 99952 | 99952 | 0.9494
52190 | Fond Du Lac County, Wisconsin | 52 | 0.9478 | 0.9640 | 22540 | 22540 | 0.9559
52200 | Forest County, Wisconsin | 52 | 0.9478 | 0.9509 | 99952 | 99952 | 0.9494
52210 | Grant County, Wisconsin | 52 | 0.9478 | 0.9509 | 99952 | 99952 | 0.9494
52220 | Green County, Wisconsin | 52 | 0.9478 | 0.9509 | 99952 | 99952 | 0.9494
52230 | Green Lake County, Wisconsin | 52 | 0.9478 | 0.9509 | 99952 | 99952 | 0.9494
52240 | Iowa County, Wisconsin | 52 | 0.9478 | 1.0659 | 31540 | 50160 | 1.0069
52250 | Iron County, Wisconsin | 52 | 0.9478 | 0.9509 | 99952 | 99952 | 0.9494
52260 | Jackson County, Wisconsin | 52 | 0.9478 | 0.9509 | 99952 | 99952 | 0.9494
52270 | Jefferson County, Wisconsin | 52 | 0.9478 | 0.9509 | 99952 | 99952 | 0.9494
52280 | Juneau County, Wisconsin | 52 | 0.9478 | 0.9509 | 99952 | 99952 | 0.9494
52290 | Kenosha County, Wisconsin | 3800 | 0.9760 | 1.0429 | 29404 | 50253 | 1.0095
52300 | Kewaunee County, Wisconsin | 52 | 0.9478 | 0.9483 | 24580 | 50159 | 0.9481
52310 | La Crosse County, Wisconsin | 3870 | 0.9564 | 0.9564 | 29100 | 29100 | 0.9564
52320 | Lafayette County, Wisconsin | 52 | 0.9478 | 0.9509 | 99952 | 99952 | 0.9494
52330 | Langlade County, Wisconsin | 52 | 0.9478 | 0.9509 | 99952 | 99952 | 0.9494
52340 | Lincoln County, Wisconsin | 52 | 0.9478 | 0.9509 | 99952 | 99952 | 0.9494
52350 | Manitowoc County, Wisconsin | 52 | 0.9478 | 0.9509 | 99952 | 99952 | 0.9494
52360 | Marathon County, Wisconsin | 8940 | 0.9590 | 0.9590 | 48140 | 48140 | 0.9590
52370 | Marinette County, Wisconsin | 52 | 0.9478 | 0.9509 | 99952 | 99952 | 0.9494
52380 | Marquette County, Wisconsin | 52 | 0.9478 | 0.9509 | 99952 | 99952 | 0.9494
52381 | Menominee County, Wisconsin | 52 | 0.9478 | 0.9509 | 99952 | 99952 | 0.9494
52390 | Milwaukee County, Wisconsin | 5080 | 1.0146 | 1.0146 | 33340 | 33340 | 1.0146
52400 | Monroe County, Wisconsin | 52 | 0.9478 | 0.9509 | 99952 | 99952 | 0.9494
52410 | Oconto County, Wisconsin | 52 | 0.9478 | 0.9483 | 24580 | 50159 | 0.9481
52420 | Oneida County, Wisconsin | 52 | 0.9478 | 0.9509 | 99952 | 99952 | 0.9494
52430 | Outagamie County, Wisconsin | 0460 | 0.9239 | 0.9288 | 11540 | 11540 | 0.9264
52440 | Ozaukee County, Wisconsin | 5080 | 1.0146 | 1.0146 | 33340 | 33340 | 1.0146
52450 | Pepin County, Wisconsin | 52 | 0.9478 | 0.9509 | 99952 | 99952 | 0.9494
52460 | Pierce County, Wisconsin | 5120 | 1.1075 | 1.1075 | 33460 | 33460 | 1.1075
52470 | Polk County, Wisconsin | 52 | 0.9478 | 0.9509 | 99952 | 99952 | 0.9494
52480 | Portage County, Wisconsin | 52 | 0.9478 | 0.9509 | 99952 | 99952 | 0.9494
52490 | Price County, Wisconsin | 52 | 0.9478 | 0.9509 | 99952 | 99952 | 0.9494
52500 | Racine County, Wisconsin | 6600 | 0.8997 | 0.8997 | 39540 | 39540 | 0.8997
52510 | Richland County, Wisconsin | 52 | 0.9478 | 0.9509 | 99952 | 99952 | 0.9494
52520 | Rock County, Wisconsin | 3620 | 0.9538 | 0.9538 | 27500 | 27500 | 0.9538
52530 | Rusk County, Wisconsin | 52 | 0.9478 | 0.9509 | 99952 | 99952 | 0.9494
52540 | St Croix County, Wisconsin | 5120 | 1.1075 | 1.1075 | 33460 | 33460 | 1.1075
52550 | Sauk County, Wisconsin | 52 | 0.9478 | 0.9509 | 99952 | 99952 | 0.9494
52560 | Sawyer County, Wisconsin | 52 | 0.9478 | 0.9509 | 99952 | 99952 | 0.9494
52570 | Shawano County, Wisconsin | 52 | 0.9478 | 0.9509 | 99952 | 99952 | 0.9494
52580 | Sheboygan County, Wisconsin | 7620 | 0.8911 | 0.8911 | 43100 | 43100 | 0.8911
52590 | Taylor County, Wisconsin | 52 | 0.9478 | 0.9509 | 99952 | 99952 | 0.9494
52600 | Trempealeau County, Wisconsin | 52 | 0.9478 | 0.9509 | 99952 | 99952 | 0.9494
52610 | Vernon County, Wisconsin | 52 | 0.9478 | 0.9509 | 99952 | 99952 | 0.9494
52620 | Vilas County, Wisconsin | 52 | 0.9478 | 0.9509 | 99952 | 99952 | 0.9494
52630 | Walworth County, Wisconsin | 52 | 0.9478 | 0.9509 | 99952 | 99952 | 0.9494
52640 | Washburn County, Wisconsin | 52 | 0.9478 | 0.9509 | 99952 | 99952 | 0.9494
52650 | Washington County, Wisconsin | 5080 | 1.0146 | 1.0146 | 33340 | 33340 | 1.0146
52660 | Waukesha County, Wisconsin | 5080 | 1.0146 | 1.0146 | 33340 | 33340 | 1.0146
52670 | Waupaca County, Wisconsin | 52 | 0.9478 | 0.9509 | 99952 | 99952 | 0.9494
52680 | Waushara County, Wisconsin | 52 | 0.9478 | 0.9509 | 99952 | 99952 | 0.9494
52690 | Winnebago County, Wisconsin | 0460 | 0.9239 | 0.9183 | 36780 | 36780 | 0.9211
52700 | Wood County, Wisconsin | 52 | 0.9478 | 0.9509 | 99952 | 99952 | 0.9494
53000 | Albany County, Wyoming | 53 | 0.9257 | 0.9257 | 99953 | 99953 | 0.9257
53010 | Big Horn County, Wyoming | 53 | 0.9257 | 0.9257 | 99953 | 99953 | 0.9257
53020 | Campbell County, Wyoming | 53 | 0.9257 | 0.9257 | 99953 | 99953 | 0.9257
53030 | Carbon County, Wyoming | 53 | 0.9257 | 0.9257 | 99953 | 99953 | 0.9257
53040 | Converse County, Wyoming | 53 | 0.9257 | 0.9257 | 99953 | 99953 | 0.9257
53050 | Crook County, Wyoming | 53 | 0.9257 | 0.9257 | 99953 | 99953 | 0.9257
53060 | Fremont County, Wyoming | 53 | 0.9257 | 0.9257 | 99953 | 99953 | 0.9257
53070 | Goshen County, Wyoming | 53 | 0.9257 | 0.9257 | 99953 | 99953 | 0.9257
53080 | Hot Springs County, Wyoming | 53 | 0.9257 | 0.9257 | 99953 | 99953 | 0.9257
53090 | Johnson County, Wyoming | 53 | 0.9257 | 0.9257 | 99953 | 99953 | 0.9257
53100 | Laramie County, Wyoming | 1580 | 0.8775 | 0.8775 | 16940 | 16940 | 0.8775
53110 | Lincoln County, Wyoming | 53 | 0.9257 | 0.9257 | 99953 | 99953 | 0.9257
53120 | Natrona County, Wyoming | 1350 | 0.9026 | 0.9026 | 16220 | 16220 | 0.9026
53130 | Niobrara County, Wyoming | 53 | 0.9257 | 0.9257 | 99953 | 99953 | 0.9257
53140 | Park County, Wyoming | 53 | 0.9257 | 0.9257 | 99953 | 99953 | 0.9257
53150 | Platte County, Wyoming | 53 | 0.9257 | 0.9257 | 99953 | 99953 | 0.9257
53160 | Sheridan County, Wyoming | 53 | 0.9257 | 0.9257 | 99953 | 99953 | 0.9257
53170 | Sublette County, Wyoming | 53 | 0.9257 | 0.9257 | 99953 | 99953 | 0.9257
53180 | Sweetwater County, Wyoming | 53 | 0.9257 | 0.9257 | 99953 | 99953 | 0.9257
53190 | Teton County, Wyoming | 53 | 0.9257 | 0.9257 | 99953 | 99953 | 0.9257
53200 | Uinta County, Wyoming | 53 | 0.9257 | 0.9257 | 99953 | 99953 | 0.9257
53210 | Washakie County, Wyoming | 53 | 0.9257 | 0.9257 | 99953 | 99953 | 0.9257
53220 | Weston County, Wyoming | 53 | 0.9257 | 0.9257 | 99953 | 99953 | 0.9257
65010 | Agana County, Guam | 65 | 0.9611 | 0.9611 | 99965 | 99965 | 0.9611
65020 | Agana Heights County, Guam | 65 | 0.9611 | 0.9611 | 99965 | 99965 | 0.9611
65030 | Agat County, Guam | 65 | 0.9611 | 0.9611 | 99965 | 99965 | 0.9611
65040 | Asan County, Guam | 65 | 0.9611 | 0.9611 | 99965 | 99965 | 0.9611
65050 | Barrigada County, Guam | 65 | 0.9611 | 0.9611 | 99965 | 99965 | 0.9611
65060 | Chalan Pago County, Guam | 65 | 0.9611 | 0.9611 | 99965 | 99965 | 0.9611
65070 | Dededo County, Guam | 65 | 0.9611 | 0.9611 | 99965 | 99965 | 0.9611
65080 | Inarajan County, Guam | 65 | 0.9611 | 0.9611 | 99965 | 99965 | 0.9611
65090 | Maite County, Guam | 65 | 0.9611 | 0.9611 | 99965 | 99965 | 0.9611
65100 | Mangilao County, Guam | 65 | 0.9611 | 0.9611 | 99965 | 99965 | 0.9611
65110 | Merizo County, Guam | 65 | 0.9611 | 0.9611 | 99965 | 99965 | 0.9611
65120 | Mongmong County, Guam | 65 | 0.9611 | 0.9611 | 99965 | 99965 | 0.9611
65130 | Ordot County, Guam | 65 | 0.9611 | 0.9611 | 99965 | 99965 | 0.9611
65140 | Piti County, Guam | 65 | 0.9611 | 0.9611 | 99965 | 99965 | 0.9611
65150 | Santa Rita County, Guam | 65 | 0.9611 | 0.9611 | 99965 | 99965 | 0.9611
65160 | Sinajana County, Guam | 65 | 0.9611 | 0.9611 | 99965 | 99965 | 0.9611
65170 | Talofofo County, Guam | 65 | 0.9611 | 0.9611 | 99965 | 99965 | 0.9611
65180 | Tamuning County, Guam | 65 | 0.9611 | 0.9611 | 99965 | 99965 | 0.9611
65190 | Toto County, Guam | 65 | 0.9611 | 0.9611 | 99965 | 99965 | 0.9611
65200 | Umatac County, Guam | 65 | 0.9611 | 0.9611 | 99965 | 99965 | 0.9611
65210 | Yigo County, Guam | 65 | 0.9611 | 0.9611 | 99965 | 99965 | 0.9611
65220 | Yona County, Guam | 65 | 0.9611 | 0.9611 | 99965 | 99965 | 0.9611

Addendum B.—CY 2005 HH PPS Wage Index For Rural Areas By CBSA
CBSA code No. | Nonurban area | Transition wage index
01 | Alabama* | ******
02 | Alaska | 1.1933
03 | Arizona* | ******
04 | Arkansas | 0.7605
05 | California | 1.0915
06 | Colorado | 0.9380
07 | Connecticut | 1.1730
08 | Delaware | 0.9579
10 | Florida* | ******
11 | Georgia* | ******
12 | Hawaii | 1.0551
13 | Idaho | 0.8567
14 | Illinois* | ******
15 | Indiana* | ******
16 | Iowa | 0.8552
17 | Kansas | 0.8038
18 | Kentucky* | *****
19 | Louisiana* | *****
20 | Maine | 0.8843
21 | Maryland | 0.9292
22 | Massachusetts² | 1.0216
23 | Michigan* | *****
24 | Minnesota | 0.9132
25 | Mississippi | 0.7654
26 | Missouri | 0.7930
27 | Montana | 0.8762
28 | Nebraska | 0.8657
29 | Nevada* | *****
30 | New Hampshire | 1.0817
31 | New Jersey¹ |
32 | New Mexico* | *****
33 | New York* | *****
34 | North Carolina* | *****
35 | North Dakota | 0.7261
36 | Ohio* | *****
37 | Oklahoma* | *****
38 | Oregon | 0.9939
39 | Pennsylvania* | *****
40 | Puerto Rico² | 0.3826
41 | Rhode Island¹ |
42 | South Carolina* | *****
43 | South Dakota | 0.8556
44 | Tennessee* | *****
45 | Texas* | *****
46 | Utah* | *****
47 | Vermont | 0.9830
48 | Virgin Islands | 0.7615
49 | Virginia* | *****
50 | Washington* | *****
51 | West Virginia | 0.7809
52 | Wisconsin | 0.9494
53 | Wyoming | 0.9257
65 | Guam | 0.9611
* Denotes that there is more than one wage index value for nonurban areas within the State. Specific codes to be used for processing claims and the applicable wage index values for these nonurban areas can be found in Addendum A. Addendum A lists the wage index by State County code.
¹ All counties within the State are classified as urban.
² Massachusetts and Puerto Rico have areas designated as rural; however, no short-term, acute care hospitals are located in the area(s) for FY 2006. Because more recent data are not available, we are using last year's wage index values.

Addendum C.—CY 2006 HH PPS Wage Index for Urban Areas By CBSA
CBSA code | Transition wage index | Urban area (constituent counties or county equivalents) | MSA code
10180 |  | Abilene, TX
| 0.7914 | Callahan, Texas* | 45
|  | Jones, Texas* | 45
| 0.7975 | Taylor, Texas* | 0040
10380 |  | Aguadilla-Isabela-San Sebastían, PR
| 0.4807 | Aguada, PR* | 0060
|  | Aguadilla, PR* | 0060
|  | Moca, PR* | 0060
| 0.4171 | Isabela, PR* | 40
|  | Lares, PR* | 40
|  | Rinćon, PR* | 40
|  | San Sebastían, PR* | 40
| 0.4491 | Anasco, PR* | 4840
10420 | 0.8982 | Akron, OH
|  | Portage, OH | 0080
|  | Summit, OH
10500 |  | Albany, GA
| 0.8628 | Dougherty, GA* | 0120
|  | Lee, GA* | 0120
| 0.8397 | Baker, GA* | 11
|  | Terrell, GA* | 11
|  | Worth, GA* | 11
10580 | 0.8574 | Albany-Schenectady-Troy, NY | 0160
|  | Albany, NY
|  | Rensselaer, NY
|  | Saratoga, NY
|  | Schenectady, NY
|  | Schoharie, NY
10740 |  | Albuquerque, NM
| 0.9684 | Bernalillo, NM* | 0200
|  | Sandoval, NM* | 0200
|  | Valencia, NM* | 0200
| 0.9124 | Torrance, NM* | 32
10780 |  | Alexandria, LA
| 0.8033 | Rapides, LA* | 0220
| 0.7687 | Grant, LA* | 19
10900 |  | Allentown-Bethlehem-Easton, PA-NJ
| 0.9832 | Carbon, PA* | 0240
|  | Lehigh, PA* | 0240
|  | Northampton, PA* | 0240
| 1.0826 | Warren, NJ* | 5640
11020 | 0.8944 | Altoona, PA | 0280
|  | Blair, PA
11100 |  | Amarillo, TX
| 0.9156 | Potter, TX* | 0320
|  | Randall, TX* | 0320
| 0.8544 | Armstrong, TX* | 45
|  | Carson, TX* | 45
11180 | 0.9065 | Ames, IA | 16
|  | Story, IA
11260 |  | Anchorage, AK
| 1.1840 | Anchorage, AK* | 0380
| 1.1892 | Matanuska-Susitna, AK* | 02
11300 | 0.9226 | Anderson, IN | 3480
|  | Madison, IN
11340 | 0.9306 | Anderson, SC | 3160
|  | Anderson, SC
11460 | 1.0783 | Ann Arbor, MI | 0440
|  | Washtenaw, MI
11500 | 0.7682 | Anniston-Oxford, AL | 0450
|  | Calhoun, AL
11540 | 0.9264 | Appleton, WI | 0460
|  | Calumet, WI
|  | Outagamie, WI
11700 |  | Asheville, NC
| 0.9511 | Buncombe, NC* | 0480
|  | Madison, NC* | 0480
| 0.8874 | Haywood, NC* | 34
|  | Henderson, NC* | 34
12020 |  | Athens-Clarke County, GA
| 0.9855 | Clarke, GA* | 0500
|  | Madison, GA* | 0500
|  | Oconee, GA* | 0500
| 0.9011 | Oglethorpe, GA* | 11
12060 |  | Atlanta-Sandy Springs-Marietta, GA
| 0.9793 | Barrow, GA* | 0520
|  | Bartow, GA* | 0520
|  | Carroll, GA* | 0520
|  | Cherokee, GA* | 0520
|  | Clayton,GA* | 0520
|  | Cobb, GA* | 0520
|  | Coweta, GA* | 0520
|  | De Kalb, GA* | 0520
|  | Douglas, GA* | 0520
|  | Fayette, GA* | 0520
|  | Forsyth, GA* | 0520
|  | Fulton, GA* | 0520
|  | Gwinnett, GA* | 0520
|  | Henry, GA* | 0520
|  | Newton, GA* | 0520
|  | Paulding, GA* | 0520
|  | Pickens, GA* | 0520
|  | Rockdale, GA* | 0520
|  | Spalding, GA* | 0520
|  | Walton, GA* | 0520
| 0.8980 | Butts, GA* | 11
|  | Dawson, GA* | 11
|  | Haralson, GA* | 11
|  | Heard, GA* | 11
|  | Jasper, GA* | 11
|  | Lamar, GA* | 11
|  | Meriwether, GA* | 11
|  | Pike, GA* | 11
12100 | 1.1556 | Atlantic City, NJ | 0560
|  | Atlantic, NJ
12220 | 0.8100 | Auburn-Opelika, AL | 0580
|  | Lee, AL
12260 |  | Augusta-Richmond County, GA-SC
| 0.9778 | Aiken, SC* | 0600
|  | Columbia, GA* | 0600
|  | Edgefield, SC* | 0600
|  | McDuffie, GA* | 0600
|  | Richmond, GA* | 0600
| 0.8957 | Burke, GA* | 11
12420 | 0.9437 | Austin-Round Rock, TX | 0640
|  | Bastrop, TX
|  | Caldwell, TX
|  | Hays, TX
|  | Travis, TX
|  | Williamson, TX
12540 | 1.0470 | Bakersfield, CA | 0680
|  | Kern, CA
12580 | 0.9897 | Baltimore-Towson, MD | 0720
|  | Anne Arundel, MD
|  | Baltimore, MD
|  | Baltimore City, MD
|  | Carroll, MD
|  | Harford, MD
|  | Howard, MD
|  | Queen Anne's, MD
12620 | 0.9993 | Bangor, ME | 0733
|  | Penobscot, ME
12700 | 1.2600 | Barnstable Town, MA | 0743
|  | Barnstable, MA
12940 |  | Baton Rouge, LA
| 0.8618 | Ascension, LA* | 0760
|  | East Baton Rouge Parish, LA* | 0760
|  | Livingston, LA* | 0760
|  | West Baton Rouge Parish, LA* | 0760
| 0.7967 | East Feliciana, LA* | 19
|  | Iberville, LA* | 19
|  | Pointe Coupee, LA* | 19
|  | St. Helena, LA* | 19
|  | West Feliciana, LA* | 19
12980 | 0.9826 | Battle Creek, MI | 3720
|  | Calhoun, MI
13020 | 0.9292 | Bay City, MI | 6960
|  | Bay, MI
13140 | 0.8412 | Beaumont-Port Arthur, TX | 0840
|  | Hardin, TX
|  | Jefferson, TX
|  | Orange, TX
13380 | 1.1731 | Bellingham, WA | 0860
|  | Whatcom, WA
13460 | 1.0419 | Bend, OR | 38
|  | Deschutes, OR
13644 | 1.1230 | Bethesda-Gaithersburg-Frederick, MD | 8840
|  | Frederick, MD
|  | Montgomery, MD
13740 |  | Billings, MT
| 0.8798 | Carbon, MT* | 27
| 0.8834 | Yellowstone, MT* | 0880
13780 | 0.8562 | Binghamton, NY | 0960
|  | Broome, NY
|  | Tioga, NY
13820 |  | Birmingham-Hoover, AL
| 0.8980 | Blount, AL* | 1000
|  | Jefferson, AL* | 1000
|  | Shelby, AL* | 1000
|  | St. Clair, AL* | 1000
| 0.8196 | Bibb, AL* | 01
|  | Chilton, AL* | 01
|  | Walker, AL* | 01
13900 | 0.7574 | Bismarck, ND | 1010
|  | Burleigh, ND
|  | Morton, ND
13980 | 0.8186 | Blacksburg-Christiansburg-Radford, VA | 49
|  | Giles, VA
|  | Montgomery, VA
|  | Pulaski, VA
|  | Radford City, VA
14020 |  | Bloomington, IN
| 0.8593 | Greene, IN* | 15
|  | Owen, IN* | 15
| 0.8447 | Monroe, IN* | 1020
14060 | 0.9075 | Bloomington-Normal, IL | 1040
|  | McLean, IL
14260 |  | Boise City-Nampa, ID
| 0.9052 | Ada, ID* | 1080
|  | Canyon, ID* | 1080
| 0.9075 | Boise, ID* | 13
|  | Gem, ID* | 13
|  | Owyhee, ID* | 13
14484 | 1.1368 | Boston-Quincy, MA | 1123
|  | Norfolk, MA
|  | Plymouth, MA
|  | Suffolk, MA
14500 | 0.9734 | Boulder, CO | 1125
|  | Boulder, CO
14540 | 0.8035 | Bowling Green, KY | 18
|  | Edmonson, KY
|  | Warren, KY
14740 | 1.0675 | Bremerton-Silverdale, WA | 1150
|  | Kitsap, WA
14860 | 1.2394 | Bridgeport-Stamford-Norwalk, CT | 5483
|  | Fairfield, CT
15180 | 0.9804 | Brownsville-Harlingen, TX | 1240
|  | Cameron, TX
15260 | 0.8739 | Brunswick, GA | 11
|  | Brantley, GA
|  | Glynn, GA
|  | McIntosh, GA
15380 | 0.9511 | Buffalo-Niagara Falls, NY | 1280
|  | Erie, NY
|  | Niagara, NY
15500 | 0.8962 | Burlington, NC | 3120
|  | Alamance, NC
15540 | 0.9410 | Burlington-South Burlington, VT | 1303
|  | Chittenden, VT
|  | Franklin, VT
|  | Grand Isle, VT
15764 | 1.1175 | Cambridge-Newton-Framingham, MA | 1123
|  | Middlesex, MA
15804 | 1.0720 | Camden, NJ | 6160
|  | Burlington, NJ
|  | Camden, NJ
|  | Gloucester, NJ
15940 | 0.8935 | Canton-Massillon, OH | 1320
|  | Carroll, OH
|  | Stark, OH
15980 | 0.9356 | Cape Coral-Fort Myers, FL | 2700
|  | Lee, FL
16180 | 0.9961 | Carson City, NV | 29
|  | Carson City, NV
16220 | 0.9026 | Casper, WY | 1350
|  | Natrona, WY
16300 |  | Cedar Rapids, IA
| 0.8825 | Linn, IA* | 1360
| 0.8710 | Benton, IA* | 16
|  | Jones, IA* | 16
16580 |  | Champaign-Urbana, IL
| 0.9594 | Champaign, IL* | 1400
| 0.8948 | Ford, IL* | 14
|  | Piatt, IL* | 14
16620 |  | Charleston, WV
| 0.8445 | Kanawha, WV* | 1480
|  | Putnam, WV* | 1480
| 0.8173 | Boone, WV* | 51
|  | Clay, WV* | 51
|  | Lincoln, WV* | 51
16700 | 0.9245 | Charleston-North Charleston, SC | 1440
|  | Berkeley, SC
|  | Charleston, SC
|  | Dorchester, SC
16740 |  | Charlotte-Gastonia-Concord, NC-SC
| 0.9733 | Cabarrus, NC* | 1520
|  | Gaston, NC* | 1520
|  | Mecklenburg, NC* | 1520
|  | Union, NC* | 1520
|  | York, SC* | 1520
| 0.9106 | Anson, NC* | 34
16820 |  | Charlottesville, VA
| 1.0187 | Albemarle, VA* | 1540
|  | Charlottesville City, VA* | 1540
|  | Fluvanna, VA* | 1540
|  | Greene, VA* | 1540
| 0.9302 | Nelson, VA* | 49
16860 |  | Chattanooga, TN-GA
| 0.9088 | Catoosa, GA* | 1560
|  | Dade, GA* | 1560
|  | Hamilton, TN* | 1560
|  | Marion, TN* | 1560
|  | Walker, GA* | 1560
| 0.8512 | Sequatchie, TN* | 44
16940 | 0.8775 | Cheyenne, WY | 1580
|  | Laramie, WY
16974 | 1.0787 | Chicago-Naperville-Joliet, IL | 1600
|  | Cook, IL
|  | De Kalb, IL
|  | Du Page, IL
|  | Grundy, IL
|  | Kane, IL
|  | Kendall, IL
|  | McHenry, IL
|  | Will, IL
17020 | 1.0511 | Chico, CA | 1620
|  | Butte, CA
17140 |  | Cincinnati-Middletown, OH-KY-IN
| 0.9675 | Boone, KY* | 1640
|  | Brown, OH* | 1640
|  | Campbell, KY* | 1640
|  | Clermont, OH* | 1640
|  | Dearborn, IN* | 1640
|  | Gallatin, KY* | 1640
|  | Grant, KY* | 1640
|  | Hamilton, OH* | 1640
|  | Kenton, KY* | 1640
|  | Ohio, IN* | 1640
|  | Pendleton, KY* | 1640
|  | Warren, OH* | 1640
| 0.9177 | Franklin, IN* | 15
| 0.8737 | Bracken, KY* | 18
| 0.9283 | Butler, OH* | 3200
17300 |  | Clarksville, TN-KY
| 0.8284 | Christian, KY* | 1660
|  | Montgomery, TN* | 1660
| 0.8110 | Stewart, TN* | 44
| 0.8071 | Trigg, KY* | 18
17420 | 0.8037 | Cleveland, TN | 44
|  | Bradley, TN
|  | Polk, TN
17460 | 0.9198 | Cleveland-Elyria-Mentor, OH | 1680
|  | Cuyahoga, OH
|  | Geauga, OH
|  | Lake, OH
|  | Lorain, OH
|  | Medina, OH
17660 | 0.9372 | Coeur d'Alene, ID | 13
|  | Kootenai, ID
17780 |  | College Station-Bryan, TX
| 0.8900 | Brazos, TX* | 1260
| 0.8416 | Burleson, TX* | 45
|  | Robertson, TX* | 45
17820 |  | Colorado Springs, CO
| 0.9468 | El Paso, CO* | 1720
| 0.9424 | Teller, CO* | 06
17860 |  | Columbia, MO
| 0.8345 | Boone, MO* | 1740
| 0.8152 | Howard, MO* | 26
17900 |  | Columbia, SC
| 0.9070 | Lexington, SC* | 1760
|  | Richland, SC* | 1760
| 0.8844 | Calhoun, SC* | 42
|  | Fairfield, SC* | 42
|  | Kershaw, SC* | 42
|  | Saluda, SC* | 42
17980 |  | Columbus, GA-AL
| 0.8560 | Chattahoochee, GA* | 1800
|  | Harris, GA* | 1800
|  | Muscogee, GA* | 1800
|  | Russell, AL | 1800
| 0.8363 | Marion, GA* | 11
18020 | 0.9164 | Columbus, IN | 15
|  | Bartholomew, IN
18140 |  | Columbus, OH
| 0.9867 | Delaware, OH* | 1840
|  | Fairfield, OH* | 1840
|  | Franklin, OH* | 1840
|  | Licking, OH* | 1840
|  | Madison, OH* | 1840
|  | Pickaway, OH* | 1840
| 0.9391 | Morrow, OH* | 36
|  | Union, OH* | 36
18580 |  | Corpus Christi, TX
| 0.8550 | Nueces, TX* | 1880
|  | San Patricio, TX* | 1880
| 0.8241 | Aransas, TX* | 45
18700 | 1.0729 | Corvallis, OR | 1890
|  | Benton, OR
19060 | 0.9317 | Cumberland, MD-WV | 1900
|  | Allegany, MD
|  | Mineral, WV
19124 |  | Dallas-Plano-Irving, TX
| 1.0217 | Collin, TX*
|  | Dallas, TX* | 1920
|  | Denton, TX* | 1920
|  | Ellis, TX* | 1920
|  | Hunt, TX* | 1920
|  | Kaufman, TX* | 1920
|  | Rockwall, TX* | 1920
| 0.9080 | Delta, TX* | 45
19140 | 0.8623 | Dalton, GA | 11
|  | Murray, GA
|  | Whitfield, GA
19180 | 0.8665 | Danville, IL | 14
|  | Vermilion, IL
19260 | 0.8489 | Danville, VA | 1950
|  | Danville City, VA
|  | Pittsylvania, VA
19340 |  | Davenport-Moline-Rock Island, IA-IL
| 0.8724 | Henry, IL* | 1960
|  | Rock Island, IL* | 1960
|  | Scott, IA* | 1960
| 0.8513 | Mercer, IL* | 14
19380 |  | Dayton, OH
| 0.9022 | Greene, OH* | 2000
|  | Miami, OH* | 2000
|  | Montgomery, OH* | 2000
| 0.8993 | Preble, OH* | 36
19460 | 0.8469 | Decatur, AL | 2030
|  | Lawrence, AL
|  | Morgan, AL
19500 | 0.8067 | Decatur, IL | 2040
|  | Macon, IL
19660 | 0.9312 | Deltona-Daytona Beach-Ormond Beach, FL | 2020
|  | Volusia, FL
19740 |  | Denver-Aurora, CO
| 1.0723 | Adams, CO* | 2080
|  | Arapahoe, CO* | 2080
|  | Broomfield, CO* | 2080
|  | Denver, CO* | 2080
|  | Douglas, CO* | 2080
|  | Jefferson, CO* | 2080
| 1.0052 | Clear Creek, CO* | 06
|  | Elbert, CO* | 06
|  | Gilpin, CO* | 06
|  | Park, CO* | 06
19780 |  | Des Moines, IA*
| 0.9669 | Dallas, IA* | 2120
|  | Polk, IA* | 2120
|  | Warren, IA* | 2120
| 0.9132 | Guthrie, IA* | 16
|  | Madison, IA* | 16
19804 | 1.0286 | Detroit-Livonia-Dearborn, MI | 2160
|  | Wayne, MI
20020 |  | Dothan, AL
| 0.7577 | Geneva, AL* | 01
|  | Henry, AL* | 01
| 0.7711 | Houston, AL* | 2180
20100 | 0.9776 | Dover, DE | 2190
|  | Kent, DE
20220 | 0.9024 | Dubuque, IA | 2200
|  | Dubuque, IA
20260 |  | Duluth, MN-WI
| 1.0213 | Douglas, WI* | 2240
|  | St. Louis, MN* | 2240
| 0.9673 | Carlton, MN* | 24
20500 |  | Durham, NC
| 1.0139 | Chatham, NC* | 6640
|  | Durham, NC* | 6640
|  | Orange, NC* | 6640
| 0.9353 | Person, NC* | 34
20740 | 0.9201 | Eau Claire, WI | 2290
|  | Chippewa, WI
|  | Eau Claire, WI
20764 |  | Edison, NJ
| 1.1208 | Middlesex, NJ* | 5015
|  | Somerset, NJ* | 5015
| 1.1255 | Monmouth, NJ* | 5190
|  | Ocean, NJ* | 5190
20940 | 0.9841 | El Centro, CA | 05
|  | Imperial, CA
21060 | 0.8330 | Elizabethtown, KY | 18
|  | Hardin, KY
|  | Larue, KY
21140 | 0.9627 | Elkhart-Goshen, IN | 2330
|  | Elkhart, IN
21300 | 0.8250 | Elmira, NY | 2335
|  | Chemung, NY
21340 | 0.8977 | El Paso, TX | 2320
|  | El Paso, TX
21500 | 0.8737 | Erie, PA | 2360
|  | Erie, PA
21604 | 1.0858 | Essex County, MA | 1123
|  | Essex, MA
21660 | 1.0818 | Eugene-Springfield, OR | 2400
|  | Lane, OR
21780 |  | Evansville, IN-KY
| 0.8726 | Gibson, IN* | 15
| 0.8713 | Henderson, KY* | 2440
|  | Posey, IN* | 2440
|  | Vanderburgh, IN* | 2440
|  | Warrick, IN* | 2440
| 0.8286 | Webster, KY* | 18
21820 | 1.1648 | Fairbanks, AK | 02
|  | Fairbanks North Star, AK
21940 | 0.4453 | Fajardo, PR | 7440
|  | Ceiba, PR
|  | Fajardo, PR
|  | Luquillo, PR
22020 | 0.8486 | Fargo, ND-MN | 2520
|  | Cass, ND
|  | Clay, MN
22140 | 0.8536a | Farmington, NM | 32
|  | San Juan, NM
22180 |  | Fayetteville, NC
| 0.9416 | Cumberland, NC* | 2560
| 0.8939 | Hoke, NC* | 34
22220 |  | Fayetteville-Springdale-Rogers, AR-MO
| 0.8661 | Benton, AR* | 2580
|  | Washington, AR* | 2580
| 0.8203 | Madison, AR* | 04
| 0.8310 | McDonald, MO* | 26
22380 | 1.1969 | Flagstaff, AZ | 2620
|  | Coconino, AZ
22420 | 1.0655 | Flint, MI | 2640
|  | Genesee, MI
22500 |  | Florence, SC
| 0.8789 | Darlington, SC* | 42
| 0.8995 | Florence, SC* | 2655
22520 | 0.8272 | Florence-Muscle Shoals, AL | 2650
|  | Colbert, AL
|  | Lauderdale, AL
22540 | 0.9559 | Fond Du Lac, WI | 52
|  | Fond Du Lac, WI
22660 | 1.0122 | Fort Collins-Loveland, CO | 2670
|  | Larimer, CO
22744 | 1.0432 | Ft Lauderdale-Pompano Beach-Deerfield Beach, FL | 2860
|  | Broward, FL
22900 |  | Fort Smith, AR-OK
| 0.8238 | Crawford, AR* | 2720
|  | Sebastian, AR* | 2720
|  | Sequoyah, OK* | 2720
| 0.7987 | Franklin, AR* | 04
| 0.7836 | Le Flore, OK* | 37
23020 | 0.8872 | Fort Walton Beach-Crestview-Destin, FL | 2750
|  | Okaloosa, FL
23060 | 0.9750 | Fort Wayne, IN | 2760
|  | Allen, IN
|  | Wells, IN
|  | Whitley, IN
23104 |  | Fort Worth-Arlington, TX
| 0.9504 | Johnson, TX* | 2800
|  | Parker, TX* | 2800
|  | Tarrant, TX* | 2800
| 0.8709 | Wise, TX* | 45
23420 | 1.0483 | Fresno, CA | 2840
|  | Fresno, CA
23460 | 0.7938 | Gadsden, AL | 2880
|  | Etowah, AL
23540 |  | Gainesville, FL
| 0.9388 | Alachua, FL* | 2900
| 0.9033 | Gilchrist, FL* | 10
23580 | 0.8520 | Gainesville, GA | 11
|  | Hall, GA
23844 |  | Gary, IN
| 0.9395 | Lake, IN* | 2960
|  | Porter, IN* | 2960
| 0.9067 | Jasper, IN* | 15
|  | Newton, IN* | 15
24020 | 0.8559 | Glens Falls, NY | 2975
|  | Warren, NY
|  | Washington, NY
24140 | 0.8775 | Goldsboro, NC | 2980
|  | Wayne, NC
24220 | 0.7901 | Grand Forks, ND-MN | 2985
|  | Grand Forks, ND
|  | Polk, MN
24300 | 0.9550 | Grand Junction, CO | 2995
|  | Mesa, CO
24340 |  | Grand Rapids-Wyoming, MI
| 0.9418 | Kent, MI* | 3000
| 0.9107 | Barry, MI* | 23
|  | Ionia, MI* | 23
|  | Newaygo, MI* | 23
24500 | 0.9052 | Great Falls, MT | 3040
|  | Cascade, MT
24540 | 0.9570 | Greeley, CO | 3060
|  | Weld, CO
24580 |  | Green Bay, WI
| 0.9483 | Brown, WI* | 3080
| 0.9481 | Kewaunee, WI* | 52
|  | Oconto, WI* | 52
24660 |  | Greensboro-High Point, NC
| 0.9061 | Guilford, NC* | 3120
|  | Randolph, NC* | 3120
| 0.8783 | Rockingham, NC* | 34
24780 |  | Greenville, NC
| 0.9425 | Pitt, NC* | 3150
| 0.8944 | Greene, NC* | 34
24860 |  | Greenville, SC
| 0.9821 | Greenville, SC* | 3160
|  | Pickens, SC* | 3160
| 0.9329 | Laurens, SC* | 42
25020 | 0.3393 | Guayama, PR
|  | Arroyo, PR | 40
|  | Guayama, PR
|  | Patillas, PR
25060 |  | Gulfport-Biloxi, MS
| 0.8818 | Hancock, MS* | 0920
|  | Harrison, MS* | 0920
| 0.8282 | Stone, MS* | 25
25180 |  | Hagerstown-Martinsburg, MD-WV
| 0.9679 | Washington, MD* | 3180
| 0.8695 | Morgan, WV* | 51
| 1.0233 | Berkeley, WV* | 8840
25260 | 1.0406 | Hanford-Corcoran, CA
|  | Kings, CA | 05
25420 | 0.9273 | Harrisburg-Carlisle, PA
|  | Cumberland, PA | 3240
|  | Dauphin, PA
|  | Perry, PA
25500 | 0.8753 | Harrisonburg, VA
|  | Harrisonburg City, VA | 49
|  | Rockingham, VA
25540 | 1.1073 | Hartford-West Hartford-East Hartford, CT
|  | Hartford, CT | 3283
|  | Litchfield, CT
|  | Middlesex, CT
|  | Tolland, CT
25620 |  | Hattiesburg, MS
| 0.7601 | Forrest, MS* | 3285
|  | Lamar, MS* | 3285
| 0.7618 | Perry, MS* | 25
25860 | 0.8921 | Hickory-Lenoir-Morganton, NC
|  | Alexander, NC | 3290
|  | Burke, NC
|  | Caldwell, NC
|  | Catawba, NC
25980 | 0.8973 | Hinesville-Fort Stewart, GA
|  | Liberty, GA | 11
|  | Long, GA
26100 | 0.9250 | Holland-Grand Haven, MI
|  | Ottawa, MI | 3000
26180 | 1.1214 | Honolulu, HI
|  | Honolulu, HI | 3320
26300 | 0.8375 | Hot Springs, AR
|  | Garland, AR | 04
26380 | 0.7894 | Houma-Bayou Cane-Thibodaux, LA
|  | Lafourche, LA | 3350
|  | Terrebonne, LA
26420 |  | Houston-Sugar Land-Baytown, TX
| 1.0044 | Chambers, TX* | 3360
|  | Fort Bend, TX* | 3360
|  | Harris, TX* | 3360
|  | Liberty, TX* | 3360
|  | Montgomery, TX* | 3360
|  | Waller, TX* | 3360
| 0.8964 | Austin, TX* | 45
|  | San Jacinto, TX* | 45
| 0.9280 | Brazoria, TX* | 1145
| 0.9816 | Galveston, TX* | 2920
26580 | 0.9477 | Huntington-Ashland, WV-KY-OH
|  | Boyd, KY | 3400
|  | Cabell, WV
|  | Greenup, KY
|  | Lawrence, OH
|  | Wayne, WV
26620 | 0.9146 | Huntsville, AL
|  | Limestone, AL | 3440
|  | Madison, AL
26820 | 0.9259 | Idaho Falls, ID
|  | Bonneville, ID | 13
|  | Jefferson, ID
26900 |  | Indianapolis, IN
| 0.9893 | Boone, IN* | 3480
|  | Hamilton, IN* | 3480
|  | Hancock, IN* | 3480
|  | Hendricks, IN* | 3480
|  | Johnson, IN* | 3480
|  | Marion, IN* | 3480
|  | Morgan, IN* | 3480
|  | Shelby, IN* | 3480
| 0.9330 | Brown, IN* | 15
|  | Putnam, IN* | 15
26980 |  | Iowa City, IA
| 0.9747 | Johnson, IA* | 3500
| 0.9171 | Washington, IA* | 16
27060 | 0.9094 | Ithaca, NY
|  | Tompkins, NY | 33
27100 | 0.9304 | Jackson, MI
|  | Jackson, MI | 3520
27140 |  | Jackson, MS
| 0.8347 | Hinds, MS* | 3560
|  | Madison, MS* | 3560
|  | Rankin, MS* | 3560
| 0.7973 | Copiah, MS* | 25
|  | Simpson, MS* | 25
27180 | 0.8964 | Jackson, TN
|  | Chester, TN | 3580
|  | Madison, TN
27260 |  | Jacksonville, FL
| 0.9295 | Clay, FL* | 3600
|  | Duval, FL* | 3600
|  | Nassau, FL* | 3600
|  | St. johns, FL* | 3600
| 0.8984 | Baker, FL* | 10
27340 | 0.8236 | Jacksonville, NC
|  | Onslow, NC | 3605
27500 | 0.9538 | Janesville, WI
|  | Rock, WI | 3620
27620 | 0.8173 | Jefferson City, MO
|  | Callaway, MO | 26
|  | Cole, MO
|  | Moniteau, MO
|  | Osage, MO
27740 | 0.7972 | Johnson City, TN
|  | Carter, TN | 3660
|  | Unicoi, TN
|  | Washington, TN
27780 | 0.8220 | Johnstown, PA
|  | Cambria, PA | 3680
27860 |  | Craighead, AR*
| 0.7911 | Jonesboro, AR | 3700
| 0.7828 | Poinsett, AR* | 04
27900 | 0.8582 | Joplin, MO
|  | Jasper, MO | 3710
|  | Newton, MO
28020 | 1.0262 | Kalamazoo-Portage, MI
|  | Kalamazoo, MI | 3720
|  | Van Buren, MI
28100 | 1.0721 | Kankakee-Bradley, IL
|  | Kankakee, IL | 3740
28140 |  | Kansas City, MO-KS
| 0.9483 | Cass, MO* | 3760
|  | Clay, MO* | 3760
|  | Clinton, MO* | 3760
|  | Jackson, MO* | 3760
|  | Johnson, KS* | 3760
|  | Lafayette, MO* | 3760
|  | Leavenworth, KS* | 3760
|  | Miami, KS* | 3760
|  | Platte, MO* | 3760
|  | Ray, MO* | 3760
|  | Wyandotte, KS* | 3760
| 0.8758 | Franklin, KS* | 17
|  | Linn, KS* | 17
| 0.8718 | Bates, MO* | 26
|  | Caldwell, MO* | 26
28420 | 1.0619 | Kennewick-Richland-Pasco, WA
|  | Benton, WA | 6740
|  | Franklin, WA
28660 |  | Killeen-Temple-Fort Hood, TX
| 0.8526 | Bell, TX* | 3810
|  | Coryell, TX* | 3810
| 0.8229 | Lampasas, TX* | 45
28700 | 0.8031 | Kingsport-Bristol-Bristol, TN-VA | 3660
|  | Bristol City, VA
|  | Hawkins, TN
|  | Scott, VA
|  | Sullivan, TN
|  | Washington, VA
28740 | 0.8825 | Kingston, NY
|  | Ulster, NY | 33
28940 | 0.8419 | Knoxville, TN
|  | Anderson, TN | 3840
|  | Blount, TN
|  | Knox, TN
|  | Loudon, TN
|  | Union, TN
29020 | 0.9508 | Kokomo, IN
|  | Howard, IN | 3850
|  | Tipton, IN
29100 | 0.9564 | La Crosse, WI-MN
|  | Houston, MN | 3870
|  | La Crosse, WI
29140 |  | Lafayette, IN
| 0.8738 | Benton, IN* | 15
|  | Carroll, IN* | 15
| 0.8736 | Tippecanoe, IN* | 3920
29180 | 0.8340 | Lafayette, LA
|  | Lafayette, LA | 3880
|  | St. Martin, LA
29340 |  | Lake Charles, LA
| 0.7846 | Calcasieu, LA* | 3960
| 0.7587 | Cameron, LA* | 19
29404 |  | Lake County-Kenosha County, IL-WI
| 1.0606 | Lake, IL* | 1600
| 1.0095 | Kenosha, WI* | 3800
29460 | 0.8912 | Lakeland, FL
|  | Polk, FL | 3980
29540 | 0.9694 | Lancaster, PA
|  | Lancaster, PA | 4000
29620 | 0.9794 | Lansing-East Lansing, MI
|  | Clinton, MI | 4040
|  | Eaton, MI
|  | Ingham, MI
29700 | 0.8068 | Laredo, TX
|  | Webb, TX | 4080
29740 | 0.8467 | Las Cruces, NM
|  | Dona Ana, NM | 4100
29820 | 1.1296 | Las Vegas-Paradise, NV
|  | Clark, NV | 4120
29940 | 0.8537 | Lawrence, KS
|  | Douglas, KS | 4150
30020 | 0.7872 | Lawton, OK
|  | Comanche, OK | 4200
30140 | 0.8846 | Lebanon, PA
|  | Lebanon, PA | 3240
30300 |  | Lewiston, ID-WA
| 0.9492 | Nez Perce, ID* | 13
| 1.0052 | Asotin, WA* | 50
30340 | 0.9331 | Lewiston-Auburn, ME | 4243
|  | Androscoggin, ME
30460 | 0.9032 | Lexington-Fayette, KY
|  | Bourbon, KY | 4280
|  | Clark, KY
|  | Fayette, KY
|  | Jessamine, KY
|  | Scott, KY
|  | Woodford, KY
30620 | 0.9172 | Lima, OH
|  | Allen, OH | 4320
30700 |  | Lincoln, NE
| 1.0214 | Lancaster, NE* | 4360
| 0.9436 | Seward, NE* | 28
30780 |  | Little Rock-North Little Rock, AR
| 0.8747 | Faulkner, AR* | 4400
|  | Lonoke, AR* | 4400
|  | Pulaski, AR* | 4400
|  | Saline, AR* | 4400
| 0.8246 | Grant, AR* | 04
|  | Perry, AR* | 04
30860 |  | Logan, UT-ID
| 0.8963 | Cache, UT* | 46
| 0.9131 | Franklin, ID* | 13
30980 |  | Longview, TX
| 0.8809 | Gregg, TX* | 4420
|  | Upshur, TX* | 4420
| 0.8331 | Rusk, TX* | 45
31020 | 0.9898 | Longview, WA | 50
|  | Cowlitz, WA
31084 | 1.1783 | Los Angeles-Long Beach-Santa Ana, CA | 4480
|  | Los Angeles, CA
31140 |  | Louisville, KY-IN
| 0.9272 | Bullitt, KY* | 4520
|  | Clark, IN* | 4520
|  | Floyd, IN* | 4520
|  | Harrison, IN* | 4520
|  | Jefferson, KY* | 4520
|  | Oldham, KY* | 4520
| 0.8995 | Washington, IN* | 15
| 0.8555 | Henry, KY* | 18
|  | Meade, KY* | 18
|  | Nelson, KY* | 18
|  | Shelby, KY* | 18
|  | Spencer, KY* | 18
|  | Trimble, KY* | 18
31180 |  | Lubbock, TX
| 0.8783 | Lubbock, TX* | 4600
| 0.8357 | Crosby, TX** | 45
31340 |  | Lynchburg, VA
| 0.8691 | Amherst, VA* | 4640
|  | Bedford, VA* | 4640
|  | Bedford City, VA* | 4640
|  | Campbell, VA* | 4640
|  | Lynchburg City, VA* | 4640
| 0.8554 | Appomattox, VA* | 49
31420 |  | Macon, GA
| 0.9360 | Bibb, GA* | 4680
|  | Jones, GA* | 4680
|  | Twiggs, GA* | 4680
| 0.8805 | Crawford, GA* | 11
|  | Monroe, GA* | 11
31460 | 0.9571 | Madera, CA | 2840
|  | Madera, CA
31540 |  | Madison, WI
| 1.0707 | Dane, WI* | 4720
| 1.0069 | Columbia, WI* | 52
|  | Iowa, WI* | 52
31700 | 1.0766 | Manchester-Nashua, NH
|  | Hillsborough, NH | 1123
|  | Merrimack, NH
31900 | 0.9891 | Mansfield, OH
|  | Richland, OH | 4800
32420 | 0.4132 | Mayaguez, PR
|  | Hormigueros, PR | 4840
|  | Mayaguez, PR
32580 | 0.8934 | McAllen-Edinburg-Mission, TX
|  | Hidalgo, TX | 4880
32780 | 1.0225 | Medford, OR
|  | Jackson, OR | 4890
32820 |  | Memphis, TN-MS-AR
| 0.9407 | Crittenden, AR* | 4920
|  | DeSoto, MS* | 4920
|  | Fayette, TN* | 4920
|  | Shelby, TN* | 4920
|  | Tipton, TN* | 4920
| 0.8516 | Marshall, MS* | 25
|  | Tate, MS* | 25
|  | Tunica, MS* | 25
32900 | 1.1109 | Merced, CA
|  | Merced, CA | 4940
33124 | 0.9750 | Miami-Miami Beach-Kendall, FL
|  | Miami-Dade, FL | 5000
33140 | 0.9069 | Michigan City-La Porte, IN
|  | La Porte, IN | 15
33260 | 0.9628 | Midland, TX
|  | Midland, TX | 5800
33340 | 1.0146 | Milwaukee-Waukesha-West Allis, WI
|  | Milwaukee, WI | 5080
|  | Ozaukee, WI
|  | Washington, WI
|  | Waukesha, WI
33460 | 1.1075 | Minneapolis-St. Paul-Bloomington, MN-WI
|  | Anoka, MN | 5120
|  | Carver, MN
|  | Chisago, MN
|  | Dakota, MN
|  | Hennepin, MN
|  | Isanti, MN
|  | Pierce, WI
|  | Ramsey, MN
|  | Scott, MN
|  | Sherburne, MN
|  | St. Croix, WI
|  | Washington, MN
|  | Wright, MN
33540 | 0.9473 | Missoula, MT
|  | Missoula, MT | 5140
33660 | 0.7876 | Mobile, AL
|  | Mobile, AL | 5160
33700 | 1.1885 | Modesto, CA
|  | Stanislaus, CA | 5170
33740 |  | Monroe, LA
| 0.8038 | Ouachita, LA* | 5200
| 0.7686 | Union, LA* | 19
33780 | 0.9808 | Monroe, MI
|  | Monroe, MI | 2160
33860 |  | Montgomery, AL
| 0.8618 | Autauga, AL* | 5240
|  | Elmore, AL* | 5240
|  | Montgomery, AL* | 5240
| 0.8025 | Lowndes, AL* | 01
34060 | 0.8160 | Morgantown, WV
|  | Monongalia, WV | 51
|  | Preston, WV
34100 | 0.7948 | Morristown, TN
|  | Grainger, TN | 44
|  | Hamblen, TN
|  | Jefferson, TN
34580 | 1.0336 | Mount Vernon-Anacortes, WA
|  | Skagit, WA | 50
34620 | 0.8930 | Muncie, IN
|  | Delaware, IN | 5280
34740 | 0.9555 | Muskegon-Norton Shores, MI
|  | Muskegon, MI | 3000
34820 | 0.8934 | Myrtle Beach-Conway-North Myrtle Beach, SC
|  | Horry, SC | 5330
34900 | 1.3313 | Napa, CA
|  | Napa, CA | 8720
34940 | 1.0139 | Naples-Marco Island, FL
|  | Collier, FL | 5345
34980 |  | Nashville-Davidson-Murfreesboro, TN
| 0.9799 | Cheatham, TN* | 5360
|  | Davidson, TN* | 5360
|  | Dickson, TN* | 5360
|  | Robertson, TN* | 5360
|  | Rutherford, TN* | 5360
|  | Sumner, TN* | 5360
|  | Williamson, TN* | 5360
|  | Wilson, TN* | 5360
| 0.8863 | Cannon, TN* | 44
|  | Hickman, TN* | 44
|  | Macon, TN* | 44
|  | Smith, TN* | 44
|  | Trousdale, TN* | 44
35004 | 1.2719 | Nassau-Suffolk, NY
|  | Nassau, NY | 5380
|  | Suffolk, NY
35084 |  | Newark-Union, NJ-PA
| 1.1545 | Pike, PA* | 5660
| 1.1859 | Essex, NJ* | 5640
|  | Morris, NJ* | 5640
|  | Sussex, NJ* | 5640
|  | Union, NJ* | 5640
| 1.1525 | Hunterdon, NJ* | 5015
35300 | 1.2042 | New Haven-Milford, CT
|  | New Haven, CT | 5483
35380 | 0.8995 | New Orleans-Metairie-Kenner, LA
|  | Jefferson, LA | 5560
|  | Orleans, LA
|  | Plaquemines, LA
|  | St. Bernard, LA
|  | St. Charles, LA
|  | St. John Baptist, LA
|  | St. Tammany, LA
35644 |  | New York-White Plains-Wayne, NY-NJ
| 1.3326 | Bronx, NY* | 5600
|  | Kings, NY* | 5600
|  | New York, NY* | 5600
|  | Putnam, NY* | 5600
|  | Queens, NY* | 5600
|  | Richmond, NY* | 5600
|  | Rockland, NY* | 5600
|  | Westchester, NY* | 5600
| 1.2420 | Bergen, NJ* | 0875
|  | Passaic, NJ* | 0875
| 1.2263 | Hudson, NJ* | 3640
35660 | 0.8879 | Niles-Benton Harbor, MI | 0870
|  | Berrien, MI
35980 | 1.1345 | Norwich-New London, CT
|  | New London, CT | 5523
36084 | 1.5346 | Oakland-Fremont-Hayward, CA | 5775
|  | Alameda, CA
|  | Contra Costa, CA
36100 | 0.8925 | Ocala, FL
|  | Marion, FL | 5790
36140 | 1.1254 | Ocean City, NJ
|  | Cape May, NJ | 0560
36220 | 0.9813 | Odessa, TX
|  | Ector, TX | 5800
36260 |  | Ogden-Clearfield, UT
| 0.9185 | Davis, UT* | 7160
|  | Weber, UT* | 7160
| 0.8896 | Morgan, UT* | 46
36420 |  | Oklahoma City, OK
| 0.9028 | Canadian, OK* | 5880
|  | Cleveland, OK* | 5880
|  | Logan, OK* | 5880
|  | McClain, OK* | 5880
|  | Oklahoma, OK* | 5880
| 0.8237 | Grady, OK* | 37
|  | Lincoln, OK* | 37
36500 | 1.0927 | Olympia, WA | 5910
|  | Thurston, WA
36540 |  | Omaha-Council Bluffs, NE-IA
| 0.9560 | Cass, NE* | 5920
|  | Douglas, NE* | 5920
|  | Pottawattamie, IA* | 5920
|  | Sarpy, NE* | 5920
|  | Washington, NE* | 5920
| 0.9077 | Harrison, IA* | 16
|  | Mills, IA* | 16
| 0.9109 | Saunders, NE* | 28
36740 | 0.9464 | Orlando-Kissimmee, FL
|  | Lake, FL | 5960
|  | Orange, FL
|  | Osceola, FL
|  | Seminole, FL
36780 | 0.9211 | Oshkosh-Neenah, WI
|  | Winnebago, WI | 0460
36980 |  | Owensboro, KY
| 0.8780 | Daviess, KY* | 5990
| 0.8319 | Hancock, KY* | 18
|  | Mc Lean, KY* | 18
37100 | 1.1622 | Oxnard-Thousand Oaks-Ventura, CA
|  | Ventura, CA | 8735
37340 | 0.9839 | Palm Bay-Melbourne-Titusville, FL
|  | Brevard, FL | 4900
37460 | 0.8005 | Panama City-Lynn Haven, FL
|  | Bay, FL | 6015
37620 |  | Parkersburg-Marietta-Vienna, WV-OH
| 0.8085 | Pleasants, WV* | 51
|  | Wirt, WV* | 51
| 0.8270 | Washington, OH* | 6020
|  | Wood, WV* | 6020
37700 |  | Pascagoula, MS
| 0.7895 | George, MS* | 25
| 0.8431 | Jackson, MS* | 0920
37860 | 0.8096 | Pensacola-Ferry Pass-Brent, FL | 6080
|  | Escambia, FL
|  | Santa Rosa, FL
37900 |  | Peoria, IL
| 0.8870 | Peoria, IL* | 6120
|  | Tazewell, IL* | 6120
|  | Woodford, IL* | 6120
| 0.8586 | Marshall, IL* | 14
|  | Stark, IL* | 14
37964 | 1.0980 | Philadelphia, PA | 6160
|  | Bucks, PA
|  | Chester, PA
|  | Delaware, PA
|  | Montgomery, PA
|  | Philadelphia, PA
38060 | 1.0127 | Phoenix-Mesa-Scottsdale, AZ | 6200
|  | Maricopa, AZ
|  | Pinal, AZ
38220 |  | Pine Bluff, AR
| 0.8680 | Jefferson, AR* | 6240
| 0.8212 | Cleveland, AR* | 04
|  | Lincoln, AR* | 04
38300 |  | Pittsburgh, PA
| 0.8853 | Allegheny, PA* | 6280
|  | Beaver, PA* | 6280
|  | Butler, PA* | 6280
|  | Fayette, PA* | 6280
|  | Washington, PA* | 6280
|  | Westmoreland, PA* | 6280
| 0.8582 | Armstrong, PA* | 39
38340 | 1.0181 | Pittsfield, MA | 6323
|  | Berkshire, MA
38540 |  | Pocatello, ID
| 0.9351 | Bannock, ID* | 6340
| 0.9224 | Power, ID* | 13
38660 | 0.4910 | Ponce, PR | 6360
|  | Juana Diaz, PR
|  | Ponce, PR
|  | Villalba, PR
38860 | 1.0382 | Portland-South Portland-Biddeford, ME | 6403
|  | Cumberland, ME
|  | Sagadahoc, ME
|  | York, ME
38900 |  | Portland-Vancouver-Beaverton, OR-WA
| 1.1266 | Clackamas, OR* | 6440
|  | Clark, WA* | 6440
|  | Columbia, OR* | 6440
|  | Multnomah, OR* | 6440
|  | Washington, OR* | 6440
|  | Yamhill, OR* | 6440
| 1.0742 | Skamania, WA* | 50
38940 | 1.0123 | Port St. Lucie-Fort Pierce, FL | 2710
|  | Martin, FL
|  | St. Lucie, FL
39100 |  | Poughkeepsie-Newburgh-Middletown, NY
| 1.0683 | Dutchess, NY* | 2281
| 1.1049 | Orange, NY* | 5660
39140 | 0.9457 | Prescott, AZ | 03
|  | Yavapai, AZ
39300 |  | Providence-New Bedford-Fall River, RI-MA
| 1.1072 | Bristol, MA* | 1123
| 1.1012 | Bristol, RI* | 6483
|  | Kent, RI* | 6483
|  | Newport, RI* | 6483
|  | Providence, RI* | 6483
|  | Washington, RI* | 6483
39340 |  | Provo-Orem, UT
| 0.9500 | Utah, UT* | 6520
| 0.9131 | Juab, UT* | 46
39380 | 0.8623 | Pueblo, CO | 6560
|  | Pueblo, CO
39460 | 0.9255 | Punta Gorda, FL | 6580
|  | Charlotte, FL
39540 | 0.8997 | Racine, WI | 6600
|  | Racine, WI
39580 | 0.9863 | Raleigh-Cary, NC | 6640
|  | Franklin, NC
|  | Johnston, NC
|  | Wake, NC
39660 |  | Rapid City, SD
| 0.8987 | Pennington, SD* | 6660
| 0.8769 | Meade, SD* | 43
39740 | 0.9686 | Reading, PA | 6680
|  | Berks, PA
39820 | 1.2203 | Redding, CA | 6690
|  | Shasta, CA
39900 |  | Reno-Sparks, NV
| 1.0982 | Washoe, NV* | 6720
| 1.0335 | Storey, NV* | 29
40060 |  | Richmond, VA
| 0.9328 | Charles City, VA* | 6760
|  | Chesterfield, VA* | 6760
|  | Colonial Heights City, VA* | 6760
|  | Dinwiddie, VA* | 6760
|  | Goochland, VA* | 6760
|  | Hanover, VA* | 6760
|  | Henrico, VA* | 6760
|  | Hopewell City, VA* | 6760
|  | New Kent, VA* | 6760
|  | Petersburg City, VA* | 6760
|  | Powhatan, VA* | 6760
|  | Prince George, VA* | 6760
|  | Richmond City, VA* | 6760
| 0.8873 | Amelia, VA* | 49
|  | Caroline, VA* | 49
|  | Cumberland, VA* | 49
|  | King and Queen, VA* | 49
|  | King William, VA* | 49
|  | Louisa, VA* | 49
|  | Sussex, VA* | 49
40140 | 1.1027 | Riverside-San Bernardino-Ontario, CA | 6780
|  | Riverside, CA
|  | San Bernardino, CA
40220 |  | Roanoke, VA
| 0.8396 | Craig, VA* | 49
|  | Franklin, VA* | 49
| 0.8381 | Botetourt, VA* | 6800
|  | Roanoke, VA* | 6800
|  | Roanoke City, VA* | 6800
|  | Salem City, VA* | 6800
40340 |  | Rochester, MN
| 1.1131 | Olmsted, MN* | 6820
| 1.0132 | Dodge, MN* | 24
|  | Wabasha, MN* | 24
40380 | 0.9085 | Rochester, NY | 6840
|  | Livingston, NY
|  | Monroe, NY
|  | Ontario, NY
|  | Orleans, NY
|  | Wayne, NY
40420 | 0.9984 | Rockford, IL | 6880
|  | Boone, IL
|  | Winnebago, IL
40484 | 1.0776 | Rockingham County, NH | 1123
|  | Rockingham, NH
|  | Strafford, NH
40580 | 0.8915 | Rocky Mount, NC | 6895
|  | Edgecombe, NC
|  | Nash, NC
40660 | 0.8790 | Rome, GA | 11
|  | Floyd, GA
40900 |  | Sacramento--Arden-Arcade--Roseville, CA
| 1.3056 | El Dorado, CA* | 6920
|  | Placer, CA* | 6920
|  | Sacramento, CA* | 6920
| 1.1460 | Yolo, CA* | 9270
40980 | 0.9165 | Saginaw-Saginaw Township North, MI | 6960
|  | Saginaw, MI
41060 | 0.9965 | St. Cloud, MN | 6980
|  | Benton, MN
|  | Stearns, MN
41100 | 0.9077 | St. George, UT | 46
|  | Washington, UT
41140 |  | St. Joseph, MO-KS
| 0.9519 | Andrew, MO* | 7000
|  | Buchanan, MO* | 7000
| 0.8780 | Doniphan, KS* | 17
| 0.8739 | De Kalb, MO* | 26
41180 |  | St. Louis, MO-IL
| 0.8958 | Clinton, IL* | 7040
|  | Franklin, MO* | 7040
|  | Jefferson, MO* | 7040
|  | Jersey, IL* | 7040
|  | Lincoln, MO* | 7040
|  | Madison, IL* | 7040
|  | Monroe, IL* | 7040
|  | St. Charles, MO* | 7040
|  | St. Clair, IL* | 7040
|  | St. Louis, MO* | 7040
|  | St. Louis City, MO* | 7040
|  | Warren, MO* | 7040
| 0.8628 | Bond, IL* | 14
|  | Calhoun, IL* | 14
|  | Macoupin, IL* | 14
| 0.8457 | Crawford, MO* | 26
|  | Washington, MO* | 26
41420 | 1.0442 | Salem, OR | 7080
|  | Marion, OR
|  | Polk, OR
41500 | 1.4128 | Salinas, CA | 7120
|  | Monterey, CA
41540 | 0.9147 | Salisbury, MD | 21
|  | Somerset, MD
|  | Wicomico, MD
41620 |  | Salt Lake City, UT
| 0.9381 | Salt Lake, UT* | 7160
| 0.9092 | Summit, UT* | 46
|  | Tooele, UT* | 46
41660 |  | San Angelo, TX
| 0.8101 | Irion, TX* | 45
| 0.8271 | Tom Green, TX* | 7200
41700 |  | San Antonio, TX
| 0.8982 | Bexar, TX* | 7240
|  | Comal, TX* | 7240
|  | Guadalupe, TX* | 7240
|  | Wilson, TX* | 7240
| 0.8456 | Atascosa, TX* | 45
|  | Bandera, TX* | 45
|  | Kendall, TX* | 45
|  | Medina, TX* | 45
41740 | 1.1413 | San Diego-Carlsbad-San Marcos, CA | 7320
|  | San Diego, CA
41780 | 0.8970 | Sandusky, OH | 36
|  | Erie, OH
41884 | 1.4994 | San Francisco-San Mateo-Redwood City, CA | 7360
|  | Marin, CA
|  | San Francisco, CA
|  | San Mateo, CA
41900 |  | San Gerḿan-Cabo Rojo, PR
| 0.4127 | Lajas, PR* | 40
| 0.4447 | Cabo Rojo, PR* | 4840
|  | Sabana Grande, PR* | 4840
|  | San Gerḿan, PR* | 4840
41940 |  | San Jose-Sunnyvale-Santa Clara, CA
| 1.5109 | Santa Clara, CA* | 7400
| 1.2937 | San Benito, CA* | 05
41980 |  | San Juan-Caguas-Guaynabo, PR
| 0.4687 | Aguas Buenas, PR* | 7440
|  | Barceloneta, PR* | 7440
|  | Bayaḿon, PR* | 7440
|  | Cańovanas, PR* | 7440
|  | Carolina, PR* | 7440
|  | Catǎno, PR* | 7440
|  | Comerio, PR* | 7440
|  | Corozal, PR* | 7440
|  | Dorado, PR* | 7440
|  | Florida, PR* | 7440
|  | Guaynabo, PR* | 7440
|  | Humacao, PR* | 7440
|  | Juncos, PR* | 7440
|  | Las Piedras, PR* | 7440
|  | Loiza, PR* | 7440
|  | Maguabo, PR* | 7440
|  | Manat́i, PR* | 7440
|  | Morovis, PR* | 7440
|  | Naranjito, PR* | 7440
|  | Rio Grande, PR* | 7440
|  | San Juan, PR* | 7440
|  | Toa Alta, PR* | 7440
|  | Toa Baja, PR* | 7440
|  | Trujillo Alto, PR* | 7440
|  | Vega Alta, PR* | 7440
|  | Vega Baja, PR* | 7440
|  | Yabucoa, PR* | 7440
| 0.4113 | Aibonito, PR* | 40
|  | Barranquitas, PR* | 40
|  | Ciales, PR* | 40
|  | Maunabo, PR* | 40
|  | Orocovs, PR* | 40
|  | Quebradillas, PR* | 40
| 0.4367 | Arecibo, PR* | 0470
|  | Camuy, PR* | 0470
|  | Hatillo, PR* | 0470
| 0.4371 | Caguas, PR* | 1310
|  | Cayey, PR* | 1310
|  | Cidra, PR* | 1310
|  | Gurabo, PR* | 1310
|  | San Lorenzo, PR* | 1310
42020 | 1.1349 | San Luis Obispo-Paso Robles, CA | 7460
|  | San Luis Obispo, CA
42044 | 1.1559 | Santa Ana-Anaheim-Irvine, CA | 5945
|  | Orange, CA
42060 | 1.1694 | Santa Barbara-Santa Maria, CA | 7480
|  | Santa Barbara, CA
42100 | 1.5166 | Santa Cruz-Watsonville, CA | 7485
|  | Santa Cruz, CA
42140 | 1.0834 | Santa Fe, NM | 7490
|  | Santa Fe, NM
42220 | 1.3493 | Santa Rosa-Petaluma, CA | 7500
|  | Sonoma, CA
42260 | 0.9639 | Sarasota-Bradenton-Venice, FL | 7510
|  | Manatee, FL
|  | Sarasota, FL
42340 | 0.9461 | Savannah, GA | 7520
|  | Bryan, GA
|  | Chatham, GA
|  | Effingham, GA
42540 | 0.8532 | Scranton--Wilkes-Barre, PA | 7560
|  | Lackawanna, PA
|  | Luzerne, PA
|  | Wyoming, PA
42644 | 1.1572 | Seattle-Bellevue-Everett, WA | 7600
|  | King, WA
|  | Snohomish, WA
43100 | 0.8911 | Sheboygan, WI | 7620
|  | Sheboygan, WI
43300 | 0.9507 | Sherman-Denison, TX | 7640
|  | Grayson, TX
43340 |  | Shreveport-Bossier City, LA
| 0.8749 | Bossier, LA* | 7680
|  | Caddo, LA* | 7680
| 0.8050 | De Soto, LA* | 19
43580 |  | Sioux City, IA-NE-SD
| 0.9019 | Dixon, NE* | 28
| 0.9399 | Dakota, NE* | 7720
|  | Woodbury, IA* | 7720
| 0.8966 | Union, SD* | 43
43620 |  | Sioux Falls, SD
| 0.9635 | Lincoln, SD* | 7760
|  | Minnehaha, SD* | 7760
| 0.9093 | McCook, SD* | 43
|  | Turner, SD* | 43
43780 |  | South Bend-Mishawaka, IN-MI
| 0.9788 | St. Joseph, IN* | 7800
| 0.9306 | Cass, MI* | 23
43900 | 0.9394 | Spartanburg, SC | 3160
|  | Spartanburg, SC
44060 | 1.0905 | Spokane, WA | 7840
|  | Spokane, WA
44100 | 0.8792 | Springfield, IL | 7880
|  | Menard, IL
|  | Sangamon, IL
44140 |  | Springfield, MA
| 1.0232 | Franklin, MA* | 22
| 1.0256 | Hampden, MA* | 8003
|  | Hampshire, MA* | 8003
44180 |  | Springfield, MO
| 0.8244 | Christian, MO* | 7920
|  | Greene, MO* | 7920
|  | Webster, MO* | 7920
| 0.8098 | Dallas, MO* | 26
|  | Polk, MO* | 26
44220 | 0.8688 | Springfield, OH | 2000
|  | Clark, OH
44300 | 0.8356 | State College, PA | 8050
|  | Centre, PA
44700 | 1.1307 | Stockton, CA | 8120
|  | San Joaquin, CA
44940 | 0.8377 | Sumter, SC | 8140
|  | Sumter, SC
45060 | 0.9533 | Syracuse, NY | 8160
|  | Madison, NY
|  | Onondaga, NY
|  | Oswego, NY
45104 | 1.0742 | Tacoma, WA | 8200
|  | Pierce, WA
45220 |  | Tallahassee, FL
| 0.8688 | Gadsden, FL* | 8240
|  | Leon, FL* | 8240
| 0.8683 | Wakulla, FL* | 10
|  | Jefferson, FL* | 10
45300 | 0.9233 | Tampa-St. Petersburg-Clearwater, FL | 8280
|  | Hernando, FL
|  | Hillsborough, FL
|  | Pasco, FL
|  | Pinellas, FL
45460 |  | Terre Haute, IN
| 0.8321 | Clay, IN* | 8320
|  | Vermillion, IN* | 8320
|  | Vigo, IN* | 8320
| 0.8522 | Sullivan, IN* | 15
45500 | 0.8283 | Texarkana, TX-Texarkana, AR | 8360
|  | Bowie, TX
|  | Miller, AR
45780 |  | Toledo, OH
| 0.9574 | Fulton, OH* | 8400
|  | Lucas, OH* | 8400
|  | Wood, OH* | 8400
| 0.9248 | Ottawa, OH* | 36
45820 |  | Topeka, KS
| 0.8920 | Shawnee, KS* | 8440
| 0.8480 | Jackson, KS* | 17
|  | Jefferson, KS* | 17
|  | Osage, KS* | 17
|  | Wabaunsee, KS* | 17
45940 | 1.0834 | Trenton-Ewing, NJ | 8480
|  | Mercer, NJ
46060 | 0.9007 | Tucson, AZ | 8520
|  | Pima County, AZ
46140 |  | Tulsa, OK
| 0.8565 | Creek, OK* | 8560
|  | Osage, OK* | 8560
|  | Rogers, OK* | 8560
|  | Tulsa, OK* | 8560
|  | Wagoner, OK* | 8560
| 0.7993 | Okmulgee, OK* | 37
|  | Pawnee, OK* | 37
46220 |  | Tuscaloosa, AL
| 0.8705 | Tuscaloosa, AL* | 8600
| 0.8039 | Greene, AL* | 01
|  | Hale, AL* | 01
46340 | 0.9168 | Tyler, TX | 8640
|  | Smith, TX
46540 | 0.8358 | Utica-Rome, NY | 8680
|  | Herkimer, NY
|  | Oneida, NY
46660 | 0.8516 | Valdosta, GA | 11
|  | Brooks, GA
|  | Echols, GA
|  | Lanier, GA
|  | Lowndes, GA
46700 | 1.4460 | Vallejo-Fairfield, CA | 8720
|  | Solano, CA
46940 | 0.9056 | Vero Beach, FL | 10
|  | Indian River, FL
47020 |  | Victoria, TX
| 0.8160 | Victoria, TX* | 8750
| 0.8046 | Calhoun, TX* | 45
|  | Goliad, TX* | 45
47220 | 0.9827 | Vineland-Millville-Bridgeton, NJ | 8760
|  | Cumberland, NJ
47260 |  | Virginia Beach-Norfolk-Newport News, VA
| 0.8799 | Chesapeake City, VA* | 5720
|  | Currituck, NC* | 5720
|  | Gloucester, VA* | 5720
|  | Hampton City, VA* | 5720
|  | Isle of Wight, VA* | 5720
|  | James City, VA* | 5720
|  | Mathews, VA* | 5720
|  | Newport News City, VA* | 5720
|  | Norfolk City, VA* | 5720
|  | Poquoson, VA* | 5720
|  | Portsmouth City, VA* | 5720
|  | Suffolk City, VA* | 5720
|  | Virginia Beach City, VA* | 5720
|  | Williamsburg City, VA* | 5720
|  | York, VA* | 5720
| 0.8608 | Surry, VA* | 49
47300 | 1.0123 | Visalia-Porterville, CA | 8780
|  | Tulare, CA
47380 | 0.8518 | Waco, TX | 8800
|  | McLennan, TX
47580 | 0.8961 | Warner Robins, GA | 4680
|  | Houston, GA
47644 |  | Warren-Farmington-Hills-Troy, MI
| 1.0009 | Lapeer, MI* | 2160
|  | Macomb, MI* | 2160
|  | Oakland, MI* | 2160
|  | St. Clair, MI* | 2160
| 1.0289 | Livingston, MI* | 0440
47894 | 1.0951 | Washington-Arlington-Alexandria, DC-VA-MD-WV | 8840
|  | Alexandria City, VA
|  | Arlington, VA
|  | Calvert, MD
|  | Charles, MD
|  | Clarke, VA
|  | Fairfax, VA
|  | Fairfax City, VA
|  | Falls Church City, VA
|  | Fauquier, VA
|  | Fredericksburg City, VA
|  | Jefferson, WV
|  | Loudoun, VA
|  | Manassas City, VA
|  | Manassas Park city, VA
|  | Prince Georges, MD
|  | Prince William, VA
|  | Spotsylvania, VA
|  | Stafford, VA
|  | District of Columbia, DC
|  | Warren, VA
47940 |  | Waterloo-Cedar Falls, IA
| 0.8557 | Black Hawk, IA* | 8920
| 0.8576 | Bremer, IA* | 16
|  | Grundy, IA* | 16
48140 | 0.9590 | Wausau, WI | 8940
|  | Marathon, WI
48260 | 0.7819 | Weirton-Steubenville, WV-OH | 8080
|  | Brooke, WV
|  | Hancock, WV
|  | Jefferson, OH
48300 | 1.0144 | Wenatchee, WA | 50
|  | Chelan, WA
|  | Douglas, WA
48424 | 1.0067 | West Palm Beach-Boca Raton-Boynton FL | 8960
|  | Palm Beach, FL
48540 | 0.7161 | Wheeling, WV-OH | 9000
|  | Belmont, OH
|  | Marshall, WV
|  | Ohio, WV
48620 |  | Wichita, KS
| 0.9164 | Butler, KS* | 9040
|  | Harvey, KS* | 9040
|  | Sedgwick, KS* | 9040
| 0.8597 | Sumner, KS* | 17
48660 |  | Wichita Falls, TX
| 8325 | Archer, TX* | 9080
|  | Wichita, TX* | 9080
| 0.8108 | Clay, TX* | 45
48700 | 0.8364 | Williamsport, PA | 9140
|  | Lycoming, PA
48864 |  | Wilmington, DE-MD-NJ
| 1.0499 | Cecil, MD* | 9160
|  | New Castle, DE* | 9160
| 1.0697 | Salem, NJ* | 6160
48900 |  | Wilmington, NC
| 0.9582 | Brunswick, NC* | 9200
|  | New Hanover, NC* | 9200
| 0.9022 | Pender, NC* | 34
49020 |  | Winchester, VA-WV
| 0.9316 | Frederick, VA* | 49
|  | Winchester City, VA* | 49
| 0.9057 | Hampshire, WV* | 51
49180 | 0.8981 | Winston-Salem, NC | 3120
|  | Davie, NC
|  | Forsyth, NC
|  | Stokes, NC
|  | Yadkin, NC
49340 | 1.1103 | Worcester, MA | 1123
|  | Worcester, MA
49420 | 1.0155 | Yakima, WA | 9260
|  | Yakima, WA
49500 |  | Yauco, PR
| 0.4006 | Gúanica, PR* | 40
| 0.4645 | Guayanilla, PR* | 6360
|  | Pẽnuelas, PR* | 6360
|  | Yauco, PR* | 6360
49620 | 0.9347 | York-Hanover, PA | 9280
|  | York, PA
49660 |  | Youngstown-Warren-Boardman, OH-PA
| 0.8726 | Mahoning, OH* | 9320
|  | Trumbull, OH* | 9320
| 0.8198 | Mercer, PA* | 7610
49700 | 1.0921 | Yuba City, CA | 9340
|  | Sutter, CA
|  | Yuba, CA
49740 | 0.9126 | Yuma, AZ | 9360
|  | Yuma, AZ
* Wage index values for these counties have a designated code to be used for claims processing purposes. These codes are listed to Addendum A of this regulation.
¹ This column lists each CBSA area name and each county or county equivalent, in the CBSA area. Counties not listed in this Table are considered to be rural areas.

[FR Doc. 05-22084 Filed 11-2-05; 10:37 am]

BILLING CODE 4120-01-P